DEPARTMENT OF HEALTH AND HUMAN SERVICES

Centers for Medicare & Medicaid Services

42 CFR Part 418

[CMS-1286-F]

RIN 0938-AN89

Medicare Program; Hospice Wage Index for Fiscal Year 2006

AGENCY: Centers for Medicare & Medicaid Services (CMS), HHS.

ACTION: Final rule.

SUMMARY: This final rule sets forth the hospice wage index for fiscal year 2006 and identifies the revised labor market and metropolitan core based statistical areas. In addition, this final rule responds to public comments and implements provisions of sections 408 and 946 of the Medicare Prescription Drug, Improvement, and Modernization Act of 2003.

DATES: These regulations are effective on October 1, 2005.

FOR FURTHER INFORMATION CONTACT: Terri Deutsch, (410) 786-9462.

SUPPLEMENTARY INFORMATION:

I. Background

A. General

1. Hospice Care

Hospice care is an approach to treatment that recognizes that the impending death of an individual warrants a change in the focus from curative care to palliative care for relief of pain and for symptom management. The goal of hospice care is to help terminally ill individuals continue life with minimal disruption to normal activities while remaining primarily in the home environment. A hospice uses an interdisciplinary approach to deliver medical, social, psychological, emotional, and spiritual services through use of a broad spectrum of professional and other caregivers, with the goal of making the individual as physically and emotionally comfortable as possible. Counseling services and inpatient respite services are available to the family of the hospice patient. Hospice programs consider both the patient and the family as a unit of care.

Section 1861(dd) of the Social Security Act (the Act) provides for coverage of hospice care for terminally ill Medicare beneficiaries who elect to receive care from a participating hospice. Section 1814(i) of the Act provides payment for Medicare participating hospices.

2. Medicare Payment for Hospice Care

Our regulations at 42 CFR part 418 establish eligibility requirements, payment standards and procedures, define covered services, and delineate the conditions a hospice must meet to be approved for participation in the Medicare program. Part 418 subpart G provides for payment in one of four prospectively-determined rate categories (routine home care, continuous home care, inpatient respite care, and general inpatient care) to hospices based on each day a qualified Medicare beneficiary is under a hospice election.

B. Hospice Wage Index

The hospice wage index is used to adjust payment rates for hospice agencies under the Medicare program to reflect local differences in area wage levels. The original hospice wage index was based on the 1981 Bureau of Labor Statistics hospital data and had not been updated since 1983. In 1994, because of disparity in wages from one geographical location to another, a committee was formulated to negotiate a wage index methodology that could be accepted by the industry and the government. This committee, functioning under a process established by the Negotiated Rulemaking Act of 1990, was comprised of national hospice associations; rural, urban, large, and small hospices; multisite hospices; consumer groups; and a government representative. On April 13, 1995, the Hospice Wage Index Negotiated Rulemaking Committee signed an agreement for the methodology to be used for updating the hospice wage index.

In the August 8, 1997 Federal Register (62 FR 42860), we published a final rule implementing a new methodology for calculating the hospice wage index based on the recommendations of the negotiated rulemaking committee. The committee statement was included in the appendix of that final rule (62 FR 42883).

The annual update to the hospice wage index is published in the Federal Register and is based on the most current available hospital wage data, as well as any changes by the Office of Management and Budget (OMB) to the definitions of Metropolitan Statistical Areas (MSAs). Raw wage index values (inpatient hospital pre-floor and pre-reclassified wage index values) as described in the August 8, 1997 hospice wage index final rule are subject to either a budget neutrality adjustment or application of the wage index floor. Raw wage index values of 0.8 or greater are adjusted by the budget neutrality adjustment factor. Budget neutrality means that, in a given year, estimated aggregate payments for Medicare hospice services using the updated wage index values will equal estimated payments that would have been made for these services if the 1983 wage index values had remained in effect. To achieve this budget neutrality, the raw wage index is multiplied by a budget neutrality adjustment factor. The budget neutrality adjustment factor is calculated by comparing what we would have paid using current rates and the 1983 wage index to what would be paid using current rates and new wage index. The budget neutrality adjustment factor is computed and applied annually. For the FY 2006 hospice wage index, the FY 2005 hospice payment rate was used in the budget neutrality adjustment factor calculation.

Raw wage index values below 0.8 are adjusted by the greater of: (1) The hospice budget neutrality adjustment factor; or (2) the hospice wage index floor (a 15 percent increase) subject to a maximum wage index value of 0.8. For example, County A has a prefloor, pre-reclassified hospital wage index (raw wage index value) of 0.4000. We would perform the following calculations using the budget neutrality factor and the hospice wage index floor to determine County A's hospice wage index: (Raw wage index value below 0.8 × budget neutrality adjustment factor) = 0.4000 (1.060988) = 0.4244 (Raw wage index value below 0.8 × hospice wage index floor) = 0.400 (1.15) = 0.4600. Based on these calculations, County A's hospice wage index would be 0.4600.

C. Hospice Provisions of the Medicare Prescription Drug, Improvement, and Modernization Act of 2003

On December 8, 2003, the Congress enacted the Medicare Prescription Drug, Improvement, and Modernization Act (MMA) of 2003 (Pub. L. 108-173). This legislation provided for the following provisions affecting hospice services:

• Section 408, Recognition of Attending Nurse Practitioners as Attending Physicians to Serve Hospice Patients.

• Section 512, Coverage of Hospice Consultation Services.

• Section 946, Authorizing Use of Arrangements to Provide Core Hospice Services in Certain Circumstances.

Section 408 of the MMA amended sections 1861(dd)(3)(B) and 1814(a)(7) of the Act to add nurse practitioners (NPs) to the definition of an attending physician for beneficiaries who have elected the hospice benefit. In other words, if a beneficiary's primary care provider before the determination of the terminal illness and election of the hospice benefit is an NP, the NP can remain as the attending physician, if the beneficiary chooses, after a hospice election. If the beneficiary does not have an attending physician or NP at the time of the terminal diagnosis, the beneficiary may choose to designate either a physician or an NP as his or her attending physician when electing the hospice benefit. Section 408 of the MMA was implemented through an administrative issuance (Change Request (CR) 3226, Transmittals 22 and 304, September 24, 2004).

Section 512 of the MMA provides for a one-time evaluation and consultation to Medicare beneficiaries who have been determined to have a 6-month prognosis if the disease runs its normal course, and who require the expertise of the medical director or physician employed by a hospice in order to be able to make end-of-life decisions. This provision was implemented in the CY 2005 Physician Fee Schedule final rule published in the November 15, 2004 Federal Register (69 FR 66335) and is incorporated in our regulations at § 418.205 and § 418.304(d).

Section 946(a) of the MMA allows a hospice program “in extraordinary, exigent, or other non-routine circumstances, such as unanticipated period of high patient loads, staffing shortages due to illness or other events, or temporary travel of a patient outside a hospice program's service area, * * * “ to enter into arrangements with another hospice program to provide services to beneficiaries. Section 946(b) of the MMA provides that “in the case of hospice care provided by a hospice program under arrangement under section 1861(dd)(5)(D) made by another hospice program, the hospice program that made the arrangements shall bill and be paid for the hospice care.” In section II.B.2 of this proposed rule, we discuss our proposal to revise the regulations to implement payment for hospice services made under arrangements. We have addressed implementation of section 946(a) of the MMA in the proposed rule entitled “Medicare and Medicaid Programs; Hospice Conditions of Participation” published in the May 27, 2005 Federal Register (70 FR 30840).

II. Provisions of the Proposed Regulations and Analysis of and Responses to Public Comments

In the April 29, 2005 Federal Register (70 FR 22394), we published a proposed rule that set forth the proposed FY 2006 hospice wage index, including changes to the Medicare hospice wage index proposed as a result of OMB revised definitions of geographical statistical areas, and proposed implementation of several provisions of the MMA. In this section of the final rule, we will discuss these proposals, the public comments received, and our responses. We note receipt of approximately 80 timely items of correspondence that raised 8 issues.

A. Changes to the Hospice Wage Index for FY 2006

1. Revised OMB Definition for Geographical Statistical Areas

As required by § 418.306(c), each hospice's labor market is established using the most current hospital wage data available, including any changes to the MSA definitions issued by OMB. In the September 4, 1996 hospice wage index proposed rule (61 FR 46579), we explained that the MSA definitions were issued by OMB on December 28, 1992, based on the 1990 census, and updated by OMB based on the decennial census. In accordance with our regulations, any changes to the MSA definitions would be announced in the Federal Register.

In the August 27, 2004 Federal Register (69 FR 52710), we published a notice with respect to the hospice wage index for FY 2005. In that notice, we noted that on June 6, 2003, OMB issued OMB Bulletin No. 03-04 announcing revised definitions for MSAs, new definitions for Micropolitan Statistical Areas and Combined Statistical Areas, and guidance on using the statistical definitions. (A copy of the Bulletin may be obtained at the following Internet address: http://www.whitehouse.gov/omb/bulletins/b03-04.html.) In addition, we noted that we would not address the new OMB definitions because the wage data used to calculate the FY 2005 hospice wage index (FY 2004 hospital wage data) did not reflect revisions based on the new definitions. We indicated that the new OMB definitions would be addressed in the FY 2006 wage index update.

a. Background

In general, under the 1990-based definitions used for the hospital wage index, we define an urban area as a Metropolitan Statistical Area (MSA) or New England County Metropolitan Area (NECMA). A rural area is defined as any area outside of the urban area. Any area not included in an MSA is considered to be nonurban and receives the statewide rural rate.

In accordance with our regulations for hospice payment, we base the hospice wage index on the most current hospital wage data available. Similar to the hospital wage index, we use the MSAs to define labor market areas. Section 1814(i)(2)(D) of the Act requires Medicare to pay for hospice services based on the geographic location where the service is furnished. The wage index value used is based upon the location of the beneficiary's home for routine home care and continuous home care and the location of the hospice agency for general inpatient and respite care.

In the April 29, 2005 proposed rule, we addressed the new OMB definitions and their application to the hospice wage index. Since our regulations require the use of the acute care hospital inpatient prospective payment system (IPPS) wage data as the basis for determining the hospice wage index, we provided a summary of the revised geographical statistical areas adopted in the FY 2005 IPPS final rule. (For a more detailed discussion of the changes in the hospital wage index based on the new OMB definitions see the FY 2005 IPPS proposed and final rules published May 18, 2004 (69 FR 28196) and August 11, 2004 (69 FR 48916).)

b. Current Labor Market Areas Based on MSAs Used in the FY 2004 Hospital Wage Index

In the FY 2005 IPPS final rule, we described the hospital wage index methodology in place before adoption of the new OMB definitions (CBSAs). We stated that, “the [hospital] wage index is calculated and assigned to hospitals on the basis of the labor market area in which the hospital is located.” In addition, the IPPS final rule (69 FR 49026) provided the following as the current (before FY 2005) definition of the hospital labor markets:

* * * areas based on the definitions of Metropolitan Statistical Areas (MSAs), Primary MSAs (PMSAs), and New England County Metropolitan Areas (NECMAs) issued by OMB. OMB also designates Consolidated MSAs (CMSAs). * * * For purposes of the hospital wage index, we use the PMSAs rather than CMSAs because they allow a more precise breakdown of labor costs. If a metropolitan area is not designated as part of a PMSA, we use the applicable MSA.

These different designations use counties as the building blocks upon which they are based. Therefore, hospitals are assigned to either an MSA, PMSA, or NECMA based on whether the county in which the hospital is located is part of that area. For purposes of the IPPS wage index, we combine all of the counties in a State outside a designated MSA, PMSA, or NECMA together to calculate a statewide rural wage index.

c. Core-Based Statistical Areas

In the December 27, 2000 Federal Register (65 FR 82228 through 82238), OMB announced its new standards and in that notice, OMB defined a Core-Based Statistical Area (CBSA), beginning in 2003, as “a geographic entity associated with at least one core of 10,000 or more population, plus adjacent territory that has a high degree of social and economic integration with the core as measured by commuting ties.” The standards designate and define two categories of CBSAs: MSAs and Micropolitan Statistical Areas (65 FR 82235).

According to OMB, MSAs are based on urbanized areas of 50,000 or more population, and Micropolitan Statistical Areas (referred to in further discussion as Micropolitan Areas) are based on urban clusters of at least 10,000 population but less than 50,000 population. Counties that do not fall within CBSA (either MSA or Micropolitan Areas) are deemed “Outside CBSAs.” In the past, OMB defined MSAs around areas with a minimum core population of 50,000, and smaller areas were “Outside MSAs.”

In its June 6, 2003 bulletin, OMB announced the new CBSAs, comprised of MSAs and the new Micropolitan Areas based on Census 2000 data. The new CBSA designations recognize 49 new (urban) MSAs and 565 new Micropolitan Areas, and revised the composition of many of the existing (urban) MSAs. There are 1,090 counties in MSAs under these new CBSA designations compared with 848 counties in the previous MSAs. Of these 1,090 counties, 737 are in the same MSA as they were before the changes, 65 are in different MSAs, and 288 were not previously designated to any MSA. There are 674 counties in Micropolitan Areas. Of these, 41 were previously in an MSA, while 633 were not previously designated to an MSA.

d. Revised Labor Market Areas

As discussed in the FY 2005 IPPS final rule (69 FR 49027), alternatives to the use of MSAs for the purpose of establishing labor market areas for the Medicare hospital wage index were examined. In the May 27, 1994, IPPS proposed rule (59 FR 27724), the latest research concerning possible future refinements to the labor market areas was presented. In the June 2, 1995 IPPS proposed rule (60 FR 29219), it was noted that the public comments on the May 27, 1994 proposals reflected no consensus on the choice for new labor market areas. Many hospitals expressed dissatisfaction with all of the potential alternatives to the OMB-based labor market areas. In addition, consulted associations did not suggest ideas or alternatives for future research. Consequently, MSAs have continued to be used to define labor market areas for purposes of the wage index by many Medicare payment systems.

(1) New England County Metropolitan Areas

NECMAs are currently used in the hospice wage index to define labor markets areas in New England, “* * * because these are county-based designations rather than the 1990 MSA definitions for New England which used minor civil divisions such as cities and towns” (69 FR 28250). Under the CBSA definition, “OMB has defined the MSAs and Micropolitan Areas in New England on the basis of counties. OMB also established New England City and Town Areas, which are similar to the previous New England MSAs” (69 FR 28250). Therefore, to maintain consistency in the definition of labor market areas between New England and the rest of the country, IPPS decided to use the New England MSAs under the new CBSA definition.

(2) Metropolitan Divisions

Under OMB's new CBSA designations, a Metropolitan Division is a county or group of counties within a CBSA that contains a core population of at least 2.5 million, representing an employment center, plus adjacent counties associated with the main county or counties through commuting lines. For the IPPS wage indices before FY 2005, where the PMSAs were used, rather than CMSAs, to define labor market areas for the FY 2005 hospital wage index, we adopted metropolitan divisions rather than CBSAs as the building blocks for labor market areas. As with PMSAs, where they exist, these Metropolitan Divisions “* * * comprise a smaller geographic area with potentially varying labor costs due to different local economies.” (69 FR 28250)

(3) Micropolitan Areas

The FY 2005 IPPS final rule noted the following regarding the use of Micropolitan Areas to define labor markets (69 FR 49029):

One of the major issues with respect to the new definitions is whether to use Micropolitan Areas to define labor market areas for the purpose of the IPPS wage index. * * *

Because we currently use MSAs to define urban labor market areas and we group all the hospitals in counties within each State that are not assigned to an MSA together into a statewide rural labor market area, we have used the terms “urban” and “rural” wage indexes in the past for ease of reference. However, the introduction of Micropolitan Areas complicates this terminology because these areas include so many hospitals that are currently included in the statewide rural labor market areas * * * We use the term “rural” hospitals to describe hospitals in counties that are not assigned to either an MSA or a Micropolitan Area * * * hospitals in Micropolitan Areas are included in the statewide rural labor market areas.

2. Annual Update to the Hospice Wage Index

a. Background

Section 418.306(c) of the regulations requires that we issue annually in the Federal Register, hospice wage index based on our most current available hospital wage data, including any changes to the definitions of MSAs.

Section 4441(a) of the Balanced Budget Act of 1997 (BBA) amended section 1814(i)(1)(C)(ii) of the Act to establish updates to hospice rates for FYs 1998 through 2002. Hospice rates were to be updated by a factor equal to the hospital market basket index, minus 1 percentage point. However, neither the BBA nor subsequent legislation specified the hospital market basket adjustment to be used to compute payment for FY 2006. Therefore, payment rates for FY 2006 will be updated according to section 1814(i)(1)(C)(ii)(VII) of the Act, which specifies that the update to the payment rates after FY 2002 will be the hospital market basket percentage increase for the fiscal year. This rate update will be implemented via administrative issuance to provide adequate time to implement system change requirements and is not part of this final rule.

We note that we did not propose any modifications to the hospice wage index methodology as described in the 1997 final rule. In accordance with the our regulations and the agreement signed with other members of the Hospice Wage Index Negotiated Rulemaking Committee, we will continue to use the most current hospital data available to adjust for area wage differences. As noted above, payment rates for each of the four levels of care (routine home care, continuous home care, respite care, and general inpatient care) are adjusted annually based upon the hospital market basket for that year and are promulgated administratively to allow for sufficient time for system changes and provider notification.

The payment rates are divided into the labor and nonlabor portions. The appropriate wage index value is applied to the labor portion of the hospice rate based on the geographic area in which the beneficiary resides when receiving routine home care or continuous home care. The appropriate wage index value is applied to the labor portion of the hospice rate based on the geographic area of the hospice agency for beneficiaries receiving general inpatient or respite level of care.

We use the previous fiscal year's hospital wage index data to calculate the hospice wage index values. For FY 2006 proposed and final hospice wage index, we used the FY 2005 hospital pre-floor and pre-reclassified hospital wage data. This means that the hospital wage data used for the hospice wage index is not adjusted to take into account any geographic reclassification of hospitals including those in accordance with section 1886(d)(8)(B) or 1886(d)(10) of the Act. We also do not take into account reclassifications in accordance with section 508 of the MMA or the out-migration adjustment for hospitals (section 505 of the MMA). All hospice wage index values for FY 2006 are adjusted by either the FY 2006 budget neutrality adjustment factor or the wage index floor adjustment. This means, that for wage index values 0.8 or greater, the value is multiplied by the budget neutrality adjustment factor. For wage index values that are below 0.8, either the budget neutrality adjustment factor or the wage index floor, not to exceed 0.8, is applied. In other words, the floor adjustment is the greater of the raw wage index value multiplied by the proposed budget neutrality adjustment factor or the raw wage index value for that area is multiplied by 15 percent subject to a maximum value of 0.8. Budget neutrality means that, in a given year, estimated aggregate payments for Medicare hospice services using the updated wage index will equal estimated payments that would have been made for the same services if the wage index adopted for hospices in 1983 had remained in effect. For a detailed discussion of the methodology used to compute the hospice wage index see the September 4, 1996 proposed rule (61 FR 46579) and the August 8, 1997 final rule (62 FR 42860).

Comment: We received a number of comments that the methodology used to compute the wage index values were not valid. One commenter indicated that the FY 2006 wage index values were computed only on the basis of CBSA data. Several commenters noted that the hospice methodology did not provide for fluctuations in wage index values. One commenter stated, “* * * the regulatory intent of the movement to more ‘refined’ geographic areas under CBSA was to produce a more local wage index so as to reduce reliance on [hospital] geographic reclassification as a means of redressing inappropriate payment levels.” Another commenter stated if wage index changes “were the result of an unbiased methodology * * * aggregate impacts should even out * * *” The commenter also asserts that hospital cost report changes, “as well as methodology nuances in the hospital wage index methodology, mask the true changes in wages * * *”

Response: As stated previously, the CBSA designations define the geographic locations from which the hospital wage data are used to compute the hospice wage index. As discussed in previous hospice proposed and final rules and wage index notices, the hospice wage values are developed in accordance with § 418.306(c) of the regulations. A negotiated rulemaking process was used to update the hospice wage index in response to the recognition that the then existing wage index was not satisfactory. Industry and consumer representatives were willing to work towards developing a consensus, based on the mutual recognition that there were opportunities for compromising among various interests, and, the concomitant recognition that the acceptability of the resulting wage index would be enhanced by information-sharing in the context of negotiation. A hospice negotiated rulemaking committee comprised of representatives of national hospice associations; rural, urban, large, and small hospices; multisite hospices; consumer groups; and government agents was established. The committee reached consensus on a hospice wage index that resulted in the methodology in our regulations. A proposed rule was published in the Federal Register on September 4, 1996 with the final rule published in the Federal Register on August 8, 1997. The committee decisions are as follows:

• The annual wage index would be based on the most currently available data used to construct a wage index for hospitals under the prospective payment system, before adjustments are made to geographic reclassification of hospitals in accordance with sections 1886(d)(8)(B) and (d)(10) of the Act.

• Each hospice labor market area would be established by the MSA definitions issued by and periodically updated by the OMB. Any changes to the MSA definitions would be effective annually.

• Each year in updating the wage index, aggregate Medicare payments to hospices would remain the same, using the revised wage index as if the 1983 wage index had not been updated. This means that although payments to hospices may change each year, overall Medicare payments to hospices would not be affected by updating the wage index.

• To ensure budget neutrality, an adjustment would be made to the payments that would otherwise be made to individual hospices. The amount of the budget neutrality adjustment would be determined by computing the amount of hospice payments that would have resulted from the hospice payment methodology using the 1983 hospice wage index. Then computing the expenditures using the updated hospital wage index data. To ensure that overall Medicare payments to hospices would not be affected by updating the wage index, a budget neutrality adjustment factor is calculated each year.

• A wage index floor would be developed in order to maintain viability of the hospice programs in rural and other locations with low hospital wage index values. For areas below 0.8 either the budget neutrality adjustment factor or the floor (15 percent) not to exceed 0.8 would be used.

As discussed in the April 29, 2005 proposed rule, we did not propose to change the methodology used in computing the hospice wage index and that any changes to the methodology would be addressed in future rulemaking.

We also believe that we are consistent in complying with regulations and the recommendations of the negotiated rulemaking committee in our calculations. This includes utilizing the OMB changes, which reflect geographic variations. In addition, the hospice wage index methodology provides mechanisms to augment the hospital wage index data. The budget neutrality adjustment factor accounts for a more than 6 percent increase above the hospital wage index for values greater than or equal to 0.8. Values below 0.8 are increased by the hospice wage index floor.

We are unable to address the comments on the calculation of the hospital wage index. However, we can address these comments as they pertain to the hospice wage index. We do agree with commenters that in adopting the 2000-based CBSA designations, some hospices will now be assigned to a different geographic area than under the old 1990-based designations. Such reassignment could result in a hospice receiving a wage index value lower than what it would have received had the 1990-based designations remained in effect for the foreseeable future. This might be the case, for example, if a high wage hospital has been redesignated from a certain hospice's labor market area to another neighboring labor market area, thus depriving its previous labor market area of the wages associated with such a high-wage hospital. We believe that such changes, because they result from the most recent census data, are proper. These changes merely reflect how the boundaries of various labor market areas should be drawn in order to reflect the most recent population and commuting data obtained from the 2000 census. Indeed, just as the boundaries of the OMB labor market areas may change every 10 years to reflect the most recent population data, the wages paid by hospitals located in specific labor market areas also will likely vary on a year-to-year basis. This type of fluctuation is wholly appropriate because it reflects the regional economic environment of a specific labor market area and reflects our intent in instituting wage indexing

b. Implementation of the Revised Labor Market Designations

For the hospice payment system, § 418.306(c) requires that the hospice wage index be “based on the most current available CMS hospital wage index, including any changes to the definitions of Metropolitan Statistical Areas.” We continue to believe MSAs are a reasonable and appropriate proxy for developing geographic areas for purposes of adjusting for wage differences in hospice. We also note that MSAs are used to define labor market areas for purposes of the wage index for many of the other Medicare payment systems (for example, long-term care hospital (LTCH) PPS, inpatient rehabilitation facility (IRF) PPS, home health agency (HHA) PPS, skilled nursing facility (SNF) PPS, outpatient (OPPS) and inpatient psychiatric facility (IPF) PPS).

First, historically, Medicare prospective payment systems have used metropolitan area (MA) definitions developed by OMB. For example, in adopting the MSA designation for the IPPS area labor adjustment, the Secretary stated:

[i]n administering a national payment system, we must have a national classification system built on clear, objective standards. Otherwise the program becomes increasingly difficult to administer because the distinction between rural and urban hospitals is blurred. We believe that the MSA system is the only one that currently meets the requirements for use as a classification system in a national payment program. The MSA classification system is a statistical standard developed for use by Federal agencies in the production, analysis, and publication of data on metropolitan areas. The standards have been developed with the aim of producing definitions that will be consistent as possible for all MSAs nationwide (49 FR 27426).

In addition, in numerous instances, the Congress has recognized that the areas developed by OMB may be used for differentiating among geographic areas for Medicare payment purposes. For example, in the IPPS statutory section, section 1886(d)(2)(D) of the Act, the Congress defines an “urban area” as “an area within a Metropolitan Statistical Area (as defined by the Office of Management and Budget) or within such similar area as the Secretary has recognized.” Similarly, in the sections of the statute governing the guidelines to be used by the Medicare Geographic Classification Review Board for purposes of reclassification, sections 1886(d)(10)(A) and (D)(i)(II) of the Act, the Congress directed the Secretary to create guidelines for “determining whether the county in which the hospital is located should be treated as being part of a particular [MSA].” Thus, the Congress has accepted and ratified the use of MSAs as an inherently rational manner of dividing up labor-market areas for purposes of Medicare payments.

The process used by OMB to develop the MSAs creates geographic areas that are based upon characteristics we believe also generally reflect the characteristics of unified labor market areas. For example, the CBSAs reflect a core population plus an adjacent territory that reflects a high degree of social and economic integration. This integration is measured by commuting ties, thus demonstrating that these areas may draw workers from the same general areas. OMB reviews its MA definitions preceding each decennial census to reflect recent population changes, and the CBSAs are based on the Census 2000 data. Finally, in the context of the inpatient prospective payment system, we have reviewed alternative methods for determining geographic areas for purposes of the wage index, and in each case, have determined to remain with the OMB designations rather than replace these designations with alternatives.

As stated previously, § 418.306(c) requires the hospice wage index to reflect changes to the definitions of MSA. Therefore, we proposed adopting the revised labor market area designations based on OMB's CBSA designations. For the FY 2006 hospice wage index proposed rule, we proposed to adopt the CBSA designations as finalized in the FY 2005 IPPS final rule (69 FR 49032). We believe that OMB's CBSA designations, based on Census 2000 data, reflect the most recent available geographic classifications (MA definitions). As noted, we did not propose to change the methodology used in computing the wage index, and that any changes to the methodology would be addressed in future rulemaking.

As discussed in the FY 2005 IPPS final rule (69 FR 49032), when the IPPS adopted the revised labor market areas based on OMB's new CBSA designations on October 1, 2004, IPPS established a transition to the new designations to mitigate the resulting adverse impact on certain hospitals. Section 1814(i)(1)(A) of the Act requires hospice payment to be based on “costs which are reasonable and related to the cost of providing hospice care or which are based on such other tests of reasonableness the Secretary may prescribe in regulations * * *” Our regulations at § 418.306(c) require us to issue annually in the Federal Register “a hospice wage index based on the most current available CMS hospital data wage data, including any changes to the definitions of Metropolitan Statistical Areas.” In the proposed rule we stated that it appeared that this language would not seem to permit us to establish a transition to the new CBSA designations. Unlike IPPS and other payment systems where each entity uses a single MSA (CBSA), hospice agencies may use various wage indices to compute their payments, based upon the location of the beneficiary for routine and continuous home care or the MSA (CBSA) for the location of the agency for respite and general inpatient care. The methodology for applying the budget neutrality adjustment factor to the hospital wage data results in over a 6.0 percent increase from the wage data. The application of the hospice floor (a 15.0 percent maximum) to wage index values below 0.8 is used to leverage areas where there are significantly low wage index values. Moreover, we did not believe that in the aggregate, hospice agencies would be impacted negatively by the new CBSA designations. The existing methodology of computing the hospice wage index, the annual calculation of the hospice payment rates based upon the market basket index, and the variability of CBSAs that may be attributed to different hospice agencies we believed would be are sufficient to mitigate adverse effects on individual hospice agencies. We acknowledged that some CBSAs will experience decrease payments based upon the new definitions. However, there are those that are positively affected. For example, many counties that have been included in the rural definitions under the MSA designations are now designated as urban areas under the CBSA based on labor market areas, and will generally receive an increase in their wage index. We also indicated that if adjustments were to be made to CBSAs because of negative impact, adjustments would also need to be made to CBSAs that are positively impacted. Variability and changes in wage indices both positively and negatively have occurred under the MSA designations and occur as a result of geographic differences. As a result, we proposed adopting the CBSA definitions and resulting wage indices without transitions. However, we received numerous public comments in disagreement and found them persuasive enough to undertake further analysis which is described in this regulation.

In adopting the CBSA designations, we identified rural labor market areas where there were no rural hospitals and thus no FY 2005 hospital wage index data on which to base the calculation of the FY 2006 hospice wage index. Since there was no reasonable proxy for more recent rural hospital data within Massachusetts, we proposed to use the pre-floor, pre-reclassified hospital wage index data for FY 2005 and apply the FY 2006 proposed budget neutrality factor. If in the future there are rural areas without hospital wage index data from which a hospice wage index can be derived, we also proposed to use a comparable methodology to derive a wage index. Similarly, if we encounter an urban labor market without an urban hospital from which a hospital wage index can be derived, we proposed to use all of the urban areas within the State as a reasonable proxy for computing a hospice wage index. In these circumstances we would calculate the urban wage index value for areas without urban hospital data as the average wage index for all urban areas within the State. We are not able to apply a similar averaging in rural areas, because there would be no rural hospital wage data available for averaging on a statewide basis.

We note that in the proposed rule, a wage index value of 0.8 had been incorrectly placed in the tables representing the CBSA wage index value for Puerto Rico. In computing the CBSA wage index value for this final rule we identified that there were no IPPS hospitals and thus no hospital wage index data on which to base calculations of the FY 2006 hospice wage index for rural Puerto Rico. As noted above, in the discussion of a comparable situation in Massachusetts, we applied the same methodology of using the FY 2005 pre-floor, pre-reclassified hospital wage index data to derive a FY 2006 wage index for rural Puerto Rico under the CBSA designations.

Comment: One commenter noted that a more reasonable proxy for determining the wage index for rural areas where there are no hospitals is to use data submitted by critical access hospitals.

Response: As discussed in the proposed rule as well as above, since there is no reasonable proxy for more recent rural data within Massachusetts and Puerto Rico, we used the FY 2005 pre-floor, pre-reclassified hospital wage index data to derive a wage index. Since the hospital wage data used in the FY 2006 hospice wage index represents the most recent data available, we believe that this is the most appropriate proxy to use. We intend to use a comparable methodology for hospice wage index updates if there are no hospital data to derive a wage index in subsequent years. Similarly, if there are urban areas without hospital wage index data, we believe that it is reasonable to use an average of all of the urban areas within the State as a reasonable proxy.

Since critical access hospitals (CAHs) are not part of the IPPS, there is no wage data from the CAHs reflected in the pre-floor, pre-reclassified hospital wage data used to calculate the hospice wage index. As a result, we believe that our proposed methodology can be used as a reasonable proxy for areas that have no hospital wage data to calculate the area's wage index.

Comment: We received a number of comments indicating that the adoption of the CBSA designations would negatively impact hospice agencies due to wage indices being lower than those received in FY 2005. While specific counties, States, areas and hospice providers were cited by the commenters, we are summarizing the comments without addressing the specific areas. Commenters cited the movement from MSAs to CBSAs as resulting in a decrease in wage index values. One commenter stated that over 80 percent of all counties would experience a wage index decrease due to the new CBSA designations. These commenters were concerned about the impact of these decreases on access to hospice care. Several commenters suggested that CMS should ensure that any decreases in wage index values should not exceed 2 to 5 percent annually. Two commenters disagreed with our statement that in the aggregate, hospice agencies would not be negatively impacted. Several commenters also expressed concerns with significant swings in the wage index values that are often hard to predict. Some commenters asserted that more patients would be hospitalized due to the decrease in wage index values.

Response: We appreciate the detailed concerns sent by commenters regarding the impact of implementing the CBSA designations on their geographic locations or their hospice agency. While these comments only addressed the negative impact on commenters' geographic areas or hospices, we note that there are a number of geographic locations and hospice providers that will be positively impacted upon implementation of the CBSA designations.

As noted above, the hospice wage index is computed annually based on the most recent hospital wage data. For the FY 2006 hospice wage index, we use the FY 2005 hospital wage data. We also indicated above that a budget neutrality adjustment factor is computed annually. Either the budget neutrality adjustment factor or the wage index floor is applied to the hospital wage data. This results in an adjustment of 6 to 15 percent above the hospital wage data. We acknowledge that the FY 2006 budget neutrality adjustment factor computed for this final rule is lower than that computed for the proposed rule. We attribute this to the use of FY 2004 claims processed through March 2005 for computations used in this final rule, in contrast with FY 2003 claims processed through June 2004 for computations used in the April 29 proposed rule. However, the variability of the budget neutrality adjustment factor in previous years is unrelated to the adoption of the CBSA designations. We provide the following chart to demonstrate this phenomenon.

FY regulatory document | Total expenditure | Budget neutrality adjustment factor—MSA | Budget neutrality adjustment factor—CBSA
2006 Final Rule | $7,079,595,000 | 1.060339 | 1.060988
2006 Proposed Rule | 6,086,726,005 | 1.064435 | 1.063479
2005 Notice | 5,873,005,000 | 1.065819 | N/A
2004 Notice | 3,775,993,000 | 1.061238 | N/A
2003 Notice | 3,684,027,000 | 1.063422 | N/A

We recognize that there are areas which will experience a decrease in their wage index, but there are also areas which will experience an increase. However, as noted by one commenter, variability in wage index values occurs each year and has been noted in the hospice wage index notices issued annually. While the hospice payment rates are increased each year based upon the hospital market basket, the wage index values are adjusted based upon the hospital wage data, which may increase or decrease. We do not believe that under a prospective payment system, wage index values can be assured to increase on an annual basis.

We disagree that the annual fluctuations are not predictable. Since the hospice wage index utilizes the previous year's hospital wage index data, it is possible for hospice agencies to review the hospital wage index values approximately 1 year before the hospice implements the values. We appreciate the comments stating that additional time was required for hospice providers to make changes as a result of the new designations. However, the adoption of the new CBSA designations has been a possibility for over 3 years. In the 1997 hospice wage index final rule, we indicated that any changes made by the OMB to the MSA designations would be used in calculating the hospice wage index. The OMB released its new designations on June 6, 2003. The FY 2005 hospice wage index notice indicated that we would be addressing the CBSA designations in FY 2006. We believe that this sequence of events provided ample time for hospices to become aware of the impending changes. While some commenters believed changes to the wage index values would result in a risk to access to hospice care, we were not provided with any empirical data to support their assumption as to whether the reduction was due to the CBSA designations or due to past with decreases. We believe that access may in fact improve with the increase in wage index values that some areas will experience as a result of the CBSA designations.

We received no suggestions on how the change impacts on access and on the financial stability of hospice providers could or should be measured. We believe that while in theory this type of measurement seems plausible, in reality it would be difficult to do a provider level analysis when the site of service is variable and often changes. As noted in the April 29, 2005 proposed rule, we did not propose to change the methodology used in computing the wage index, and that any changes to the methodology would be addressed in future rulemaking.

We reiterate that, in the aggregate, hospice agencies would not be negatively impacted. As discussed above, this final rule only reflects the impact of the wage index values on individual hospices, and does not reflect total payments for FY 2006. This means that any payment projections in this final rule reflect only the change in the wage index and does not reflect any changes that incorporate the FY 2006 payment rates. We also discussed that the FY 2006 payment rates would actually increase as a result of the market basket increase and that the increased payment rates would be promulgated through administrative issuance. We believe that this payment increase, which is not subject to the budget neutrality requirement, will offset, in the aggregate, any decreases that may occur as a result of the adoption of the CBSA designations.

Comment: We received comments arguing that the implementation of the CBSA designations would result in an overall reduction in reimbursement. Many commenters stated that due to hospice providers facing higher operating costs, CMS should change the rates. Others commented that CMS should ensure that rates do not decrease from one year to the next.

Response: While there are counties that will experience a decrease in their wage index, overall reimbursement will also reflect the payment increase based upon the full market basket. The FY 2006 payment rates will be promulgated through administrative issuance.

Section 1814(i)(1)(C)(ii)(VII) of the Act stipulates that the payment rates are to be increased annually by the market basket percentage increase. Since the annual payment rate increase is promulgated through administrative issuance, hospice providers can generally anticipate that their payment rates will be increased. It is only the wage component of the FY 2006 payment rates that are subject to the wage indices in this final rule.

Comment: We received many comments requesting that hospices assume the wage index value of an adjacent county with a higher wage index. One commenter indicated that wage area adjustments should accurately reflect wage level differences among areas throughout the nation. The same commenter stated that wage areas “must recognize the realities of labor markets” and that area borders “are somewhat arbitrary.”

Response: While specific counties were addressed in the comments, we have summarized the content without addressing specific counties and requests. On June 6, 2003 the OMB published the new MSA designations (A copy of the Bulleting may be obtained at the following internet address: http://www.whitehouse.gov/omb/bulletins/b03-04.html.). We noted in the August 27, 2004 Federal Register (69 FR 52710), that we would be addressing the CBSA designations in the FY 2006 wage index update. In that rule we also indicated that OMB had issued the new designations. In the FY 2005 proposed rule we indicated that the MSA designations as well as the CBSA designations are determined by OMB. The OMB reviews its MA definitions preceding each decennial census to reflect recent population changes. We also indicated in the proposed rule, that we believed that OMB's CBSA designations reflect the most recent available geographic classifications and were a reasonable and appropriate way to define geographic areas for purposes of wage index values. Consequently, we do not believe that the commenter is correct in the assertion that area borders are arbitrary, since the OMB has defined those borders for the CBSA based on specifically defined criteria, as they did for the MSAs.

While the new designations do negatively impact some hospice providers, there are other hospice providers who will be positively impacted. Wage index values may fluctuate from year to year based on the hospital wage data. Claims used may also fluctuate based upon volume and distribution of the payments across providers. As a result, wage index values can increase or decrease from year to year, regardless if the CBSA designations are adopted.

As indicated in the discussions above, geographic differences are reflected in the wage index values. Wage index values are adjusted nationally to all MSA values by applying a budget neutrality adjustment factor, which for FY 2006 is 1.060988, based on CBSA designation, for those hospices with a wage index value greater than or equal to 0.8 and either the budget neutrality adjustment factor or the hospice floor of up to 15 percent for hospices with a wage index value of less than 0.8.

Comment: We received many comments that recommend various revisions to the proposed labor market definition. Many of these focused on specific situations, particularly in those areas in which large MSAs were divided into smaller MSAs under the new definition. Some commenters suggested that counties should be reclassified as area hospitals have been. Others suggested that counties maintain their current MSA designation. Some commenters suggested that counties receive wage index values comparable to an adjacent CBSA with a higher wage index value. Some of the commenters suggested that an appeal mechanism be initiated to allow hospices to appeal their classifications. Several commenters suggested that a rural floor be adopted for areas with low wage index values that are lower than values applied to hospitals in rural areas. Several argued that the Secretary has broad latitude to address wage index inequities.

Response: While specific counties were cited in the comments, we are responding in general and are not addressing specific counties. As noted above, sections 1886(d)(10) and 1886(d)(8)(B) of the Act provide for a process by which hospitals may request to be reclassified into another geographic area. The statute does not include hospices. Our view is that we have no authority to move hospice providers from one CBSA to another CBSA designation or to allow hospice agencies to select the CBSA designation based upon which designation represents the majority of their patients. We believe that this request would require a statutory amendment. Our view is that while we do not have the authority to reclassify hospice providers into different geographic areas, the statute does provide the Secretary with broad authority to establish a payment methodology for hospice and as stated above, the negotiated rulemaking committee recommended the use of the OMB labor market areas for purposes of the wage index. We continue, for reasons discussed above, to believe those definitions to be appropriate.

As noted above hospitals are the only entities that have statutory authority to request a geographic reclassification. Providing a mechanism of appeal without the authority to reclassify a hospice provider would not accord any resolution. We believe that a change in the statute would be required in order to implement an appeal process.

Comment: One commenter indicated “Because reimbursement is calculated according to the residence of the patient, a hospice may redirect its marketing efforts to patients living in a county with a more favorable wage index * * *”

Response: While the commenter indicated that this “ * * * lack of parity in wage index in contiguous areas could create better access for some * * * and more limited access for others,” this exemplifies the difficulty in determining a wage index that would satisfy all hospice providers. Furthermore, establishing a national wage index, as suggested by one commenter, would not reflect the unique economic environment of various geographic areas. As noted, we did not propose to change the methodology used in computing the wage index, and that any changes to the methodology would be addressed in future rulemaking.

Comment: We received many comments requesting that the adoption of the CBSA designations should be phased in for those areas that will experience a decrease in their wage index. One commenter suggested a 1-year transition period. Several commenters suggested a 3-year transition period. Other commenters suggested a transition for an unspecified period of time. One commenter suggested that the same hold-harmless methodology employed by the IPPS in FY 2005 be employed for the FY 2006 hospice wage index. A few commenters indicated that CMS is incorrect in their interpretation of the regulatory language in § 418.306(c).

In addition to the transitioning timeframes for implementing the adoption of the CBSA designations, some commenters offered suggestions for blending rates. One commenter recommended that the CBSA wage index values be implemented if greater than the MSA values. Another commenter recommended that 50 percent of the CBSA value and 50 percent of the MSA value be blended for 1 year. A commenter recommended that 50 percent of the FY 2005 MSA and 50 percent of the FY 2006 CBSA value be blended and phased-in over a 2 to 3 year period. Another commenter suggested that a hospice with more than a 2 percent decrease in the wage index be provided with a 2 to 3 year transition of a blended rate while another commenter suggested that the threshold be 1 percent. Several commenters recommended other blended percentages of MSA and CBSA values while others recommended varying blends with the MSA wage index portion greater than the CBSA value.

Response: We have been persuaded by some of the commenters that argue § 418.306(c) has been incorrectly interpreted. A transition period had been employed for the initial implementation of the methodology developed by the negotiated rulemaking committee. The regulatory language that addressed the adoption of any changes to the MSA definitions by the OMB did not include that a transition period was or was not to be employed when MSA definitions changed. This language was proposed and remained unchanged in the August 8, 1997 final rule. As indicated in the FY 2006 proposed rule, we were not proposing to change the methodology for calculating the hospice wage index overall and would address any changes in the methodology in future rulemaking. Since we did not propose changing the methodology, we are not amending the regulatory language in § 418.306(c).

However, we received a number of comments concerning the proposed implementation of the CBSA designations and the belief that its implementation would negatively impact hospice providers. We considered these comments in detail and conducted additional analysis regarding the impact of implementing the CBSA designations.

To determine the effect of adopting the CBSA designations on providers, we analyzed providers based on their current MSA designation to determine the impact on adopting the CBSA designations. We determined that most providers will experience less than a 5.0 percent change in their wage index values under the CBSA designations. One hundred thirty hospices, representing 5.0 percent of the 2,583 hospice providers will experience a decrease of 5.0 percent or greater when adopting the CBSA designations. Seventy-three of the 969 rural hospices and 57 of the 1,614 urban hospices will experience a decrease of 5.0 percent or more as a result of the migration from MSA to CBSA.

Likewise 97 hospice providers representing 3.8 percent of the 2,583 hospices will experience an increase of 5.0 percent or more when we adopt the CBSA designations. Seventy-four of the 969 rural hospice providers and 23 of the 1,614 urban hospice providers will experience an increase of 5.0 percent or greater.

As shown below, the majority of providers will experience an increase or decrease ranging from 0 to 1.0 percent. Of the 2,583 hospice providers (of which 1,614 were designated urban and 969 as rural under the MSA designations), 998 of the urban providers and 310 of the rural providers will experience an increase of approximately 1.0 percent under the CBSA designations. A decrease of approximately 1.0 percent will be experienced by 294 rural providers and 275 of the urban providers.

The increase and decrease in the wage index appears to be primarily attributed to the change from urban to rural designations under the CBSAs. In other words, providers that were designated as urban under the MSA designations, who are now classified as rural under the CBSA designations, generally will experience a decrease in their wage index. Providers designated as rural under the MSA designations, that are classified as urban under the CBSA designations generally will experience an increase in their wage index. A rural hospice may experience a decrease in its wage index if a high-wage hospital in its rural area is redesignated as urban under the CBSA designation. Since the high-wage hospital would no longer be in the same area as the rural hospice, the hospital's wage data would not be used in calculating the rural rate.

Next, the State county codes were analyzed to determine if the observations by provider were consistent to the findings by geographic area. Our findings were similar to that discussed above. Of the 3,273 counties, 287 (8.8 percent) are anticipated to experience a 5.0 percent or greater decrease. Of the 3,273 counties, 222 rural counties (6.8 percent) and 65 urban counties (2.0 percent) are anticipated to experience a 5.0 percent or greater decrease in their wage index. Of the 3,273 counties, 252 counties (7.7 percent) are anticipated to experience a 5.0 percent or greater increase in their wage index. Of these 252 counties, 229 rural counties (7.0 percent) and 23 urban counties (0.7 percent) are anticipated to experience an increase in their wage index.

As a result of numerous public comments and based on our subsequent analysis, we evaluated different options which could mitigate the effects of OMB's new designation system while remaining budget neutral to the 1983 wage index methodology and to what we would pay had we fully implemented the CBSA designations. We determined that a blended wage index comprised of 50 percent of the wage index that counties would have received had the MSA designations remained in effect and 50 percent of the wage index that counties will receive under the CBSA designations was the most equitable option. This blending would take place after the budget neutrality adjustment factor was applied to the MSA and the CBSA wage index. As the MSA and the CBSA wage index values used budget neutrality adjustment factors (1.060339 and 1.060988, respectively), the computed wage index for all areas contains a unique budget neutrality adjustment.

The charts below describe the difference by hospice providers and by counties based upon full implementation of the wage index under the CBSA designations (Before Adjustment) and upon implementation of the blended wage (After Adjustment). The blended wage index centers most providers and counties within the range of less than 5.0 percent increase or decrease in their wage index. We believe that this will mitigate any wide fluctuations in wage index values. We are implementing this blended wage index as a one-time only transition for FY 2006. We will be using the CBSA designations in future rulemaking in accordance with § 418.306(c) and the methodology established by the negotiated rulemaking committee. Any changes in the methodology for calculating the hospice wage index values will be discussed in future rulemaking.

This computation for only FY 2006 allows us to be budget neutral to 1983 as well as to what would have occurred had this computation not been done. We believe that this is in compliance with our regulations at § 418.306(c), since we have computed a wage index using the latest MSA designations and we are not proposing a longer term transition in adopting the CBSA designations. Subsequent wage index computations for FY 2007 and after will be computed solely on the CBSA designations. Any departure from this methodology will be discussed in future rulemaking.

| Before adjustment: Total | Before adjustment: Rural | Before adjustment: Urban | After adjustment: Total | After adjustment: Rural | After adjustment: Urban
Provider
Decrease ≥0% and <1% | 569 | 294 | 275 | 721 | 339 | 382
Decrease ≥1% and <5% | 267 | 99 | 168 | 216 | 126 | 90
Decrease ≥5% and <10% | 101 | 72 | 29 | 24 | 1 | 23
Decrease ≥10% and <20% | 24 | 1 | 23 | 5 | 0 | 5
Decrease ≥20% | 5 | 0 | 5 | 0 | 0 | 0
No change | 20 | 14 | 6 | 20 | 14 | 6
Increase ≥0% and <1% | 1308 | 310 | 998 | 1417 | 384 | 1033
Increase ≥1% and <5% | 192 | 105 | 87 | 130 | 71 | 59
Increase ≥5% and <10% | 47 | 40 | 7 | 40 | 26 | 14
Increase ≥10% and <20% | 40 | 26 | 14 | 9 | 7 | 2
Increase ≥20% | 10 | 8 | 2 | 1 | 1 | 0
Totals | 2583 | 969 | 1614 | 2583 | 969 | 1614
County
Decrease ≥0% and <1% | 729 | 593 | 136 | 922 | 742 | 180
Decrease ≥1% and <5% | 366 | 275 | 91 | 424 | 347 | 77
Decrease ≥5% and <10% | 251 | 221 | 30 | 32 | 1 | 31
Decrease ≥10% and <20% | 32 | 1 | 31 | 4 | 0 | 4
Decrease ≥20% | 4 | 0 | 4 | 0 | 0 | 0
No change | 39 | 32 | 7 | 39 | 32 | 7
Increase ≥0% and <1% | 1390 | 852 | 538 | 1511 | 947 | 564
Increase ≥1% and <5% | 210 | 162 | 48 | 191 | 160 | 31
Increase ≥5% and <10% | 102 | 93 | 9 | 101 | 92 | 9
Increase ≥10% and <20% | 101 | 92 | 9 | 45 | 40 | 5
Increase ≥20% | 49 | 44 | 5 | 4 | 4 | 0
Totals | 3273 | 2365 | 908 | 3273 | 2365 | 908

In the proposed rule (70 FR 22398), we had indicated that the implementation of the CBSA designations would not be transitioned because, among other things, any upward adjustments made to hospices because of negative impact of the CBSA implementation would need to be offset by compensating downward adjustments to hospices that were positively impacted. We stated in the proposed rule that we were not proposing to change the methodology for computing the hospice wage index, which was determined through negotiated rulemaking, and that any changes in the methodology would be discussed in future rule making. While some commenters stated that the methodology included in the regulation could be interpreted to provide for some transition to the new CBSAs, no commenters suggested that the mechanism for assuring budget neutrality be changed. It is this budget neutrality adjustment that provides for a 6.0 percent increase in the wage index.

We believe that providing a blended wage index for hospices will somewhat mitigate the deleterious effects on those hospices most negatively impacted by the new labor market area definitions, while complying with the budget neutrality methodology authorized by our regulations. Therefore, we believe it is reasonable to provide for a 1-year blended rate. Admittedly, in this transition year, some hospices will not receive the full wage index increase they would otherwise receive. We believe that by maintaining budget neutrality to what we would pay without this adjustment, as well as to what we would have paid had the 1983 wage index been used, we are in compliance with the methodology specified in the August 1997 final rule.

We acknowledge that several other provider-types affected by OMB's change have been held harmless during the transition because those payment systems (for example, IPPS) require budget neutrality in overall payments and incorporate payment rates into budget neutrality calculations. As discussed above, the hospice payment rates for FY 2006 are not included in this regulation and are promulgated through administrative issuance. As a result, the payment rates will reflect the full market basket and are not adjusted in conjunction with wage indexing.

Although, in the hospital wage index, the 1-year transition included a hold-harmless provision for those hospitals positively impacted by the new CBSAs, the budget neutrality rules of the IPPS differ from those used in the hospice wage index. In the hospital wage index, we were able to offset the hold-harmless provision through adjustments to the budget neutrality multiplier, thus ensuring payments did not exceed what would have been made had no transition been implemented. In contrast, hospice payment methodology would not permit this type of offset, thus requiring higher expenditures to implement a hold-harmless provision as part of a transition. Therefore, as stated in the proposed rule, any blended rate for hospices that are negatively affected would be offset with a blended rate for those positively affected. Otherwise, we would not be able to implement a blend, without increasing expenditures beyond what we believe is reasonable.

3. Labeling Error in the Hospice Wage Index

As noted in the proposed rule, we had discovered an error in the labeling of the wage index tables that we have been publishing in the annual hospice wage index update. That labeling error is the listing of Stanly County, North Carolina as one of the areas under MSA 1520 when, in fact, we consider Stanly County, NC to be a rural area in North Carolina. Stanly County wage data have always been correctly treated as rural in the actual creation of the hospice wage index values, and it has only been the listing of Stanly County under MSA 1520 that was in error. Consequently, we have corrected our labeling error from past notices for the hospice and have removed Stanly County from the list of areas that fall under the MSA 1520 wage index. This is strictly a ministerial correction that does not affect the actual computation of the wage index values. Hospice providers in and beneficiaries who reside in Stanly County and receive routine home and continuous home care in Stanly County will continue to fall under, and use, the wage index for rural North Carolina.

B. Proposed Changes To Implement Hospice-Related Provisions of the MMA

In section I.C. of this final rule, we noted that section 408 of the MMA was effective upon enactment and initially implemented through administrative issuances. We proposed to incorporate these provisions into regulation.

1. Coverage of Nurse Practitioner as Attending Physician in Hospice (Section 408 of the MMA)

Section 408 of the MMA amended sections 1861(dd)(3)(B) and 1814(a)(7) of the Act to add nurse practitioners (NPs) to the definition of an attending physician, for beneficiaries who have elected the hospice benefit. In other words, if a beneficiary's primary care provider is an NP, before the determination of the terminal illness and election of the hospice benefit, the NP can remain as the attending physician, if chosen by the beneficiary. If the beneficiary does not have an attending physician or NP, the beneficiary must be provided with an option of either a physician or an NP (if available and if allowed by State law) to serve as the attending physician. An NP is defined as a registered nurse who performs such services as he or she is legally authorized to perform (in the State in which the services are performed) in accordance with State law (or State regulatory mechanism provided by State law) and who meets the training, education, and experience requirements as the Secretary may prescribe.

As discussed in Change Request 3226 (Transmittals 22 and 304, September 24, 2004), beginning December 8, 2003, Medicare pays for medically reasonable and necessary services provided by NPs to Medicare beneficiaries who have elected the hospice benefit and who have selected a nurse practitioner as their attending physician. Nurse practitioners are paid 85 percent of the fee schedule amount for their services as attending physicians. Services for the terminal and related conditions provided by an NP—

• Serving as the attending physician that are medical in nature must be reasonable and necessary and must be services that, in the absence of an NP, would be performed by a physician; and

• May not be separately billed if the—

++ Services would not be reasonable and necessary if provided by an attending physician;

++ NP is not the patient's attending physician; or

++ Services would be performed by a registered or licensed nurse in the absence of a physician or nurse practitioner.

Since NPs are not physicians, as defined in 1861(r)(1) of the Act, they may not act as medical directors or physicians of the hospice or certify the beneficiary's terminal illness and hospices may not contract for their attending physician services as described in 1861(dd)(2)(B)(i)(III) of the Act. All of these provisions apply to NPs without regard to whether they are hospice employees.

We proposed to revise § 418.3, 418.22(c)(1)(ii), and § 418.304 to implement the provisions of section 408 of the MMA.

We did not receive any comments regarding these proposals; and therefore are finalizing these regulatory provisions without change.

2. Payment for Authorizing Use of Arrangements To Provide Hospice Service Under Certain Circumstances (Section 946 of the MMA)

Section 946(a) of the MMA amended section 1861(dd)(5) of the Act by adding the following: “(D) In extraordinary, exigent, or other non-routine circumstances, such as unanticipated periods of high patient loads, staffing shortages due to illness or other events, or temporary travel of a patient outside a hospice program's service area, a hospice program may enter into arrangements with another hospice program for the provision by that other program of services described in paragraph (2)(A)(ii)(I).” Section 946(a) of the MMA is discussed in this proposed rule to assist the reader in understanding how hospices will be reimbursed for these types of arrangements. We will issue more specific regulations regarding section 946(a) of the MMA in future rulemaking.

Section 946(b) of the MMA amended section 1814(i) of the Act to add the following: “(5) In the case of hospice care provided by a hospice program under arrangements under section 1861(dd)(5)(D) made by another hospice program, the hospice program that made the arrangements shall bill and be paid for the hospice care.” This means that the hospice that establishes the contractual arrangement with the hospice that will be providing services to the beneficiary, continues to bill for and receive payment during the hospice election.

Section 4442 of the BBA amended section 1814(i)(2) of the Act, effective for services furnished on or after October 1, 1997, to require hospice agencies to submit claims for payment for hospice services furnished in an individual's home on the basis of the geographic location at which the service is furnished. Therefore, the methodology for applying the wage index to the labor portion of the payment rates remains the same. This means that the wage index for routine and continuous home care would reflect the place where the service is provided, which may be outside of the hospice program's service area during periods of temporary travel. We do not propose in this rule to define “temporary travel” since this would depend upon individual needs and abilities determined by the interdisciplinary group, the beneficiary, and his or her family. The wage index for general inpatient care would reflect the MSA for the hospice agency that retains management responsibility. Payment will continue to be made to the hospice agency for which the beneficiary has made the election. We proposed to revise § 418.302(d) to implement section 946 of the MMA.

We did not receive any comments regarding this proposal; and therefore are finalizing this regulatory provision without change.

III. Provisions of the Final Regulations

This final rule essentially incorporates the provisions of the proposed rule, in which we proposed the adoption of the new MSA (CBSA) designations. The few changes we made from the proposed rule are identified below.

We are also publishing in Table A and B in the addendum, the updated urban and rural wage index values for hospices utilizing CBSA designations.

A. Rural Puerto Rico Correction

We will apply the same methodology to rural Puerto Rico that was applied to rural Massachusetts. This means that we will use the FY 2005 pre-floor, pre-reclassified hospital wage index data under the MSA designations for the FY 2006 hospice wage index for rural Puerto Rico as well as for rural Massachusetts. The FY 2006 budget neutrality adjustment factor of 1.060988 will be applied.

B. FY 2006 Wage Index

The FY 2006 hospice wage index values have been computed utilizing the revised OMB geographic location definitions (CBSAs). The budget neutrality adjustment factor was computed utilizing data from the FY 2004 claims processed through March 2005. The FY 2006 budget neutrality adjustment factors of 1.060988 and 1.060339 were applied to CBSA and the MSA hospital wage data above 0.8, respectively. The FY 2006 budget neutrality adjustment factor or the hospice floor was applied to the hospital wage data below 0.8, not to exceed 0.8.

In addition, to mitigate the effects on providers that will experience a decrease in their hospice wage index as a result of adopting the CBSA designations, a blended wage index was computed for all counties comprised of 50 percent of the hospice wage index had the MSA designations continued to be used as well as 50 percent of the CBSA hospice wage index value. We note that the use of this blended wage index is applicable only for FY 2006 and will not apply in future years. Counties within CBSAs that have different wage index values as a result of the migration from specific MSAs to specific CBSAs will require the use of specific codes to process their claims. These counties are identified in Table C. Instructions will be provided under separate administrative issuance.

To ensure that hospice providers are able to identify their current wage index, table A will contain the CBSA code, CBSA county name, CBSA wage index, and current MSA designation.

We note that subsequent to the publication of the proposed rule, there were changes to OMB Bulletin No. 05-02 (November 2004), which changes the titles of certain CBSAs. These changes have been incorporated into Tables A and C. These changes are as follows:

• New Principal Cities/Titles

—CBSA 36740. New Title: Orlando-Kissimmee, FL MSA

—CBSA 37620. New Title: Parkersburg-Marietta-Vienna, WV-OH MSA

• Deleted Principal City

—CBSA 42060. New Title: Santa Barbara-Santa Maria, CA MSA

• Title Changes Resulting From Changes In Order of Cities

—CBSA 13644. New Title: Bethesda-Gaithersburg-Frederick, MD Metropolitan Division

—CBSA 32580. New Title: McAllen-Edinburg-Mission, TX MSA

—CBSA 26420. New Title: Houston-Sugar Land-Baytown, TX MSA

—CBSA 35644. New Title: New York-White Plains-Wayne, NY-NJ Metropolitan Division

CBSA designations will be utilized in future hospice wage index regulations.

IV. Collection of Information Requirements

Section 418.22(c)(1) requires for the initial 90-day period, the hospice must obtain written certification statements (and oral certification statements if required under § 418.22(a)(3) from the individual's attending physician, if the individual has an attending physician, that meets the definition of physician specified in § 410.20 of this subchapter.

While this requirement is subject to the PRA it is currently approved by OMB under control number 0938-0302, “ICRs in Hospice Care Regulation and Supporting Regulations,” with a current expiration date of September 30, 2006.

V. Regulatory Impact Analysis

A. Overall Impact

We have examined the impacts of this final rule as required by Executive Order 12866 (September 1993, Regulatory Planning and Review), the Regulatory Flexibility Act (RFA) (September 19, 1980, Pub. L. 96-354), section 1102(b) of the Act, the Unfunded Mandates Reform Act of 1995 (Pub. L. 104-4), and Executive Order 13132. We estimated the impact on hospices, as a result of the changes to the FY 2006 hospice wage index. As discussed previously, the methodology for computing the wage index was determined through a negotiated rulemaking committee and implemented in the August 8, 1997 final rule (62 FR 42860). This final rule updates the hospice wage index in accordance with our regulation and that methodology, incorporating the adoption of the CBSA designations used in the hospital wage index data.

• Table I categorizes the impact on hospices by various geographic and provider characteristics.

• Table A reflects the FY 2006 wage index values for urban areas under the CBSA designations.

• Table B reflects the FY 2006 wage index values for rural areas under the CBSA designations.

• Table C represents counties that require a special code to be used for processing claims. Wage index values for these counties are a blend of what they would have received had the MSA designations remained in effect and what they will receive under the CBSA designations.

• Table D provides a crosswalk of counties by State. It contains the county, State, county code, CBSA code, and CBSA name.

In addition, section 1102(b) of the Act requires us to prepare a regulatory impact analysis if a rule may have a significant impact on the operations of a substantial number of small rural hospitals. This analysis must conform to the provisions of section 604 of the RFA. For purposes of section 1102(b) of the Act, we define a small rural hospital as a hospital that is located outside an MSA and has fewer than 100 beds. We have determined that this final rule would not have a significant impact on the operations of a substantial number of small rural hospitals.

Section 202 of the Unfunded Mandates Reform Act of 1995 also requires that agencies assess anticipated costs and benefits before issuing any rule that may result in expenditure in any 1 year by State, local, and tribal governments, in the aggregate, or by the private sector, of $110 million or more. This final rule is not anticipated to have an effect on State, local, or tribal governments or on the private sector of $110 million or more.

Executive Order 13132 establishes certain requirements that an agency must meet when it promulgates a proposed rule (and subsequent final rule) that imposes substantial direct requirement costs on State and local governments, preempts State law, or otherwise has Federalism implications. We have reviewed this final rule under the threshold criteria of Executive Order 13132, Federalism, and have determined that it would not have an impact on the rights, roles, and responsibilities of State, local, or tribal governments.

In accordance with the provisions of Executive Order 12866, this regulation was reviewed by the Office of Management and Budget.

1. Hospice Size

As discussed in the proposed rule, the impact of hospice wage index changes have been analyzed according to type of hospice, geographic location, type of ownership, hospice base, and hospice size. Hospice size was determined by the number of routine home care days (RHC). Since routine home care days account for over 70 percent of the services provided by a hospice, we used RHC days as a proxy for the size of the hospice agency. As discussed in the proposed rule, in the past, we had designated the size by four categories: (1) 0 to 1,754 RHC days representing small agencies; (2) 1,754 to 4,373 RHC days or (3) 4,373 to 9,681 RHC days representing medium-sized agencies; and (4) 9,681 RHC days or more representing large agencies.

To determine the statistical distribution of RHC days, based upon the total number of hospice agencies and their respective RHC days using FY 2003 claims processed through March 2004, were used. In determining the statistical distribution, we deleted data for four hospice agencies with RHC days that greatly exceeded the total number of RHC days of other agencies. However, these data have been included in the impact analysis since we recognize that the skewness existed in the “large” agency size distribution using four size categories and does not change with the use of three size categories.

Since we received no comments, we will be using only three size designations to present the impact analyses. We believe that these three designations better describe the size of the hospice. The three categories are: Small agencies having 0 to 3,499 RHC days; medium agencies having 3,500 to 19,999 RHC days; and large agencies having 20,000 or more RHC days.

2. Impact on Hospices

Our discussions for this final rule focus on the impact of adopting the CBSA designations both before and after the transition adjustment. Table I indicates the impact of using the adoption of the CBSA designations as well as the impact of computing a hybrid (blended) hospice wage index value for all areas. As discussed above, we use the latest claims file available to us to develop the impact table when we issue the annual yearly wage index update. For the purposes of this final rule, we used the 2004 claims that were processed through March 2005 since this was the latest file available. For the proposed rule, we had used the 2003 claims that were processed through June 2004. Thus the impact on the geographic location, home care days, type of ownership, hospice base as well as projections or anticipated payments indicated in the proposed rule differ than the expenditures that we anticipate for FY 2006 in the final rule. We note that estimated payments for FY 2006 are determined by using the wage index for FY 2006 and payment rates for FY 2005. As noted in previous sections, payment rates for FY 2006 are promulgated through administrative issuance.

For the purposes of this final rule, we compared estimated payments using the FY 1983 hospice wage index to estimated payments using the FY 2006 wage index and determined the proposed hospice wage index to be budget neutral. Budget neutrality means that, in a given year, estimated aggregate payments for Medicare hospice services using the proposed FY 2006 wage index would equal estimated aggregate payments that would have been made for the same services if the 1983 wage index had remained in effect. Budget neutrality to 1983 does not imply that estimated payments would not increase since the budget neutrality applies only to the wage index portion and not the total payment rate, which accommodates inflation. We also determined that the blended wage index allows us to be budget neutral to 1983 as well as to what would have occurred had this blend not been done.

Executive Order 12866 (as amended by Executive Order 13258, which merely reassigns responsibility of duties) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year). We have determined that this final rule is not economically significant rule under this Executive Order.

The RFA requires agencies to analyze options for regulatory relief of small businesses. For purposes of the RFA, small entities include small businesses, nonprofit organizations, and government agencies. Most hospices and most other providers and suppliers are small entities, either by nonprofit status or by having revenues of $6 million to $29 million in any 1 year (for details, see the Small Business Administration's regulation at 65 FR 69432, that sets forth size standards for health care industries). For purposes of the RFA, most hospices are small entities. As indicated in Table I below, there are 2,583 hospices. Approximately 70 percent of Medicare certified hospices are identified as voluntary, government, or other agencies and, therefore, are considered small entities. Because the National Hospice and Palliative Care Organization estimates that approximately 79 percent of hospice patients are Medicare beneficiaries, we have not considered other sources of revenue in this analysis. Furthermore, the wage index methodology was previously determined by consensus, through a negotiated rulemaking committee that included representatives of national hospice associations; rural, urban, large, and small hospices; multisite hospices; and consumer groups. Based on all of the options considered, the committee agreed on the methodology described in the committee statement, and it was adopted into regulation in the August 8, 1997 final rule. In developing the process for updating the wage index in the 1997 final rule, we considered the impact of this methodology on small entities and attempted to mitigate any potential negative effects.

As stated previously, the following discussions are limited to demonstrating trends rather than projected dollars. We used the CBSA designations and wage indices as well as the data from FY 2004 claims processed through March 2005 in developing the impact analysis. As indicated above, the impact tables are intended to reflect the effects of the FY 2006 wage index under the CBSA designations. The wage index is the only variable that differs between the FY 2005 payments and the FY 2006 estimated payments. FY 2005 payment rates are used for both FY 2005 actual payments and the FY 2006 estimated payments. The FY 2006 payment rates will be adjusted to reflect the full FY 2006 hospital market basket, as required by section 1814(i)(1)(C)(ii)(VII) of the Act. As previously noted, we publish these rates through administrative issuances. As discussed earlier, hospice agencies may utilize various wage indices to compute their payments based on the geographic location of the beneficiary for routine and continuous home care or the CBSA for the location of the hospice agency for respite and general inpatient care. For this analysis, we use payments to the hospice in the aggregate based on the location of the hospice.

In this final rule our analysis demonstrates that the CBSA wage index before adjustment will decrease estimated payments for FY 2006 slightly by 0.3 percent. Estimated payments for rural hospices are anticipated to experience a 0.2 percent decrease while urban hospices are anticipated to experience a 0.4 percent decrease in estimated payments. Among urban hospices, we expect urban New England to experience the largest decrease of 1.5 percent and urban West South Central to experience the smallest decrease of 0.1 percent. Rural hospices are anticipated to experience either an increase or decrease in estimated payments. Rural Middle Atlantic will experience the largest decrease in estimated payments of 1.6 percent, while the Rural Mountain region will experience the smallest decrease in estimated payments of 0.1 percent. Rural Puerto Rico will experience the largest increase in estimated payments of 2.4 percent while Rural Pacific region will experience the smallest increase in estimated payments of 0.4 percent. Rural East North Central will experience no change in estimated payments.

As discussed previously, we have designated three hospice sizes based on the number of routine home care days. Under the Medicare hospice benefit, hospices can provide four different levels of care days. The majority of the days provided by a hospice are routine home care days. Therefore, the number of routine home care days can be used as a proxy for the size of the hospice, that is, the more days of care provided, the larger the hospice. Using routine home care days as a proxy for size, our analysis indicates that the impact of the wage index update based on the adoption of the CBSA designations (before application of the blend) on all hospice agencies by size is anticipated to decrease slightly for all with medium-sized hospices experiencing the smallest decrease of 0.1 percent and large hospices experiencing the largest decrease of 0.4 percent in anticipated payments.

By type of ownership, the impact on hospice agencies by adopting the CBSA designations (before application of the blend) ranges from the largest decrease of 0.5 percent which is anticipated for voluntary hospices. Government-owned hospices are anticipated to experience no change in estimated payments.

A 1.3 percent decrease is anticipated for skilled nursing facility-based hospices while home health agency-based and hospital-based hospices are expected to experience a 0.4 percent decrease in their estimated payments.

With the implementation of the blended wage index, the impact remains very similar. The impact on all hospices and on urban hospices remains at a 0.3 percent and a 0.4 percent decrease in anticipated payments, respectively. However, rural hospices will experience a 0.1 percent decrease in anticipated payments. Urban hospices will continue to experience a decrease in estimated payments. New England is expected to experience the largest decrease (1.1 percent) while urban West South Central remains unchanged. Rural hospices will continue to experience either an increase or decrease in estimated payments. Rural Middle Atlantic will continue to experience the largest decrease (1.3 percent) while South Atlantic and West North Central remain unchanged. Rural Puerto Rico will continue to experience the greatest increase (1.4 percent) in anticipated payments.

The impact on hospice size as well and on hospice base type remains unchanged from the nonadjusted impact analysis discussed above.

For type of ownership, voluntary hospices will continue to experience the largest decrease (0.4 percent) while Government-owned hospices will experience a 0.2 decrease in anticipated payments.

We note that there are no unknown facilities in the final rule while there were some in the proposed rule. We believe this can be attributed to a more complete data file that was used for the final rule.

As discussed above, the impact analysis considers anticipated payments only with respect to changes in the wage index values. Payment to hospice providers for FY 2006 is anticipated to increase as a result of the FY 2006 payment rates which will reflect the market basket increase. The FY 2006 payment rates will be promulgated through administrative issuance.

Since payment rates for FY 2006 will increase and since the payment impact on hospice agencies will slightly decrease with the adoption of the CBSA designations, there was no compelling reason to maintain the use of the MSA designations as opposed to the CBSA designations based upon overall hospice agency impact. As discussed, the blended wage index is budget neutral to what we would have paid had the 1983 wage index values remained in effect. In addition, this adjustment is budget neutral with respect to the amount that we anticipate we would pay if an adjustment were not made. For these reasons, as well as the fact that the overall impact on hospice agencies remains unchanged, we are including the adjustments in this final rule.

3. Anticipated Effects

We have compared estimated payments using the FY 1983 hospice wage index to estimated payments using the proposed FY 2006 wage index and determined the current hospice wage index to be budget neutral. This impact analysis compares hospice payments using the FY 2005 hospice wage index to the estimated payments using the proposed FY 2006 wage index. The data used in developing the quantitative analysis for this proposed rule were obtained from the National Claims History file of all FY 2004 claims processed through March 2005. We deleted bills from hospices that have since closed. We believe this file is adequate to demonstrate the impact of using the CBSA designations and to project the anticipated expenditures for FY 2006.

Table I demonstrates the results of our analysis. In column 1 we indicate the number of hospices included in our analysis. In column 2 of Table I, we indicate the number of routine home care days that were included in our analysis, although the analysis was performed on all types of hospice care. Column 3 estimates payments using the FY 2005 wage index. Column 4 estimates payments using CBSA designations and FY 2006 wage index values as well as FY 2005 payment rates. Column 5 compares columns 3 and 4, and shows the percent change in estimated hospice payments made based on the category of the hospice using the unadjusted wage index values. Columns 6 and 7 shows the percent change in estimated hospice payments made based on the category of the hospice using the adjusted wage index values.

Table I categorizes hospices by various geographic and provider characteristics. The first row displays the aggregate result of the impact for all Medicare-certified hospices. The second and third rows of the table categorize hospices according to their geographic location (urban and rural). Note that hospice listings are based on current MSA urban and rural designations. The analysis considers the impact of adopting the CBSA designations in relation to the current MSA designations. Our analysis indicated that there are 1,614 hospices located in urban areas and 969 hospices located in rural areas under current MSA designations. The next two groupings in the table indicate the number of hospices by census region, also broken down by urban and rural hospices. The sixth grouping shows the impact on hospices based on the size of the hospice's program. We determined that the majority of hospice payments are made at the routine home care rate. Therefore, we based the size of each individual hospice's program on the number of routine home care days provided in 2004. The next grouping shows the impact on hospices by type of ownership. The final grouping shows the impact on hospices defined by whether they are provider-based or freestanding.

Our analysis shows that most hospices are in urban areas and provide the vast majority of routine home care days. However, rural hospices are anticipated to experience a slight increase due to the implementation of the CBSA designations, while the urban hospices are anticipated to experience a slight decrease. Since the impact tables are intended to reflect the implementation of the CBSA designation and wage indices, the introduction of the wage indices is the only variable used in the computation. As noted above, the payment rates used reflect the FY2005 rates. The FY 2006 payment rates will be adjusted to reflect the full FY 2006 hospital market basket, as required by section 1814(i)(1)(C) (ii)(VII) of the Act. We publish these rates through administrative issuances.

Table I.—Impact of Hospice Wage Index CBSA Wage Index Values and Blended Adjustment
| Number of hospices | Number of routine home care days (in thousands) | Payments using FY 2005 wage index (in thousands) | Estimated payments using FY 2006 CBSA wage-index not adjusted (in thousands) | Percent change in wage index (not adjusted) | Estimated payments using FY 2006 CBSA wage index adjusted (in thousands) | Percent change in wage index (adjusted)
| (1) | (2) | (3) | (4) | (5) | (6) | (7)
By Geographic Location:
All Hospices | 2,583 | 49,229 | 7,079,595 | 7,055,746 | −0.3 | 7,055,747 | −0.3
Urban Hospices | 1,614 | 41,009 | 6,099,666 | 6,073,545 | −0.4 | 6,076,668 | −0.4
Rural Hospices | 969 | 8,220 | 979,929 | 982,201 | 0.2 | 979,080 | −0.1
By Region—Urban:
New England | 96 | 1,298 | 219,049 | 215,693 | −1.5 | 216,615 | −1.1
Middle Atlantic | 185 | 4,123 | 638,629 | 634,691 | −0.6 | 633,951 | −0.7
South Atlantic | 218 | 8,743 | 1,429,816 | 1,425,021 | −0.3 | 1,425,473 | −0.3
East North Central | 255 | 6,207 | 910,287 | 905,921 | −0.5 | 906,835 | −0.4
East South Central | 122 | 3,065 | 404,841 | 403,001 | −0.5 | 403,505 | −0.3
West North Central | 119 | 2,713 | 352,492 | 351,959 | −0.2 | 351,992 | −0.1
West South Central | 268 | 5,822 | 789,591 | 788,709 | −0.1 | 789,394 | 0.0
Mountain | 122 | 3,559 | 534,967 | 530,086 | −0.9 | 530,528 | −0.8
Pacific | 199 | 4,977 | 777,501 | 776,306 | −0.2 | 776,041 | −0.2
Puerto Rico | 30 | 502 | 42,493 | 42,158 | −0.8 | 42,333 | −0.4
By Region—Rural:
New England | 28 | 231 | 32,197 | 31,859 | −1.1 | 31,853 | −1.1
Middle Atlantic | 37 | 304 | 37,130 | 36,518 | −1.6 | 36,650 | −1.3
South Atlantic | 143 | 1,616 | 199,714 | 200,719 | 0.5 | 199,803 | 0.0
East North Central | 140 | 946 | 115,032 | 115,051 | 0.0 | 114,757 | −0.2
East South Central | 121 | 1,862 | 210,166 | 209,571 | −0.3 | 209,035 | −0.5
West North Central | 185 | 850 | 106,374 | 106,511 | 0.1 | 106,420 | 0.0
West South Central | 139 | 1,253 | 136,659 | 139,019 | 1.7 | 137,846 | 0.9
Mountain | 114 | 663 | 81,399 | 81,348 | −0.1 | 81,250 | −0.2
Pacific | 58 | 410 | 54,787 | 54,980 | 0.4 | 54,905 | 0.2
Puerto Rico | 4 | 84 | 6,472 | 6,626 | 2.4 | 6,561 | 1.4
Routine Home Care Days:
0-3499 Days (Small) | 625 | 990 | 125,360 | 125,082 | −0.2 | 125,078 | −0.2
3500-19,999 Days (Medium) | 1209 | 11,891 | 1,564,611 | 1,563,054 | −0.1 | 1,562,131 | −0.2
20,000+ Days (Large) | 749 | 36,348 | 5,389,624 | 5,367,611 | −0.4 | 5,368,539 | −0.4
Type of Ownership:
Voluntary | 1,322 | 26,375 | 3,856,201 | 3,838,554 | −0.5 | 3,840,057 | −0.4
Proprietary | 1,015 | 21,325 | 3,016,779 | 3,010,544 | −0.2 | 3,009,332 | −0.2
Government | 191 | 1,038 | 134,602 | 134,543 | 0.0 | 134,376 | −0.2
Other | 55 | 490 | 72,014 | 72,105 | 0.1 | 71,983 | 0
Hospice Base:
Freestanding | 1,376 | 34,459 | 4,976,581 | 4,961,372 | −0.3 | 4,960,762 | −0.3
HHA | 641 | 8,512 | 1,216,180 | 1,211,665 | −0.4 | 1,211,960 | −0.3
Hospital | 552 | 6,080 | 857,712 | 853,975 | −0.4 | 854,263 | −0.4
Skilled Nursing Facility | 14 | 178 | 29,122 | 28,734 | −1.3 | 28,762 | −1.2
Note: For purposes of comparing the CBSA designations with the current MSA designations, hospice listings are based on the MSA designations.
FY 2005 payment rates were used for estimated payments for FY 2006. FY 2006 payment rates will be adjusted to reflect the full hospital market basket and will be promulgated through administrative issuance.
Columns 4 & 5 represent the CBSA estimated payments and percent change in wage index had the transition not been implemented. Columns 6 and 7 represent the blended estimated payments and percentage changes in wage index as a result of adopting the new OMB designations (CBSAs).

List of Subjects for 42 CFR Part 418

Health facilities, Hospice care, Medicare, Reporting and recordkeeping requirements.

For the reasons stated in the preamble of this final rule, the Centers for Medicare & Medicaid Services is amending 42 CFR part 418 as set forth below:

PART 418—HOSPICE CARE

1. The authority citation for part 418 continues to read as follows:

Authority: Secs. 1102 and 1871 of the Social Security Act (42 U.S.C. 1302 and 1395hh).

2. Section 418.3 is amended by revising the definition of Attending physician to read as follows:

§ 418.3 Definitions.

* * * * *

Attending physician means a—(1)(i) Doctor of medicine or osteopathy legally authorized to practice medicine and surgery by the State in which he or she performs that function or action; or

(ii) Nurse practitioner who meets the training, education, and experience requirements as the Secretary may prescribe; and

(2) Is identified by the individual, at the time he or she elects to receive hospice care, as having the most significant role in the determination and delivery of the individual's medical care.

* * * * *

3. Section 418.22 is amended by—

A. Republishing the heading of paragraph (c) and paragraph (c)(1).

B. Revising paragraph (c)(1)(ii).

The republication and revisions read as follows:

§ 418.22 Certification of terminal illness.

* * * * *

(c) Sources of certification. (1) For the initial 90-day period, the hospice must obtain written certification statements (and oral certification statements if required under paragraph (a)(3) of this section) from—

(i) * * *

(ii) The individual's attending physician, if the individual has an attending physician. The attending physician must meet the definition of physician specified in § 410.20 of this subchapter.

* * * * *

4. Section 418.302 is amended by revising paragraph (d) to read as follows:

§ 418.302 Payment procedures for hospice care.

* * * * *

(d)(1) The intermediary reimburses the hospice its appropriate payment amount for each day for which an eligible Medicare beneficiary is under the hospice's care.

(2) Effective December 8, 2003, if a hospice makes arrangements with another hospice to provide services under the circumstances specified in section 1861(dd)(5)(D) of the Act, the intermediary reimburses the hospice for which the beneficiary has made an election as described in paragraph (d)(1) of this section.

* * * * *

5. Section 418.304 is amended by—

A. Revising the section heading.

B. Revising the introductory text of paragraph (a).

C. Adding a new paragraph (e).

The revisions and additions read as follows:

§ 418.304 Payment for physician and nurse practitioner services.

(a) The following services performed by hospice physicians and nurse practitioners are included in the rates described in § 418.302:

* * * * *

(e)(1) Effective December 8, 2003, Medicare pays for attending physician services provided by nurse practitioners to Medicare beneficiaries who have elected the hospice benefit and who have selected a nurse practitioner as their attending physician. This applies to nurse practitioners without regard to whether they are hospice employees.

(2) Nurse practitioners may bill and receive payment for services only if the—

(i) Nurse practitioner is the beneficiary's attending physician as defined in § 418.3;

(ii) Services are medically reasonable and necessary;

(iii) Services are performed by a physician in the absence of the nurse practitioner; and

(iv) Services are not related to the certification of terminal illness specified in § 418.22.

(3) Payment for nurse practitioner services are made at 85 percent of the physician fee schedule amount.

(Catalog of Federal Domestic Assistance Program No. 93.773, Medicare—Hospital Insurance; and Program No. 93.774, Medicare—Supplementary Medical Insurance Program)

Dated: July 19, 2005.
Mark B. McClellan,
Administrator, Centers for Medicare & Medicaid Services.

Approved: July 27, 2005.
Michael O. Leavitt,
Secretary.

Addendum—Table A.—Hospice Wage Index for Urban Areas by CBSA
CBSA code | Wage index ¹ | Urban area (constituent counties or county equivalents) ² | MSA code
10180 |  | Abilene, TX
| 0.8358 | Callahan, TX* | 45
|  | Jones, TX* | 45
| 0.8411 | Taylor, TX* | 0040
10380 |  | Aguadilla-Isabela-San Sebastián, PR
| 0.4930 | Aguada, PR* | 0060
|  | Aguadilla, PR* | 0060
|  | Moca, PR* | 0060
| 0.4788 | Isabela, PR* | 40
|  | Lares, PR* | 40
|  | Rincón, PR* | 40
|  | San Sebastián, PR* | 40
| 0.5203 | Anasco, PR* | 4840
10420 | 0.9604 | Akron, OH Portage, OH Summit, OH | 0080
10500 |  | Albany, GA
| 1.1949 | Dougherty, GA* | 0120
|  | Lee, GA* | 0120
| 1.0349 | Baker, GA* | 11
|  | Terrell, GA* | 11
|  | Worth, GA* | 11
10580 | 0.9132 | Albany-Schenectady-Troy, NY | 0160
|  | Albany, NY
|  | Rensselaer, NY
|  | Saratoga, NY
|  | Schenectady, NY
|  | Schoharie, NY
10740 |  | Albuquerque, NM |
| 1.1121 | Bernalillo, NM* | 0200
|  | Sandoval, NM* | 0200
|  | Valencia, NM* | 0200
| 1.0084 | Torrance, NM* | 32
10780 |  | Alexandria, LA
| 0.8667 | Rapides, LA* | 0220
| 0.8335 | Grant, LA* | 19
10900 |  | Allentown-Bethlehem-Easton, PA-NJ |
| 1.0096 | Carbon, PA* | 0240
|  | Lehigh, PA* | 0240
|  | Northampton, PA* | 0240
| 1.1203 | Warren, NJ* | 5640
11020 | 0.8975 | Altoona, PA | 0280
|  | Blair, PA
11100 |  | Amarillo, TX
| 0.9735 | Potter, TX* | 0320
|  | Randall, TX* | 0320
| 0.9063 | Armstrong, TX* | 45
|  | Carson, TX* | 45
11180 | 0.9562 | Ames, IA | 16
|  | Story, IA
11260 |  | Anchorage, AK
| 1.2873 | Anchorage, AK* | 0380
| 1.2623 | Matanuska-Susitna, AK* | 02
11300 | 0.9945 | Anderson, IN | 3480
|  | Madison, IN
11340 | 0.9583 | Anderson, SC | 3160
|  | Anderson, SC
11460 | 1.1581 | Ann Arbor, MI | 0440
|  | Washtenaw, MI
11500 | 0.8359 | Anniston-Oxford, AL | 0450
|  | Calhoun, AL
11540 | 0.9676 | Appleton, WI | 0460
|  | Calumet, WI
|  | Outagamie, WI
11700 |  | Asheville, NC
| 0.9913 | Buncombe, NC* | 0480
|  | Madison, NC* | 0480
| 0.9382 | Haywood, NC* | 34
|  | Henderson, NC* | 34
12020 |  | Athens-Clarke County, GA
| 1.0821 | Clarke, GA* | 0500
|  | Madison, GA* | 0500
|  | Oconee, GA* | 0500
| 0.9784 | Oglethorpe, GA* | 11
12060 |  | Atlanta-Sandy Springs-Marietta, GA
| 1.0576 | Barrow, GA* | 520
|  | Bartow, GA* | 520
|  | Carroll, GA* | 520
|  | Cherokee, GA* | 520
|  | Clayton,GA* | 520
|  | Cobb, GA* | 520
|  | Coweta, GA* | 520
|  | De Kalb, GA* | 520
|  | Douglas, GA* | 520
|  | Fayette, GA* | 520
|  | Forsyth, GA* | 520
|  | Fulton, GA* | 520
|  | Gwinnett, GA* | 520
|  | Henry, GA* | 520
|  | Newton, GA* | 520
|  | Paulding, GA* | 520
|  | Pickens, GA* | 520
|  | Rockdale, GA* | 520
|  | Spalding, GA* | 520
|  | Walton, GA* | 520
| 0.9662 | Butts, GA* | 11
|  | Dawson, GA* | 11
|  | Haralson, GA* | 11
|  | Heard, GA* | 11
|  | Jasper, GA* | 11
|  | Lamar, GA* | 11
|  | Meriwether, GA* | 11
|  | Pike, GA* | 11
12100 | 1.1581 | Atlantic City, NJ | 0560
|  | Atlantic, NJ
12220 | 0.8713 | Auburn-Opelika, AL | 0580
|  | Lee, AL
12260 |  | Augusta-Richmond County, GA-SC
| 0.9738 | Aiken, SC* | 0600
|  | Columbia, GA* | 0600
|  | Edgefield, SC* | 0600
|  | McDuffie, GA* | 0600
|  | Richmond, GA* | 0600
| 0.9228 | Burke, GA* | 11
12420 | 1.0177 | Austin-Round Rock, TX | 0640
|  | Bastrop, TX
|  | Caldwell, TX
|  | Hays, TX
|  | Travis, TX
|  | Williamson, TX
12540 | 1.0645 | Bakersfield, CA | 0680
|  | Kern, CA
12580 | 1.0508 | Baltimore-Towson, MD | 0720
|  | Anne Arundel, MD
|  | Baltimore, MD
|  | Baltimore City, MD
|  | Carroll, MD
|  | Harford, MD
|  | Howard, MD
|  | Queen Anne's, MD
12620 | 1.0559 | Bangor, ME | 0733
|  | Penobscot, ME
12700 | 1.3083 | Barnstable Town, MA | 0743
|  | Barnstable, MA
12940 |  | Baton Rouge, LA
| 0.8842 | Ascension, LA* | 0760
|  | East Baton Rouge Parish, LA* | 0760
|  | Livingston, LA* | 0760
|  | West Baton Rouge Parish, LA* | 0760
| 0.8413 | East Feliciana, LA* | 19
|  | Iberville, LA* | 19
|  | Pointe Coupee, LA* | 19
|  | St. Helena, LA* | 19
|  | West Feliciana, LA* | 19
12980 | 1.0456 | Battle Creek, MI | 3720
|  | Calhoun, MI
13020 | 1.0219 | Bay City, MI | 6960
|  | Bay, MI
13140 | 0.9139 | Beaumont-Port Arthur, TX | 0840
|  | Hardin, TX
|  | Jefferson, TX
|  | Orange, TX
13380 | 1.2348 | Bellingham, WA | 0860
|  | Whatcom, WA
13460 | 1.0953 | Bend, OR | 38
|  | Deschutes, OR
13644 | 1.1629 | Bethesda-Gaithersburg-Frederick, MD | 8840
|  | Frederick, MD
|  | Montgomery, MD
13740 |  | Billings, MT
| 0.9367 | Carbon, MT* | 27
| 0.9505 | Yellowstone, MT* | 0880
13780 | 0.8959 | Binghamton, NY | 0960
|  | Broome, NY
|  | Tioga, NY
13820 |  | Birmingham-Hoover, AL
| 0.9734 | Blount, AL* | 1000
|  | Jefferson, AL* | 1000
|  | Shelby, AL* | 1000
|  | St. Clair, AL* | 1000
| 0.8907 | Bibb, AL* | 01
|  | Chilton, AL* | 01
|  | Walker, AL* | 01
13900 | 0.8000 | Bismarck, ND | 1010
|  | Burleigh, ND
|  | Morton, ND |
13980 | 0.8713 | Blacksburg-Christiansburg-Radford, VA | 49
|  | Giles, VA*
|  | Montgomery, VA*
|  | Pulaski, VA*
|  | Radford City, VA*
14020 |  | Bloomington, IN
| 0.9187 | Greene, IN* | 15
|  | Owen, IN* | 15
| 0.9108 | Monroe, IN* | 1020
14060 | 0.9664 | Bloomington-Normal, IL | 1040
|  | McLean, IL
14260 |  | Boise City-Nampa, ID
| 0.9919 | Ada, ID* | 1080
|  | Canyon, ID* | 1080
| 0.9640 | Boise, ID* | 13
|  | Gem, ID* | 13
|  | Owyhee, ID* | 13
14484 | 1.2230 | Boston-Quincy, MA | 1123
|  | Norfolk, MA
|  | Plymouth, MA
|  | Suffolk, MA
14500 | 1.0655 | Boulder, CO | 1125
|  | Boulder, CO
14540 | 0.8477 | Bowling Green, KY | 18
|  | Edmonson, KY
|  | Warren, KY
14740 | 1.1258 | Bremerton-Silverdale, WA | 1150
|  | Kitsap, WA
14860 | 1.3306 | Bridgeport-Stamford-Norwalk, CT | 5483
|  | Fairfield, CT
15180 | 1.0739 | Brownsville-Harlingen, TX | 1240
|  | Cameron, TX
15260 | 1.0703 | Brunswick, GA | 11
|  | Brantley, GA
|  | Glynn, GA
|  | McIntosh, GA
15380 | 0.9906 | Buffalo-Niagara Falls, NY | 1280
|  | Erie, NY
|  | Niagara, NY
15500 | 0.9694 | Burlington, NC | 3120
|  | Alamance, NC
15540 | 0.9888 | Burlington-South Burlington, VT | 1303
|  | Chittenden, VT
|  | Franklin, VT
|  | Grand Isle, VT
15764 | 1.1921 | Cambridge-Newton-Framingham, MA | 1123
|  | Middlesex, MA
15804 | 1.1402 | Camden, NJ | 6160
|  | Burlington, NJ
|  | Camden, NJ
|  | Gloucester, NJ
15940 | 0.9435 | Canton-Massillon, OH | 1320
|  | Carroll, OH
|  | Stark, OH
15980 | 0.9939 | Cape Coral-Fort Myers, FL | 2700
|  | Lee, FL
16180 | 1.0704 | Carson City, NV | 29
|  | Carson City, NV
16220 | 0.9804 | Casper, WY | 1350
|  | Natrona, WY
16300 |  | Cedar Rapids, IA
| 0.9519 | Linn, IA* | 1360
| 0.9294 | Benton, IA* | 16
|  | Jones, IA* | 16
6580 |  | Champaign-Urbana, IL
| 1.0105 | Champaign, IL* | 1400
| 0.9476 | Ford, IL* | 14
|  | Piatt, IL* | 14
16620 |  | Charleston, WV
| 0.9414 | Kanawha, WV* | 1480
|  | Putnam, WV* | 1480
| 0.8994 | Boone, WV* | 51
|  | Clay, WV* | 51
|  | Lincoln, WV* | 51
16700 | 0.9991 | Charleston-North Charleston, SC | 1440
|  | Berkeley, SC
|  | Charleston, SC
|  | Dorchester, SC
16740 |  | Charlotte-Gastonia-Concord, NC-SC
| 1.0317 | Cabarrus, NC* | 1520
|  | Gaston, NC* | 1520
|  | Mecklenburg, NC* | 1520
|  | Union, NC* | 1520
|  | York, SC* | 1520
| 0.9675 | Anson, NC* | 34
16820 |  | Charlottesville, VA
| 1.0918 | Albemarle, VA* | 1540
|  | Charlottesville City, VA* | 1540
|  | Fluvanna, VA* | 1540
|  | Greene, VA* | 1540
| 0.9956 | Nelson, VA* | 49
16860 |  | Chattanooga, TN-GA
| 0.9766 | Catoosa, GA* | 1560
|  | Dade, GA* | 1560
|  | Hamilton, TN* | 1560
|  | Marion, TN* | 1560
|  | Walker, GA* | 1560
| 0.9060 | Sequatchie, TN* | 44
16940 | 0.9525 | Cheyenne, WY | 1580
|  | Laramie, WY
16974 | 1.1518 | Chicago-Naperville-Joliet, IL | 1600
|  | Cook, IL
|  | De Kalb, IL
|  | Du Page, IL
|  | Grundy, IL
|  | Kane, IL
|  | Kendall, IL
|  | McHenry, IL
|  | Will, IL
17020 | 1.1182 | Chico, CA | 1620
|  | Butte, CA
17140 |  | Cincinnati-Middletown, OH-KY-IN
| 1.0135 | Boone, KY* | 1640
|  | Brown, OH* | 1640
|  | Campbell, KY* | 1640
|  | Clermont, OH* | 1640
|  | Dearborn, IN* | 1640
|  | Gallatin, KY* | 1640
|  | Grant, KY* | 1640
|  | Hamilton, OH* | 1640
|  | Kenton, KY* | 1640
|  | Ohio, IN* | 1640
|  | Pendleton, KY* | 1640
|  | Warren, OH* | 1640
| 0.9680 | Franklin, IN* | 15
| 0.9207 | Bracken, KY* | 14
| 0.9855 | Butler, OH* | 3200
17300 |  | Clarksville, TN-KY
| 0.8509 | Christian, KY* | 1660
|  | Montgomery, TN* | 1660
| 0.8431 | Stewart, TN* | 44
| 0.8414 | Trigg, KY* | 18
17420 | 0.8337 | Cleveland, TN | 44
|  | Bradley, TN
|  | Polk, TN
17460 | 1.0223 | Cleveland-Elyria-Mentor, OH | 1680
|  | Cuyahoga, OH
|  | Geauga, OH
|  | Lake, OH
|  | Lorain, OH
|  | Medina, OH
17660 | 0.9634 | Coeur d'Alene, ID | 13
|  | Kootenai, ID
17780 |  | College Station-Bryan, TX
| 0.9804 | Brazos, TX* | 1260
| 0.9097 | Burleson, TX* | 45
|  | Robertson, TX* | 45
17820 |  | Colorado Springs, CO
| 1.0386 | El Paso, C*O | 1720
| 1.0161 | Teller, CO* | 06
17860 |  | Columbia, MO
| 0.8905 | Boone, MO* | 1740
| 0.8605 | Howard, MO* | 26
17900 |  | Columbia, SC
| 0.9993 | Lexington, SC* | 1760
|  | Richland, SC* | 1760
| 0.9563 | Calhoun, SC* | 42
|  | Fairfield, SC* | 42
|  | Kershaw, SC* | 42
|  | Saluda, SC* | 42
17980 |  | Columbus, GA-AL
| 0.9217 | Chattahoochee, GA* | 1800
|  | Harris, GA* | 1800
|  | Muscogee, GA* | 1800
|  | Russell, AL | 1800
| 0.8982 | Marion, GA* | 11
18020 | 0.9612 | Columbus, IN | 15
|  | Bartholomew, IN*
18140 |  | Columbus, OH
| 1.0336 | Delaware, OH* | 1840
|  | Fairfield, OH* | 1840
|  | Franklin, OH* | 1840
|  | Licking, OH* | 1840
|  | Madison, OH* | 1840
|  | Pickaway, OH* | 1840
| 0.9809 | Morrow, OH* | 36
|  | Union, OH* | 36
18580 |  | Corpus Christi, TX
| 0.9172 | Nueces, TX* | 1880
|  | San Patricio, TX* | 1880
| 0.8781 | Aransas, TX* | 45
18700 | 1.1185 | Corvallis, OR | 1890
|  | Benton, OR
19060 | 0.9187 | Cumberland, MD-WV | 1900
|  | Allegany, MD
|  | Mineral, WV
19124 |  | Dallas-Plano-Irving, TX
| 1.0675 | Collin, TX* | 1920
|  | Dallas, TX* | 1920
|  | Denton, TX* | 1920
|  | Ellis, TX* | 1920
|  | Hunt, TX* | 1920
|  | Kaufman, TX* | 1920
|  | Rockwall, TX* | 1920
| 0.9538 | Delta, TX* | 45
19140 | 0.9443 | Dalton, GA | 11
|  | Murray, GA
|  | Whitfield, GA
19180 | 0.8874 | Danville, IL | 14
|  | Vermilion, IL
19260 | 0.9167 | Danville, VA | 1950
|  | Danville City, VA
|  | Pittsylvania, VA
19340 |  | Davenport-Moline-Rock Island, IA-IL
| 0.9305 | Henry, IL* | 1960
| 0.9076 | Rock Island, IL* | 1960
|  | Scott, IA* | 1960
|  | Mercer, IL* | 14
19380 |  | Dayton, OH
| 0.9829 | Greene, OH* | 2000
| 0.9579 | Miami, OH* | 2000
|  | Montgomery, OH* | 2000
|  | Preble, OH* | 36
19460 | 0.9434 | Decatur, AL | 2030
|  | Lawrence, AL
|  | Morgan, AL
19500 | 0.8615 | Decatur, IL | 2040
|  | Macon, IL
19660 | 0.9439 | Deltona-Daytona Beach-Ormond Beach, FL | 2020
|  | Volusia, FL
19740 |  | Denver-Aurora, CO
| 1.1565 | Adams, CO* | 2080
|  | Arapahoe, CO* | 2080
|  | Broomfield, CO* | 2080
|  | Denver, CO* | 2080
|  | Douglas, CO* | 2080
|  | Jefferson, CO* | 2080
| 1.0751 | Clear Creek, CO* | 06
|  | Elbert, CO* | 06
|  | Gilpin, CO* | 06
|  | Park, CO* | 06
19780 |  | Des Moines, IA*
| 0.9828 | Dallas, IA* | 2120
|  | Polk, IA* | 2120
|  | Warren, IA* | 2120
| 0.9449 | Guthrie, IA* | 16
|  | lMadison, IA* | 16
19804 | 1.0912 | Detroit-Livonia-Dearborn, MI | 2160
|  | Wayne, MI
20020 |  | Dothan, AL
| 0.8049 | Geneva, AL* | 01
|  | Henry, AL* | 01
| 0.8027 | Houston, AL* | 2180
20100 | 1.0421 | Dover, DE | 2190
|  | Kent, DE
20220 | 0.9279 | Dubuque, IA | 2200
|  | Dubuque, IA
20260 |  | Duluth, MN-WI
| 1.0976 | Douglas, WI* | 2240
|  | St. Louis, MN* | 2240
| 1.0437 | Carlton, MN* | 24
20500 |  | Durham, NC
| 1.0936 | Chatham, NC* | 6640
|  | Durham, NC* | 6640
|  | Orange, NC* | 6640
| 1.0004 | Person, NC* | 34
20740 | 0.9693 | Eau Claire, WI | 2290
|  | Chippewa, WI
|  | Eau Claire, WI
20764 |  | Edison, NJ
| 1.1930 | Middlesex, NJ* | 5015
|  | Somerset, NJ* | 5015
| 1.1680 | Monmouth, NJ* | 5190
|  | Ocean, NJ* | 5190
20940 | 1.0157 | El Centro, CA | 05
|  | Imperial, CA
21060 | 0.8765 | Elizabethtown, KY | 18
|  | Hardin, KY
|  | Larue, KY
21140 | 0.9841 | Elkhart-Goshen, IN | 2330
|  | Elkhart, IN
21300 | 0.8957 | Elmira, NY | 2335
|  | Chemung, NY
21340 | 0.9738 | El Paso, TX | 2320
|  | El Paso, TX
21500 | 0.9227 | Erie, PA | 2360
|  | Erie, PA
21604 | 1.1642 | Essex County, MA | 1123
|  | Essex, MA
21660 | 1.1604 | Eugene-Springfield, OR | 2400
|  | Lane, OR
21780 |  | Evansville, IN-KY
| 0.9073 | Gibson, IN* | 15
| 0.8892 | Henderson, KY* | 2440
|  | Posey, IN* | 2440
|  | Vanderburgh, IN* | 2440
|  | Warrick, IN* | 2440
| 0.8600 | Webster, KY* | 18
21820 | 1.2082 | Fairbanks, AK | 02
|  | Fairbanks North Star, AK
21940 | 0.5026 | Fajardo, PR | 7440
|  | Ceiba, PR
|  | Fajardo, PR
|  | Luquillo, PR
22020 | 0.9667 | Fargo, ND-MN | 2520
|  | Cass, ND
|  | Clay, MN
22140 | 0.8792 | Farmington, NM | 32
|  | San Juan, NM
22180 |  | Fayetteville, NC
| 0.9931 | Cumberland, NC* | 2560
| 0.9473 | Hoke, NC* | 34
22220 |  | Fayetteville-Springdale-Rogers, AR-MO
| 0.9160 | Benton, AR* | 2580
|  | Washington, AR* | 2580
| 0.8665 | Madison, AR* | 04
| 0.8732 | McDonald, MO* | 26
22380 | 1.1348 | Flagstaff, AZ | 2620
|  | Coconino, AZ
22420 | 1.1856 | Flint, MI | 2640
|  | Genesee, MI
22500 |  | Florence, SC*
| 0.9267 | Darlington, SC* | 42
| 0.9436 | Florence, SC | 2655
22520 | 0.8361 | Florence-Muscle Shoals, AL | 2650
|  | Colbert, AL
|  | Lauderdale, AL
22540 | 1.0286 | Fond Du Lac, WI | 52
|  | Fond Du Lac, WI
22660 | 1.0838 | Fort Collins-Loveland, CO | 2670
|  | Larimer, CO
22744 | 1.0782 | Ft Lauderdale-Pompano Beach-Deerfield Beach, FL | 2860
|  | Broward, FL
22900 |  | Fort Smith, AR-OK
| 0.8796 | Crawford, AR* | 2720
|  | Sebastian, AR* | 2720
|  | Sequoyah, OK* | 2720
| 0.8478 | Franklin, AR* | 04
| 0.8394 | Le Flore, OK* | 37
23020 | 0.9319 | Fort Walton Beach-Crestview-Destin, FL | 2750
|  | Okaloosa, FL
23060 | 1.0365 | Fort Wayne, IN | 2760
|  | Allen, IN
|  | Wells, IN
|  | Whitley, IN
23104 |  | Fort Worth-Arlington, TX
| 1.0072 | Johnson, TX* | 2800
|  | Parker, TX* | 2800
|  | Tarrant, TX* | 2800
| 0.9218 | Wise, TX* | 45
23420 | 1.1107 | Fresno, CA | 2840
|  | Fresno, CA
23460 | 0.8537 | Gadsden, AL | 2880
|  | Etowah, AL
23540 |  | Gainesville, FL
| 0.9642 | Alachua, FL | 2900
| 1.0033 | Gilchrist, FL | 10
23580 | 0.9442 | Gainesville, GA | 11
|  | Hall, GA
23844 |  | Gary, IN
| 0.9892 | Lake, IN* | 2960
|  | Porter, IN* | 2960
| 0.9570 | Jasper, IN* | 15
|  | Newton, IN* | 15
24020 | 0.8981 | Glens Falls, NY | 2975
|  | Warren, NY
|  | Washington, NY
24140 | 0.9311 | Goldsboro, NC | 2980
|  | Wayne, NC
24220 | 0.9642 | Grand Forks, ND-MN | 2985
|  | Grand Forks, ND
|  | Polk, MN
24300 | 1.0501 | Grand Junction, CO
|  | Mesa, CO | 2995
24340 |  | Grand Rapids-Wyoming, MI
| 1.0044 | Kent, MI* | 3000
| 0.9631 | Barry, MI* | 23
|  | Ionia, MI* | 23
|  | Newaygo, MI* | 23
24500 | 0.9344 | Great Falls, MT | 3040
|  | Cascade, MT
24540 | 1.0017 | Greeley, CO | 3060
|  | Weld, CO
24580 |  | Green Bay, WI
| 1.0170 | Brown, WI* | 3080
| 1.0123 | Kewaunee, WI* | 52
|  | Oconto, WI* | 52
24660 |  | Greensboro-High Point, NC
| 0.9812 | Guilford, NC* | 3120
| 0.9382 | Randolph, NC* | 3120
|  | Rockingham, NC* | 34
24780 |  | Greenville, NC
| 0.9740 | Pitt, NC* | 3150
| 0.9378 | Greene, NC* | 34
24860 |  | Greenville, SC
| 1.0054 | Greenville, SC* | 3160
|  | Pickens, SC* | 3160
| 0.9651 | Laurens, SC* | 42
25020 | 0.4630 | Guayama, PR
|  | Arroyo, PR | 40
|  | Guayama, PR
|  | Patillas, PR
25060 |  | Gulfport-Biloxi, MS
| 0.9333 | Hancock, MS* | 0920
|  | Harrison, MS* | 0920
| 0.8768 | Stone, MS* | 25
25180 |  | Hagerstown-Martinsburg, MD-WV
| 1.0424 | Washington, MD* | 3180
| 0.9439 | Morgan, WV* | 51
| 1.0970 | Berkeley, WV* | 8840
25260 | 1.0391 | Hanford-Corcoran, CA
|  | Kings, CA | 05
25420 | 0.9888 | Harrisburg-Carlisle, PA
|  | Cumberland, PA | 3240
|  | Dauphin, PA
|  | Perry, PA
25500 | 0.9416 | Harrisonburg, VA
|  | Harrisonburg City, VA | 49
|  | Rockingham, VA
25540 | 1.1725 | Hartford-West Hartford-East Hartford, CT
|  | Hartford, CT | 3283
|  | Litchfield, CT
|  | Middlesex, CT
|  | Tolland, CT
25620 |  | Hattiesburg, MS
| 0.8000 | Forrest, MS* | 3285
|  | Lamar, MS* | 3285
| 0.8020 | Perry, MS* | 25
25860 | 1.0078 | Hickory-Lenoir-Morganton, NC
|  | Alexander, NC | 3290
|  | Burke, NC
|  | Caldwell, NC
|  | Catawba, NC
25980 | 0.8465 | Hinesville-Fort Stewart, GA
|  | Liberty, GA | 11
|  | Long, GA
26100 | 1.0027 | Holland-Grand Haven, MI
|  | Ottawa, MI | 3000
26180 | 1.1681 | Honolulu, HI
|  | Honolulu, HI | 3320
26300 | 0.8990 | Hot Springs, AR
|  | Garland, AR | 04
26380 | 0.8189 | Houma-Bayou Cane-Thibodaux, LA
|  | Lafourche, LA | 3350
|  | Terrebonne, LA
26420 |  | Houston-Sugar Land-Baytown, TX
| 1.0654 | Chambers, TX* | 3360
|  | Fort Bend, TX* | 3360
|  | Harris, TX* | 3360
|  | Liberty, TX* | 3360
|  | Montgomery, TX* | 3360
|  | Waller, TX* | 3360
| 0.9484 | Austin, TX* | 45
|  | San Jacinto, TX* | 45
| 0.9810 | Brazoria, TX* | 1145
| 1.0276 | Galveston, TX* | 2920
26580 | 1.0144 | Huntington-Ashland, WV-KY-OH
|  | Boyd, KY | 3400
|  | Cabell, WV
|  | Greenup, KY
|  | Lawrence, OH
|  | Wayne, WV
26620 | 0.9388 | Huntsville, AL
|  | Limestone, AL | 3440
|  | Madison, AL
26820 | 0.9485 | Idaho Falls, ID
|  | Bonneville, ID | 13
|  | Jefferson, ID
26900 |  | Indianapolis, IN
| 1.0687 | Boone, IN* | 3480
|  | Hamilton, IN* | 3480
|  | Hancock, IN* | 3480
|  | Hendricks, IN* | 3480
|  | Johnson, IN* | 3480
|  | Marion, IN* | 3480
|  | Morgan, IN* | 3480
|  | Shelby, IN* | 3480
| 0.9996 | Brown, IN* | 15
|  | Putnam, IN* | 15
26980 |  | Iowa City, IA
| 1.0240 | Johnson, IA* | 3500
| 0.9654 | Washington, IA* | 16
27060 | 0.9542 | Ithaca, NY
|  | Tompkins, NY | 33
27100 | 0.9701 | Jackson, MI
|  | Jackson, MI | 3520
27140 |  | Jackson, MS
| 0.8855 | Hinds, MS* | 3560
|  | Madison, MS* | 3560
|  | Rankin, MS* | 3560
| 0.8419 | Copiah, MS* | 25
|  | Simpson, MS* | 25
27180 | 0.9440 | Jackson, TN
|  | Chester, TN | 3580
|  | Madison, TN
27260 |  | Jacksonville, FL
| 1.0121 | Clay, FL* | 3600
|  | Duval, FL* | 3600
|  | Nassau, FL* | 3600
|  | St. johns, FL* | 3600
| 0.9683 | Baker, FL* | 10
27340 | 0.8911 | Jacksonville, NC
|  | Onslow, NC | 3605
27500 | 1.0164 | Janesville, WI
|  | Rock, WI | 3620
27620 | 0.8574 | Jefferson City, MO
|  | Callaway, MO | 26
|  | Cole, MO
|  | Moniteau, MO
|  | Osage, MO
27740 | 0.8670 | Johnson City, TN
|  | Carter, TN | 3660
|  | Unicoi, TN
|  | Washington, TN
27780 | 0.8676 | Johnstown, PA
|  | Cambria, PA | 3680
27860 |  | Jonesboro, AR
| 0.8638 | Craighead, AR* | 3700
| 0.8404 | Poinsett, AR* | 04
27900 | 0.9250 | Joplin, MO
|  | Jasper, MO | 3710
|  | Newton, MO
28020 | 1.1151 | Kalamazoo-Portage, MI
|  | Kalamazoo, MI | 3720
|  | Van Buren, MI
28100 | 1.1246 | Kankakee-Bradley, IL
|  | Kankakee, IL | 3740
28140 |  | Kansas City, MO-KS
| 1.0219 | Cass, MO* | 3760
|  | Clay, MO* | 3760
|  | Clinton, MO* | 3760
|  | Jackson, MO* | 3760
|  | Johnson, KS* | 3760
|  | Lafayette, MO* | 3760
|  | Leavenworth, KS* | 3760
|  | Miami, KS* | 3760
|  | Platte, MO* | 3760
|  | Ray, MO* | 3760
|  | Wyandotte, KS* | 3760
| 0.9396 | Franklin, KS* | 17
|  | Linn, KS* | 17
| 0.9259 | Bates, MO* | 26
|  | Caldwell, MO* | 26
28420 | 1.1158 | Kennewick-Richland-Pasco, WA
|  | Benton, WA | 6740
|  | Franklin, WA
28660 |  | Killeen-Temple-Fort Hood, TX
| 0.9803 | Bell, TX* | 3810
|  | Coryell, TX* | 3810
| 0.9096 | Lampasas, TX* | 45
28700 | 0.8720 | Kingsport-Bristol-Bristol, TN-VA | 3660
|  | Bristol city, VA
|  | Hawkins, TN
|  | Scott, VA
|  | Sullivan, TN
|  | Washington, VA
28740 | 0.9229 | Kingston, NY
|  | Ulster, NY | 33
28940 | 0.9045 | Knoxville, TN
|  | Anderson, TN | 3840
|  | Blount, TN
|  | Knox, TN
|  | Loudon, TN
|  | Union, TN
29020 | 0.9531 | Kokomo, IN
|  | Howard, IN | 3850
|  | Tipton, IN
29100 | 0.9853 | La Crosse, WI-MN
|  | Houston, MN | 3870
|  | La Crosse, WI
29140 |  | Lafayette, IN
| 0.9442 | Benton, IN* | 15
|  | Carroll, IN* | 15
| 0.9617 | Tippecanoe, IN* | 3920
29180 | 0.8703 | Lafayette, LA
|  | Lafayette, LA | 3880
|  | St. Martin, LA
29340 |  | Lake Charles, LA
| 0.8436 | Calcasieu, LA* | 3960
| 0.8209 | Cameron, LA* | 19
29404 |  | Lake County-Kenosha County, IL-WI
| 1.1239 | Lake, IL* | 1600
| 1.0667 | Kenosha, WI* | 3800
29460 | 0.9472 | Lakeland, FL
|  | Polk, FL | 3980
29540 | 1.0483 | Lancaster, PA
|  | Lancaster, PA | 4000
29620 | 1.0244 | Lansing-East Lansing, MI
|  | Clinton, MI | 4040
|  | Eaton, MI
|  | Ingham, MI
29700 | 0.9278 | Laredo, TX
|  | Webb, TX | 4080
29740 | 0.9317 | Las Cruces, NM
|  | Dona Ana, NM | 4100
29820 | 1.1932 | Las Vegas-Paradise, NV
|  | Clark, NV | 4120
29940 | 0.9168 | Lawrence, KS
|  | Douglas, KS | 4150
30020 | 0.8710 | Lawton, OK
|  | Comanche, OK | 4200
30140 | 0.9469 | Lebanon, PA
|  | Lebanon, PA | 3240
30300 |  | Lewiston, ID-WA
| 0.9620 | Nez Perce, ID* | 13
| 1.0281 | Asotin, WA* | 50
30340 | 1.0142 | Lewiston-Auburn, ME | 4243
|  | Androscoggin, ME
30460 | 0.9853 | Lexington-Fayette, KY
|  | Bourbon, KY | 4280
|  | Clark, KY
|  | Fayette, KY
|  | Jessamine, KY
|  | Scott, KY
|  | Woodford, KY
30620 | 0.9858 | Lima, OH
|  | Allen, OH | 4320
30700 |  | Lincoln, NE
| 1.0827 | Lancaster, NE* | 4360
| 1.0205 | Seward, NE* | 28
30780 |  | Little Rock-North Little Rock, AR
| 0.9361 | Faulkner, AR* | 4400
|  | Lonoke, AR* | 4400
|  | Pulaski, AR* | 4400
|  | Saline, AR* | 4400
| 0.8766 | Grant, AR* | 04
|  | Perry, AR* | 04
30860 |  | Logan, UT-ID
| 0.9513 | Cache, UT* | 46
| 0.9504 | Franklin, ID* | 13
30980 |  | Longview, TX
| 0.9302 | Gregg, TX* | 4420
|  | Upshur, TX* | 4420
| 0.8863 | Rusk, TX* | 45
31020 | 1.0764 | Longview, WA | 50
|  | Cowlitz, WA
31084 | 1.2444 | Los Angeles-Long Beach-Santa Ana, CA | 4480
|  | Los Angeles, CA
31140 |  | Louisville, KY-IN
| 0.9697 | Bullitt, KY* | 4520
|  | Clark, IN* | 4520
|  | Floyd, IN* | 4520
|  | Harrison, IN* | 4520
|  | Jefferson, KY* | 4520
|  | Oldham, KY* | 4520
| 0.9471 | Washington, IN* | 15
| 0.8998 | Henry, KY* | 18
|  | Meade, KY* | 18
|  | Nelson, KY* | 18
|  | Shelby, KY* | 18
|  | Spencer, KY* | 18
|  | Trimble, KY* | 18
31180 |  | Lubbock, TX
| 0.9309 | Lubbock, TX* | 4600
| 0.8850 | Crosby, TX** | 45
31340 |  | Lynchburg, VA
| 0.9564 | Amherst, VA* | 4640
|  | Bedford, VA* | 4640
|  | Bedford City, VA* | 4640
|  | Campbell, VA* | 4640
|  | Lynchburg City, VA* | 4640
| 0.9279 | Appomattox, VA* | 49
31420 |  | Macon, GA
| 1.0333 | Bibb, GA* | 4680
|  | Jones, GA* | 4680
|  | Twiggs, GA* | 4680
| 0.9617 | Crawford, GA* | 11
|  | Monroe, GA* | 11
31460 | 1.0038 | Madera, CA | 2840
|  | Madera, CA
31540 |  | Madison, WI
| 1.0978 | Dane, WI* | 4720
| 1.0503 | Columbia, WI* | 52
|  | Iowa, WI* | 52
31700 | 1.1631 | Manchester-Nashua, NH | 1123
|  | Hillsborough, NH
|  | Merrimack, NH
31900 | 0.9702 | Mansfield, OH
|  | Richland, OH | 4800
32420 | 0.5326 | Mayagũez, PR
|  | Hormigueros, PR | 4840
|  | Mayagũez, PR
32580 | 0.9124 | McAllen-Edinburg-Mission, TX
|  | Hidalgo, TX | 4880
32780 | 1.1173 | Medford, OR | 4890
|  | Jackson, OR
32820 |  | Memphis, TN-MS-AR
| 0.9785 | Crittenden, AR* | 4920
|  | DeSoto, MS* | 4920
|  | Fayette, TN* | 4920
|  | Shelby, TN* | 4920
|  | Tipton, TN* | 4920
| 0.8910 | Marshall, MS* | 25
|  | Tate, MS* | 25
|  | Tunica, MS* | 25
32900 | 1.1217 | Merced, CA
|  | Merced, CA | 4940
33124 | 1.0469 | Miami-Miami Beach-Kendall, FL
|  | Miami-Dade, FL | 5000
33140 | 0.9582 | Michigan City-La Porte, IN
|  | La Porte, IN | 15
33260 | 1.0085 | Midland, TX
|  | Midland, TX | 5800
33340 | 1.0687 | Milwaukee-Waukesha-West Allis, WI
|  | Milwaukee, WI | 5080
|  | Ozaukee, WI
|  | Washington, WI
|  | Waukesha, WI
33460 | 1.1737 | Minneapolis-St. Paul-Bloomington, MN-WI
|  | Anoka, MN | 5120
|  | Carver, MN
|  | Chisago, MN
|  | Dakota, MN
|  | Hennepin, MN
|  | Isanti, MN
|  | Pierce, WI
|  | Ramsey, MN
|  | Scott, MN
|  | Sherburne, MN
|  | St. Croix, WI
|  | Washington, MN
|  | Wright, MN
33540 | 1.0201 | Missoula, MT
|  | Missoula, MT | 5140
33660 | 0.8447 | Mobile, AL
|  | Mobile, AL | 5160
33700 | 1.2692 | Modesto, CA
|  | Stanislaus, CA | 5170
33740 |  | Monroe, LA
| 0.8388 | Ouachita, LA* | 5200
| 0.8192 | Union, LA* | 19
33780 | 1.0465 | Monroe, MI
|  | Monroe, MI | 2160
33860 |  | Montgomery, AL
| 0.8804 | Autauga, AL* | 5240
|  | Elmore, AL* | 5240
|  | Montgomery, AL* | 5240
| 0.8452 | Lowndes, AL* | 01
34060 | 0.8917 | Morgantown, WV
|  | Monongalia, WV | 51
|  | Preston, WV
34100 | 0.8308 | Morristown, TN
|  | Grainger, TN | 44
|  | Hamblen, TN
|  | Jefferson, TN
34580 | 1.0950 | Mount Vernon-Anacortes, WA
|  | Skagit, WA | 50
34620 | 0.9100 | Muncie, IN
|  | Delaware, IN | 5280
34740 | 1.0214 | Muskegon-Norton Shores, MI
|  | Muskegon, MI | 3000
34820 | 0.9569 | Myrtle Beach-Conway-North Myrtle Beach, SC
|  | Horry, SC | 5330
34900 | 1.3814 | Napa, CA
|  | Napa, CA | 8720
34940 | 1.1198 | Naples-Marco Island, FL
|  | Collier, FL | 5345
34980 |  | Nashville-Davidson-Murfreesboro, TN
| 1.0710 | Cheatham, TN* | 5360
|  | Davidson, TN* | 5360
|  | Dickson, TN* | 5360
|  | Robertson, TN* | 5360
|  | Rutherford, TN* | 5360
|  | Sumner, TN* | 5360
|  | Williamson, TN* | 5360
|  | Wilson, TN* | 5360
| 0.9526 | Cannon, TN* | 44
|  | Hickman, TN* | 44
|  | Macon, TN* | 44
|  | Smith, TN* | 44
|  | Trousdale, TN* | 44
35004 | 1.3690 | Nassau-Suffolk, NY
|  | Nassau, NY | 5380
|  | Suffolk, NY
35084 |  | Newark-Union, NJ-PA
| 1.2122 | Pike, PA | 5660
| 1.2363 | Essex, NJ | 5640
|  | Morris, NJ | 5640
|  | Sussex, NJ | 5640
|  | Union, NJ | 5640
| 1.2223 | Hunterdon, NJ | 5015
35300 | 1.2760 | New Haven-Milford, CT
|  | New Haven, CT | 5483
35380 | 0.9655 | New Orleans-Metairie-Kenner, LA
|  | Jefferson, LA | 5560
|  | Orleans, LA
|  | Plaquemines, LA
|  | St. Bernard, LA
|  | St. Charles, LA
|  | St. John Baptist, LA
|  | St. Tammany, LA
35644 |  | New York-White Plains-Wayne, NY-NJ
| 1.4264 | Bronx, NY* | 5600
|  | Kings, NY* | 5600
|  | New York, NY* | 5600
|  | Putnam, NY* | 5600
|  | Queens, NY* | 5600
|  | Richmond, NY* | 5600
|  | Rockland, NY* | 5600
|  | Westchester, NY* | 5600
| 1.3406 | Bergen, NJ* | 0875
|  | Passaic, NJ* | 0875
| 1.2852 | Hudson, NJ* | 3640
35660 | 0.9384 | Niles-Benton Harbor, MI | 0870
|  | Berrien, MI
35980 | 1.2299 | Norwich-New London, CT | 5523
|  | New London, CT
36084 | 1.6143 | Oakland-Fremont-Hayward, CA | 5775
|  | Alameda, CA
|  | Contra Costa, CA
36100 | 0.9708 | Ocala, FL
|  | Marion, FL | 5790
36140 | 1.1517 | Ocean City, NJ
|  | Cape May, NJ | 0560
36220 | 1.0304 | Odessa, TX
|  | Ector, TX | 5800
36260 |  | Ogden-Clearfield, UT
| 0.9919 | Davis, UT* | 7160
|  | Weber, UT*
| 0.9577 | Morgan, UT* | 46
36420 |  | Oklahoma City, OK
| 0.9518 | Canadian, OK* | 5880
|  | Cleveland, OK* | 5880
|  | Logan, OK* | 5880
|  | McClain, OK* | 5880
|  | Oklahoma, OK* | 5880
| 0.8765 | Grady, OK* | 37
|  | Lincoln, OK* | 37
36500 | 1.1674 | Olympia, WA | 5910
|  | Thurston, WA
36540 |  | Omaha-Council Bluffs, NE-IA
| 1.0346 | Cass, NE* | 5920
|  | Douglas, NE* | 5920
|  | Pottawattamie, IA* | 5920
|  | Sarpy, NE* | 5920
|  | Washington, NE* | 5920
| 0.9707 | Harrison, IA* | 16
|  | Mills, IA* | 16
| 0.9965 | Saunders, NE* | 28
36740 | 1.0333 | Orlando-Kissimmee, FL
|  | Lake, FL | 5960
|  | Orange, FL
|  | Osceola, FL
|  | Seminole, FL
36780 | 0.9659 | Oshkosh-Neenah, WI
|  | Winnebago, WI | 0460
36980 |  | Owensboro, KY
| 0.8946 | Daviess, KY* | 5990
| 0.8633 | Hancock, KY* | 18
|  | Mc Lean, KY* | 18
37100 | 1.1779 | Oxnard-Thousand Oaks-Ventura, CA
|  | Ventura, CA | 8735
37340 | 1.0217 | Palm Bay-Melbourne-Titusville, FL
|  | Brevard, FL | 4900
37460 | 0.8617 | Panama City-Lynn Haven, FL
|  | Bay, FL | 6015
37620 |  | Parkersburg-Marietta-Vienna, WV-OH
| 0.8682 | Pleasants, WV* | 51
|  | Wirt, WV* | 51
| 0.8791 | Washington, OH* | 6020
|  | Wood, WV* | 6020
37700 |  | Pascagoula, MS
| 0.8250 | George, MS* | 25
| 0.8816 | Jackson, MS* | 0920
37860 | 0.8810 | Pensacola-Ferry Pass-Brent, FL | 6080
|  | Escambia, FL
|  | Santa Rosa, FL
37900 |  | Peoria, IL
| 0.9425 | Peoria, IL* | 6120
|  | Tazewell, IL* | 6120
|  | Woodford, IL* | 6120
| 0.9136 | Marshall, IL* | 14
|  | Stark, IL* | 14
37964 | 1.1502 | Philadelphia, PA | 6160
|  | Bucks, PA
|  | Chester, PA
|  | Delaware, PA
|  | Montgomery, PA
|  | Philadelphia, PA
38060 | 1.0588 | Phoenix-Mesa-Scottsdale, AZ | 6200
|  | Maricopa, AZ
|  | Pinal, AZ
38220 |  | Pine Bluff, AR
| 0.9199 | Jefferson, AR* | 6240
| 0.8685 | Cleveland, AR* | 04
|  | Lincoln, AR* | 04
38300 |  | Pittsburgh, PA
| 0.9277 | Allegheny, PA* | 6280
|  | Beaver, PA* | 6280
|  | Butler, PA* | 6280
|  | Fayette, PA* | 6280
|  | Washington, PA* | 6280
|  | Westmoreland, PA* | 6280
| 0.9060 | Armstrong, PA* | 39
38340 | 1.1072 | Pittsfield, MA | 6323
|  | Berkshire, MA
1.0183 |  | Pocatello, ID
| 0.9773 | Bannock, ID* | 6340
|  | Power, ID* | 13
38660 | 0.5727 | Ponce, PR | 6360
|  | Juana Diaz, PR
|  | Ponce, PR
|  | Villalba, PR
38860 | 1.0725 | Portland-South Portland-Biddeford, ME | 6403
|  | Cumberland, ME
|  | Sagadahoc, ME
|  | York, ME
38900 |  | Portland-Vancouver-Beaverton, OR-WA
| 1.2095 | Clackamas, OR* | 6440
|  | Clark, WA* | 6440
|  | Columbia, OR* | 6440
|  | Multnomah, OR* | 6440
|  | Washington, OR* | 6440
|  | Yamhill, OR* | 6440
| 1.1389 | Skamania, WA* | 50
38940 | 1.0655 | Port St. Lucie-Fort Pierce, FL | 2710
|  | Martin, FL
|  | St. Lucie, FL
39100 |  | Poughkeepsie-Newburgh-Middletown, NY
| 1.2208 | Dutchess, NY* | 2281
| 1.1950 | Orange, NY* | 5660
39140 | 1.0093 | Prescott, AZ | 03
|  | Yavapai, AZ
39300 |  | Providence-New Bedford-Fall River, RI-MA
| 1.1783 | Bristol, MA* | 1123
| 1.1662 | Bristol, RI* | 6483
|  | Kent, RI* | 6483
|  | Newport, RI* | 6483
|  | Providence, RI* | 6483
|  | Washington, RI* | 6483
39340 |  | Provo-Orem, UT
| 1.0183 | Utah, UT* | 6520
| 0.9775 | Juab, UT* | 46
39380 | 0.9283 | Pueblo, CO | 6560
|  | Pueblo, CO
39460 | 1.0014 | Punta Gorda, FL | 6580
|  | Charlotte, FL
39540 | 0.9594 | Racine, WI | 6600
|  | Racine, WI
39580 | 1.0774 | Raleigh-Cary, NC | 6640
|  | Franklin, NC
|  | Johnston, NC
|  | Wake, NC
39660 |  | Rapid City, SD
| 0.9453 | Pennington, SD* | 6660
| 0.9177 | Meade, SD* | 43
39740 | 0.9774 | Reading, PA | 6680
|  | Berks, PA
39820 | 1.2553 | Redding, CA | 6690
|  | Shasta, CA
39900 |  | Reno-Sparks, NV
| 1.1090 | Washoe, NV* | 6720
| 1.0759 | Storey, NV* | 29
40060 |  | Richmond, VA
| 0.9967 | Charles City, VA* | 6760
|  | Chesterfield, VA* | 6760
|  | Colonial Heights City, VA* | 6760
|  | Dinwiddie, VA* | 6760
|  | Goochland, VA* | 6760
|  | Hanover, VA* | 6760
|  | Henrico, VA* | 6760
|  | Hopewell City, VA* | 6760
|  | New Kent, VA* | 6760
|  | Petersburg City, VA* | 6760
|  | Powhatan, VA* | 6760
|  | Prince George, VA* | 6760
|  | Richmond City, VA* | 6760
| 0.9480 | Amelia, VA* | 49
|  | Caroline, VA* | 49
|  | Cumberland, VA* | 49
|  | King and Queen, VA* | 49
|  | King William, VA* | 49
|  | Louisa, VA* | 49
|  | Sussex, VA* | 49
40140 | 1.1635 | Riverside-San Bernardino-Ontario, CA | 6780
|  | Riverside, CA
|  | San Bernardino, CA
40220 |  | Roanoke, VA
| 0.8959 | Craig, VA* | 49
|  | Franklin, VA* | 49
| 0.8932 | Botetourt, VA* | 6800
|  | Roanoke, VA* | 6800
|  | Roanoke City, VA* | 6800
|  | Salem City, VA* | 6800
40340 |  | Rochester, MN
| 1.2202 | Olmsted, MN* | 6820
| 1.1054 | Dodge, MN* | 24
|  | Wabasha, MN* | 24
40380 | 0.9799 | Rochester, NY | 6840
|  | Livingston, NY
|  | Monroe, NY
|  | Ontario, NY
|  | Orleans, NY
|  | Wayne, NY
40420 | 1.0210 | Rockford, IL | 6880
|  | Boone, IL
|  | Winnebago, IL
40484 | 1.1408 | Rockingham County, NH | 1123
|  | Rockingham, NH
|  | Strafford, NH
40580 | 0.9544 | Rocky Mount, NC | 6895
|  | Edgecombe, NC
|  | Nash, NC
40660 | 0.9082 | Rome, GA | 11
|  | Floyd, GA
40900 |  | Sacramento-Arden-Arcade-Roseville, CA
| 1.2488 | El Dorado, CA* | 6920
|  | Placer, CA* | 6920
|  | Sacramento, CA* | 6920
| 1.1179 | Yolo, CA* | 9270
40980 | 1.0347 | Saginaw-Saginaw Township North, MI | 6960
|  | Saginaw, MI
41060 | 1.0835 | St. Cloud, MN | 6980
|  | Benton, MN
|  | Stearns, MN
41100 | 0.9706 | St. George, UT | 46
|  | Washington, UT
41140 |  | St. Joseph, MO-KS
| 1.0620 | Andrew, MO* | 7000
|  | Buchanan, MO* | 7000
| 0.9599 | Doniphan, KS* | 17
| 0.9463 | De Kalb, MO* | 26
41180 |  | St. Louis, MO-IL
| 0.9629 | Clinton, IL* | 7040
|  | Franklin, MO* | 7040
|  | Jefferson, MO* | 7040
|  | Jersey, IL* | 7040
|  | Lincoln, MO* | 7040
|  | Madison, IL* | 7040
|  | Monroe, IL* | 7040
|  | St. Charles, MO* | 7040
|  | St. Clair, IL* | 7040
|  | St. Louis, MO* | 7040
|  | St. Louis City, MO* | 7040
|  | Warren, MO* | 7040
| 0.9236 | Bond, IL* | 14
|  | Calhoun, IL* | 14
|  | Macoupin, IL* | 14
| 0.8965 | Crawford, MO* | 26
|  | Washington, MO* | 26
41420 | 1.1196 | Salem, OR | 7080
|  | Marion, OR
|  | Polk, OR
41500 | 1.4662 | Salinas, CA | 7120
|  | Monterey, CA
41540 | 0.9706 | Salisbury, MD | 21
|  | Somerset, MD
|  | Wicomico, MD
41620 |  | Salt Lake City, UT
| 1.0102 | Salt Lake, UT* | 7160
| 0.9760 | Summit, UT* | 46
|  | Tooele, UT* | 46
41660 |  | San Angelo, TX
| 0.8526 | Irion, TX* | 45
| 0.8662 | Tom Green, TX* | 7200
41700 |  | San Antonio, TX
| 0.9560 | Bexar, TX* | 7240
|  | Comal, TX* | 7240
|  | Guadalupe, TX* | 7240
|  | Wilson, TX* | 7240
| 0.8970 | Atascosa, TX* | 45
|  | Bandera, TX* | 45
|  | Kendall, TX* | 45
|  | Medina, TX* | 45
41740 | 1.1950 | San Diego-Carlsbad-San Marcos, CA | 7320
|  | San Diego, CA
41780 | 0.9427 | Sandusky, OH | 36
|  | Erie, OH
41884 | 1.5604 | San Francisco-San Mateo-Redwood City, CA | 7360
|  | Marin, CA
|  | San Francisco, CA
|  | San Mateo, CA
41900 |  | San Germán-Cabo Rojo, PR
| 0.5340 | Lajas, PR* | 40
| 0.5755 | Cabo Rojo, PR* | 4840
|  | Sabana Grande, PR* | 4840
|  | San Germán, PR* | 4840
41940 |  | San Jose-Sunnyvale-Santa Clara, CA
| 1.5627 | Santa Clara, CA* | 7400
| 1.3269 | San Benito, CA* | 05
41980 |  | San Juan-Caguas-Guaynabo, PR
| 0.5432 | Aguas Buenas, PR* | 7440
|  | Barceloneta, PR* | 7440
|  | Bayamón, PR* | 7440
|  | Canóvanas, PR* | 7440
|  | Carolina, PR* | 7440
|  | Catano, PR* | 7440
|  | Comerio, PR* | 7440
|  | Corozal, PR* | 7440
|  | Dorado, PR* | 7440
|  | Florida, PR* | 7440
|  | Guaynabo, PR* | 7440
|  | Humacao, PR* | 7440
|  | Juncos, PR* | 7440
|  | Las Piedras, PR* | 7440
|  | Loiza, PR* | 7440
|  | Maguabo, PR* | 7440
|  | Manatí, PR* | 7440
|  | Morovis, PR* | 7440
|  | Naranjito, PR* | 7440
|  | Rio Grande, PR* | 7440
|  | San Juan, PR* | 7440
|  | Toa Alta, PR* | 7440
|  | Toa Baja, PR* | 7440
|  | Trujillo Alto, PR* | 7440
|  | Vega Alta, PR* | 7440
|  | Vega Baja, PR* | 7440
|  | Yabucoa, PR* | 7440
| 0.4998 | Aibonito, PR* | 40
|  | Barranquitas, PR* | 40
|  | Ciales, PR* | 40
|  | Maunabo, PR* | 40
|  | Orocovs, PR* | 40
|  | Quebradillas, PR* | 40
| 0.4831 | Arecibo, PR* | 0470
|  | Camuy, PR* | 0470
|  | Hatillo, PR* | 0470
| 0.5006 | Caguas, PR* | 1310
|  | Cayey, PR* | 1310
|  | Cidra, PR* | 1310
|  | Gurabo, PR* | 1310
|  | San Lorenzo, PR* | 1310
42020 | 1.1792 | San Luis Obispo-Paso Robles, CA | 7460
|  | San Luis Obispo, CA
42044 | 1.2315 | Santa Ana-Anaheim-Irvine, CA | 5945
|  | Orange, CA
42060 | 1.1424 | Santa Barbara-Santa Maria, CA | 7480
|  | Santa Barbara, CA
42100 | 1.5676 | Santa Cruz-Watsonville, CA | 7485
|  | Santa Cruz, CA
42140 | 1.1402 | Santa Fe, NM | 7490
|  | Santa Fe, NM
42220 | 1.3747 | Santa Rosa-Petaluma, CA | 7500
|  | Sonoma, CA
42260 | 1.0213 | Sarasota-Bradenton-Venice, FL | 7510
|  | Manatee, FL
|  | Sarasota, FL
42340 | 1.0034 | Savannah, GA | 7520
|  | Bryan, GA
|  | Chatham, GA
|  | Effingham, GA
42540 | 0.9050 | Scranton-Wilkes-Barre, PA | 7560
|  | Lackawanna, PA
|  | Luzerne, PA
|  | Wyoming, PA
42644 | 1.2182 | Seattle-Bellevue-Everett, WA | 7600
|  | King, WA
|  | Snohomish, WA
43100 | 0.9491 | Sheboygan, WI | 7620
|  | Sheboygan, WI
43300 | 1.0200 | Sherman-Denison, TX | 7640
|  | Grayson, TX
43340 |  | Shreveport-Bossier City, LA
| 0.9675 | Bossier, LA* | 7680
|  | Caddo, LA* | 7680
| 0.8844 | De Soto, LA* | 19
43580 |  | Sioux City, IA-NE-SD
| 0.9602 | Dixon, NE* | 28
| 0.9633 | Dakota, NE* | 7720
|  | Woodbury, IA* | 7720
| 0.9261 | Union, SD* | 43
43620 |  | Sioux Falls, SD
| 1.0014 | Lincoln, SD* | 7760
|  | Minnehaha, SD* | 7760
| 0.9458 | McCook, SD* | 43
|  | Turner, SD* | 43
43780 |  | South Bend-Mishawaka, IN-MI
| 1.0020 | St. Joseph, IN* | 7800
| 0.9645 | Cass, MI* | 23
43900 | 1.0033 | Spartanburg, SC | 3160
|  | Spartanburg, SC
44060 | 1.1307 | Spokane, WA | 7840
|  | Spokane, WA
44100 | 0.9268 | Springfield, IL | 7880
|  | Menard, IL
|  | Sangamon, IL
44140 |  | Springfield, MA
| 1.0815 | Franklin, MA* | 22
| 1.0792 | Hampden, MA* | 8003
|  | Hampshire, MA* | 8003
44180 |  | Springfield, MO
| 0.9097 | Christian, MO* | 7920
|  | Greene, MO* | 7920
|  | Webster, MO* | 7920
| 0.8690 | Dallas, MO* | 26
|  | Polk, MO* | 26
44220 | 0.9535 | Springfield, OH | 2000
|  | Clark, OH
44300 | 0.8974 | State College, PA | 8050
|  | Centre, PA
44700 | 1.1205 | Stockton, CA | 8120
|  | San Joaquin, CA
44940 | 0.9037 | Sumter, SC | 8140
|  | Sumter, SC
45060 | 1.0003 | Syracuse, NY | 8160
|  | Madison, NY
|  | Onondaga, NY
|  | Oswego, NY
45104 | 1.1750 | Tacoma, WA | 8200
|  | Pierce, WA
45220 |  | Tallahassee, FL
| 0.9180 | Gadsden, FL* | 8240
|  | Leon, FL* | 8240
| 0.9215 | Wakulla, FL* | 10
|  | Jefferson, FL* | 10
45300 | 0.9571 | Tampa-St. Petersburg-Clearwater, FL | 8280
|  | Hernando, FL
|  | Hillsborough, FL
|  | Pasco, FL
|  | Pinellas, FL
45460 |  | Terre Haute, IN
| 0.9068 | Clay, IN* | 8320
|  | Vermillion, IN* | 8320
|  | Vigo, IN* | 8320
| 0.9150 | Sullivan, IN* | 15
45500 | 0.8923 | Texarkana, TX-Texarkana, AR | 8360
|  | Bowie, TX
|  | Miller, AR
45780 |  | Toledo, OH
| 1.0102 | Fulton, OH* | 8400
|  | Lucas, OH* | 8400
|  | Wood, OH* | 8400
| 0.9696 | Ottawa, OH* | 36
45820 |  | Topeka, KS
| 0.9444 | Shawnee, KS* | 8440
| 0.9011 | Jackson, KS* | 17
|  | Jefferson, KS* | 17
|  | Osage, KS* | 17
|  | Wabaunsee, KS* | 17
45940 | 1.0899 | Trenton-Ewing, NJ | 8480
|  | Mercer, NJ
46060 | 0.9467 | Tucson, AZ | 8520
|  | Pima County, AZ
46140 |  | Tulsa, OK
| 0.9238 | Creek, OK* | 8560
|  | Osage, OK* | 8560
|  | Rogers, OK* | 8560
|  | Tulsa, OK* | 8560
|  | Wagoner, OK* | 8560
| 0.8610 | Okmulgee, OK* | 37
|  | Pawnee, OK* | 37
46220 |  | Tuscaloosa, AL
| 0.8897 | Tuscaloosa, AL* | 8600
| 0.8471 | Greene, AL* | 01
|  | Hale, AL* | 01
46340 | 1.0078 | Tyler, TX | 8640
|  | Smith, TX
46540 | 0.8798 | Utica-Rome, NY | 8680
|  | Herkimer, NY
|  | Oneida, NY
46660 | 0.8797 | Valdosta, GA | 11
|  | Brooks, GA
|  | Echols, GA
|  | Lanier, GA
|  | Lowndes, GA
46700 | 1.4741 | Vallejo-Fairfield, CA | 8720
|  | Solano, CA
46940 | 0.9651 | Vero Beach, FL | 10
|  | Indian River, FL
47020 |  | Victoria, TX
| 0.8983 | Victoria, TX* | 8750
| 0.8687 | Calhoun, TX* | 45
|  | Goliad, TX* | 45
47220 | 1.1214 | Vineland-Millville-Bridgeton, NJ | 8760
|  | Cumberland, NJ
47260 |  | Virginia Beach-Norfolk-Newport News, VA
| 0.9434 | Chesapeake City, VA* | 5720
|  | Currituck, NC* | 5720
|  | Gloucester, VA* | 5720
|  | Hampton City, VA* | 5720
|  | Isle of Wight, VA* | 5720
|  | James City, VA* | 5720
|  | Mathews, VA* | 5720
|  | Newport News City, VA* | 5720
|  | Norfolk City, VA* | 5720
|  | Poquoson, VA* | 5720
|  | Portsmouth City, VA* | 5720
|  | Suffolk City, VA* | 5720
|  | Virginia Beach City, VA* | 5720
|  | Williamsburg City, VA* | 5720
|  | York, VA* | 5720
| 0.9214 | Surry, VA* | 49
47300 | 1.0580 | Visalia-Porterville, CA | 8780
|  | Tulare, CA
47380 | 0.8640 | Waco, TX | 8800
|  | McLennan, TX
47580 | 0.9591 | Warner Robins, GA | 4680
|  | Houston, GA
47644 |  | Warren-Farmington-Hills-Troy, MI
| 1.0786 | Lapeer, MI* | 2160
|  | Macomb, MI* | 2160
|  | Oakland, MI* | 2160
|  | St. Clair, MI* | 2160
| 1.1099 | Livingston, MI* | 0440
47894 | 1.1664 | Washington-Arlington-Alexandria, DC-VA-MD-WV | 8840
|  | Alexandria City, VA
|  | Arlington, VA
|  | Calvert, MD
|  | Charles, MD
|  | Clarke, VA
|  | Fairfax, VA
|  | Fairfax City, VA
|  | Falls Church City, VA
|  | Fauquier, VA
|  | Fredericksburg City, VA
|  | Jefferson, WV
|  | Loudoun, VA
|  | Manassas City, VA
|  | Manassas Park city, VA
|  | Prince Georges, MD
|  | Prince William, VA
|  | Spotsylvania, VA
|  | Stafford, VA
|  | District of Columbia, DC
|  | Warren, VA
47940 |  | Waterloo-Cedar Falls, IA
| 0.9157 | Black Hawk, IA | 8920
| 0.9113 | Bremer, IA | 16
|  | Grundy, IA | 16
48140 | 1.0151 | Wausau, WI | 8940
|  | Marathon, WI
48260 | 0.8782 | Weirton-Steubenville, WV-OH | 8080
|  | Brooke, WV
|  | Hancock, WV
|  | Jefferson, OH
48300 | 1.0341 | Wenatchee, WA | 50
|  | Chelan, WA
|  | Douglas, WA
48424 | 1.0991 | West Palm Beach-Boca Raton-Boynton FL | 8960
|  | Palm Beach, FL
48540 | 0.8000 | Wheeling, WV-OH | 9000
|  | Belmont, OH
|  | Marshall, WV
|  | Ohio, WV
48620 |  | Wichita, KS
| 1.0046 | Butler, KS* | 9040
|  | Harvey, KS* | 9040
|  | Sedgwick, KS* | 9040
| 0.9304 | Sumner, KS* | 17
48660 |  | Wichita Falls, TX
| 0.8871 | Archer, TX* | 9080
|  | Wichita, TX* | 9080
| 0.8614 | Clay, TX* | 45
48700 | 0.9000 | Williamsport, PA | 9140
|  | Lycoming, PA
48864 |  | Wilmington, DE-MD-NJ
| 1.1757 | Cecil, MD | 9160
|  | New Castle, DE | 9160
| 1.1600 | Salem, NJ | 6160
48900 |  | Wilmington, NC
| 0.9797 | Brunswick, NC* | 9200
|  | New Hanover, NC* | 9200
| 0.9407 | Pender, NC* | 34
49020 |  | Winchester, VA-WV
| 1.0063 | Frederick, VA* | 49
|  | Winchester City, VA* | 49
| 0.9853 | Hampshire, WV* | 51
49180 | 0.9924 | Winston-Salem, NC | 3120
|  | Davie, NC
|  | Forsyth, NC
|  | Stokes, NC
|  | Yadkin, NC
49340 | 1.1819 | Worcester, MA | 1123
|  | Worcester, MA
49420 | 1.0948 | Yakima, WA | 9260
|  | Yakima, WA
49500 |  | Yauco, PR
| 0.4911 | Guánica, PR* | 40
| 0.5432 | Guayanilla, PR* | 6360
|  | Penuelas, PR* | 6360
|  | Yauco, PR* | 6360
49620 | 0.9705 | York-Hanover, PA | 9280
|  | York, PA
49660 |  | Youngstown-Warren-Boardman, OH-PA
| 0.9946 | Mahoning, OH* | 9320
|  | Trumbull, OH* | 9320
| 0.9078 | Mercer, PA* | 7610
49700 | 1.0992 | Yuba City, CA | 9340
|  | Sutter, CA
|  | Yuba, CA
49740 | 0.9409 | Yuma, AZ | 9360
|  | Yuma, AZ
* Wage index values for these counties have a designated code to be used for claims processing purposes. These counties are referred to Table C of this regulation. To derive the blended wage index values, the budget neutrality adjustment factors of 1.060339 and 1.060988 have been applied to the MSA and the CBSA hospital wage data, respectively.
¹ Wage index values are based on FY 2001 hospital cost report data before reclassification. This wage index is further adjusted. Wage index values greater than 0.8 are subject to a budget neutrality adjustment. Wage index values below 0.8 are adjusted to be the greater of a 15-percent increase, subject to a maximum wage index value of 0.8, or a budget neutrality adjustment calculated by multiplying the hospital wage index value for a given area by the budget neutrality factor. We have completed all of these adjustments and included them in the wage index values reflected in this table.
² This column lists each CBSA area name and each county or county equivalent, in the CBSA area. Counties not listed in this Table are considered to be rural areas. Wage Index values for these areas are found in Table B.

Table B.—Hospice Wage Index for Rural Areas
CBSA code No. | Nonurban area | Wage index ³
01 | Alabama* | ******
02 | Alaska | 1.2401
03 | Arizona* | ******
04 | Arkansas | 0.8084
05 | California | 1.1042
06 | Colorado | 0.9936
07 | Connecticut | 1.2640
08 | Delaware* | 1.0079
10 | Florida* | ******
11 | Georgia* | ******
12 | Hawaii | 1.1160
13 | Idaho | 0.9044
16 | Iowa | 0.9029
14 | Illinois* | ******
15 | Indiana* | ******
16 | Iowa | 0.9029
17 | Kansas | 0.8573
18 | Kentucky* | *****
19 | Louisiana* | *****
20 | Maine | 0.9587
21 | Maryland | 0.9758
22 | Massachusetts ⁵ | 1.0832
23 | Michigan* | *****
24 | Minnesota | 0.9901
25 | Mississippi | 0.8071
26 | Missouri | 0.8268
27 | Montana | 0.9229
28 | Nebraska | 0.9583
29 | Nevada* | *****
30 | New Hampshire | 1.0543
31 | New Jersey ⁴ |
32 | New Mexico* | *****
33 | New York* | *****
34 | North Carolina* | *****
35 | North Dakota | 0.8213
36 | Ohio* | *****
37 | Oklahoma* | *****
38 | Oregon | 1.0587
39 | Pennsylvania* | *****
40 | Puerto Rico ⁵ | 0.4654
41 | Rhode Island ⁴ |
42 | South Carolina* | *****
43 | South Dakota | 0.8905
44 | Tennessee* | *****
45 | Texas* | *****
46 | Utah* | *****
47 | Vermont | 0.9944
48 | Virgin Islands | 0.8000
49 | Virginia* | *****
50 | Washington* | *****
51 | West Virginia | 0.8458
52 | Wisconsin | 1.0071
53 | Wyoming | 0.9739
65 | Guam | 1.0191
* Denotes that there are different wage index values within the State. Specific codes to be used for processing claims and applicable wage index values can be found in Table C. Wage index values for these States are a blend of what they would have received had the MSA designations remained in effect and what they will receive under the CBSA designations. The budget neutrality adjustment factors of 1.060339 and 1.060988 have been applied to the MSA and the CBSA hospital wage data, respectively.
³ Wage index values are based on FY 2001 hospital cost report data before reclassification. This wage index is further adjusted. Wage index values greater than 0.8 are subject to a budget neutrality adjustment. Wage index values below 0.8 are adjusted to be the greater of a 15-percent increase, subject to a maximum wage index value of 0.8, or a budget neutrality adjustment calculated by multiplying the hospital wage index value for a given area by the budget neutrality factor. We have completed all of these adjustments and included them in the wage index values reflected in this table.
⁴ All counties within the State are classified as urban.
⁵ Based on CBSA designations Massachusetts and Puerto Rico have areas designated as rural. However, no IPPS hospitals are located in those rural area(s) for FY 2006. Because more recent data is not available for those areas, we are using the FY 2005 pre-floor, pre-reclassified hospital wage index value for rural Massachusetts and for rural Puerto Rico.

Table C.—Blended Hospice Wage Index Codes for Selected Areas
CBSA code | CBSA name | MSA code | State county code | County name | Special hospice wage index code | Wage index
01 | Alabama | 01 | 01020 | BARBOUR | 50001 | 0.8096
01 | Alabama | 01 | 01050 | BULLOCK | 50001 | 0.8096
01 | Alabama | 01 | 01060 | BUTLER | 50001 | 0.8096
01 | Alabama | 01 | 01080 | CHAMBERS | 50001 | 0.8096
01 | Alabama | 01 | 01090 | CHEROKEE | 50001 | 0.8096
01 | Alabama | 01 | 01110 | CHOCTAW | 50001 | 0.8096
01 | Alabama | 01 | 01120 | CLARKE | 50001 | 0.8096
01 | Alabama | 01 | 01130 | CLAY | 50001 | 0.8096
01 | Alabama | 01 | 01140 | CLEBURNE | 50001 | 0.8096
01 | Alabama | 01 | 01150 | COFFEE | 50001 | 0.8096
01 | Alabama | 01 | 01170 | CONECUH | 50001 | 0.8096
01 | Alabama | 01 | 01180 | COOSA | 50001 | 0.8096
01 | Alabama | 01 | 01190 | COVINGTON | 50001 | 0.8096
01 | Alabama | 01 | 01200 | CRENSHAW | 50001 | 0.8096
01 | Alabama | 01 | 01210 | CULLMAN | 50001 | 0.8096
01 | Alabama | 01 | 01230 | DALLAS | 50001 | 0.8096
01 | Alabama | 01 | 01240 | DE KALB | 50001 | 0.8096
01 | Alabama | 01 | 01260 | ESCAMBIA | 50001 | 0.8096
01 | Alabama | 01 | 01280 | FAYETTE | 50001 | 0.8096
01 | Alabama | 01 | 01290 | FRANKLIN | 50001 | 0.8096
01 | Alabama | 01 | 01350 | JACKSON | 50001 | 0.8096
01 | Alabama | 01 | 01370 | LAMAR | 50001 | 0.8096
01 | Alabama | 01 | 01430 | MACON | 50001 | 0.8096
01 | Alabama | 01 | 01450 | MARENGO | 50001 | 0.8096
01 | Alabama | 01 | 01460 | MARION | 50001 | 0.8096
01 | Alabama | 01 | 01470 | MARSHALL | 50001 | 0.8096
01 | Alabama | 01 | 01490 | MONROE | 50001 | 0.8096
01 | Alabama | 01 | 01520 | PERRY | 50001 | 0.8096
01 | Alabama | 01 | 01530 | PICKENS | 50001 | 0.8096
01 | Alabama | 01 | 01540 | PIKE | 50001 | 0.8096
01 | Alabama | 01 | 01550 | RANDOLPH | 50001 | 0.8096
01 | Alabama | 01 | 01999 | STATEWIDE | 50001 | 0.8096
01 | Alabama | 01 | 01590 | SUMTER | 50001 | 0.8096
01 | Alabama | 01 | 01600 | TALLADEGA | 50001 | 0.8096
01 | Alabama | 01 | 01610 | TALLAPOOSA | 50001 | 0.8096
01 | Alabama | 01 | 01640 | WASHINGTON | 50001 | 0.8096
01 | Alabama | 01 | 01650 | WILCOX | 50001 | 0.8096
01 | Alabama | 01 | 01660 | WINSTON | 50001 | 0.8096
01 | Alabama | 2180 | 01220 | DALE | 50214 | 0.8074
01 | Alabama | 5160 | 01010 | BALDWIN | 50281 | 0.8252
03 | Arizona | 03 | 03000 | APACHE | 50007 | 0.9586
03 | Arizona | 03 | 03010 | COCHISE | 50007 | 0.9586
03 | Arizona | 03 | 03030 | GILA | 50007 | 0.9586
03 | Arizona | 03 | 03040 | GRAHAM | 50007 | 0.9586
03 | Arizona | 03 | 03050 | GREENLEE | 50007 | 0.9586
03 | Arizona | 03 | 03055 | LAPAZ | 50007 | 0.9586
03 | Arizona | 03 | 03080 | NAVAJO | 50007 | 0.9586
03 | Arizona | 03 | 03110 | SANTA CRUZ | 50007 | 0.9586
03 | Arizona | 03 | 03999 | STATEWIDE | 50007 | 0.9586
03 | Arizona | 4120 | 03070 | MOHAVE | 50260 | 1.0637
10 | Florida | 10 | 10030 | BRADFORD | 50016 | 0.9172
10 | Florida | 10 | 10060 | CALHOUN | 50016 | 0.9172
10 | Florida | 10 | 10080 | CITRUS | 50016 | 0.9172
10 | Florida | 10 | 10110 | COLUMBIA | 50016 | 0.9172
10 | Florida | 10 | 10130 | DE SOTO | 50016 | 0.9172
10 | Florida | 10 | 10140 | DIXIE | 50016 | 0.9172
10 | Florida | 10 | 10180 | FRANKLIN | 50016 | 0.9172
10 | Florida | 10 | 10210 | GLADES | 50016 | 0.9172
10 | Florida | 10 | 10220 | GULF | 50016 | 0.9172
10 | Florida | 10 | 10230 | HAMILTON | 50016 | 0.9172
10 | Florida | 10 | 10240 | HARDEE | 50016 | 0.9172
10 | Florida | 10 | 10250 | HENDRY | 50016 | 0.9172
10 | Florida | 10 | 10270 | HIGHLANDS | 50016 | 0.9172
10 | Florida | 10 | 10290 | HOLMES | 50016 | 0.9172
10 | Florida | 10 | 10310 | JACKSON | 50016 | 0.9172
10 | Florida | 10 | 10330 | LAFAYETTE | 50016 | 0.9172
10 | Florida | 10 | 10370 | LEVY | 50016 | 0.9172
10 | Florida | 10 | 10380 | LIBERTY | 50016 | 0.9172
10 | Florida | 10 | 10390 | MADISON | 50016 | 0.9172
10 | Florida | 10 | 10430 | MONROE | 50016 | 0.9172
10 | Florida | 10 | 10460 | OKEECHOBEE | 50016 | 0.9172
10 | Florida | 10 | 10530 | PUTNAM | 50016 | 0.9172
10 | Florida | 10 | 10999 | STATEWIDE | 50016 | 0.9172
10 | Florida | 10 | 10590 | SUMTER | 50016 | 0.9172
10 | Florida | 10 | 10600 | SUWANNEE | 50016 | 0.9172
10 | Florida | 10 | 10610 | TAYLOR | 50016 | 0.9172
10 | Florida | 10 | 10620 | UNION | 50016 | 0.9172
10 | Florida | 10 | 10650 | WALTON | 50016 | 0.9172
10 | Florida | 10 | 10660 | WASHINGTON | 50016 | 0.9172
10 | Florida | 2020 | 10170 | FLAGLER | 50210 | 0.9267
11 | Georgia | 11 | 11000 | APPLING | 50020 | 0.8475
11 | Georgia | 11 | 11010 | ATKINSON | 50020 | 0.8475
11 | Georgia | 11 | 11011 | BACON | 50020 | 0.8475
11 | Georgia | 11 | 11030 | BALDWIN | 50020 | 0.8475
11 | Georgia | 11 | 11040 | BANKS | 50020 | 0.8475
11 | Georgia | 11 | 11070 | BEN HILL | 50020 | 0.8475
11 | Georgia | 11 | 11080 | BERRIEN | 50020 | 0.8475
11 | Georgia | 11 | 11100 | BLECKLEY | 50020 | 0.8475
11 | Georgia | 11 | 11140 | BULLOCH | 50020 | 0.8475
11 | Georgia | 11 | 11161 | CALHOUN | 50020 | 0.8475
11 | Georgia | 11 | 11170 | CAMDEN | 50020 | 0.8475
11 | Georgia | 11 | 11180 | CANDLER | 50020 | 0.8475
11 | Georgia | 11 | 11210 | CHARLTON | 50020 | 0.8475
11 | Georgia | 11 | 11240 | CHATTOOGA | 50020 | 0.8475
11 | Georgia | 11 | 11270 | CLAY | 50020 | 0.8475
11 | Georgia | 11 | 11281 | CLINCH | 50020 | 0.8475
11 | Georgia | 11 | 11291 | COFFEE | 50020 | 0.8475
11 | Georgia | 11 | 11300 | COLQUITT | 50020 | 0.8475
11 | Georgia | 11 | 11311 | COOK | 50020 | 0.8475
11 | Georgia | 11 | 11340 | CRISP | 50020 | 0.8475
11 | Georgia | 11 | 11360 | DECATUR | 50020 | 0.8475
11 | Georgia | 11 | 11380 | DODGE | 50020 | 0.8475
11 | Georgia | 11 | 11381 | DOOLY | 50020 | 0.8475
11 | Georgia | 11 | 11410 | EARLY | 50020 | 0.8475
11 | Georgia | 11 | 11430 | ELBERT | 50020 | 0.8475
11 | Georgia | 11 | 11440 | EMANUEL | 50020 | 0.8475
11 | Georgia | 11 | 11441 | EVANS | 50020 | 0.8475
11 | Georgia | 11 | 11450 | FANNIN | 50020 | 0.8475
11 | Georgia | 11 | 11462 | FRANKLIN | 50020 | 0.8475
11 | Georgia | 11 | 11471 | GILMER | 50020 | 0.8475
11 | Georgia | 11 | 11480 | GLASCOCK | 50020 | 0.8475
11 | Georgia | 11 | 11500 | GORDON | 50020 | 0.8475
11 | Georgia | 11 | 11510 | GRADY | 50020 | 0.8475
11 | Georgia | 11 | 11520 | GREENE | 50020 | 0.8475
11 | Georgia | 11 | 11540 | HABERSHAM | 50020 | 0.8475
11 | Georgia | 11 | 11560 | HANCOCK | 50020 | 0.8475
11 | Georgia | 11 | 11581 | HART | 50020 | 0.8475
11 | Georgia | 11 | 11601 | IRWIN | 50020 | 0.8475
11 | Georgia | 11 | 11610 | JACKSON | 50020 | 0.8475
11 | Georgia | 11 | 11612 | JEFF DAVIS | 50020 | 0.8475
11 | Georgia | 11 | 11620 | JEFFERSON | 50020 | 0.8475
11 | Georgia | 11 | 11630 | JENKINS | 50020 | 0.8475
11 | Georgia | 11 | 11640 | JOHNSON | 50020 | 0.8475
11 | Georgia | 11 | 11660 | LAURENS | 50020 | 0.8475
11 | Georgia | 11 | 11690 | LINCOLN | 50020 | 0.8475
11 | Georgia | 11 | 11701 | LUMPKIN | 50020 | 0.8475
11 | Georgia | 11 | 11710 | MACON | 50020 | 0.8475
11 | Georgia | 11 | 11741 | MILLER | 50020 | 0.8475
11 | Georgia | 11 | 11750 | MITCHELL | 50020 | 0.8475
11 | Georgia | 11 | 11770 | MONTGOMERY | 50020 | 0.8475
11 | Georgia | 11 | 11771 | MORGAN | 50020 | 0.8475
11 | Georgia | 11 | 11820 | PIERCE | 50020 | 0.8475
11 | Georgia | 11 | 11830 | POLK | 50020 | 0.8475
11 | Georgia | 11 | 11831 | PULASKI | 50020 | 0.8475
11 | Georgia | 11 | 11832 | PUTNAM | 50020 | 0.8475
11 | Georgia | 11 | 11833 | QUITMAN | 50020 | 0.8475
11 | Georgia | 11 | 11834 | RABUN | 50020 | 0.8475
11 | Georgia | 11 | 11835 | RANDOLPH | 50020 | 0.8475
11 | Georgia | 11 | 11842 | SCHLEY | 50020 | 0.8475
11 | Georgia | 11 | 11850 | SCREVEN | 50020 | 0.8475
11 | Georgia | 11 | 11851 | SEMINOLE | 50020 | 0.8475
11 | Georgia | 11 | 11999 | STATEWIDE | 50020 | 0.8475
11 | Georgia | 11 | 11861 | STEPHENS | 50020 | 0.8475
11 | Georgia | 11 | 11862 | STEWART | 50020 | 0.8475
11 | Georgia | 11 | 11870 | SUMTER | 50020 | 0.8475
11 | Georgia | 11 | 11880 | TALBOT | 50020 | 0.8475
11 | Georgia | 11 | 11881 | TALIAFERRO | 50020 | 0.8475
11 | Georgia | 11 | 11882 | TATTNALL | 50020 | 0.8475
11 | Georgia | 11 | 11883 | TAYLOR | 50020 | 0.8475
11 | Georgia | 11 | 11884 | TELFAIR | 50020 | 0.8475
11 | Georgia | 11 | 11890 | THOMAS | 50020 | 0.8475
11 | Georgia | 11 | 11900 | TIFT | 50020 | 0.8475
11 | Georgia | 11 | 11901 | TOOMBS | 50020 | 0.8475
11 | Georgia | 11 | 11902 | TOWNS | 50020 | 0.8475
11 | Georgia | 11 | 11903 | TREUTLEN | 50020 | 0.8475
11 | Georgia | 11 | 11910 | TROUP | 50020 | 0.8475
11 | Georgia | 11 | 11911 | TURNER | 50020 | 0.8475
11 | Georgia | 11 | 11913 | UNION | 50020 | 0.8475
11 | Georgia | 11 | 11920 | UPSON | 50020 | 0.8475
11 | Georgia | 11 | 11940 | WARE | 50020 | 0.8475
11 | Georgia | 11 | 11941 | WARREN | 50020 | 0.8475
11 | Georgia | 11 | 11950 | WASHINGTON | 50020 | 0.8475
11 | Georgia | 11 | 11960 | WAYNE | 50020 | 0.8475
11 | Georgia | 11 | 11961 | WEBSTER | 50020 | 0.8475
11 | Georgia | 11 | 11962 | WHEELER | 50020 | 0.8475
11 | Georgia | 11 | 11963 | WHITE | 50020 | 0.8475
11 | Georgia | 11 | 11971 | WILCOX | 50020 | 0.8475
11 | Georgia | 11 | 11972 | WILKES | 50020 | 0.8475
11 | Georgia | 11 | 11973 | WILKINSON | 50020 | 0.8475
11 | Georgia | 4680 | 11811 | PEACH | 50272 | 0.9190
14 | Illinois | 14 | 14000 | ADAMS | 50031 | 0.8845
14 | Illinois | 14 | 14010 | ALEXANDER | 50031 | 0.8845
14 | Illinois | 14 | 14040 | BROWN | 50031 | 0.8845
14 | Illinois | 14 | 14050 | BUREAU | 50031 | 0.8845
14 | Illinois | 14 | 14070 | CARROLL | 50031 | 0.8845
14 | Illinois | 14 | 14080 | CASS | 50031 | 0.8845
14 | Illinois | 14 | 14100 | CHRISTIAN | 50031 | 0.8845
14 | Illinois | 14 | 14110 | CLARK | 50031 | 0.8845
14 | Illinois | 14 | 14120 | CLAY | 50031 | 0.8845
14 | Illinois | 14 | 14140 | COLES | 50031 | 0.8845
14 | Illinois | 14 | 14150 | CRAWFORD | 50031 | 0.8845
14 | Illinois | 14 | 14160 | CUMBERLAND | 50031 | 0.8845
14 | Illinois | 14 | 14180 | DE WITT | 50031 | 0.8845
14 | Illinois | 14 | 14190 | DOUGLAS | 50031 | 0.8845
14 | Illinois | 14 | 14310 | EDGAR | 50031 | 0.8845
14 | Illinois | 14 | 14320 | EDWARDS | 50031 | 0.8845
14 | Illinois | 14 | 14330 | EFFINGHAM | 50031 | 0.8845
14 | Illinois | 14 | 14340 | FAYETTE | 50031 | 0.8845
14 | Illinois | 14 | 14360 | FRANKLIN | 50031 | 0.8845
14 | Illinois | 14 | 14370 | FULTON | 50031 | 0.8845
14 | Illinois | 14 | 14380 | GALLATIN | 50031 | 0.8845
14 | Illinois | 14 | 14390 | GREENE | 50031 | 0.8845
14 | Illinois | 14 | 14410 | HAMILTON | 50031 | 0.8845
14 | Illinois | 14 | 14420 | HANCOCK | 50031 | 0.8845
14 | Illinois | 14 | 14421 | HARDIN | 50031 | 0.8845
14 | Illinois | 14 | 14440 | HENDERSON | 50031 | 0.8845
14 | Illinois | 14 | 14460 | IROQUOIS | 50031 | 0.8845
14 | Illinois | 14 | 14470 | JACKSON | 50031 | 0.8845
14 | Illinois | 14 | 14480 | JASPER | 50031 | 0.8845
14 | Illinois | 14 | 14490 | JEFFERSON | 50031 | 0.8845
14 | Illinois | 14 | 14510 | JO DAVIESS | 50031 | 0.8845
14 | Illinois | 14 | 14520 | JOHNSON | 50031 | 0.8845
14 | Illinois | 14 | 14560 | KNOX | 50031 | 0.8845
14 | Illinois | 14 | 14580 | LA SALLE | 50031 | 0.8845
14 | Illinois | 14 | 14590 | LAWRENCE | 50031 | 0.8845
14 | Illinois | 14 | 14600 | LEE | 50031 | 0.8845
14 | Illinois | 14 | 14610 | LIVINGSTON | 50031 | 0.8845
14 | Illinois | 14 | 14620 | LOGAN | 50031 | 0.8845
14 | Illinois | 14 | 14690 | MARION | 50031 | 0.8845
14 | Illinois | 14 | 14710 | MASON | 50031 | 0.8845
14 | Illinois | 14 | 14720 | MASSAC | 50031 | 0.8845
14 | Illinois | 14 | 14630 | MC DONOUGH | 50031 | 0.8845
14 | Illinois | 14 | 14760 | MONTGOMERY | 50031 | 0.8845
14 | Illinois | 14 | 14770 | MORGAN | 50031 | 0.8845
14 | Illinois | 14 | 14780 | MOULTRIE | 50031 | 0.8845
14 | Illinois | 14 | 14810 | PERRY | 50031 | 0.8845
14 | Illinois | 14 | 14830 | PIKE | 50031 | 0.8845
14 | Illinois | 14 | 14831 | POPE | 50031 | 0.8845
14 | Illinois | 14 | 14850 | PULASKI | 50031 | 0.8845
14 | Illinois | 14 | 14860 | PUTNAM | 50031 | 0.8845
14 | Illinois | 14 | 14870 | RANDOLPH | 50031 | 0.8845
14 | Illinois | 14 | 14880 | RICHLAND | 50031 | 0.8845
14 | Illinois | 14 | 14910 | SALINE | 50031 | 0.8845
14 | Illinois | 14 | 14921 | SCHUYLER | 50031 | 0.8845
14 | Illinois | 14 | 14940 | SCOTT | 50031 | 0.8845
14 | Illinois | 14 | 14950 | SHELBY | 50031 | 0.8845
14 | Illinois | 14 | 14999 | STATEWIDE | 50031 | 0.8845
14 | Illinois | 14 | 14970 | STEPHENSON | 50031 | 0.8845
14 | Illinois | 14 | 14981 | UNION | 50031 | 0.8845
14 | Illinois | 14 | 14983 | WABASH | 50031 | 0.8845
14 | Illinois | 14 | 14984 | WARREN | 50031 | 0.8845
14 | Illinois | 14 | 14985 | WASHINGTON | 50031 | 0.8845
14 | Illinois | 14 | 14986 | WAYNE | 50031 | 0.8845
14 | Illinois | 14 | 14987 | WHITE | 50031 | 0.8845
14 | Illinois | 14 | 14988 | WHITESIDE | 50031 | 0.8845
14 | Illinois | 14 | 14990 | WILLIAMSON | 50031 | 0.8845
14 | Illinois | 6880 | 14790 | OGLE | 50314 | 0.9527
15 | Indiana | 15 | 15040 | BLACKFORD | 50036 | 0.9222
15 | Indiana | 15 | 15080 | CASS | 50036 | 0.9222
15 | Indiana | 15 | 15120 | CRAWFORD | 50036 | 0.9222
15 | Indiana | 15 | 15130 | DAVIESS | 50036 | 0.9222
15 | Indiana | 15 | 15150 | DECATUR | 50036 | 0.9222
15 | Indiana | 15 | 15180 | DUBOIS | 50036 | 0.9222
15 | Indiana | 15 | 15200 | FAYETTE | 50036 | 0.9222
15 | Indiana | 15 | 15220 | FOUNTAIN | 50036 | 0.9222
15 | Indiana | 15 | 15240 | FULTON | 50036 | 0.9222
15 | Indiana | 15 | 15260 | GRANT | 50036 | 0.9222
15 | Indiana | 15 | 15320 | HENRY | 50036 | 0.9222
15 | Indiana | 15 | 15350 | JACKSON | 50036 | 0.9222
15 | Indiana | 15 | 15370 | JAY | 50036 | 0.9222
15 | Indiana | 15 | 15380 | JEFFERSON | 50036 | 0.9222
15 | Indiana | 15 | 15390 | JENNINGS | 50036 | 0.9222
15 | Indiana | 15 | 15410 | KNOX | 50036 | 0.9222
15 | Indiana | 15 | 15420 | KOSCIUSKO | 50036 | 0.9222
15 | Indiana | 15 | 15430 | LAGRANGE | 50036 | 0.9222
15 | Indiana | 15 | 15460 | LAWRENCE | 50036 | 0.9222
15 | Indiana | 15 | 15490 | MARSHALL | 50036 | 0.9222
15 | Indiana | 15 | 15500 | MARTIN | 50036 | 0.9222
15 | Indiana | 15 | 15510 | MIAMI | 50036 | 0.9222
15 | Indiana | 15 | 15530 | MONTGOMERY | 50036 | 0.9222
15 | Indiana | 15 | 15560 | NOBLE | 50036 | 0.9222
15 | Indiana | 15 | 15580 | ORANGE | 50036 | 0.9222
15 | Indiana | 15 | 15600 | PARKE | 50036 | 0.9222
15 | Indiana | 15 | 15610 | PERRY | 50036 | 0.9222
15 | Indiana | 15 | 15620 | PIKE | 50036 | 0.9222
15 | Indiana | 15 | 15650 | PULASKI | 50036 | 0.9222
15 | Indiana | 15 | 15670 | RANDOLPH | 50036 | 0.9222
15 | Indiana | 15 | 15680 | RIPLEY | 50036 | 0.9222
15 | Indiana | 15 | 15690 | RUSH | 50036 | 0.9222
15 | Indiana | 15 | 15730 | SPENCER | 50036 | 0.9222
15 | Indiana | 15 | 15740 | STARKE | 50036 | 0.9222
15 | Indiana | 15 | 15999 | STATEWIDE | 50036 | 0.9222
15 | Indiana | 15 | 15750 | STEUBEN | 50036 | 0.9222
15 | Indiana | 15 | 15770 | SWITZERLAND | 50036 | 0.9222
15 | Indiana | 15 | 15800 | UNION | 50036 | 0.9222
15 | Indiana | 15 | 15840 | WABASH | 50036 | 0.9222
15 | Indiana | 15 | 15850 | WARREN | 50036 | 0.9222
15 | Indiana | 15 | 15880 | WAYNE | 50036 | 0.9222
15 | Indiana | 15 | 15900 | WHITE | 50036 | 0.9222
15 | Indiana | 2760 | 15000 | ADAMS | 50225 | 0.9753
15 | Indiana | 2760 | 15160 | DE KALB | 50225 | 0.9753
15 | Indiana | 2760 | 15340 | HUNTINGTON | 50225 | 0.9753
15 | Indiana | 3920 | 15110 | CLINTON | 50257 | 0.9397
15 | Indiana | 4520 | 15710 | SCOTT | 50268 | 0.9448
18 | Kentucky | 18 | 18000 | ADAIR | 50054 | 0.8273
18 | Kentucky | 18 | 18010 | ALLEN | 50054 | 0.8273
18 | Kentucky | 18 | 18020 | ANDERSON | 50054 | 0.8273
18 | Kentucky | 18 | 18030 | BALLARD | 50054 | 0.8273
18 | Kentucky | 18 | 18040 | BARREN | 50054 | 0.8273
18 | Kentucky | 18 | 18050 | BATH | 50054 | 0.8273
18 | Kentucky | 18 | 18060 | BELL | 50054 | 0.8273
18 | Kentucky | 18 | 18100 | BOYLE | 50054 | 0.8273
18 | Kentucky | 18 | 18120 | BREATHITT | 50054 | 0.8273
18 | Kentucky | 18 | 18130 | BRECKINRIDGE | 50054 | 0.8273
18 | Kentucky | 18 | 18150 | BUTLER | 50054 | 0.8273
18 | Kentucky | 18 | 18160 | CALDWELL | 50054 | 0.8273
18 | Kentucky | 18 | 18170 | CALLOWAY | 50054 | 0.8273
18 | Kentucky | 18 | 18190 | CARLISLE | 50054 | 0.8273
18 | Kentucky | 18 | 18191 | CARROLL | 50054 | 0.8273
18 | Kentucky | 18 | 18220 | CASEY | 50054 | 0.8273
18 | Kentucky | 18 | 18250 | CLAY | 50054 | 0.8273
18 | Kentucky | 18 | 18260 | CLINTON | 50054 | 0.8273
18 | Kentucky | 18 | 18270 | CRITTENDEN | 50054 | 0.8273
18 | Kentucky | 18 | 18271 | CUMBERLAND | 50054 | 0.8273
18 | Kentucky | 18 | 18310 | ELLIOTT | 50054 | 0.8273
18 | Kentucky | 18 | 18320 | ESTILL | 50054 | 0.8273
18 | Kentucky | 18 | 18340 | FLEMING | 50054 | 0.8273
18 | Kentucky | 18 | 18350 | FLOYD | 50054 | 0.8273
18 | Kentucky | 18 | 18360 | FRANKLIN | 50054 | 0.8273
18 | Kentucky | 18 | 18361 | FULTON | 50054 | 0.8273
18 | Kentucky | 18 | 18390 | GARRARD | 50054 | 0.8273
18 | Kentucky | 18 | 18410 | GRAVES | 50054 | 0.8273
18 | Kentucky | 18 | 18420 | GRAYSON | 50054 | 0.8273
18 | Kentucky | 18 | 18421 | GREEN | 50054 | 0.8273
18 | Kentucky | 18 | 18470 | HARLAN | 50054 | 0.8273
18 | Kentucky | 18 | 18480 | HARRISON | 50054 | 0.8273
18 | Kentucky | 18 | 18490 | HART | 50054 | 0.8273
18 | Kentucky | 18 | 18511 | HICKMAN | 50054 | 0.8273
18 | Kentucky | 18 | 18530 | HOPKINS | 50054 | 0.8273
18 | Kentucky | 18 | 18540 | JACKSON | 50054 | 0.8273
18 | Kentucky | 18 | 18570 | JOHNSON | 50054 | 0.8273
18 | Kentucky | 18 | 18590 | KNOTT | 50054 | 0.8273
18 | Kentucky | 18 | 18600 | KNOX | 50054 | 0.8273
18 | Kentucky | 18 | 18620 | LAUREL | 50054 | 0.8273
18 | Kentucky | 18 | 18630 | LAWRENCE | 50054 | 0.8273
18 | Kentucky | 18 | 18640 | LEE | 50054 | 0.8273
18 | Kentucky | 18 | 18650 | LESLIE | 50054 | 0.8273
18 | Kentucky | 18 | 18660 | LETCHER | 50054 | 0.8273
18 | Kentucky | 18 | 18670 | LEWIS | 50054 | 0.8273
18 | Kentucky | 18 | 18680 | LINCOLN | 50054 | 0.8273
18 | Kentucky | 18 | 18690 | LIVINGSTON | 50054 | 0.8273
18 | Kentucky | 18 | 18700 | LOGAN | 50054 | 0.8273
18 | Kentucky | 18 | 18710 | LYON | 50054 | 0.8273
18 | Kentucky | 18 | 18760 | MAGOFFIN | 50054 | 0.8273
18 | Kentucky | 18 | 18770 | MARION | 50054 | 0.8273
18 | Kentucky | 18 | 18780 | MARSHALL | 50054 | 0.8273
18 | Kentucky | 18 | 18790 | MARTIN | 50054 | 0.8273
18 | Kentucky | 18 | 18800 | MASON | 50054 | 0.8273
18 | Kentucky | 18 | 18720 | MC CRACKEN | 50054 | 0.8273
18 | Kentucky | 18 | 18730 | MC CREARY | 50054 | 0.8273
18 | Kentucky | 18 | 18802 | MENIFEE | 50054 | 0.8273
18 | Kentucky | 18 | 18830 | MERCER | 50054 | 0.8273
18 | Kentucky | 18 | 18831 | METCALFE | 50054 | 0.8273
18 | Kentucky | 18 | 18850 | MONROE | 50054 | 0.8273
18 | Kentucky | 18 | 18860 | MONTGOMERY | 50054 | 0.8273
18 | Kentucky | 18 | 18861 | MORGAN | 50054 | 0.8273
18 | Kentucky | 18 | 18880 | MUHLENBERG | 50054 | 0.8273
18 | Kentucky | 18 | 18900 | NICHOLAS | 50054 | 0.8273
18 | Kentucky | 18 | 18910 | OHIO | 50054 | 0.8273
18 | Kentucky | 18 | 18930 | OWEN | 50054 | 0.8273
18 | Kentucky | 18 | 18931 | OWSLEY | 50054 | 0.8273
18 | Kentucky | 18 | 18960 | PERRY | 50054 | 0.8273
18 | Kentucky | 18 | 18970 | PIKE | 50054 | 0.8273
18 | Kentucky | 18 | 18971 | POWELL | 50054 | 0.8273
18 | Kentucky | 18 | 18972 | PULASKI | 50054 | 0.8273
18 | Kentucky | 18 | 18973 | ROBERTSON | 50054 | 0.8273
18 | Kentucky | 18 | 18974 | ROCKCASTLE | 50054 | 0.8273
18 | Kentucky | 18 | 18975 | ROWAN | 50054 | 0.8273
18 | Kentucky | 18 | 18976 | RUSSELL | 50054 | 0.8273
18 | Kentucky | 18 | 18979 | SIMPSON | 50054 | 0.8273
18 | Kentucky | 18 | 18999 | STATEWIDE | 50054 | 0.8273
18 | Kentucky | 18 | 18981 | TAYLOR | 50054 | 0.8273
18 | Kentucky | 18 | 18982 | TODD | 50054 | 0.8273
18 | Kentucky | 18 | 18985 | UNION | 50054 | 0.8273
18 | Kentucky | 18 | 18987 | WASHINGTON | 50054 | 0.8273
18 | Kentucky | 18 | 18988 | WAYNE | 50054 | 0.8273
18 | Kentucky | 18 | 18990 | WHITLEY | 50054 | 0.8273
18 | Kentucky | 18 | 18991 | WOLFE | 50054 | 0.8273
18 | Kentucky | 3400 | 18210 | CARTER | 50243 | 0.9185
18 | Kentucky | 4280 | 18750 | MADISON | 50262 | 0.9002
19 | Louisiana | 19 | 19010 | ALLEN | 50060 | 0.8000
19 | Louisiana | 19 | 19030 | ASSUMPTION | 50060 | 0.8000
19 | Louisiana | 19 | 19040 | AVOYELLES | 50060 | 0.8000
19 | Louisiana | 19 | 19050 | BEAUREGARD | 50060 | 0.8000
19 | Louisiana | 19 | 19060 | BIENVILLE | 50060 | 0.8000
19 | Louisiana | 19 | 19100 | CALDWELL | 50060 | 0.8000
19 | Louisiana | 19 | 19120 | CATAHOULA | 50060 | 0.8000
19 | Louisiana | 19 | 19130 | CLAIBORNE | 50060 | 0.8000
19 | Louisiana | 19 | 19140 | CONCORDIA | 50060 | 0.8000
19 | Louisiana | 19 | 19170 | EAST CARROLL | 50060 | 0.8000
19 | Louisiana | 19 | 19190 | EVANGELINE | 50060 | 0.8000
19 | Louisiana | 19 | 19200 | FRANKLIN | 50060 | 0.8000
19 | Louisiana | 19 | 19220 | IBERIA | 50060 | 0.8000
19 | Louisiana | 19 | 19240 | JACKSON | 50060 | 0.8000
19 | Louisiana | 19 | 19260 | JEFFRSON DAVIS | 50060 | 0.8000
19 | Louisiana | 19 | 19290 | LA SALLE | 50060 | 0.8000
19 | Louisiana | 19 | 19300 | LINCOLN | 50060 | 0.8000
19 | Louisiana | 19 | 19320 | MADISON | 50060 | 0.8000
19 | Louisiana | 19 | 19330 | MOREHOUSE | 50060 | 0.8000
19 | Louisiana | 19 | 19340 | NATCHITOCHES | 50060 | 0.8000
19 | Louisiana | 19 | 19400 | RED RIVER | 50060 | 0.8000
19 | Louisiana | 19 | 19410 | RICHLAND | 50060 | 0.8000
19 | Louisiana | 19 | 19420 | SABINE | 50060 | 0.8000
19 | Louisiana | 19 | 19500 | ST. MARY | 50060 | 0.8000
19 | Louisiana | 19 | 19999 | STATEWIDE | 50060 | 0.8000
19 | Louisiana | 19 | 19520 | TANGIPAHOA | 50060 | 0.8000
19 | Louisiana | 19 | 19530 | TENSAS | 50060 | 0.8000
19 | Louisiana | 19 | 19560 | VERMILION | 50060 | 0.8000
19 | Louisiana | 19 | 19570 | VERNON | 50060 | 0.8000
19 | Louisiana | 19 | 19580 | WASHINGTON | 50060 | 0.8000
19 | Louisiana | 19 | 19610 | WEST CARROLL | 50060 | 0.8000
19 | Louisiana | 19 | 19630 | WINN | 50060 | 0.8000
19 | Louisiana | 3880 | 19000 | ACADIA | 50256 | 0.8297
19 | Louisiana | 3880 | 19480 | ST. LANDRY | 50256 | 0.8297
19 | Louisiana | 5560 | 19460 | ST. JAMES | 50286 | 0.8826
19 | Louisiana | 7680 | 19590 | WEBSTER | 50329 | 0.8830
23 | Michigan | 23 | 23000 | ALCONA | 50067 | 0.9295
23 | Michigan | 23 | 23010 | ALGER | 50067 | 0.9295
23 | Michigan | 23 | 23030 | ALPENA | 50067 | 0.9295
23 | Michigan | 23 | 23040 | ANTRIM | 50067 | 0.9295
23 | Michigan | 23 | 23050 | ARENAC | 50067 | 0.9295
23 | Michigan | 23 | 23060 | BARAGA | 50067 | 0.9295
23 | Michigan | 23 | 23090 | BENZIE | 50067 | 0.9295
23 | Michigan | 23 | 23110 | BRANCH | 50067 | 0.9295
23 | Michigan | 23 | 23140 | CHARLEVOIX | 50067 | 0.9295
23 | Michigan | 23 | 23150 | CHEBOYGAN | 50067 | 0.9295
23 | Michigan | 23 | 23160 | CHIPPEWA | 50067 | 0.9295
23 | Michigan | 23 | 23170 | CLARE | 50067 | 0.9295
23 | Michigan | 23 | 23190 | CRAWFORD | 50067 | 0.9295
23 | Michigan | 23 | 23200 | DELTA | 50067 | 0.9295
23 | Michigan | 23 | 23210 | DICKINSON | 50067 | 0.9295
23 | Michigan | 23 | 23230 | EMMET | 50067 | 0.9295
23 | Michigan | 23 | 23250 | GLADWIN | 50067 | 0.9295
23 | Michigan | 23 | 23260 | GOGEBIC | 50067 | 0.9295
23 | Michigan | 23 | 23270 | GRAND TRAVERSE | 50067 | 0.9295
23 | Michigan | 23 | 23280 | GRATIOT | 50067 | 0.9295
23 | Michigan | 23 | 23290 | HILLSDALE | 50067 | 0.9295
23 | Michigan | 23 | 23300 | HOUGHTON | 50067 | 0.9295
23 | Michigan | 23 | 23310 | HURON | 50067 | 0.9295
23 | Michigan | 23 | 23340 | IOSCO | 50067 | 0.9295
23 | Michigan | 23 | 23350 | IRON | 50067 | 0.9295
23 | Michigan | 23 | 23360 | ISABELLA | 50067 | 0.9295
23 | Michigan | 23 | 23390 | KALKASKA | 50067 | 0.9295
23 | Michigan | 23 | 23410 | KEWEENAW | 50067 | 0.9295
23 | Michigan | 23 | 23420 | LAKE | 50067 | 0.9295
23 | Michigan | 23 | 23440 | LEELANAU | 50067 | 0.9295
23 | Michigan | 23 | 23470 | LUCE | 50067 | 0.9295
23 | Michigan | 23 | 23480 | MACKINAC | 50067 | 0.9295
23 | Michigan | 23 | 23500 | MANISTEE | 50067 | 0.9295
23 | Michigan | 23 | 23510 | MARQUETTE | 50067 | 0.9295
23 | Michigan | 23 | 23520 | MASON | 50067 | 0.9295
23 | Michigan | 23 | 23530 | MECOSTA | 50067 | 0.9295
23 | Michigan | 23 | 23540 | MENOMINEE | 50067 | 0.9295
23 | Michigan | 23 | 23560 | MISSAUKEE | 50067 | 0.9295
23 | Michigan | 23 | 23580 | MONTCALM | 50067 | 0.9295
23 | Michigan | 23 | 23590 | MONTMORENCY | 50067 | 0.9295
23 | Michigan | 23 | 23630 | OCEANA | 50067 | 0.9295
23 | Michigan | 23 | 23640 | OGEMAW | 50067 | 0.9295
23 | Michigan | 23 | 23650 | ONTONAGON | 50067 | 0.9295
23 | Michigan | 23 | 23660 | OSCEOLA | 50067 | 0.9295
23 | Michigan | 23 | 23670 | OSCODA | 50067 | 0.9295
23 | Michigan | 23 | 23680 | OTSEGO | 50067 | 0.9295
23 | Michigan | 23 | 23700 | PRESQUE ISLE | 50067 | 0.9295
23 | Michigan | 23 | 23710 | ROSCOMMON | 50067 | 0.9295
23 | Michigan | 23 | 23750 | SANILAC | 50067 | 0.9295
23 | Michigan | 23 | 23760 | SCHOOLCRAFT | 50067 | 0.9295
23 | Michigan | 23 | 23770 | SHIAWASSEE | 50067 | 0.9295
23 | Michigan | 23 | 23740 | ST. JOSEPH | 50067 | 0.9295
23 | Michigan | 23 | 23999 | STATEWIDE | 50067 | 0.9295
23 | Michigan | 23 | 23780 | TUSCOLA | 50067 | 0.9295
23 | Michigan | 23 | 23830 | WEXFORD | 50067 | 0.9295
23 | Michigan | 0440 | 23450 | LENAWEE | 50170 | 1.0395
23 | Michigan | 3000 | 23020 | ALLEGAN | 50231 | 0.9708
23 | Michigan | 6960 | 23550 | MIDLAND | 50316 | 0.9801
29 | Nevada | 29 | 29000 | CHURCHILL | 50087 | 1.0136
29 | Nevada | 29 | 29020 | DOUGLAS | 50087 | 1.0136
29 | Nevada | 29 | 29030 | ELKO | 50087 | 1.0136
29 | Nevada | 29 | 29040 | ESMERALDA | 50087 | 1.0136
29 | Nevada | 29 | 29050 | EUREKA | 50087 | 1.0136
29 | Nevada | 29 | 29060 | HUMBOLDT | 50087 | 1.0136
29 | Nevada | 29 | 29070 | LANDER | 50087 | 1.0136
29 | Nevada | 29 | 29080 | LINCOLN | 50087 | 1.0136
29 | Nevada | 29 | 29090 | LYON | 50087 | 1.0136
29 | Nevada | 29 | 29100 | MINERAL | 50087 | 1.0136
29 | Nevada | 29 | 29130 | PERSHING | 50087 | 1.0136
29 | Nevada | 29 | 29999 | STATEWIDE | 50087 | 1.0136
29 | Nevada | 29 | 29160 | WHITE PINE | 50087 | 1.0136
29 | Nevada | 4120 | 29110 | NYE | 50261 | 1.0819
32 | New Mexico | 32 | 32010 | CATRON | 50089 | 0.9127
32 | New Mexico | 32 | 32020 | CHAVES | 50089 | 0.9127
32 | New Mexico | 32 | 32025 | CIBOLA | 50089 | 0.9127
32 | New Mexico | 32 | 32030 | COLFAX | 50089 | 0.9127
32 | New Mexico | 32 | 32040 | CURRY | 50089 | 0.9127
32 | New Mexico | 32 | 32050 | DE BACA | 50089 | 0.9127
32 | New Mexico | 32 | 32070 | EDDY | 50089 | 0.9127
32 | New Mexico | 32 | 32080 | GRANT | 50089 | 0.9127
32 | New Mexico | 32 | 32090 | GUADALUPE | 50089 | 0.9127
32 | New Mexico | 32 | 32100 | HARDING | 50089 | 0.9127
32 | New Mexico | 32 | 32110 | HIDALGO | 50089 | 0.9127
32 | New Mexico | 32 | 32120 | LEA | 50089 | 0.9127
32 | New Mexico | 32 | 32130 | LINCOLN | 50089 | 0.9127
32 | New Mexico | 32 | 32140 | LUNA | 50089 | 0.9127
32 | New Mexico | 32 | 32150 | MCKINLEY | 50089 | 0.9127
32 | New Mexico | 32 | 32160 | MORA | 50089 | 0.9127
32 | New Mexico | 32 | 32170 | OTERO | 50089 | 0.9127
32 | New Mexico | 32 | 32180 | QUAY | 50089 | 0.9127
32 | New Mexico | 32 | 32190 | RIO ARRIBA | 50089 | 0.9127
32 | New Mexico | 32 | 32200 | ROOSEVELT | 50089 | 0.9127
32 | New Mexico | 32 | 32230 | SAN MIGUEL | 50089 | 0.9127
32 | New Mexico | 32 | 32250 | SIERRA | 50089 | 0.9127
32 | New Mexico | 32 | 32260 | SOCORRO | 50089 | 0.9127
32 | New Mexico | 32 | 32999 | STATEWIDE | 50089 | 0.9127
32 | New Mexico | 32 | 32270 | TAOS | 50089 | 0.9127
32 | New Mexico | 32 | 32290 | UNION | 50089 | 0.9127
32 | New Mexico | 7490 | 32131 | LOS ALAMOS | 50325 | 1.0219
33 | New York | 33 | 33010 | ALLEGANY | 50091 | 0.8779
33 | New York | 33 | 33040 | CATTARAUGUS | 50091 | 0.8779
33 | New York | 33 | 33080 | CHENANGO | 50091 | 0.8779
33 | New York | 33 | 33090 | CLINTON | 50091 | 0.8779
33 | New York | 33 | 33200 | COLUMBIA | 50091 | 0.8779
33 | New York | 33 | 33210 | CORTLAND | 50091 | 0.8779
33 | New York | 33 | 33220 | DELAWARE | 50091 | 0.8779
33 | New York | 33 | 33260 | ESSEX | 50091 | 0.8779
33 | New York | 33 | 33270 | FRANKLIN | 50091 | 0.8779
33 | New York | 33 | 33280 | FULTON | 50091 | 0.8779
33 | New York | 33 | 33300 | GREENE | 50091 | 0.8779
33 | New York | 33 | 33310 | HAMILTON | 50091 | 0.8779
33 | New York | 33 | 33330 | JEFFERSON | 50091 | 0.8779
33 | New York | 33 | 33340 | LEWIS | 50091 | 0.8779
33 | New York | 33 | 33570 | OTSEGO | 50091 | 0.8779
33 | New York | 33 | 33670 | SCHUYLER | 50091 | 0.8779
33 | New York | 33 | 33680 | SENECA | 50091 | 0.8779
33 | New York | 33 | 33630 | ST. LAWRENCE | 50091 | 0.8779
33 | New York | 33 | 33999 | STATEWIDE | 50091 | 0.8779
33 | New York | 33 | 33690 | STEUBEN | 50091 | 0.8779
33 | New York | 33 | 33710 | SULLIVAN | 50091 | 0.8779
33 | New York | 33 | 33900 | WYOMING | 50091 | 0.8779
33 | New York | 33 | 33910 | YATES | 50091 | 0.8779
33 | New York | 0160 | 33380 | MONTGOMERY | 50164 | 0.8868
33 | New York | 3610 | 33060 | CHAUTAUQUA | 50248 | 0.8348
33 | New York | 6840 | 33290 | GENESEE | 50313 | 0.9199
33 | New York | 8160 | 33050 | CAYUGA | 50336 | 0.9304
34 | North Carolina | 34 | 34020 | ALLEGHANY | 50092 | 0.9049
34 | North Carolina | 34 | 34040 | ASHE | 50092 | 0.9049
34 | North Carolina | 34 | 34050 | AVERY | 50092 | 0.9049
34 | North Carolina | 34 | 34060 | BEAUFORT | 50092 | 0.9049
34 | North Carolina | 34 | 34070 | BERTIE | 50092 | 0.9049
34 | North Carolina | 34 | 34080 | BLADEN | 50092 | 0.9049
34 | North Carolina | 34 | 34140 | CAMDEN | 50092 | 0.9049
34 | North Carolina | 34 | 34150 | CARTERET | 50092 | 0.9049
34 | North Carolina | 34 | 34160 | CASWELL | 50092 | 0.9049
34 | North Carolina | 34 | 34190 | CHEROKEE | 50092 | 0.9049
34 | North Carolina | 34 | 34200 | CHOWAN | 50092 | 0.9049
34 | North Carolina | 34 | 34210 | CLAY | 50092 | 0.9049
34 | North Carolina | 34 | 34220 | CLEVELAND | 50092 | 0.9049
34 | North Carolina | 34 | 34230 | COLUMBUS | 50092 | 0.9049
34 | North Carolina | 34 | 34240 | CRAVEN | 50092 | 0.9049
34 | North Carolina | 34 | 34270 | DARE | 50092 | 0.9049
34 | North Carolina | 34 | 34300 | DUPLIN | 50092 | 0.9049
34 | North Carolina | 34 | 34360 | GATES | 50092 | 0.9049
34 | North Carolina | 34 | 34370 | GRAHAM | 50092 | 0.9049
34 | North Carolina | 34 | 34380 | GRANVILLE | 50092 | 0.9049
34 | North Carolina | 34 | 34410 | HALIFAX | 50092 | 0.9049
34 | North Carolina | 34 | 34420 | HARNETT | 50092 | 0.9049
34 | North Carolina | 34 | 34450 | HERTFORD | 50092 | 0.9049
34 | North Carolina | 34 | 34470 | HYDE | 50092 | 0.9049
34 | North Carolina | 34 | 34480 | IREDELL | 50092 | 0.9049
34 | North Carolina | 34 | 34490 | JACKSON | 50092 | 0.9049
34 | North Carolina | 34 | 34510 | JONES | 50092 | 0.9049
34 | North Carolina | 34 | 34520 | LEE | 50092 | 0.9049
34 | North Carolina | 34 | 34530 | LENOIR | 50092 | 0.9049
34 | North Carolina | 34 | 34560 | MACON | 50092 | 0.9049
34 | North Carolina | 34 | 34580 | MARTIN | 50092 | 0.9049
34 | North Carolina | 34 | 34550 | MC DOWELL | 50092 | 0.9049
34 | North Carolina | 34 | 34600 | MITCHELL | 50092 | 0.9049
34 | North Carolina | 34 | 34610 | MONTGOMERY | 50092 | 0.9049
34 | North Carolina | 34 | 34620 | MOORE | 50092 | 0.9049
34 | North Carolina | 34 | 34650 | NORTHAMPTON | 50092 | 0.9049
34 | North Carolina | 34 | 34680 | PAMLICO | 50092 | 0.9049
34 | North Carolina | 34 | 34690 | PASQUOTANK | 50092 | 0.9049
34 | North Carolina | 34 | 34710 | PERQUIMANS | 50092 | 0.9049
34 | North Carolina | 34 | 34740 | POLK | 50092 | 0.9049
34 | North Carolina | 34 | 34760 | RICHMOND | 50092 | 0.9049
34 | North Carolina | 34 | 34770 | ROBESON | 50092 | 0.9049
34 | North Carolina | 34 | 34800 | RUTHERFORD | 50092 | 0.9049
34 | North Carolina | 34 | 34810 | SAMPSON | 50092 | 0.9049
34 | North Carolina | 34 | 34820 | SCOTLAND | 50092 | 0.9049
34 | North Carolina | 34 | 34999 | STATEWIDE | 50092 | 0.9049
34 | North Carolina | 34 | 34850 | SURRY | 50092 | 0.9049
34 | North Carolina | 34 | 34860 | SWAIN | 50092 | 0.9049
34 | North Carolina | 34 | 34870 | TRANSYLVANIA | 50092 | 0.9049
34 | North Carolina | 34 | 34880 | TYRRELL | 50092 | 0.9049
34 | North Carolina | 34 | 34900 | VANCE | 50092 | 0.9049
34 | North Carolina | 34 | 34920 | WARREN | 50092 | 0.9049
34 | North Carolina | 34 | 34930 | WASHINGTON | 50092 | 0.9049
34 | North Carolina | 34 | 34940 | WATAUGA | 50092 | 0.9049
34 | North Carolina | 34 | 34960 | WILKES | 50092 | 0.9049
34 | North Carolina | 34 | 34970 | WILSON | 50092 | 0.9049
34 | North Carolina | 34 | 34981 | YANCEY | 50092 | 0.9049
34 | North Carolina | 1520 | 34540 | LINCOLN | 50192 | 0.9691
34 | North Carolina | 1520 | 34790 | ROWAN | 50192 | 0.9691
34 | North Carolina | 34 | 34830 | STANLY | 50192 | 0.9049
34 | North Carolina | 3120 | 34280 | DAVIDSON | 50234 | 0.9480
36 | Ohio | 36 | 36000 | ADAMS | 50100 | 0.9255
36 | Ohio | 36 | 36020 | ASHLAND | 50100 | 0.9255
36 | Ohio | 36 | 36040 | ATHENS | 50100 | 0.9255
36 | Ohio | 36 | 36100 | CHAMPAIGN | 50100 | 0.9255
36 | Ohio | 36 | 36130 | CLINTON | 50100 | 0.9255
36 | Ohio | 36 | 36150 | COSHOCTON | 50100 | 0.9255
36 | Ohio | 36 | 36190 | DARKE | 50100 | 0.9255
36 | Ohio | 36 | 36200 | DEFIANCE | 50100 | 0.9255
36 | Ohio | 36 | 36240 | FAYETTE | 50100 | 0.9255
36 | Ohio | 36 | 36270 | GALLIA | 50100 | 0.9255
36 | Ohio | 36 | 36300 | GUERNSEY | 50100 | 0.9255
36 | Ohio | 36 | 36330 | HANCOCK | 50100 | 0.9255
36 | Ohio | 36 | 36340 | HARDIN | 50100 | 0.9255
36 | Ohio | 36 | 36350 | HARRISON | 50100 | 0.9255
36 | Ohio | 36 | 36360 | HENRY | 50100 | 0.9255
36 | Ohio | 36 | 36370 | HIGHLAND | 50100 | 0.9255
36 | Ohio | 36 | 36380 | HOCKING | 50100 | 0.9255
36 | Ohio | 36 | 36390 | HOLMES | 50100 | 0.9255
36 | Ohio | 36 | 36400 | HURON | 50100 | 0.9255
36 | Ohio | 36 | 36410 | JACKSON | 50100 | 0.9255
36 | Ohio | 36 | 36430 | KNOX | 50100 | 0.9255
36 | Ohio | 36 | 36470 | LOGAN | 50100 | 0.9255
36 | Ohio | 36 | 36520 | MARION | 50100 | 0.9255
36 | Ohio | 36 | 36540 | MEIGS | 50100 | 0.9255
36 | Ohio | 36 | 36550 | MERCER | 50100 | 0.9255
36 | Ohio | 36 | 36570 | MONROE | 50100 | 0.9255
36 | Ohio | 36 | 36590 | MORGAN | 50100 | 0.9255
36 | Ohio | 36 | 36610 | MUSKINGUM | 50100 | 0.9255
36 | Ohio | 36 | 36620 | NOBLE | 50100 | 0.9255
36 | Ohio | 36 | 36640 | PAULDING | 50100 | 0.9255
36 | Ohio | 36 | 36650 | PERRY | 50100 | 0.9255
36 | Ohio | 36 | 36670 | PIKE | 50100 | 0.9255
36 | Ohio | 36 | 36700 | PUTNAM | 50100 | 0.9255
36 | Ohio | 36 | 36720 | ROSS | 50100 | 0.9255
36 | Ohio | 36 | 36730 | SANDUSKY | 50100 | 0.9255
36 | Ohio | 36 | 36740 | SCIOTO | 50100 | 0.9255
36 | Ohio | 36 | 36750 | SENECA | 50100 | 0.9255
36 | Ohio | 36 | 36760 | SHELBY | 50100 | 0.9255
36 | Ohio | 36 | 36999 | STATEWIDE | 50100 | 0.9255
36 | Ohio | 36 | 36800 | TUSCARAWAS | 50100 | 0.9255
36 | Ohio | 36 | 36820 | VAN WERT | 50100 | 0.9255
36 | Ohio | 36 | 36830 | VINTON | 50100 | 0.9255
36 | Ohio | 36 | 36860 | WAYNE | 50100 | 0.9255
36 | Ohio | 36 | 36870 | WILLIAMS | 50100 | 0.9255
36 | Ohio | 36 | 36890 | WYANDOT | 50100 | 0.9255
36 | Ohio | 1680 | 36030 | ASHTABULA | 50199 | 0.9715
36 | Ohio | 4320 | 36050 | AUGLAIZE | 50263 | 0.9520
36 | Ohio | 4800 | 36160 | CRAWFORD | 50275 | 0.9439
36 | Ohio | 9320 | 36140 | COLUMBIANA | 50352 | 0.9657
37 | Oklahoma | 37 | 37000 | ADAIR | 50104 | 0.8077
37 | Oklahoma | 37 | 37010 | ALFALFA | 50104 | 0.8077
37 | Oklahoma | 37 | 37020 | ATOKA | 50104 | 0.8077
37 | Oklahoma | 37 | 37030 | BEAVER | 50104 | 0.8077
37 | Oklahoma | 37 | 37040 | BECKHAM | 50104 | 0.8077
37 | Oklahoma | 37 | 37050 | BLAINE | 50104 | 0.8077
37 | Oklahoma | 37 | 37060 | BRYAN | 50104 | 0.8077
37 | Oklahoma | 37 | 37070 | CADDO | 50104 | 0.8077
37 | Oklahoma | 37 | 37090 | CARTER | 50104 | 0.8077
37 | Oklahoma | 37 | 37100 | CHEROKEE | 50104 | 0.8077
37 | Oklahoma | 37 | 37110 | CHOCTAW | 50104 | 0.8077
37 | Oklahoma | 37 | 37120 | CIMARRON | 50104 | 0.8077
37 | Oklahoma | 37 | 37140 | COAL | 50104 | 0.8077
37 | Oklahoma | 37 | 37160 | COTTON | 50104 | 0.8077
37 | Oklahoma | 37 | 37170 | CRAIG | 50104 | 0.8077
37 | Oklahoma | 37 | 37190 | CUSTER | 50104 | 0.8077
37 | Oklahoma | 37 | 37200 | DELAWARE | 50104 | 0.8077
37 | Oklahoma | 37 | 37210 | DEWEY | 50104 | 0.8077
37 | Oklahoma | 37 | 37220 | ELLIS | 50104 | 0.8077
37 | Oklahoma | 37 | 37240 | GARVIN | 50104 | 0.8077
37 | Oklahoma | 37 | 37260 | GRANT | 50104 | 0.8077
37 | Oklahoma | 37 | 37270 | GREER | 50104 | 0.8077
37 | Oklahoma | 37 | 37280 | HARMON | 50104 | 0.8077
37 | Oklahoma | 37 | 37290 | HARPER | 50104 | 0.8077
37 | Oklahoma | 37 | 37300 | HASKELL | 50104 | 0.8077
37 | Oklahoma | 37 | 37310 | HUGHES | 50104 | 0.8077
37 | Oklahoma | 37 | 37320 | JACKSON | 50104 | 0.8077
37 | Oklahoma | 37 | 37330 | JEFFERSON | 50104 | 0.8077
37 | Oklahoma | 37 | 37340 | JOHNSTON | 50104 | 0.8077
37 | Oklahoma | 37 | 37350 | KAY | 50104 | 0.8077
37 | Oklahoma | 37 | 37360 | KINGFISHER | 50104 | 0.8077
37 | Oklahoma | 37 | 37370 | KIOWA | 50104 | 0.8077
37 | Oklahoma | 37 | 37380 | LATIMER | 50104 | 0.8077
37 | Oklahoma | 37 | 37420 | LOVE | 50104 | 0.8077
37 | Oklahoma | 37 | 37460 | MAJOR | 50104 | 0.8077
37 | Oklahoma | 37 | 37470 | MARSHALL | 50104 | 0.8077
37 | Oklahoma | 37 | 37480 | MAYES | 50104 | 0.8077
37 | Oklahoma | 37 | 37440 | MCCURTAIN | 50104 | 0.8077
37 | Oklahoma | 37 | 37450 | MCINTOSH | 50104 | 0.8077
37 | Oklahoma | 37 | 37490 | MURRAY | 50104 | 0.8077
37 | Oklahoma | 37 | 37500 | MUSKOGEE | 50104 | 0.8077
37 | Oklahoma | 37 | 37510 | NOBLE | 50104 | 0.8077
37 | Oklahoma | 37 | 37520 | NOWATA | 50104 | 0.8077
37 | Oklahoma | 37 | 37530 | OKFUSKEE | 50104 | 0.8077
37 | Oklahoma | 37 | 37570 | OTTAWA | 50104 | 0.8077
37 | Oklahoma | 37 | 37590 | PAYNE | 50104 | 0.8077
37 | Oklahoma | 37 | 37600 | PITTSBURG | 50104 | 0.8077
37 | Oklahoma | 37 | 37610 | PONTOTOC | 50104 | 0.8077
37 | Oklahoma | 37 | 37630 | PUSHMATAHA | 50104 | 0.8077
37 | Oklahoma | 37 | 37640 | ROGER MILLS | 50104 | 0.8077
37 | Oklahoma | 37 | 37660 | SEMINOLE | 50104 | 0.8077
37 | Oklahoma | 37 | 37999 | STATEWIDE | 50104 | 0.8077
37 | Oklahoma | 37 | 37680 | STEPHENS | 50104 | 0.8077
37 | Oklahoma | 37 | 37690 | TEXAS | 50104 | 0.8077
37 | Oklahoma | 37 | 37700 | TILLMAN | 50104 | 0.8077
37 | Oklahoma | 37 | 37730 | WASHINGTON | 50104 | 0.8077
37 | Oklahoma | 37 | 37740 | WASHITA | 50104 | 0.8077
37 | Oklahoma | 37 | 37750 | WOODS | 50104 | 0.8077
37 | Oklahoma | 37 | 37760 | WOODWARD | 50104 | 0.8077
37 | Oklahoma | 2340 | 37230 | GARFIELD | 50218 | 0.8849
37 | Oklahoma | 5880 | 37620 | POTTAWATOMIE | 50293 | 0.8831
39 | Pennsylvania | 39 | 39000 | ADAMS | 50108 | 0.8834
39 | Pennsylvania | 39 | 39100 | BEDFORD | 50108 | 0.8834
39 | Pennsylvania | 39 | 39130 | BRADFORD | 50108 | 0.8834
39 | Pennsylvania | 39 | 39180 | CAMERON | 50108 | 0.8834
39 | Pennsylvania | 39 | 39220 | CLARION | 50108 | 0.8834
39 | Pennsylvania | 39 | 39230 | CLEARFIELD | 50108 | 0.8834
39 | Pennsylvania | 39 | 39240 | CLINTON | 50108 | 0.8834
39 | Pennsylvania | 39 | 39260 | CRAWFORD | 50108 | 0.8834
39 | Pennsylvania | 39 | 39310 | ELK | 50108 | 0.8834
39 | Pennsylvania | 39 | 39340 | FOREST | 50108 | 0.8834
39 | Pennsylvania | 39 | 39350 | FRANKLIN | 50108 | 0.8834
39 | Pennsylvania | 39 | 39360 | FULTON | 50108 | 0.8834
39 | Pennsylvania | 39 | 39370 | GREENE | 50108 | 0.8834
39 | Pennsylvania | 39 | 39380 | HUNTINGDON | 50108 | 0.8834
39 | Pennsylvania | 39 | 39390 | INDIANA | 50108 | 0.8834
39 | Pennsylvania | 39 | 39400 | JEFFERSON | 50108 | 0.8834
39 | Pennsylvania | 39 | 39410 | JUNIATA | 50108 | 0.8834
39 | Pennsylvania | 39 | 39450 | LAWRENCE | 50108 | 0.8834
39 | Pennsylvania | 39 | 39520 | MC KEAN | 50108 | 0.8834
39 | Pennsylvania | 39 | 39540 | MIFFLIN | 50108 | 0.8834
39 | Pennsylvania | 39 | 39550 | MONROE | 50108 | 0.8834
39 | Pennsylvania | 39 | 39580 | MONTOUR | 50108 | 0.8834
39 | Pennsylvania | 39 | 39600 | NORTHUMBERLND | 50108 | 0.8834
39 | Pennsylvania | 39 | 39640 | POTTER | 50108 | 0.8834
39 | Pennsylvania | 39 | 39650 | SCHUYLKILL | 50108 | 0.8834
39 | Pennsylvania | 39 | 39670 | SNYDER | 50108 | 0.8834
39 | Pennsylvania | 39 | 39999 | STATEWIDE | 50108 | 0.8834
39 | Pennsylvania | 39 | 39690 | SULLIVAN | 50108 | 0.8834
39 | Pennsylvania | 39 | 39700 | SUSQUEHANNA | 50108 | 0.8834
39 | Pennsylvania | 39 | 39710 | TIOGA | 50108 | 0.8834
39 | Pennsylvania | 39 | 39720 | UNION | 50108 | 0.8834
39 | Pennsylvania | 39 | 39730 | VENANGO | 50108 | 0.8834
39 | Pennsylvania | 39 | 39740 | WARREN | 50108 | 0.8834
39 | Pennsylvania | 39 | 39760 | WAYNE | 50108 | 0.8834
39 | Pennsylvania | 3680 | 39680 | SOMERSET | 50250 | 0.8639
39 | Pennsylvania | 7560 | 39250 | COLUMBIA | 50326 | 0.8927
42 | South Carolina | 42 | 42000 | ABBEVILLE | 50114 | 0.9187
42 | South Carolina | 42 | 42020 | ALLENDALE | 50114 | 0.9187
42 | South Carolina | 42 | 42040 | BAMBERG | 50114 | 0.9187
42 | South Carolina | 42 | 42050 | BARNWELL | 50114 | 0.9187
42 | South Carolina | 42 | 42060 | BEAUFORT | 50114 | 0.9187
42 | South Carolina | 42 | 42110 | CHESTER | 50114 | 0.9187
42 | South Carolina | 42 | 42120 | CHESTERFIELD | 50114 | 0.9187
42 | South Carolina | 42 | 42130 | CLARENDON | 50114 | 0.9187
42 | South Carolina | 42 | 42140 | COLLETON | 50114 | 0.9187
42 | South Carolina | 42 | 42160 | DILLON | 50114 | 0.9187
42 | South Carolina | 42 | 42210 | GEORGETOWN | 50114 | 0.9187
42 | South Carolina | 42 | 42230 | GREENWOOD | 50114 | 0.9187
42 | South Carolina | 42 | 42240 | HAMPTON | 50114 | 0.9187
42 | South Carolina | 42 | 42260 | JASPER | 50114 | 0.9187
42 | South Carolina | 42 | 42280 | LANCASTER | 50114 | 0.9187
42 | South Carolina | 42 | 42300 | LEE | 50114 | 0.9187
42 | South Carolina | 42 | 42330 | MARION | 50114 | 0.9187
42 | South Carolina | 42 | 42340 | MARLBORO | 50114 | 0.9187
42 | South Carolina | 42 | 42320 | MCCORMICK | 50114 | 0.9187
42 | South Carolina | 42 | 42350 | NEWBERRY | 50114 | 0.9187
42 | South Carolina | 42 | 42360 | OCONEE | 50114 | 0.9187
42 | South Carolina | 42 | 42370 | ORANGEBURG | 50114 | 0.9187
42 | South Carolina | 42 | 42999 | STATEWIDE | 50114 | 0.9187
42 | South Carolina | 42 | 42430 | UNION | 50114 | 0.9187
42 | South Carolina | 42 | 42440 | WILLIAMSBURG | 50114 | 0.9187
42 | South Carolina | 3160 | 42100 | CHEROKEE | 50237 | 0.9590
44 | Tennessee | 44 | 44010 | BEDFORD | 50121 | 0.8350
44 | Tennessee | 44 | 44020 | BENTON | 50121 | 0.8350
44 | Tennessee | 44 | 44030 | BLEDSOE | 50121 | 0.8350
44 | Tennessee | 44 | 44060 | CAMPBELL | 50121 | 0.8350
44 | Tennessee | 44 | 44080 | CARROLL | 50121 | 0.8350
44 | Tennessee | 44 | 44120 | CLAIBORNE | 50121 | 0.8350
44 | Tennessee | 44 | 44130 | CLAY | 50121 | 0.8350
44 | Tennessee | 44 | 44140 | COCKE | 50121 | 0.8350
44 | Tennessee | 44 | 44150 | COFFEE | 50121 | 0.8350
44 | Tennessee | 44 | 44160 | CROCKETT | 50121 | 0.8350
44 | Tennessee | 44 | 44170 | CUMBERLAND | 50121 | 0.8350
44 | Tennessee | 44 | 44200 | DE KALB | 50121 | 0.8350
44 | Tennessee | 44 | 44190 | DECATUR | 50121 | 0.8350
44 | Tennessee | 44 | 44220 | DYER | 50121 | 0.8350
44 | Tennessee | 44 | 44240 | FENTRESS | 50121 | 0.8350
44 | Tennessee | 44 | 44250 | FRANKLIN | 50121 | 0.8350
44 | Tennessee | 44 | 44260 | GIBSON | 50121 | 0.8350
44 | Tennessee | 44 | 44270 | GILES | 50121 | 0.8350
44 | Tennessee | 44 | 44290 | GREENE | 50121 | 0.8350
44 | Tennessee | 44 | 44300 | GRUNDY | 50121 | 0.8350
44 | Tennessee | 44 | 44330 | HANCOCK | 50121 | 0.8350
44 | Tennessee | 44 | 44340 | HARDEMAN | 50121 | 0.8350
44 | Tennessee | 44 | 44350 | HARDIN | 50121 | 0.8350
44 | Tennessee | 44 | 44370 | HAYWOOD | 50121 | 0.8350
44 | Tennessee | 44 | 44380 | HENDERSON | 50121 | 0.8350
44 | Tennessee | 44 | 44390 | HENRY | 50121 | 0.8350
44 | Tennessee | 44 | 44410 | HOUSTON | 50121 | 0.8350
44 | Tennessee | 44 | 44420 | HUMPHREYS | 50121 | 0.8350
44 | Tennessee | 44 | 44430 | JACKSON | 50121 | 0.8350
44 | Tennessee | 44 | 44450 | JOHNSON | 50121 | 0.8350
44 | Tennessee | 44 | 44470 | LAKE | 50121 | 0.8350
44 | Tennessee | 44 | 44480 | LAUDERDALE | 50121 | 0.8350
44 | Tennessee | 44 | 44490 | LAWRENCE | 50121 | 0.8350
44 | Tennessee | 44 | 44500 | LEWIS | 50121 | 0.8350
44 | Tennessee | 44 | 44510 | LINCOLN | 50121 | 0.8350
44 | Tennessee | 44 | 44580 | MARSHALL | 50121 | 0.8350
44 | Tennessee | 44 | 44590 | MAURY | 50121 | 0.8350
44 | Tennessee | 44 | 44530 | MC MINN | 50121 | 0.8350
44 | Tennessee | 44 | 44540 | MC NAIRY | 50121 | 0.8350
44 | Tennessee | 44 | 44600 | MEIGS | 50121 | 0.8350
44 | Tennessee | 44 | 44610 | MONROE | 50121 | 0.8350
44 | Tennessee | 44 | 44630 | MOORE | 50121 | 0.8350
44 | Tennessee | 44 | 44640 | MORGAN | 50121 | 0.8350
44 | Tennessee | 44 | 44650 | OBION | 50121 | 0.8350
44 | Tennessee | 44 | 44660 | OVERTON | 50121 | 0.8350
44 | Tennessee | 44 | 44670 | PERRY | 50121 | 0.8350
44 | Tennessee | 44 | 44680 | PICKETT | 50121 | 0.8350
44 | Tennessee | 44 | 44700 | PUTNAM | 50121 | 0.8350
44 | Tennessee | 44 | 44710 | RHEA | 50121 | 0.8350
44 | Tennessee | 44 | 44720 | ROANE | 50121 | 0.8350
44 | Tennessee | 44 | 44750 | SCOTT | 50121 | 0.8350
44 | Tennessee | 44 | 44999 | STATEWIDE | 50121 | 0.8350
44 | Tennessee | 44 | 44870 | VAN BUREN | 50121 | 0.8350
44 | Tennessee | 44 | 44880 | WARREN | 50121 | 0.8350
44 | Tennessee | 44 | 44900 | WAYNE | 50121 | 0.8350
44 | Tennessee | 44 | 44910 | WEAKLEY | 50121 | 0.8350
44 | Tennessee | 44 | 44920 | WHITE | 50121 | 0.8350
44 | Tennessee | 3840 | 44770 | SEVIER | 50255 | 0.8685
45 | Texas | 45 | 45000 | ANDERSON | 50125 | 0.8420
45 | Texas | 45 | 45010 | ANDREWS | 50125 | 0.8420
45 | Texas | 45 | 45020 | ANGELINA | 50125 | 0.8420
45 | Texas | 45 | 45080 | BAILEY | 50125 | 0.8420
45 | Texas | 45 | 45110 | BAYLOR | 50125 | 0.8420
45 | Texas | 45 | 45113 | BEE | 50125 | 0.8420
45 | Texas | 45 | 45140 | BLANCO | 50125 | 0.8420
45 | Texas | 45 | 45150 | BORDEN | 50125 | 0.8420
45 | Texas | 45 | 45160 | BOSQUE | 50125 | 0.8420
45 | Texas | 45 | 45200 | BREWSTER | 50125 | 0.8420
45 | Texas | 45 | 45201 | BRISCOE | 50125 | 0.8420
45 | Texas | 45 | 45210 | BROOKS | 50125 | 0.8420
45 | Texas | 45 | 45220 | BROWN | 50125 | 0.8420
45 | Texas | 45 | 45222 | BURNET | 50125 | 0.8420
45 | Texas | 45 | 45250 | CAMP | 50125 | 0.8420
45 | Texas | 45 | 45260 | CASS | 50125 | 0.8420
45 | Texas | 45 | 45270 | CASTRO | 50125 | 0.8420
45 | Texas | 45 | 45281 | CHEROKEE | 50125 | 0.8420
45 | Texas | 45 | 45290 | CHILDRESS | 50125 | 0.8420
45 | Texas | 45 | 45292 | COCHRAN | 50125 | 0.8420
45 | Texas | 45 | 45300 | COKE | 50125 | 0.8420
45 | Texas | 45 | 45301 | COLEMAN | 50125 | 0.8420
45 | Texas | 45 | 45311 | COLLINGSWORTH | 50125 | 0.8420
45 | Texas | 45 | 45312 | COLORADO | 50125 | 0.8420
45 | Texas | 45 | 45321 | COMANCHE | 50125 | 0.8420
45 | Texas | 45 | 45330 | CONCHO | 50125 | 0.8420
45 | Texas | 45 | 45340 | COOKE | 50125 | 0.8420
45 | Texas | 45 | 45350 | COTTLE | 50125 | 0.8420
45 | Texas | 45 | 45360 | CRANE | 50125 | 0.8420
45 | Texas | 45 | 45361 | CROCKETT | 50125 | 0.8420
45 | Texas | 45 | 45370 | CULBERSON | 50125 | 0.8420
45 | Texas | 45 | 45380 | DALLAM | 50125 | 0.8420
45 | Texas | 45 | 45391 | DAWSON | 50125 | 0.8420
45 | Texas | 45 | 45420 | DE WITT | 50125 | 0.8420
45 | Texas | 45 | 45392 | DEAF SMITH | 50125 | 0.8420
45 | Texas | 45 | 45421 | DICKENS | 50125 | 0.8420
45 | Texas | 45 | 45430 | DIMMIT | 50125 | 0.8420
45 | Texas | 45 | 45431 | DONLEY | 50125 | 0.8420
45 | Texas | 45 | 45440 | DUVAL | 50125 | 0.8420
45 | Texas | 45 | 45450 | EASTLAND | 50125 | 0.8420
45 | Texas | 45 | 45460 | EDWARDS | 50125 | 0.8420
45 | Texas | 45 | 45490 | ERATH | 50125 | 0.8420
45 | Texas | 45 | 45500 | FALLS | 50125 | 0.8420
45 | Texas | 45 | 45510 | FANNIN | 50125 | 0.8420
45 | Texas | 45 | 45511 | FAYETTE | 50125 | 0.8420
45 | Texas | 45 | 45520 | FISHER | 50125 | 0.8420
45 | Texas | 45 | 45521 | FLOYD | 50125 | 0.8420
45 | Texas | 45 | 45522 | FOARD | 50125 | 0.8420
45 | Texas | 45 | 45531 | FRANKLIN | 50125 | 0.8420
45 | Texas | 45 | 45540 | FREESTONE | 50125 | 0.8420
45 | Texas | 45 | 45541 | FRIO | 50125 | 0.8420
45 | Texas | 45 | 45542 | GAINES | 50125 | 0.8420
45 | Texas | 45 | 45551 | GARZA | 50125 | 0.8420
45 | Texas | 45 | 45552 | GILLESPIE | 50125 | 0.8420
45 | Texas | 45 | 45560 | GLASSCOCK | 50125 | 0.8420
45 | Texas | 45 | 45562 | GONZALES | 50125 | 0.8420
45 | Texas | 45 | 45563 | GRAY | 50125 | 0.8420
45 | Texas | 45 | 45580 | GRIMES | 50125 | 0.8420
45 | Texas | 45 | 45582 | HALE | 50125 | 0.8420
45 | Texas | 45 | 45583 | HALL | 50125 | 0.8420
45 | Texas | 45 | 45590 | HAMILTON | 50125 | 0.8420
45 | Texas | 45 | 45591 | HANSFORD | 50125 | 0.8420
45 | Texas | 45 | 45592 | HARDEMAN | 50125 | 0.8420
45 | Texas | 45 | 45621 | HARTLEY | 50125 | 0.8420
45 | Texas | 45 | 45630 | HASKELL | 50125 | 0.8420
45 | Texas | 45 | 45632 | HEMPHILL | 50125 | 0.8420
45 | Texas | 45 | 45651 | HILL | 50125 | 0.8420
45 | Texas | 45 | 45652 | HOCKLEY | 50125 | 0.8420
45 | Texas | 45 | 45654 | HOPKINS | 50125 | 0.8420
45 | Texas | 45 | 45660 | HOUSTON | 50125 | 0.8420
45 | Texas | 45 | 45661 | HOWARD | 50125 | 0.8420
45 | Texas | 45 | 45662 | HUDSPETH | 50125 | 0.8420
45 | Texas | 45 | 45671 | HUTCHINSON | 50125 | 0.8420
45 | Texas | 45 | 45680 | JACK | 50125 | 0.8420
45 | Texas | 45 | 45681 | JACKSON | 50125 | 0.8420
45 | Texas | 45 | 45690 | JASPER | 50125 | 0.8420
45 | Texas | 45 | 45691 | JEFF DAVIS | 50125 | 0.8420
45 | Texas | 45 | 45710 | JIM HOGG | 50125 | 0.8420
45 | Texas | 45 | 45711 | JIM WELLS | 50125 | 0.8420
45 | Texas | 45 | 45722 | KARNES | 50125 | 0.8420
45 | Texas | 45 | 45732 | KENEDY | 50125 | 0.8420
45 | Texas | 45 | 45733 | KENT | 50125 | 0.8420
45 | Texas | 45 | 45734 | KERR | 50125 | 0.8420
45 | Texas | 45 | 45740 | KIMBLE | 50125 | 0.8420
45 | Texas | 45 | 45741 | KING | 50125 | 0.8420
45 | Texas | 45 | 45742 | KINNEY | 50125 | 0.8420
45 | Texas | 45 | 45743 | KLEBERG | 50125 | 0.8420
45 | Texas | 45 | 45744 | KNOX | 50125 | 0.8420
45 | Texas | 45 | 45753 | LA SALLE | 50125 | 0.8420
45 | Texas | 45 | 45750 | LAMAR | 50125 | 0.8420
45 | Texas | 45 | 45751 | LAMB | 50125 | 0.8420
45 | Texas | 45 | 45754 | LAVACA | 50125 | 0.8420
45 | Texas | 45 | 45755 | LEE | 50125 | 0.8420
45 | Texas | 45 | 45756 | LEON | 50125 | 0.8420
45 | Texas | 45 | 45758 | LIMESTONE | 50125 | 0.8420
45 | Texas | 45 | 45759 | LIPSCOMB | 50125 | 0.8420
45 | Texas | 45 | 45760 | LIVE OAK | 50125 | 0.8420
45 | Texas | 45 | 45761 | LLANO | 50125 | 0.8420
45 | Texas | 45 | 45762 | LOVING | 50125 | 0.8420
45 | Texas | 45 | 45771 | LYNN | 50125 | 0.8420
45 | Texas | 45 | 45782 | MADISON | 50125 | 0.8420
45 | Texas | 45 | 45783 | MARION | 50125 | 0.8420
45 | Texas | 45 | 45784 | MARTIN | 50125 | 0.8420
45 | Texas | 45 | 45785 | MASON | 50125 | 0.8420
45 | Texas | 45 | 45790 | MATAGORDA | 50125 | 0.8420
45 | Texas | 45 | 45791 | MAVERICK | 50125 | 0.8420
45 | Texas | 45 | 45772 | MC CULLOCH | 50125 | 0.8420
45 | Texas | 45 | 45781 | MC MULLEN | 50125 | 0.8420
45 | Texas | 45 | 45793 | MENARD | 50125 | 0.8420
45 | Texas | 45 | 45795 | MILAM | 50125 | 0.8420
45 | Texas | 45 | 45796 | MILLS | 50125 | 0.8420
45 | Texas | 45 | 45797 | MITCHELL | 50125 | 0.8420
45 | Texas | 45 | 45800 | MONTAGUE | 50125 | 0.8420
45 | Texas | 45 | 45802 | MOORE | 50125 | 0.8420
45 | Texas | 45 | 45803 | MORRIS | 50125 | 0.8420
45 | Texas | 45 | 45804 | MOTLEY | 50125 | 0.8420
45 | Texas | 45 | 45810 | NACOGDOCHES | 50125 | 0.8420
45 | Texas | 45 | 45820 | NAVARRO | 50125 | 0.8420
45 | Texas | 45 | 45821 | NEWTON | 50125 | 0.8420
45 | Texas | 45 | 45822 | NOLAN | 50125 | 0.8420
45 | Texas | 45 | 45831 | OCHILTREE | 50125 | 0.8420
45 | Texas | 45 | 45832 | OLDHAM | 50125 | 0.8420
45 | Texas | 45 | 45841 | PALO PINTO | 50125 | 0.8420
45 | Texas | 45 | 45842 | PANOLA | 50125 | 0.8420
45 | Texas | 45 | 45844 | PARMER | 50125 | 0.8420
45 | Texas | 45 | 45845 | PECOS | 50125 | 0.8420
45 | Texas | 45 | 45850 | POLK | 50125 | 0.8420
45 | Texas | 45 | 45861 | PRESIDIO | 50125 | 0.8420
45 | Texas | 45 | 45870 | RAINS | 50125 | 0.8420
45 | Texas | 45 | 45872 | REAGAN | 50125 | 0.8420
45 | Texas | 45 | 45873 | REAL | 50125 | 0.8420
45 | Texas | 45 | 45874 | RED RIVER | 50125 | 0.8420
45 | Texas | 45 | 45875 | REEVES | 50125 | 0.8420
45 | Texas | 45 | 45876 | REFUGIO | 50125 | 0.8420
45 | Texas | 45 | 45877 | ROBERTS | 50125 | 0.8420
45 | Texas | 45 | 45880 | RUNNELS | 50125 | 0.8420
45 | Texas | 45 | 45882 | SABINE | 50125 | 0.8420
45 | Texas | 45 | 45883 | SAN AUGUSTINE | 50125 | 0.8420
45 | Texas | 45 | 45886 | SAN SABA | 50125 | 0.8420
45 | Texas | 45 | 45887 | SCHLEICHER | 50125 | 0.8420
45 | Texas | 45 | 45888 | SCURRY | 50125 | 0.8420
45 | Texas | 45 | 45889 | SHACKELFORD | 50125 | 0.8420
45 | Texas | 45 | 45890 | SHELBY | 50125 | 0.8420
45 | Texas | 45 | 45891 | SHERMAN | 50125 | 0.8420
45 | Texas | 45 | 45893 | SOMERVELL | 50125 | 0.8420
45 | Texas | 45 | 45900 | STARR | 50125 | 0.8420
45 | Texas | 45 | 45999 | STATEWIDE | 50125 | 0.8420
45 | Texas | 45 | 45901 | STEPHENS | 50125 | 0.8420
45 | Texas | 45 | 45902 | STERLING | 50125 | 0.8420
45 | Texas | 45 | 45903 | STONEWALL | 50125 | 0.8420
45 | Texas | 45 | 45904 | SUTTON | 50125 | 0.8420
45 | Texas | 45 | 45905 | SWISHER | 50125 | 0.8420
45 | Texas | 45 | 45912 | TERRELL | 50125 | 0.8420
45 | Texas | 45 | 45913 | TERRY | 50125 | 0.8420
45 | Texas | 45 | 45920 | THROCKMORTON | 50125 | 0.8420
45 | Texas | 45 | 45921 | TITUS | 50125 | 0.8420
45 | Texas | 45 | 45941 | TRINITY | 50125 | 0.8420
45 | Texas | 45 | 45942 | TYLER | 50125 | 0.8420
45 | Texas | 45 | 45944 | UPTON | 50125 | 0.8420
45 | Texas | 45 | 45945 | UVALDE | 50125 | 0.8420
45 | Texas | 45 | 45946 | VAL VERDE | 50125 | 0.8420
45 | Texas | 45 | 45947 | VAN ZANDT | 50125 | 0.8420
45 | Texas | 45 | 45949 | WALKER | 50125 | 0.8420
45 | Texas | 45 | 45951 | WARD | 50125 | 0.8420
45 | Texas | 45 | 45952 | WASHINGTON | 50125 | 0.8420
45 | Texas | 45 | 45954 | WHARTON | 50125 | 0.8420
45 | Texas | 45 | 45955 | WHEELER | 50125 | 0.8420
45 | Texas | 45 | 45961 | WILBARGER | 50125 | 0.8420
45 | Texas | 45 | 45962 | WILLACY | 50125 | 0.8420
45 | Texas | 45 | 45972 | WINKLER | 50125 | 0.8420
45 | Texas | 45 | 45974 | WOOD | 50125 | 0.8420
45 | Texas | 45 | 45980 | YOAKUM | 50125 | 0.8420
45 | Texas | 45 | 45981 | YOUNG | 50125 | 0.8420
45 | Texas | 45 | 45982 | ZAPATA | 50125 | 0.8420
45 | Texas | 45 | 45983 | ZAVALA | 50125 | 0.8420
45 | Texas | 1920 | 45640 | HENDERSON | 50206 | 0.9556
45 | Texas | 2800 | 45653 | HOOD | 50226 | 0.9273
45 | Texas | 4420 | 45620 | HARRISON | 50266 | 0.8859
46 | Utah | 46 | 46000 | BEAVER | 50140 | 0.9084
46 | Utah | 46 | 46010 | BOX ELDER | 50140 | 0.9084
46 | Utah | 46 | 46030 | CARBON | 50140 | 0.9084
46 | Utah | 46 | 46040 | DAGGETT | 50140 | 0.9084
46 | Utah | 46 | 46060 | DUCHESNE | 50140 | 0.9084
46 | Utah | 46 | 46070 | EMERY | 50140 | 0.9084
46 | Utah | 46 | 46080 | GARFIELD | 50140 | 0.9084
46 | Utah | 46 | 46090 | GRAND | 50140 | 0.9084
46 | Utah | 46 | 46100 | IRON | 50140 | 0.9084
46 | Utah | 46 | 46130 | MILLARD | 50140 | 0.9084
46 | Utah | 46 | 46150 | PIUTE | 50140 | 0.9084
46 | Utah | 46 | 46160 | RICH | 50140 | 0.9084
46 | Utah | 46 | 46180 | SAN JUAN | 50140 | 0.9084
46 | Utah | 46 | 46190 | SANPETE | 50140 | 0.9084
46 | Utah | 46 | 46200 | SEVIER | 50140 | 0.9084
46 | Utah | 46 | 46999 | STATEWIDE | 50140 | 0.9084
46 | Utah | 46 | 46230 | UINTAH | 50140 | 0.9084
46 | Utah | 46 | 46250 | WASATCH | 50140 | 0.9084
46 | Utah | 46 | 46270 | WAYNE | 50140 | 0.9084
46 | Utah | 2620 | 46120 | KANE | 50222 | 1.0022
49 | Virginia | 49 | 49000 | ACCOMACK | 50145 | 0.8765
49 | Virginia | 49 | 49020 | ALLEGHANY | 50145 | 0.8765
49 | Virginia | 49 | 49070 | AUGUSTA | 50145 | 0.8765
49 | Virginia | 49 | 49080 | BATH | 50145 | 0.8765
49 | Virginia | 49 | 49100 | BLAND | 50145 | 0.8765
49 | Virginia | 49 | 49120 | BRUNSWICK | 50145 | 0.8765
49 | Virginia | 49 | 49130 | BUCHANAN | 50145 | 0.8765
49 | Virginia | 49 | 49140 | BUCKINGHAM | 50145 | 0.8765
49 | Virginia | 49 | 49141 | BUENA VISTA CITY | 50145 | 0.8765
49 | Virginia | 49 | 49170 | CARROLL | 50145 | 0.8765
49 | Virginia | 49 | 49190 | CHARLOTTE | 50145 | 0.8765
49 | Virginia | 49 | 49211 | CLIFTON FORGE CITY | 50145 | 0.8765
49 | Virginia | 49 | 49213 | COVINGTON CITY | 50145 | 0.8765
49 | Virginia | 49 | 49250 | DICKENSON | 50145 | 0.8765
49 | Virginia | 49 | 49270 | EMPORIA CITY | 50145 | 0.8765
49 | Virginia | 49 | 49280 | ESSEX | 50145 | 0.8765
49 | Virginia | 49 | 49310 | FLOYD | 50145 | 0.8765
49 | Virginia | 49 | 49328 | FRANKLIN CITY | 50145 | 0.8765
49 | Virginia | 49 | 49343 | GALAX CITY | 50145 | 0.8765
49 | Virginia | 49 | 49380 | GRAYSON | 50145 | 0.8765
49 | Virginia | 49 | 49400 | GREENSVILLE | 50145 | 0.8765
49 | Virginia | 49 | 49410 | HALIFAX | 50145 | 0.8765
49 | Virginia | 49 | 49440 | HENRY | 50145 | 0.8765
49 | Virginia | 49 | 49450 | HIGHLAND | 50145 | 0.8765
49 | Virginia | 49 | 49510 | LANCASTER | 50145 | 0.8765
49 | Virginia | 49 | 49520 | LEE | 50145 | 0.8765
49 | Virginia | 49 | 49522 | LEXINGTON CITY | 50145 | 0.8765
49 | Virginia | 49 | 49550 | LUNENBURG | 50145 | 0.8765
49 | Virginia | 49 | 49560 | MADISON | 50145 | 0.8765
49 | Virginia | 49 | 49561 | MARTINSVILLE CITY | 50145 | 0.8765
49 | Virginia | 49 | 49580 | MECKLENBURG | 50145 | 0.8765
49 | Virginia | 49 | 49590 | MIDDLESEX | 50145 | 0.8765
49 | Virginia | 49 | 49610 | NANSEMOND CITY | 50145 | 0.8765
49 | Virginia | 49 | 49650 | NORTHAMPTON | 50145 | 0.8765
49 | Virginia | 49 | 49660 | NORTHUMBERLND | 50145 | 0.8765
49 | Virginia | 49 | 49661 | NORTON CITY | 50145 | 0.8765
49 | Virginia | 49 | 49670 | NOTTOWAY | 50145 | 0.8765
49 | Virginia | 49 | 49680 | ORANGE | 50145 | 0.8765
49 | Virginia | 49 | 49690 | PAGE | 50145 | 0.8765
49 | Virginia | 49 | 49700 | PATRICK | 50145 | 0.8765
49 | Virginia | 49 | 49730 | PRINCE EDWARD | 50145 | 0.8765
49 | Virginia | 49 | 49780 | RAPPAHANNOCK | 50145 | 0.8765
49 | Virginia | 49 | 49790 | RICHMOND | 50145 | 0.8765
49 | Virginia | 49 | 49810 | ROCKBRIDGE | 50145 | 0.8765
49 | Virginia | 49 | 49830 | RUSSELL | 50145 | 0.8765
49 | Virginia | 49 | 49850 | SHENANDOAH | 50145 | 0.8765
49 | Virginia | 49 | 49860 | SMYTH | 50145 | 0.8765
49 | Virginia | 49 | 49867 | SOUTH BOSTON CITY | 50145 | 0.8765
49 | Virginia | 49 | 49870 | SOUTHAMPTON | 50145 | 0.8765
49 | Virginia | 49 | 49999 | STATEWIDE | 50145 | 0.8765
49 | Virginia | 49 | 49891 | STAUNTON CITY | 50145 | 0.8765
49 | Virginia | 49 | 49920 | TAZEWELL | 50145 | 0.8765
49 | Virginia | 49 | 49951 | WAYNESBORO CITY | 50145 | 0.8765
49 | Virginia | 49 | 49960 | WESTMORELAND | 50145 | 0.8765
49 | Virginia | 49 | 49970 | WISE | 50145 | 0.8765
49 | Virginia | 49 | 49980 | WYTHE | 50145 | 0.8765
49 | Virginia | 8840 | 49230 | CULPEPER | 50344 | 1.0086
49 | Virginia | 8840 | 49490 | KING GEORGE | 50344 | 1.0086
50 | Washington | 50 | 50000 | ADAMS | 50152 | 1.0810
50 | Washington | 50 | 50040 | CLALLAM | 50152 | 1.0810
50 | Washington | 50 | 50060 | COLUMBIA | 50152 | 1.0810
50 | Washington | 50 | 50090 | FERRY | 50152 | 1.0810
50 | Washington | 50 | 50110 | GARFIELD | 50152 | 1.0810
50 | Washington | 50 | 50120 | GRANT | 50152 | 1.0810
50 | Washington | 50 | 50130 | GRAYS HARBOR | 50152 | 1.0810
50 | Washington | 50 | 50150 | JEFFERSON | 50152 | 1.0810
50 | Washington | 50 | 50180 | KITTITAS | 50152 | 1.0810
50 | Washington | 50 | 50190 | KLICKITAT | 50152 | 1.0810
50 | Washington | 50 | 50200 | LEWIS | 50152 | 1.0810
50 | Washington | 50 | 50210 | LINCOLN | 50152 | 1.0810
50 | Washington | 50 | 50220 | MASON | 50152 | 1.0810
50 | Washington | 50 | 50230 | OKANOGAN | 50152 | 1.0810
50 | Washington | 50 | 50240 | PACIFIC | 50152 | 1.0810
50 | Washington | 50 | 50250 | PEND OREILLE | 50152 | 1.0810
50 | Washington | 50 | 50270 | SAN JUAN | 50152 | 1.0810
50 | Washington | 50 | 50999 | STATEWIDE | 50152 | 1.0810
50 | Washington | 50 | 50320 | STEVENS | 50152 | 1.0810
50 | Washington | 50 | 50340 | WAHKIAKUM | 50152 | 1.0810
50 | Washington | 50 | 50350 | WALLA WALLA | 50152 | 1.0810
50 | Washington | 50 | 50370 | WHITMAN | 50152 | 1.0810
50 | Washington | 7600 | 50140 | ISLAND | 50327 | 1.1556
10180 | Abilene, TX | 45 | 45230 | CALLAHAN | 50126 | 0.8358
10180 | Abilene, TX | 45 | 45721 | JONES | 50126 | 0.8358
10180 | Abilene, TX | 0040 | 45911 | TAYLOR | 50161 | 0.8411
10380 | Aguadilla-Isabela-San Sebastian, PR | 40 | 40350 | ISABELA | 50110 | 0.4788
10380 | Aguadilla-Isabela-San Sebastian, PR | 40 | 40400 | LARES | 50110 | 0.4788
10380 | Aguadilla-Isabela-San Sebastian, PR | 40 | 40580 | RINCON | 50110 | 0.4788
10380 | Aguadilla-Isabela-San Sebastian, PR | 40 | 40660 | SAN SEBASTIAN | 50110 | 0.4788
10380 | Aguadilla-Isabela-San Sebastian, PR | 0060 | 40020 | AGUADA | 50162 | 0.4930
10380 | Aguadilla-Isabela-San Sebastian, PR | 0060 | 40030 | AGUADILLA | 50162 | 0.4930
10380 | Aguadilla-Isabela-San Sebastian, PR | 0060 | 40490 | MOCA | 50162 | 0.4930
10380 | Aguadilla-Isabela-San Sebastian, PR | 4840 | 40060 | ANASCO | 50276 | 0.5203
10500 | Albany, GA | 11 | 11020 | BAKER | 50021 | 1.0349
10500 | Albany, GA | 11 | 11885 | TERRELL | 50021 | 1.0349
10500 | Albany, GA | 11 | 11980 | WORTH | 50021 | 1.0349
10500 | Albany, GA | 0120 | 11390 | DOUGHERTY | 50163 | 1.1949
10500 | Albany, GA | 0120 | 11670 | LEE | 50163 | 1.1949
10740 | Albuquerque, NM | 32 | 32280 | TORRANCE | 50090 | 1.0084
10740 | Albuquerque, NM | 0200 | 32000 | BERNALILLO | 50165 | 1.1121
10740 | Albuquerque, NM | 0200 | 32210 | SANDOVAL | 50165 | 1.1121
10740 | Albuquerque, NM | 0200 | 32300 | VALENCIA | 50165 | 1.1121
10780 | Alexandria, LA | 19 | 19210 | GRANT | 50061 | 0.8335
10780 | Alexandria, LA | 0220 | 19390 | RAPIDES | 50166 | 0.8667
10900 | Allentown-Bethlehem-Easton, PA-NJ | 0240 | 39190 | CARBON | 50167 | 1.0096
10900 | Allentown-Bethlehem-Easton, PA-NJ | 0240 | 39470 | LEHIGH | 50167 | 1.0096
10900 | Allentown-Bethlehem-Easton, PA-NJ | 0240 | 39590 | NORTHAMPTON | 50167 | 1.0096
10900 | Allentown-Bethlehem-Easton, PA-NJ | 5640 | 31390 | WARREN | 50288 | 1.1203
11100 | Amarillo, TX | 45 | 45050 | ARMSTRONG | 50127 | 0.9063
11100 | Amarillo, TX | 45 | 45251 | CARSON | 50127 | 0.9063
11100 | Amarillo, TX | 0320 | 45860 | POTTER | 50168 | 0.9735
11100 | Amarillo, TX | 0320 | 45871 | RANDALL | 50168 | 0.9735
11260 | Anchorage, AK | 02 | 02170 | MATANUSKA-SUSITNA | 50006 | 1.2623
11260 | Anchorage, AK | 0380 | 02020 | ANCHORAGE | 50169 | 1.2873
11700 | Asheville, NC | 34 | 34430 | HAYWOOD | 50093 | 0.9382
11700 | Asheville, NC | 34 | 34440 | HENDERSON | 50093 | 0.9382
11700 | Asheville, NC | 0480 | 34100 | BUNCOMBE | 50173 | 0.9913
11700 | Asheville, NC | 0480 | 34570 | MADISON | 50173 | 0.9913
12020 | Athens-Clarke County, GA | 11 | 11801 | OGLETHORPE | 50022 | 0.9784
12020 | Athens-Clarke County, GA | 0500 | 11260 | CLARKE | 50174 | 1.0821
12020 | Athens-Clarke County, GA | 0500 | 11720 | MADISON | 50174 | 1.0821
12020 | Athens-Clarke County, GA | 0500 | 11800 | OCONEE | 50174 | 1.0821
12060 | Atlanta-Sandy Springs-Marietta, GA | 11 | 11160 | BUTTS | 50023 | 0.9662
12060 | Atlanta-Sandy Springs-Marietta, GA | 11 | 11350 | DAWSON | 50023 | 0.9662
12060 | Atlanta-Sandy Springs-Marietta, GA | 11 | 11570 | HARALSON | 50023 | 0.9662
12060 | Atlanta-Sandy Springs-Marietta, GA | 11 | 11590 | HEARD | 50023 | 0.9662
12060 | Atlanta-Sandy Springs-Marietta, GA | 11 | 11611 | JASPER | 50023 | 0.9662
12060 | Atlanta-Sandy Springs-Marietta, GA | 11 | 11651 | LAMAR | 50023 | 0.9662
12060 | Atlanta-Sandy Springs-Marietta, GA | 11 | 11740 | MERIWETHER | 50023 | 0.9662
12060 | Atlanta-Sandy Springs-Marietta, GA | 11 | 11821 | PIKE | 50023 | 0.9662
12060 | Atlanta-Sandy Springs-Marietta, GA | 0520 | 11050 | BARROW | 50175 | 1.0576
12060 | Atlanta-Sandy Springs-Marietta, GA | 0520 | 11060 | BARTOW | 50175 | 1.0576
12060 | Atlanta-Sandy Springs-Marietta, GA | 0520 | 11190 | CARROLL | 50175 | 1.0576
12060 | Atlanta-Sandy Springs-Marietta, GA | 0520 | 11250 | CHEROKEE | 50175 | 1.0576
12060 | Atlanta-Sandy Springs-Marietta, GA | 0520 | 11280 | CLAYTON | 50175 | 1.0576
12060 | Atlanta-Sandy Springs-Marietta, GA | 0520 | 11290 | COBB | 50175 | 1.0576
12060 | Atlanta-Sandy Springs-Marietta, GA | 0520 | 11320 | COWETA | 50175 | 1.0576
12060 | Atlanta-Sandy Springs-Marietta, GA | 0520 | 11370 | DE KALB | 50175 | 1.0576
12060 | Atlanta-Sandy Springs-Marietta, GA | 0520 | 11400 | DOUGLAS | 50175 | 1.0576
12060 | Atlanta-Sandy Springs-Marietta, GA | 0520 | 11451 | FAYETTE | 50175 | 1.0576
12060 | Atlanta-Sandy Springs-Marietta, GA | 0520 | 11461 | FORSYTH | 50175 | 1.0576
12060 | Atlanta-Sandy Springs-Marietta, GA | 0520 | 11470 | FULTON | 50175 | 1.0576
12060 | Atlanta-Sandy Springs-Marietta, GA | 0520 | 11530 | GWINNETT | 50175 | 1.0576
12060 | Atlanta-Sandy Springs-Marietta, GA | 0520 | 11591 | HENRY | 50175 | 1.0576
12060 | Atlanta-Sandy Springs-Marietta, GA | 0520 | 11790 | NEWTON | 50175 | 1.0576
12060 | Atlanta-Sandy Springs-Marietta, GA | 0520 | 11810 | PAULDING | 50175 | 1.0576
12060 | Atlanta-Sandy Springs-Marietta, GA | 0520 | 11812 | PICKENS | 50175 | 1.0576
12060 | Atlanta-Sandy Springs-Marietta, GA | 0520 | 11841 | ROCKDALE | 50175 | 1.0576
12060 | Atlanta-Sandy Springs-Marietta, GA | 0520 | 11860 | SPALDING | 50175 | 1.0576
12060 | Atlanta-Sandy Springs-Marietta, GA | 0520 | 11930 | WALTON | 50175 | 1.0576
12260 | Augusta-Richmond County, GA-SC | 11 | 11150 | BURKE | 50024 | 0.9228
12260 | Augusta-Richmond County, GA-SC | 0600 | 42010 | AIKEN | 50176 | 0.9738
12260 | Augusta-Richmond County, GA-SC | 0600 | 11310 | COLUMBIA | 50176 | 0.9738
12260 | Augusta-Richmond County, GA-SC | 0600 | 42180 | EDGEFIELD | 50176 | 0.9738
12260 | Augusta-Richmond County, GA-SC | 0600 | 11702 | MC DUFFIE | 50176 | 0.9738
12260 | Augusta-Richmond County, GA-SC | 0600 | 11840 | RICHMOND | 50176 | 0.9738
12940 | Baton Rouge, LA | 19 | 19180 | EAST FELICIANA | 50062 | 0.8413
12940 | Baton Rouge, LA | 19 | 19230 | IBERVILLE | 50062 | 0.8413
12940 | Baton Rouge, LA | 19 | 19380 | POINTE COUPEE | 50062 | 0.8413
12940 | Baton Rouge, LA | 19 | 19450 | ST. HELENA | 50062 | 0.8413
12940 | Baton Rouge, LA | 19 | 19620 | WEST FELICIANA | 50062 | 0.8413
12940 | Baton Rouge, LA | 0760 | 19020 | ASCENSION | 50177 | 0.8842
12940 | Baton Rouge, LA | 0760 | 19160 | E. BATON ROUGE | 50177 | 0.8842
12940 | Baton Rouge, LA | 0760 | 19310 | LIVINGSTON | 50177 | 0.8842
12940 | Baton Rouge, LA | 0760 | 19600 | W. BATON ROUGE | 50177 | 0.8842
13740 | Billings, MT | 27 | 27040 | CARBON | 50083 | 0.9367
13740 | Billings, MT | 0880 | 27550 | YELLOWSTONE | 50179 | 0.9505
13820 | Birmingham-Hoover, AL | 01 | 01030 | BIBB | 50002 | 0.8907
13820 | Birmingham-Hoover, AL | 01 | 01100 | CHILTON | 50002 | 0.8907
13820 | Birmingham-Hoover, AL | 01 | 01630 | WALKER | 50002 | 0.8907
13820 | Birmingham-Hoover, AL | 1000 | 01040 | BLOUNT | 50182 | 0.9734
13820 | Birmingham-Hoover, AL | 1000 | 01360 | JEFFERSON | 50182 | 0.9734
13820 | Birmingham-Hoover, AL | 1000 | 01580 | SHELBY | 50182 | 0.9734
13820 | Birmingham-Hoover, AL | 1000 | 01570 | ST. CLAIR | 50182 | 0.9734
14020 | Bloomington, IN | 15 | 15270 | GREENE | 50037 | 0.9187
14020 | Bloomington, IN | 15 | 15590 | OWEN | 50037 | 0.9187
14020 | Bloomington, IN | 1020 | 15520 | MONROE | 50183 | 0.9108
14260 | Boise City-Nampa, ID | 13 | 13070 | BOISE | 50027 | 0.9640
14260 | Boise City-Nampa, ID | 13 | 13220 | GEM | 50027 | 0.9640
14260 | Boise City-Nampa, ID | 13 | 13360 | OWYHEE | 50027 | 0.9640
14260 | Boise City-Nampa, ID | 1080 | 13000 | ADA | 50184 | 0.9919
14260 | Boise City-Nampa, ID | 1080 | 13130 | CANYON | 50184 | 0.9919
16300 | Cedar Rapids, IA | 16 | 16050 | BENTON | 50045 | 0.9294
16300 | Cedar Rapids, IA | 16 | 16520 | JONES | 50045 | 0.9294
16300 | Cedar Rapids, IA | 1360 | 16560 | LINN | 50189 | 0.9519
16580 | Champaign-Urbana, IL | 14 | 14350 | FORD | 50032 | 0.9476
16580 | Champaign-Urbana, IL | 14 | 14820 | PIATT | 50032 | 0.9476
16580 | Champaign-Urbana, IL | 1400 | 14090 | CHAMPAIGN | 50190 | 1.0105
16620 | Charleston, WV | 51 | 51020 | BOONE | 50155 | 0.8994
16620 | Charleston, WV | 51 | 51070 | CLAY | 50155 | 0.8994
16620 | Charleston, WV | 51 | 51210 | LINCOLN | 50155 | 0.8994
16620 | Charleston, WV | 1480 | 51190 | KANAWHA | 50191 | 0.9414
16620 | Charleston, WV | 1480 | 51390 | PUTNAM | 50191 | 0.9414
16740 | Charlotte-Gastonia-Concord, NC-SC | 34 | 34030 | ANSON | 50094 | 0.9675
16740 | Charlotte-Gastonia-Concord, NC-SC | 1520 | 34120 | CABARRUS | 50193 | 1.0317
16740 | Charlotte-Gastonia-Concord, NC-SC | 1520 | 34350 | GASTON | 50193 | 1.0317
16740 | Charlotte-Gastonia-Concord, NC-SC | 1520 | 34590 | MECKLENBURG | 50193 | 1.0317
16740 | Charlotte-Gastonia-Concord, NC-SC | 1520 | 34890 | UNION | 50193 | 1.0317
16740 | Charlotte-Gastonia-Concord, NC-SC | 1520 | 42450 | YORK | 50193 | 1.0317
16820 | Charlottesville, VA | 49 | 49620 | NELSON | 50146 | 0.9956
16820 | Charlottesville, VA | 1540 | 49010 | ALBEMARLE | 50194 | 1.0918
16820 | Charlottesville, VA | 1540 | 49191 | CHARLOTTESVILLE CITY | 50194 | 1.0918
16820 | Charlottesville, VA | 1540 | 49320 | FLUVANNA | 50194 | 1.0918
16820 | Charlottesville, VA | 1540 | 49390 | GREENE | 50194 | 1.0918
16860 | Chattanooga, TN-GA | 44 | 44760 | SEQUATCHIE | 50122 | 0.9060
16860 | Chattanooga, TN-GA | 1560 | 11200 | CATOOSA | 50195 | 0.9766
16860 | Chattanooga, TN-GA | 1560 | 11341 | DADE | 50195 | 0.9766
16860 | Chattanooga, TN-GA | 1560 | 44320 | HAMILTON | 50195 | 0.9766
16860 | Chattanooga, TN-GA | 1560 | 44570 | MARION | 50195 | 0.9766
16860 | Chattanooga, TN-GA | 1560 | 11921 | WALKER | 50195 | 0.9766
17140 | Cincinnati-Middletown, OH-KY-IN | 15 | 15230 | FRANKLIN | 50038 | 0.9680
17140 | Cincinnati-Middletown, OH-KY-IN | 18 | 18110 | BRACKEN | 50055 | 0.9207
17140 | Cincinnati-Middletown, OH-KY-IN | 1640 | 18070 | BOONE | 50197 | 1.0135
17140 | Cincinnati-Middletown, OH-KY-IN | 1640 | 36070 | BROWN | 50197 | 1.0135
17140 | Cincinnati-Middletown, OH-KY-IN | 1640 | 18180 | CAMPBELL | 50197 | 1.0135
17140 | Cincinnati-Middletown, OH-KY-IN | 1640 | 36120 | CLERMONT | 50197 | 1.0135
17140 | Cincinnati-Middletown, OH-KY-IN | 1640 | 15140 | DEARBORN | 50197 | 1.0135
17140 | Cincinnati-Middletown, OH-KY-IN | 1640 | 18362 | GALLATIN | 50197 | 1.0135
17140 | Cincinnati-Middletown, OH-KY-IN | 1640 | 18400 | GRANT | 50197 | 1.0135
17140 | Cincinnati-Middletown, OH-KY-IN | 1640 | 36310 | HAMILTON | 50197 | 1.0135
17140 | Cincinnati-Middletown, OH-KY-IN | 1640 | 18580 | KENTON | 50197 | 1.0135
17140 | Cincinnati-Middletown, OH-KY-IN | 1640 | 15570 | OHIO | 50197 | 1.0135
17140 | Cincinnati-Middletown, OH-KY-IN | 1640 | 18932 | PENDLETON | 50197 | 1.0135
17140 | Cincinnati-Middletown, OH-KY-IN | 1640 | 36840 | WARREN | 50197 | 1.0135
17140 | Cincinnati-Middletown, OH-KY-IN | 3200 | 36080 | BUTLER | 50240 | 0.9855
17300 | Clarksville, TN-KY | 18 | 18983 | TRIGG | 50056 | 0.8414
17300 | Clarksville, TN-KY | 44 | 44800 | STEWART | 50123 | 0.8431
17300 | Clarksville, TN-KY | 1660 | 18230 | CHRISTIAN | 50198 | 0.8509
17300 | Clarksville, TN-KY | 1660 | 44620 | MONTGOMERY | 50198 | 0.8509
17780 | College Station-Bryan, TX | 45 | 45221 | BURLESON | 50128 | 0.9097
17780 | College Station-Bryan, TX | 45 | 45878 | ROBERTSON | 50128 | 0.9097
17780 | College Station-Bryan, TX | 1260 | 45190 | BRAZOS | 50187 | 0.9804
17820 | Colorado Springs, CO | 06 | 06590 | TELLER | 50014 | 1.0161
17820 | Colorado Springs, CO | 1720 | 06200 | EL PASO | 50200 | 1.0386
17860 | Columbia, MO | 26 | 26440 | HOWARD | 50077 | 0.8605
17860 | Columbia, MO | 1740 | 26090 | BOONE | 50201 | 0.8905
17900 | Columbia, SC | 42 | 42080 | CALHOUN | 50115 | 0.9563
17900 | Columbia, SC | 42 | 42190 | FAIRFIELD | 50115 | 0.9563
17900 | Columbia, SC | 42 | 42270 | KERSHAW | 50115 | 0.9563
17900 | Columbia, SC | 42 | 42400 | SALUDA | 50115 | 0.9563
17900 | Columbia, SC | 1760 | 42310 | LEXINGTON | 50202 | 0.9993
17900 | Columbia, SC | 1760 | 42390 | RICHLAND | 50202 | 0.9993
17980 | Columbus, GA-AL | 11 | 11730 | MARION | 50025 | 0.8982
17980 | Columbus, GA-AL | 1800 | 11230 | CHATTAHOOCHEE | 50203 | 0.9217
17980 | Columbus, GA-AL | 1800 | 11580 | HARRIS | 50203 | 0.9217
17980 | Columbus, GA-AL | 1800 | 11780 | MUSCOGEE | 50203 | 0.9217
17980 | Columbus, GA-AL | 1800 | 01560 | RUSSELL | 50203 | 0.9217
18140 | Columbus, OH | 36 | 36600 | MORROW | 50101 | 0.9809
18140 | Columbus, OH | 36 | 36810 | UNION | 50101 | 0.9809
18140 | Columbus, OH | 1840 | 36210 | DELAWARE | 50204 | 1.0336
18140 | Columbus, OH | 1840 | 36230 | FAIRFIELD | 50204 | 1.0336
18140 | Columbus, OH | 1840 | 36250 | FRANKLIN | 50204 | 1.0336
18140 | Columbus, OH | 1840 | 36460 | LICKING | 50204 | 1.0336
18140 | Columbus, OH | 1840 | 36500 | MADISON | 50204 | 1.0336
18140 | Columbus, OH | 1840 | 36660 | PICKAWAY | 50204 | 1.0336
18580 | Corpus Christi, TX | 45 | 45030 | ARANSAS | 50129 | 0.8781
18580 | Corpus Christi, TX | 1880 | 45830 | NUECES | 50205 | 0.9172
18580 | Corpus Christi, TX | 1880 | 45885 | SAN PATRICIO | 50205 | 0.9172
19124 | Dallas-Plano-Irving, TX | 45 | 45400 | DELTA | 50130 | 0.9538
19124 | Dallas-Plano-Irving, TX | 1920 | 45310 | COLLIN | 50207 | 1.0675
19124 | Dallas-Plano-Irving, TX | 1920 | 45390 | DALLAS | 50207 | 1.0675
19124 | Dallas-Plano-Irving, TX | 1920 | 45410 | DENTON | 50207 | 1.0675
19124 | Dallas-Plano-Irving, TX | 1920 | 45470 | ELLIS | 50207 | 1.0675
19124 | Dallas-Plano-Irving, TX | 1920 | 45670 | HUNT | 50207 | 1.0675
19124 | Dallas-Plano-Irving, TX | 1920 | 45730 | KAUFMAN | 50207 | 1.0675
19124 | Dallas-Plano-Irving, TX | 1920 | 45879 | ROCKWALL | 50207 | 1.0675
19340 | Davenport-Moline-Rock Island, IA-IL | 14 | 14740 | MERCER | 50033 | 0.9076
19340 | Davenport-Moline-Rock Island, IA-IL | 1960 | 14450 | HENRY | 50208 | 0.9305
19340 | Davenport-Moline-Rock Island, IA-IL | 1960 | 14890 | ROCK ISLAND | 50208 | 0.9305
19340 | Davenport-Moline-Rock Island, IA-IL | 1960 | 16810 | SCOTT | 50208 | 0.9305
19380 | Dayton, OH | 36 | 36690 | PREBLE | 50102 | 0.9579
19380 | Dayton, OH | 2000 | 36290 | GREENE | 50209 | 0.9829
19380 | Dayton, OH | 2000 | 36560 | MIAMI | 50209 | 0.9829
19380 | Dayton, OH | 2000 | 36580 | MONTGOMERY | 50209 | 0.9829
19740 | Denver-Aurora, CO | 06 | 06090 | CLEAR CREEK | 50015 | 1.0751
19740 | Denver-Aurora, CO | 06 | 06190 | ELBERT | 50015 | 1.0751
19740 | Denver-Aurora, CO | 06 | 06230 | GILPIN | 50015 | 1.0751
19740 | Denver-Aurora, CO | 06 | 06460 | PARK | 50015 | 1.0751
19740 | Denver-Aurora, CO | 2080 | 06000 | ADAMS | 50211 | 1.1565
19740 | Denver-Aurora, CO | 2080 | 06020 | ARAPAHOE | 50211 | 1.1565
19740 | Denver-Aurora, CO | 2080 | 06630 | BROOMFIELD | 50211 | 1.1565
19740 | Denver-Aurora, CO | 2080 | 06150 | DENVER | 50211 | 1.1565
19740 | Denver-Aurora, CO | 2080 | 06170 | DOUGLAS | 50211 | 1.1565
19740 | Denver-Aurora, CO | 2080 | 06290 | JEFFERSON | 50211 | 1.1565
19780 | Des Moines, IA | 16 | 16380 | GUTHRIE | 50046 | 0.9449
19780 | Des Moines, IA | 16 | 16600 | MADISON | 50046 | 0.9449
19780 | Des Moines, IA | 2120 | 16240 | DALLAS | 50212 | 0.9828
19780 | Des Moines, IA | 2120 | 16760 | POLK | 50212 | 0.9828
19780 | Des Moines, IA | 2120 | 16900 | WARREN | 50212 | 0.9828
20020 | Dothan, AL | 01 | 01300 | GENEVA | 50003 | 0.8049
20020 | Dothan, AL | 01 | 01330 | HENRY | 50003 | 0.8049
20020 | Dothan, AL | 2180 | 01340 | HOUSTON | 50215 | 0.8027
20260 | Duluth, MN-WI | 24 | 24080 | CARLTON | 50070 | 1.0437
20260 | Duluth, MN-WI | 2240 | 52150 | DOUGLAS | 50216 | 1.0976
20260 | Duluth, MN-WI | 2240 | 24680 | ST. LOUIS | 50216 | 1.0976
20500 | Durham, NC | 34 | 34720 | PERSON | 50095 | 1.0004
20500 | Durham, NC | 6640 | 34180 | CHATHAM | 50307 | 1.0936
20500 | Durham, NC | 6640 | 34310 | DURHAM | 50307 | 1.0936
20500 | Durham, NC | 6640 | 34670 | ORANGE | 50307 | 1.0936
20764 | Edison, NJ | 5015 | 31270 | MIDDLESEX | 50279 | 1.1930
20764 | Edison, NJ | 5015 | 31350 | SOMERSET | 50279 | 1.1930
20764 | Edison, NJ | 5190 | 31290 | MONMOUTH | 50282 | 1.1680
20764 | Edison, NJ | 5190 | 31310 | OCEAN | 50282 | 1.1680
21780 | Evansville, IN-KY | 15 | 15250 | GIBSON | 50039 | 0.9073
21780 | Evansville, IN-KY | 18 | 18989 | WEBSTER | 50057 | 0.8600
21780 | Evansville, IN-KY | 2440 | 18500 | HENDERSON | 50219 | 0.8892
21780 | Evansville, IN-KY | 2440 | 15640 | POSEY | 50219 | 0.8892
21780 | Evansville, IN-KY | 2440 | 15810 | VANDERBURGH | 50219 | 0.8892
21780 | Evansville, IN-KY | 2440 | 15860 | WARRICK | 50219 | 0.8892
22180 | Fayetteville, NC | 34 | 34460 | HOKE | 50096 | 0.9473
22180 | Fayetteville, NC | 2560 | 34250 | CUMBERLAND | 50220 | 0.9931
22220 | Fayetteville-Springdale-Rogers, AR-MO | 04 | 04430 | MADISON | 50008 | 0.8665
22220 | Fayetteville-Springdale-Rogers, AR-MO | 26 | 26590 | MC DONALD | 50078 | 0.8732
22220 | Fayetteville-Springdale-Rogers, AR-MO | 2580 | 04030 | BENTON | 50221 | 0.9160
22220 | Fayetteville-Springdale-Rogers, AR-MO | 2580 | 04710 | WASHINGTON | 50221 | 0.9160
22500 | Florence, SC | 42 | 42150 | DARLINGTON | 50116 | 0.9267
22500 | Florence, SC | 2655 | 42200 | FLORENCE | 50223 | 0.9436
22900 | Fort Smith, AR-OK | 04 | 04230 | FRANKLIN | 50009 | 0.8478
22900 | Fort Smith, AR-OK | 37 | 37390 | LE FLORE | 50105 | 0.8394
22900 | Fort Smith, AR-OK | 2720 | 04160 | CRAWFORD | 50224 | 0.8796
22900 | Fort Smith, AR-OK | 2720 | 04650 | SEBASTIAN | 50224 | 0.8796
22900 | Fort Smith, AR-OK | 2720 | 37670 | SEQUOYAH | 50224 | 0.8796
23104 | Fort Worth-Arlington, TX | 45 | 45973 | WISE | 50131 | 0.9218
23104 | Fort Worth-Arlington, TX | 2800 | 45720 | JOHNSON | 50227 | 1.0072
23104 | Fort Worth-Arlington, TX | 2800 | 45843 | PARKER | 50227 | 1.0072
23104 | Fort Worth-Arlington, TX | 2800 | 45910 | TARRANT | 50227 | 1.0072
23540 | Gainesville, FL | 10 | 10200 | GILCHRIST | 50017 | 0.9642
23540 | Gainesville, FL | 2900 | 10000 | ALACHUA | 50228 | 1.0033
23844 | Gary, IN | 15 | 15360 | JASPER | 50040 | 0.9570
23844 | Gary, IN | 15 | 15550 | NEWTON | 50040 | 0.9570
23844 | Gary, IN | 2960 | 15440 | LAKE | 50230 | 0.9892
23844 | Gary, IN | 2960 | 15630 | PORTER | 50230 | 0.9892
24340 | Grand Rapids-Wyoming, MI | 23 | 23070 | BARRY | 50068 | 0.9631
24340 | Grand Rapids-Wyoming, MI | 23 | 23330 | IONIA | 50068 | 0.9631
24340 | Grand Rapids-Wyoming, MI | 23 | 23610 | NEWAYGO | 50068 | 0.9631
24340 | Grand Rapids-Wyoming, MI | 3000 | 23400 | KENT | 50232 | 1.0044
24580 | Green Bay, WI | 52 | 52300 | KEWAUNEE | 50159 | 1.0123
24580 | Green Bay, WI | 52 | 52410 | OCONTO | 50159 | 1.0123
24580 | Green Bay, WI | 3080 | 52040 | BROWN | 50233 | 1.0170
24660 | Greensboro-High Point, NC | 34 | 34780 | ROCKINGHAM | 50097 | 0.9382
24660 | Greensboro-High Point, NC | 3120 | 34400 | GUILFORD | 50235 | 0.9812
24660 | Greensboro-High Point, NC | 3120 | 34750 | RANDOLPH | 50235 | 0.9812
24780 | Greenville, NC | 34 | 34390 | GREENE | 50098 | 0.9378
24780 | Greenville, NC | 3150 | 34730 | PITT | 50236 | 0.09740
24860 | Greenville, SC | 42 | 42290 | LAURENS | 50117 | 0.9651
24860 | Greenville, SC | 3160 | 42220 | GREENVILLE | 50238 | 1.0054
24860 | Greenville, SC | 3160 | 42380 | PICKENS | 50238 | 1.0054
25060 | Gulfport-Biloxi, MS | 25 | 25650 | STONE | 50072 | 0.8768
25060 | Gulfport-Biloxi, MS | 0920 | 25220 | HANCOCK | 50180 | 0.9333
25060 | Gulfport-Biloxi, MS | 0920 | 25230 | HARRISON | 50180 | 0.9333
25180 | Hagerstown-Martinsburg, MD-WV | 51 | 51320 | MORGAN | 50156 | 0.9439
25180 | Hagerstown-Martinsburg, MD-WV | 3180 | 21210 | WASHINGTON | 50239 | 1.0424
25180 | Hagerstown-Martinsburg, MD-WV | 8840 | 51010 | BERKELEY | 50345 | 1.0970
25620 | Hattiesburg, MS | 25 | 25550 | PERRY | 50073 | 0.8020
25620 | Hattiesburg, MS | 3285 | 25170 | FORREST | 50241 | 0.8000
25620 | Hattiesburg, MS | 3285 | 25360 | LAMAR | 50241 | 0.8000
26420 | Houston-Sugar Land-Baytown, TX | 45 | 45070 | AUSTIN | 50132 | 0.9484
26420 | Houston-Sugar Land-Baytown, TX | 45 | 45884 | SAN JACINTO | 50132 | 0.9484
26420 | Houston-Sugar Land-Baytown, TX | 1145 | 45180 | BRAZORIA | 50186 | 0.9810
26420 | Houston-Sugar Land-Baytown, TX | 2920 | 45550 | GALVESTON | 50229 | 1.0276
26420 | Houston-Sugar Land-Baytown, TX | 3360 | 45280 | CHAMBERS | 50242 | 1.0654
26420 | Houston-Sugar Land-Baytown, TX | 3360 | 45530 | FORT BEND | 50242 | 1.0654
26420 | Houston-Sugar Land-Baytown, TX | 3360 | 45610 | HARRIS | 50242 | 1.0654
26420 | Houston-Sugar Land-Baytown, TX | 3360 | 45757 | LIBERTY | 50242 | 1.0654
26420 | Houston-Sugar Land-Baytown, TX | 3360 | 45801 | MONTGOMERY | 50242 | 1.0654
26420 | Houston-Sugar Land-Baytown, TX | 3360 | 45950 | WALLER | 50242 | 1.0654
26900 | Indianapolis, IN | 15 | 15060 | BROWN | 50041 | 0.9996
26900 | Indianapolis, IN | 15 | 15660 | PUTNAM | 50041 | 0.9996
26900 | Indianapolis, IN | 3480 | 15050 | BOONE | 50244 | 1.0687
26900 | Indianapolis, IN | 3480 | 15280 | HAMILTON | 50244 | 1.0687
26900 | Indianapolis, IN | 3480 | 15290 | HANCOCK | 50244 | 1.0687
26900 | Indianapolis, IN | 3480 | 15310 | HENDRICKS | 50244 | 1.0687
26900 | Indianapolis, IN | 3480 | 15400 | JOHNSON | 50244 | 1.0687
26900 | Indianapolis, IN | 3480 | 15480 | MARION | 50244 | 1.0687
26900 | Indianapolis, IN | 3480 | 15540 | MORGAN | 50244 | 1.0687
26900 | Indianapolis, IN | 3480 | 15720 | SHELBY | 50244 | 1.0687
26980 | Iowa City, IA | 16 | 16910 | WASHINGTON | 50047 | 0.9654
26980 | Iowa City, IA | 3500 | 16510 | JOHNSON | 50245 | 1.0240
27140 | Jackson, MS | 25 | 25140 | COPIAH | 50074 | 0.8419
27140 | Jackson, MS | 25 | 25630 | SIMPSON | 50074 | 0.8419
27140 | Jackson, MS | 3560 | 25240 | HINDS | 50246 | 0.8855
27140 | Jackson, MS | 3560 | 25440 | MADISON | 50246 | 0.8855
27140 | Jackson, MS | 3560 | 25600 | RANKIN | 50246 | 0.8855
27260 | Jacksonville, FL | 10 | 10010 | BAKER | 50018 | 0.9683
27260 | Jacksonville, FL | 3600 | 10090 | CLAY | 50247 | 1.0121
27260 | Jacksonville, FL | 3600 | 10150 | DUVAL | 50247 | 1.0121
27260 | Jacksonville, FL | 3600 | 10440 | NASSAU | 50247 | 1.0121
27260 | Jacksonville, FL | 3600 | 10540 | ST. JOHNS | 50247 | 1.0121
27860 | Jonesboro, AR | 04 | 04550 | POINSETT | 50010 | 0.8404
27860 | Jonesboro, AR | 3700 | 04150 | CRAIGHEAD | 50251 | 0.8638
28140 | Kansas City, MO-KS | 17 | 17290 | FRANKLIN | 50050 | 0.9396
28140 | Kansas City, MO-KS | 17 | 17530 | LINN | 50050 | 0.9396
28140 | Kansas City, MO-KS | 26 | 26060 | BATES | 50079 | 0.9259
28140 | Kansas City, MO-KS | 26 | 26120 | CALDWELL | 50079 | 0.9259
28140 | Kansas City, MO-KS | 3760 | 26180 | CASS | 50252 | 1.0219
28140 | Kansas City, MO-KS | 3760 | 26230 | CLAY | 50252 | 1.0219
28140 | Kansas City, MO-KS | 3760 | 26240 | CLINTON | 50252 | 1.0219
28140 | Kansas City, MO-KS | 3760 | 26470 | JACKSON | 50252 | 1.0219
28140 | Kansas City, MO-KS | 3760 | 17450 | JOHNSON | 50252 | 1.0219
28140 | Kansas City, MO-KS | 3760 | 26530 | LAFAYETTE | 50252 | 1.0219
28140 | Kansas City, MO-KS | 3760 | 17510 | LEAVENWORTH | 50252 | 1.0219
28140 | Kansas City, MO-KS | 3760 | 17600 | MIAMI | 50252 | 1.0219
28140 | Kansas City, MO-KS | 3760 | 26820 | PLATTE | 50252 | 1.0219
28140 | Kansas City, MO-KS | 3760 | 26880 | RAY | 50252 | 1.0219
28140 | Kansas City, MO-KS | 3760 | 17986 | WYANDOTTE | 50252 | 1.0219
28660 | Killeen-Temple-Fort Hood, TX | 45 | 45752 | LAMPASAS | 50133 | 0.9096
28660 | Killeen-Temple-Fort Hood, TX | 3810 | 45120 | BELL | 50254 | 0.9803
28660 | Killeen-Temple-Fort Hood, TX | 3810 | 45341 | CORYELL | 50254 | 0.9803
29140 | Lafayette, IN | 15 | 15030 | BENTON | 50042 | 0.9442
29140 | Lafayette, IN | 15 | 15070 | CARROLL | 50042 | 0.9442
29140 | Lafayette, IN | 3920 | 15780 | TIPPECANOE | 50258 | 0.9617
29340 | Lake Charles, LA | 19 | 19110 | CAMERON | 50063 | 0.8209
29340 | Lake Charles, LA | 3960 | 19090 | CALCASIEU | 50259 | 0.8436
29404 | Lake County-Kenosha County, IL-WI | 1600 | 14570 | LAKE | 50196 | 1.1239
29404 | Lake County-Kenosha County, IL-WI | 3800 | 52290 | KENOSHA | 50253 | 1.0667
30300 | Lewiston, ID-WA | 13 | 13340 | NEZ PERCE | 50028 | 0.9620
30300 | Lewiston, ID-WA | 50 | 50010 | ASOTIN | 50153 | 1.0281
30700 | Lincoln, NE | 28 | 28790 | SEWARD | 50084 | 1.0205
30700 | Lincoln, NE | 4360 | 28540 | LANCASTER | 50264 | 1.0827
30780 | Little Rock-North Little Rock, AR | 04 | 04260 | GRANT | 50011 | 0.8766
30780 | Little Rock-North Little Rock, AR | 04 | 04520 | PERRY | 50011 | 0.8766
30780 | Little Rock-North Little Rock, AR | 4400 | 04220 | FAULKNER | 50265 | 0.9361
30780 | Little Rock-North Little Rock, AR | 4400 | 04420 | LONOKE | 50265 | 0.9361
30780 | Little Rock-North Little Rock, AR | 4400 | 04590 | PULASKI | 50265 | 0.9361
30780 | Little Rock-North Little Rock, AR | 4400 | 04620 | SALINE | 50265 | 0.9361
30860 | Logan, UT-ID | 13 | 13200 | FRANKLIN | 50029 | 0.9504
30860 | Logan, UT-ID | 46 | 46020 | CACHE | 50141 | 0.9513
30980 | Longview, TX | 45 | 45881 | RUSK | 50134 | 0.8863
30980 | Longview, TX | 4420 | 45570 | GREGG | 50267 | 0.9302
30980 | Longview, TX | 4420 | 45943 | UPSHUR | 50267 | 0.9302
31140 | Louisville, KY-IN | 15 | 15870 | WASHINGTON | 50043 | 0.9471
31140 | Louisville, KY-IN | 18 | 18510 | HENRY | 50058 | 0.8998
31140 | Louisville, KY-IN | 18 | 18801 | MEADE | 50058 | 0.8998
31140 | Louisville, KY-IN | 18 | 18890 | NELSON | 50058 | 0.8998
31140 | Louisville, KY-IN | 18 | 18978 | SHELBY | 50058 | 0.8998
31140 | Louisville, KY-IN | 18 | 18980 | SPENCER | 50058 | 0.8998
31140 | Louisville, KY-IN | 18 | 18984 | TRIMBLE | 50058 | 0.8998
31140 | Louisville, KY-IN | 4520 | 18140 | BULLITT | 50269 | 0.9697
31140 | Louisville, KY-IN | 4520 | 15090 | CLARK | 50269 | 0.9697
31140 | Louisville, KY-IN | 4520 | 15210 | FLOYD | 50269 | 0.9697
31140 | Louisville, KY-IN | 4520 | 15300 | HARRISON | 50269 | 0.9697
31140 | Louisville, KY-IN | 4520 | 18550 | JEFFERSON | 50269 | 0.9697
31140 | Louisville, KY-IN | 4520 | 18920 | OLDHAM | 50269 | 0.9697
31180 | Lubbock, TX | 45 | 45362 | CROSBY | 50135 | 0.8850
31180 | Lubbock, TX | 4600 | 45770 | LUBBOCK | 50270 | 0.9309
31340 | Lynchburg, VA | 49 | 49050 | APPOMATTOX | 50147 | 0.9279
31340 | Lynchburg, VA | 4640 | 49040 | AMHERST | 50271 | 0.9564
31340 | Lynchburg, VA | 4640 | 49090 | BEDFORD | 50271 | 0.9564
31340 | Lynchburg, VA | 4640 | 49088 | BEDFORD CITY | 50271 | 0.9564
31340 | Lynchburg, VA | 4640 | 49150 | CAMPBELL | 50271 | 0.9564
31340 | Lynchburg, VA | 4640 | 49551 | LYNCHBURG CITY | 50271 | 0.9564
31420 | Macon, GA | 11 | 11330 | CRAWFORD | 50026 | 0.9617
31420 | Macon, GA | 11 | 11760 | MONROE | 50026 | 0.9617
31420 | Macon, GA | 4680 | 11090 | BIBB | 50273 | 1.0333
31420 | Macon, GA | 4680 | 11650 | JONES | 50273 | 1.0333
31420 | Macon, GA | 4680 | 11912 | TWIGGS | 50273 | 1.0333
31540 | Madison, WI | 52 | 52100 | COLUMBIA | 50160 | 1.0503
31540 | Madison, WI | 52 | 52240 | IOWA | 50160 | 1.0503
31540 | Madison, WI | 4720 | 52120 | DANE | 50274 | 1.0978
32820 | Memphis, TN-MS-AR | 25 | 25460 | MARSHALL | 50075 | 0.8910
32820 | Memphis, TN-MS-AR | 25 | 25680 | TATE | 50075 | 0.8910
32820 | Memphis, TN-MS-AR | 25 | 25710 | TUNICA | 50075 | 0.8910
32820 | Memphis, TN-MS-AR | 4920 | 04170 | CRITTENDEN | 50278 | 0.09785
32820 | Memphis, TN-MS-AR | 4920 | 25160 | DE SOTO | 50278 | 0.9785
32820 | Memphis, TN-MS-AR | 4920 | 44230 | FAYETTE | 50278 | 0.9785
32820 | Memphis, TN-MS-AR | 4920 | 44780 | SHELBY | 50278 | 0.9785
32820 | Memphis, TN-MS-AR | 4920 | 44830 | TIPTON | 50278 | 0.9785
33740 | Monroe, LA | 19 | 19550 | UNION | 50064 | 0.8192
33740 | Monroe, LA | 5200 | 19360 | OUACHITA | 50283 | 0.8388
33860 | Montgomery, AL | 01 | 01420 | LOWNDES | 50004 | 0.8452
33860 | Montgomery, AL | 5240 | 01000 | AUTAUGA | 50284 | 0.8804
33860 | Montgomery, AL | 5240 | 01250 | ELMORE | 50284 | 0.8804
33860 | Montgomery, AL | 5240 | 01500 | MONTGOMERY | 50284 | 0.8804
34980 | Nashville-Davidson--Murfreesboro, TN | 44 | 44070 | CANNON | 50124 | 0.9526
34980 | Nashville-Davidson--Murfreesboro, TN | 44 | 44400 | HICKMAN | 50124 | 0.9526
34980 | Nashville-Davidson--Murfreesboro, TN | 44 | 44550 | MACON | 50124 | 0.9526
34980 | Nashville-Davidson--Murfreesboro, TN | 44 | 44790 | SMITH | 50124 | 0.9526
34980 | Nashville-Davidson--Murfreesboro, TN | 44 | 44840 | TROUSDALE | 50124 | 0.9526
34980 | Nashville-Davidson--Murfreesboro, TN | 5360 | 44100 | CHEATHAM | 50285 | 1.0710
34980 | Nashville-Davidson--Murfreesboro, TN | 5360 | 44180 | DAVIDSON | 50285 | 1.0710
34980 | Nashville-Davidson--Murfreesboro, TN | 5360 | 44210 | DICKSON | 50285 | 1.0710
34980 | Nashville-Davidson--Murfreesboro, TN | 5360 | 44730 | ROBERTSON | 50285 | 1.0710
34980 | Nashville-Davidson--Murfreesboro, TN | 5360 | 44740 | RUTHERFORD | 50285 | 1.0710
34980 | Nashville-Davidson--Murfreesboro, TN | 5360 | 44820 | SUMNER | 50285 | 1.0710
34980 | Nashville-Davidson--Murfreesboro, TN | 5360 | 44930 | WILLIAMSON | 50285 | 1.0710
34980 | Nashville-Davidson--Murfreesboro, TN | 5360 | 44940 | WILSON | 50285 | 1.0710
35084 | Newark-Union, NJ-PA | 5015 | 31250 | HUNTERDON | 50280 | 1.2223
35084 | Newark-Union, NJ-PA | 5640 | 31200 | ESSEX | 50289 | 1.2363
35084 | Newark-Union, NJ-PA | 5640 | 31300 | MORRIS | 50289 | 1.2363
35084 | Newark-Union, NJ-PA | 5640 | 31360 | SUSSEX | 50289 | 1.2363
35084 | Newark-Union, NJ-PA | 5640 | 31370 | UNION | 50289 | 1.2363
35084 | Newark-Union, NJ-PA | 5660 | 39630 | PIKE | 50290 | 1.2122
35644 | New York-White Plains-Wayne, NY-NJ | 0875 | 31100 | BERGEN | 50178 | 1.3406
35644 | New York-White Plains-Wayne, NY-NJ | 0875 | 31320 | PASSAIC | 50178 | 1.3406
35644 | New York-White Plains-Wayne, NY-NJ | 3640 | 31230 | HUDSON | 50249 | 1.2852
35644 | New York-White Plains-Wayne, NY-NJ | 5600 | 33020 | BRONX | 50287 | 1.4264
35644 | New York-White Plains-Wayne, NY-NJ | 5600 | 33331 | KINGS | 50287 | 1.4264
35644 | New York-White Plains-Wayne, NY-NJ | 5600 | 33420 | NEW YORK | 50287 | 1.4264
35644 | New York-White Plains-Wayne, NY-NJ | 5600 | 33580 | PUTNAM | 50287 | 1.4264
35644 | New York-White Plains-Wayne, NY-NJ | 5600 | 33590 | QUEENS | 50287 | 1.4264
35644 | New York-White Plains-Wayne, NY-NJ | 5600 | 33610 | RICHMOND | 50287 | 1.4264
35644 | New York-White Plains-Wayne, NY-NJ | 5600 | 33620 | ROCKLAND | 50287 | 1.4264
35644 | New York-White Plains-Wayne, NY-NJ | 5600 | 33800 | WESTCHESTER | 50287 | 1.4264
36260 | Ogden-Clearfield, UT | 46 | 46140 | MORGAN | 50142 | 0.9577
36260 | Ogden-Clearfield, UT | 7160 | 46050 | DAVIS | 50319 | 0.9919
36260 | Ogden-Clearfield, UT | 7160 | 46280 | WEBER | 50319 | 0.9919
36420 | Oklahoma City, OK | 37 | 37250 | GRADY | 50106 | 0.8765
36420 | Oklahoma City, OK | 37 | 37400 | LINCOLN | 50106 | 0.8765
36420 | Oklahoma City, OK | 5880 | 37080 | CANADIAN | 50294 | 0.9518
36420 | Oklahoma City, OK | 5880 | 37130 | CLEVELAND | 50294 | 0.9518
36420 | Oklahoma City, OK | 5880 | 37410 | LOGAN | 50294 | 0.9518
36420 | Oklahoma City, OK | 5880 | 37430 | MCCLAIN | 50294 | 0.9518
36420 | Oklahoma City, OK | 5880 | 37540 | OKLAHOMA | 50294 | 0.9518
36540 | Omaha-Council Bluffs, NE-IA | 16 | 16420 | HARRISON | 50048 | 0.9707
36540 | Omaha-Council Bluffs, NE-IA | 16 | 16640 | MILLS | 50048 | 0.9707
36540 | Omaha-Council Bluffs, NE-IA | 28 | 28770 | SAUNDERS | 50085 | 0.9965
36540 | Omaha-Council Bluffs, NE-IA | 5920 | 28120 | CASS | 50295 | 1.0346
36540 | Omaha-Council Bluffs, NE-IA | 5920 | 28270 | DOUGLAS | 50295 | 1.0346
36540 | Omaha-Council Bluffs, NE-IA | 5920 | 16770 | POTTAWATTAMIE | 50295 | 1.0346
36540 | Omaha-Council Bluffs, NE-IA | 5920 | 28760 | SARPY | 50295 | 1.0346
36540 | Omaha-Council Bluffs, NE-IA | 5920 | 28880 | WASHINGTON | 50295 | 1.0346
36980 | Owensboro, KY | 18 | 18450 | HANCOCK | 50059 | 0.8633
36980 | Owensboro, KY | 18 | 18740 | MC LEAN | 50059 | 0.8633
36980 | Owensboro, KY | 5990 | 18290 | DAVIESS | 50296 | 0.8946
37620 | Parkersburg-Marietta-Vienna, WV-OH | 51 | 51360 | PLEASANTS | 50157 | 0.8682
37620 | Parkersburg-Marietta-Vienna, WV-OH | 51 | 51520 | WIRT | 50157 | 0.8682
37620 | Parkersburg-Marietta-Vienna, WV-OH | 6020 | 36850 | WASHINGTON | 50297 | 0.8791
37620 | Parkersburg-Marietta-Vienna, WV-OH | 6020 | 51530 | WOOD | 50297 | 0.8791
37700 | Pascagoula, MS | 25 | 25190 | GEORGE | 50076 | 0.8250
37700 | Pascagoula, MS | 0920 | 25290 | JACKSON | 50181 | 0.8816
37900 | Peoria, IL | 14 | 14700 | MARSHALL | 50034 | 0.9136
37900 | Peoria, IL | 14 | 14960 | STARK | 50034 | 0.9136
37900 | Peoria, IL | 6120 | 14800 | PEORIA | 50298 | 0.9425
37900 | Peoria, IL | 6120 | 14980 | TAZEWELL | 50298 | 0.9425
37900 | Peoria, IL | 6120 | 14992 | WOODFORD | 50298 | 0.9425
38220 | Pine Bluff, AR | 04 | 04120 | CLEVELAND | 50012 | 0.8685
38220 | Pine Bluff, AR | 04 | 04390 | LINCOLN | 50012 | 0.8685
38220 | Pine Bluff, AR | 6240 | 04340 | JEFFERSON | 50300 | 0.9199
38300 | Pittsburgh, PA | 39 | 39070 | ARMSTRONG | 50109 | 0.9060
38300 | Pittsburgh, PA | 6280 | 39010 | ALLEGHENY | 50301 | 0.9277
38300 | Pittsburgh, PA | 6280 | 39080 | BEAVER | 50301 | 0.9277
38300 | Pittsburgh, PA | 6280 | 39150 | BUTLER | 50301 | 0.9277
38300 | Pittsburgh, PA | 6280 | 39330 | FAYETTE | 50301 | 0.9277
38300 | Pittsburgh, PA | 6280 | 39750 | WASHINGTON | 50301 | 0.9277
38300 | Pittsburgh, PA | 6280 | 39770 | WESTMORELAND | 50301 | 0.9277
38540 | Pocatello, ID | 13 | 13380 | POWER | 50030 | 0.9773
38540 | Pocatello, ID | 6340 | 13020 | BANNOCK | 50302 | 1.0183
38900 | Portland-Vancouver-Beaverton, OR-WA | 50 | 50290 | SKAMANIA | 50154 | 1.1389
38900 | Portland-Vancouver-Beaverton, OR-WA | 6440 | 38020 | CLACKAMAS | 50304 | 1.2095
38900 | Portland-Vancouver-Beaverton, OR-WA | 6440 | 50050 | CLARK | 50304 | 1.2095
38900 | Portland-Vancouver-Beaverton, OR-WA | 6440 | 38040 | COLUMBIA | 50304 | 1.2095
38900 | Portland-Vancouver-Beaverton, OR-WA | 6440 | 38250 | MULTNOMAH | 50304 | 1.2095
38900 | Portland-Vancouver-Beaverton, OR-WA | 6440 | 38330 | WASHINGTON | 50304 | 1.2095
38900 | Portland-Vancouver-Beaverton, OR-WA | 6440 | 38350 | YAMHILL | 50304 | 1.2095
39100 | Poughkeepsie-Newburgh-Middletown, NY | 2281 | 33230 | DUTCHESS | 50217 | 1.2208
39100 | Poughkeepsie-Newburgh-Middletown, NY | 5660 | 33540 | ORANGE | 50291 | 1.1950
39300 | Providence-New Bedford-Fall River, RI- | 1123 | 22020 | BRISTOL | 50185 | 1.1783
39300 | Providence-New Bedford-Fall River, RI- | 6483 | 41000 | BRISTOL | 50305 | 1.1662
39300 | Providence-New Bedford-Fall River, RI- | 6483 | 41010 | KENT | 50305 | 1.1662
39300 | Providence-New Bedford-Fall River, RI- | 6483 | 41020 | NEWPORT | 50305 | 1.1662
39300 | Providence-New Bedford-Fall River, RI- | 6483 | 41030 | PROVIDENCE | 50305 | 1.1662
39300 | Providence-New Bedford-Fall River, RI- | 6483 | 41050 | WASHINGTON | 50305 | 1.1662
39340 | Provo-Orem, UT | 46 | 46110 | JUAB | 50143 | 0.9775
39340 | Provo-Orem, UT | 6520 | 46240 | UTAH | 50306 | 1.0183
39660 | Rapid City, SD | 43 | 43460 | MEADE | 50118 | 0.9177
39660 | Rapid City, SD | 6660 | 43510 | PENNINGTON | 50308 | 0.9453
39900 | Reno-Sparks, NV | 29 | 29140 | STOREY | 50088 | 1.0759
39900 | Reno-Sparks, NV | 6720 | 29150 | WASHOE | 50309 | 1.1090
40060 | Richmond, VA | 49 | 49030 | AMELIA | 50148 | 0.9480
40060 | Richmond, VA | 49 | 49160 | CAROLINE | 50148 | 0.9480
40060 | Richmond, VA | 49 | 49240 | CUMBERLAND | 50148 | 0.9480
40060 | Richmond, VA | 49 | 49480 | KING AND QUEEN | 50148 | 0.9480
40060 | Richmond, VA | 49 | 49500 | KING WILLIAM | 50148 | 0.9480
40060 | Richmond, VA | 49 | 49540 | LOUISA | 50148 | 0.9480
40060 | Richmond, VA | 49 | 49910 | SUSSEX | 50148 | 0.9480
40060 | Richmond, VA | 6760 | 49180 | CHARLES CITY | 50310 | 0.9967
40060 | Richmond, VA | 6760 | 49200 | CHESTERFIELD | 50310 | 0.9967
40060 | Richmond, VA | 6760 | 49212 | COLONIAL HEIGHTS CITY | 50310 | 0.9967
40060 | Richmond, VA | 6760 | 49260 | DINWIDDIE | 50310 | 0.9967
40060 | Richmond, VA | 6760 | 49370 | GOOCHLAND | 50310 | 0.9967
40060 | Richmond, VA | 6760 | 49420 | HANOVER | 50310 | 0.9967
40060 | Richmond, VA | 6760 | 49430 | HENRICO | 50310 | 0.9967
40060 | Richmond, VA | 6760 | 49451 | HOPEWELL CITY | 50310 | 0.9967
40060 | Richmond, VA | 6760 | 49621 | NEW KENT | 50310 | 0.9967
40060 | Richmond, VA | 6760 | 49701 | PETERSBURG CITY | 50310 | 0.9967
40060 | Richmond, VA | 6760 | 49720 | POWHATAN | 50310 | 0.9967
40060 | Richmond, VA | 6760 | 49740 | PRINCE GEORGE | 50310 | 0.9967
40060 | Richmond, VA | 6760 | 49791 | RICHMOND CITY | 50310 | 0.9967
40220 | Roanoke, VA | 49 | 49220 | CRAIG | 50149 | 0.8959
40220 | Roanoke, VA | 49 | 49330 | FRANKLIN | 50149 | 0.8959
40220 | Roanoke, VA | 6800 | 49110 | BOTETOURT | 50311 | 0.8932
40220 | Roanoke, VA | 6800 | 49800 | ROANOKE | 50311 | 0.8932
40220 | Roanoke, VA | 6800 | 49801 | ROANOKE CITY | 50311 | 0.8932
40220 | Roanoke, VA | 6800 | 49838 | SALEM CITY | 50311 | 0.8932
40340 | Rochester, MN | 24 | 24190 | DODGE | 50071 | 1.1054
40340 | Rochester, MN | 24 | 24780 | WABASHA | 50071 | 1.1054
40340 | Rochester, MN | 6820 | 24540 | OLMSTED | 50312 | 1.2202
40900 | Sacramento--Arden-Arcade--Roseville, CA | 6920 | 05080 | EL DORADO | 50315 | 1.2488
40900 | Sacramento--Arden-Arcade--Roseville, CA | 6920 | 05410 | PLACER | 50315 | 1.2488
40900 | Sacramento--Arden-Arcade--Roseville, CA | 6920 | 05440 | SACRAMENTO | 50315 | 1.2488
40900 | Sacramento--Arden-Arcade--Roseville, CA | 9270 | 05670 | YOLO | 50351 | 1.1179
41140 | St. Joseph, MO-KS | 17 | 17210 | DONIPHAN | 50051 | 0.9599
41140 | St. Joseph, MO-KS | 26 | 26310 | DE KALB | 50080 | 0.9463
41140 | St. Joseph, MO-KS | 7000 | 26010 | ANDREW | 50317 | 1.0620
41140 | St. Joseph, MO-KS | 7000 | 26100 | BUCHANAN | 50317 | 1.0620
41180 | St. Louis, MO-IL | 14 | 14020 | BOND | 50035 | 0.9236
41180 | St. Louis, MO-IL | 14 | 14060 | CALHOUN | 50035 | 0.9236
41180 | St. Louis, MO-IL | 14 | 14670 | MACOUPIN | 50035 | 0.9236
41180 | St. Louis, MO-IL | 26 | 26270 | CRAWFORD | 50081 | 0.8965
41180 | St. Louis, MO-IL | 26 | 26992 | WASHINGTON | 50081 | 0.8965
41180 | St. Louis, MO-IL | 7040 | 14130 | CLINTON | 50318 | 0.9629
41180 | St. Louis, MO-IL | 7040 | 26350 | FRANKLIN | 50318 | 0.9629
41180 | St. Louis, MO-IL | 7040 | 26490 | JEFFERSON | 50318 | 0.9629
41180 | St. Louis, MO-IL | 7040 | 14500 | JERSEY | 50318 | 0.9629
41180 | St. Louis, MO-IL | 7040 | 26560 | LINCOLN | 50318 | 0.9629
41180 | St. Louis, MO-IL | 7040 | 14680 | MADISON | 50318 | 0.9629
41180 | St. Louis, MO-IL | 7040 | 14750 | MONROE | 50318 | 0.9629
41180 | St. Louis, MO-IL | 7040 | 26910 | ST. CHARLES | 50318 | 0.9629
41180 | St. Louis, MO-IL | 7040 | 14900 | ST. CLAIR | 50318 | 0.9629
41180 | St. Louis, MO-IL | 7040 | 26940 | ST. LOUIS | 50318 | 0.9629
41180 | St. Louis, MO-IL | 7040 | 26950 | ST. LOUIS CITY | 50318 | 0.9629
41180 | St. Louis, MO-IL | 7040 | 26991 | WARREN | 50318 | 0.9629
41620 | Salt Lake City, UT | 46 | 46210 | SUMMIT | 50144 | 0.9760
41620 | Salt Lake City, UT | 46 | 46220 | TOOELE | 50144 | 0.9760
41620 | Salt Lake City, UT | 7160 | 46170 | SALT LAKE | 50320 | 1.0102
41660 | San Angelo, TX | 45 | 45672 | IRION | 50136 | 0.8526
41660 | San Angelo, TX | 7200 | 45930 | TOM GREEN | 50321 | 0.8662
41700 | San Antonio, TX | 45 | 45060 | ATASCOSA | 50137 | 0.8970
41700 | San Antonio, TX | 45 | 45090 | BANDERA | 50137 | 0.8970
41700 | San Antonio, TX | 45 | 45731 | KENDALL | 50137 | 0.8970
41700 | San Antonio, TX | 45 | 45792 | MEDINA | 50137 | 0.8970
41700 | San Antonio, TX | 7240 | 45130 | BEXAR | 50322 | 0.9560
41700 | San Antonio, TX | 7240 | 45320 | COMAL | 50322 | 0.9560
41700 | San Antonio, TX | 7240 | 45581 | GUADALUPE | 50322 | 0.9560
41700 | San Antonio, TX | 7240 | 45971 | WILSON | 50322 | 0.9560
41900 | San Germán-Cabo Rojo, PR | 40 | 40390 | LAJAS | 50111 | 0.5340
41900 | San Germán-Cabo Rojo, PR | 4840 | 40120 | CABO ROJO | 50277 | 0.5755
41900 | San Germán-Cabo Rojo, PR | 4840 | 40610 | SABANA GRANDE | 50277 | 0.5755
41900 | San Germán-Cabo Rojo, PR | 4840 | 40630 | SAN GERMAN | 50277 | 0.5755
41940 | San Jose-Sunnyvale-Santa Clara, CA | 05 | 05450 | SAN BENITO | 50013 | 1.3269
41940 | San Jose-Sunnyvale-Santa Clara, CA | 7400 | 05530 | SANTA CLARA | 50323 | 1.5627
41980 | San Juan-Caguas-Guaynabo, PR | 40 | 40050 | AIBONITO | 50112 | 0.4998
41980 | San Juan-Caguas-Guaynabo, PR | 40 | 40100 | BARRANQUITAS | 50112 | 0.4998
41980 | San Juan-Caguas-Guaynabo, PR | 40 | 40190 | CIALES | 50112 | 0.4998
41980 | San Juan-Caguas-Guaynabo, PR | 40 | 40470 | MAUNABO | 50112 | 0.4998
41980 | San Juan-Caguas-Guaynabo, PR | 40 | 40530 | OROCOVIS | 50112 | 0.4998
41980 | San Juan-Caguas-Guaynabo, PR | 40 | 40570 | QUEBRADILLAS | 50112 | 0.4998
41980 | San Juan-Caguas-Guaynabo, PR | 0470 | 40070 | ARECIBO | 50172 | 0.4831
41980 | San Juan-Caguas-Guaynabo, PR | 0470 | 40140 | CAMUY | 50172 | 0.4831
41980 | San Juan-Caguas-Guaynabo, PR | 0470 | 40320 | HATILLO | 50172 | 0.4831
41980 | San Juan-Caguas-Guaynabo, PR | 1310 | 40130 | CAGUAS | 50188 | 0.5006
41980 | San Juan-Caguas-Guaynabo, PR | 1310 | 40170 | CAYEY | 50188 | 0.5006
41980 | San Juan-Caguas-Guaynabo, PR | 1310 | 40200 | CIDRA | 50188 | 0.5006
41980 | San Juan-Caguas-Guaynabo, PR | 1310 | 40310 | GURABO | 50188 | 0.5006
41980 | San Juan-Caguas-Guaynabo, PR | 1310 | 40650 | SAN LORENZO | 50188 | 0.5006
41980 | San Juan-Caguas-Guaynabo, PR | 7440 | 40040 | AGUAS BUENAS | 50324 | 0.5432
41980 | San Juan-Caguas-Guaynabo, PR | 7440 | 40090 | BARCELONETA | 50324 | 0.5432
41980 | San Juan-Caguas-Guaynabo, PR | 7440 | 40110 | BAYAMON | 50324 | 0.5432
41980 | San Juan-Caguas-Guaynabo, PR | 7440 | 40145 | CANOVANAS | 50324 | 0.5432
41980 | San Juan-Caguas-Guaynabo, PR | 7440 | 40150 | CAROLINA | 50324 | 0.5432
41980 | San Juan-Caguas-Guaynabo, PR | 7440 | 40160 | CATANO | 50324 | 0.5432
41980 | San Juan-Caguas-Guaynabo, PR | 7440 | 40220 | COMERIO | 50324 | 0.5432
41980 | San Juan-Caguas-Guaynabo, PR | 7440 | 40230 | COROZAL | 50324 | 0.5432
41980 | San Juan-Caguas-Guaynabo, PR | 7440 | 40250 | DORADO | 50324 | 0.5432
41980 | San Juan-Caguas-Guaynabo, PR | 7440 | 40265 | FLORIDA | 50324 | 0.5432
41980 | San Juan-Caguas-Guaynabo, PR | 7440 | 40300 | GUAYNABO | 50324 | 0.5432
41980 | San Juan-Caguas-Guaynabo, PR | 7440 | 40340 | HUMACAO | 50324 | 0.5432
41980 | San Juan-Caguas-Guaynabo, PR | 7440 | 40380 | JUNCOS | 50324 | 0.5432
41980 | San Juan-Caguas-Guaynabo, PR | 7440 | 40420 | LAS PIEDRAS | 50324 | 0.5432
41980 | San Juan-Caguas-Guaynabo, PR | 7440 | 40430 | LOIZA | 50324 | 0.5432
41980 | San Juan-Caguas-Guaynabo, PR | 7440 | 40510 | MAGUABO | 50324 | 0.5432
41980 | San Juan-Caguas-Guaynabo, PR | 7440 | 40450 | MANATI | 50324 | 0.5432
41980 | San Juan-Caguas-Guaynabo, PR | 7440 | 40500 | MOROVIS | 50324 | 0.5432
41980 | San Juan-Caguas-Guaynabo, PR | 7440 | 40520 | NARANJITO | 50324 | 0.5432
41980 | San Juan-Caguas-Guaynabo, PR | 7440 | 40590 | RIO GRANDE | 50324 | 0.5432
41980 | San Juan-Caguas-Guaynabo, PR | 7440 | 40640 | SAN JUAN | 50324 | 0.5432
41980 | San Juan-Caguas-Guaynabo, PR | 7440 | 40680 | TOA ALTA | 50324 | 0.5432
41980 | San Juan-Caguas-Guaynabo, PR | 7440 | 40690 | TOA BAJA | 50324 | 0.5432
41980 | San Juan-Caguas-Guaynabo, PR | 7440 | 40700 | TRUJILLO ALTO | 50324 | 0.5432
41980 | San Juan-Caguas-Guaynabo, PR | 7440 | 40720 | VEGA ALTA | 50324 | 0.5432
41980 | San Juan-Caguas-Guaynabo, PR | 7440 | 40730 | VEGA BAJA | 50324 | 0.5432
41980 | San Juan-Caguas-Guaynabo, PR | 7440 | 40760 | YABUCOA | 50324 | 0.5432
43340 | Shreveport-Bossier City, LA | 19 | 19150 | DE SOTO | 50065 | 0.8844
43340 | Shreveport-Bossier City, LA | 7680 | 19070 | BOSSIER | 50330 | 0.9675
43340 | Shreveport-Bossier City, LA | 7680 | 19080 | CADDO | 50330 | 0.9675
43580 | Sioux City, IA-NE-SD | 28 | 28250 | DIXON | 50086 | 0.9602
43580 | Sioux City, IA-NE-SD | 43 | 43630 | UNION | 50119 | 0.9261
43580 | Sioux City, IA-NE-SD | 7720 | 28210 | DAKOTA | 50331 | 0.9633
43580 | Sioux City, IA-NE-SD | 7720 | 16960 | WOODBURY | 50331 | 0.9633
43620 | Sioux Falls, SD | 43 | 43430 | MC COOK | 50120 | 0.9458
43620 | Sioux Falls, SD | 43 | 43620 | TURNER | 50120 | 0.9458
43620 | Sioux Falls, SD | 7760 | 43410 | LINCOLN | 50332 | 1.0014
43620 | Sioux Falls, SD | 7760 | 43490 | MINNEHAHA | 50332 | 1.0014
43780 | South Bend-Mishawaka, IN-MI | 23 | 23130 | CASS | 50069 | 0.9645
43780 | South Bend-Mishawaka, IN-MI | 7800 | 15700 | ST. JOSEPH | 50333 | 1.0020
44140 | Springfield, MA | 22 | 22060 | FRANKLIN | 50066 | 1.0815
44140 | Springfield, MA | 8003 | 22070 | HAMPDEN | 50335 | 1.0792
44140 | Springfield, MA | 8003 | 22080 | HAMPSHIRE | 50335 | 1.0792
44180 | Springfield, MO | 26 | 26290 | DALLAS | 50082 | 0.8690
44180 | Springfield, MO | 26 | 26821 | POLK | 50082 | 0.8690
44180 | Springfield, MO | 7920 | 26210 | CHRISTIAN | 50334 | 0.9097
44180 | Springfield, MO | 7920 | 26380 | GREENE | 50334 | 0.9097
44180 | Springfield, MO | 7920 | 26994 | WEBSTER | 50334 | 0.9097
45220 | Tallahassee, FL | 10 | 10320 | JEFFERSON | 50019 | 0.9215
45220 | Tallahassee, FL | 10 | 10640 | WAKULLA | 50019 | 0.9215
45220 | Tallahassee, FL | 8240 | 10190 | GADSDEN | 50337 | 0.9180
45220 | Tallahassee, FL | 8240 | 10360 | LEON | 50337 | 0.9180
45460 | Terre Haute, IN | 15 | 15760 | SULLIVAN | 50044 | 0.9150
45460 | Terre Haute, IN | 8320 | 15100 | CLAY | 50338 | 0.9068
45460 | Terre Haute, IN | 8320 | 15820 | VERMILLION | 50338 | 0.9068
45460 | Terre Haute, IN | 8320 | 15830 | VIGO | 50338 | 0.9068
45780 | Toledo, OH | 36 | 36630 | OTTAWA | 50103 | 0.9696
45780 | Toledo, OH | 8400 | 36260 | FULTON | 50339 | 1.0102
45780 | Toledo, OH | 8400 | 36490 | LUCAS | 50339 | 1.0102
45780 | Toledo, OH | 8400 | 36880 | WOOD | 50339 | 1.0102
45820 | Topeka, KS | 17 | 17420 | JACKSON | 50052 | 0.9011
45820 | Topeka, KS | 17 | 17430 | JEFFERSON | 50052 | 0.9011
45820 | Topeka, KS | 17 | 17690 | OSAGE | 50052 | 0.9011
45820 | Topeka, KS | 17 | 17980 | WABAUNSEE | 50052 | 0.9011
45820 | Topeka, KS | 8440 | 17880 | SHAWNEE | 50340 | 0.9444
46140 | Tulsa, OK | 37 | 37550 | OKMULGEE | 50107 | 0.8610
46140 | Tulsa, OK | 37 | 37580 | PAWNEE | 50107 | 0.8610
46140 | Tulsa, OK | 8560 | 37180 | CREEK | 50341 | 0.9238
46140 | Tulsa, OK | 8560 | 37560 | OSAGE | 50341 | 0.9238
46140 | Tulsa, OK | 8560 | 37650 | ROGERS | 50341 | 0.9238
46140 | Tulsa, OK | 8560 | 37710 | TULSA | 50341 | 0.9238
46140 | Tulsa, OK | 8560 | 37720 | WAGONER | 50341 | 0.9238
46220 | Tuscaloosa, AL | 01 | 01310 | GREENE | 50005 | 0.8471
46220 | Tuscaloosa, AL | 01 | 01320 | HALE | 50005 | 0.8471
46220 | Tuscaloosa, AL | 8600 | 01620 | TUSCALOOSA | 50342 | 0.8897
47020 | Victoria, TX | 45 | 45224 | CALHOUN | 50138 | 0.8687
47020 | Victoria, TX | 45 | 45561 | GOLIAD | 50138 | 0.8687
47020 | Victoria, TX | 8750 | 45948 | VICTORIA | 50343 | 0.8983
47260 | Virginia Beach-Norfolk-Newport News, VA | 49 | 49900 | SURRY | 50150 | 0.9214
47260 | Virginia Beach-Norfolk-Newport News, VA | 5720 | 49194 | CHESAPEAKE CITY | 50292 | 0.9434
47260 | Virginia Beach-Norfolk-Newport News, VA | 5720 | 34251 | CURRITUCK | 50292 | 0.9434
47260 | Virginia Beach-Norfolk-Newport News, VA | 5720 | 49360 | GLOUCESTER | 50292 | 0.9434
47260 | Virginia Beach-Norfolk-Newport News, VA | 5720 | 49411 | HAMPTON CITY | 50292 | 0.9434
47260 | Virginia Beach-Norfolk-Newport News, VA | 5720 | 49460 | ISLE OF WIGHT | 50292 | 0.9434
47260 | Virginia Beach-Norfolk-Newport News, VA | 5720 | 49470 | JAMES CITY | 50292 | 0.9434
47260 | Virginia Beach-Norfolk-Newport News, VA | 5720 | 49570 | MATHEWS | 50292 | 0.9434
47260 | Virginia Beach-Norfolk-Newport News, VA | 5720 | 49622 | NEWPORT NEWS CITY | 50292 | 0.9434
47260 | Virginia Beach-Norfolk-Newport News, VA | 5720 | 49641 | NORFOLK CITY | 50292 | 0.9434
47260 | Virginia Beach-Norfolk-Newport News, VA | 5720 | 49712 | POQUOSON | 50292 | 0.9434
47260 | Virginia Beach-Norfolk-Newport News, VA | 5720 | 49711 | PORTSMOUTH CITY | 50292 | 0.9434
47260 | Virginia Beach-Norfolk-Newport News, VA | 5720 | 49892 | SUFFOLK CITY | 50292 | 0.9434
47260 | Virginia Beach-Norfolk-Newport News, VA | 5720 | 49921 | VIRGINIA BEACH CITY | 50292 | 0.9434
47260 | Virginia Beach-Norfolk-Newport News, VA | 5720 | 49961 | WILLIAMSBURG CITY | 50292 | 0.9434
47260 | Virginia Beach-Norfolk-Newport News, VA | 5720 | 49981 | YORK | 50292 | 0.9434
47644 | Warren-Farmington-Hills-Troy, MI | 0440 | 23460 | LIVINGSTON | 50171 | 1.1099
47644 | Warren-Farmington-Hills-Troy, MI | 2160 | 23430 | LAPEER | 50213 | 1.0786
47644 | Warren-Farmington-Hills-Troy, MI | 2160 | 23490 | MACOMB | 50213 | 1.0786
47644 | Warren-Farmington-Hills-Troy, MI | 2160 | 23620 | OAKLAND | 50213 | 1.0786
47644 | Warren-Farmington-Hills-Troy, MI | 2160 | 23730 | ST. CLAIR | 50213 | 1.0786
47940 | Waterloo-Cedar Falls, IA | 16 | 16080 | BREMER | 50049 | 0.9113
47940 | Waterloo-Cedar Falls, IA | 16 | 16370 | GRUNDY | 50049 | 0.9113
47940 | Waterloo-Cedar Falls, IA | 8920 | 16060 | BLACK HAWK | 50346 | 0.9157
48620 | Wichita, KS | 17 | 17950 | SUMNER | 50053 | 0.9304
48620 | Wichita, KS | 9040 | 17070 | BUTLER | 50347 | 1.0046
48620 | Wichita, KS | 9040 | 17390 | HARVEY | 50347 | 1.0046
48620 | Wichita, KS | 9040 | 17860 | SEDGWICK | 50347 | 1.0046
48660 | Wichita Falls, TX | 45 | 45291 | CLAY | 50139 | 0.8614
48660 | Wichita Falls, TX | 9080 | 45040 | ARCHER | 50348 | 0.8871
48660 | Wichita Falls, TX | 9080 | 45960 | WICHITA | 50348 | 0.8871
48864 | Wilmington, DE-MD-NJ | 6160 | 31340 | SALEM | 50299 | 1.1600
48864 | Wilmington, DE-MD-NJ | 9160 | 21070 | CECIL | 50349 | 1.1757
48864 | Wilmington, DE-MD-NJ | 9160 | 08010 | NEW CASTLE | 50349 | 1.1757
48900 | Wilmington, NC | 34 | 34700 | PENDER | 50099 | 0.9407
48900 | Wilmington, NC | 9200 | 34090 | BRUNSWICK | 50350 | 0.9797
48900 | Wilmington, NC | 9200 | 34640 | NEW HANOVER | 50350 | 0.9797
49020 | Winchester, VA-WV | 49 | 49340 | FREDERICK | 50151 | 1.0063
49020 | Winchester, VA-WV | 49 | 49962 | WINCHESTER CITY | 50151 | 1.0063
49020 | Winchester, VA-WV | 51 | 51130 | HAMPSHIRE | 50158 | 0.9853
49500 | Yauco, PR | 40 | 40270 | GUANICA | 50113 | 0.4911
49500 | Yauco, PR | 6360 | 40290 | GUAYANILLA | 50303 | 0.5432
49500 | Yauco, PR | 6360 | 40550 | PENUELAS | 50303 | 0.5432
49500 | Yauco, PR | 6360 | 40770 | YAUCO | 50303 | 0.5432
49660 | Youngstown-Warren-Boardman, OH-PA | 7610 | 39530 | MERCER | 50328 | 0.9078
49660 | Youngstown-Warren-Boardman, OH-PA | 9320 | 36510 | MAHONING | 50353 | 0.9946
49660 | Youngstown-Warren-Boardman, OH-PA | 9320 | 36790 | TRUMBULL | 50353 | 0.9946
Note: Table represents counties that require a special code to be used for processing claims. Wage index values for these counties are a blend of what they would have received had the MSA designations remained in effect and what they will receive under the CBSA designations. The budget neutrality adjustment factors of 1.060339 and 1.060988 have been applied to the MSA and the CBSA hospital wage data, respectively.

Table D.—Crosswalk of Counties by State
County name | State & County Code | CBSA code | CBSA name | MSA code | MSA name
Autauga, AL | 01000 | 33860 | Montgomery, AL | 5240 | MONTGOMERY, AL
Baldwin, AL | 01010 | 01 | Alabama | 5160 | MOBILE, AL
Barbour, AL | 01020 | 01 | Alabama | 01 | ALABAMA
Bibb, AL | 01030 | 13820 | Birmingham-Hoover, AL | 01 | ALABAMA
Blount, AL | 01040 | 13820 | Birmingham-Hoover, AL | 1000 | BIRMINGHAM, AL
Bullock, AL | 01050 | 01 | Alabama | 01 | ALABAMA
Butler, AL | 01060 | 01 | Alabama | 01 | ALABAMA
Calhoun, AL | 01070 | 11500 | Anniston-Oxford, AL | 0450 | ANNISTON, AL
Chambers, AL | 01080 | 01 | Alabama | 01 | ALABAMA
Cherokee, AL | 01090 | 01 | Alabama | 01 | ALABAMA
Chilton, AL | 01100 | 13820 | Birmingham-Hoover, AL | 01 | ALABAMA
Choctaw, AL | 01110 | 01 | Alabama | 01 | ALABAMA
Clarke, AL | 01120 | 01 | Alabama | 01 | ALABAMA
Clay, AL | 01130 | 01 | Alabama | 01 | ALABAMA
Cleburne, AL | 01140 | 01 | Alabama | 01 | ALABAMA
Coffee, AL | 01150 | 01 | Alabama | 01 | ALABAMA
Colbert, AL | 01160 | 22520 | Florence-Muscle Shoals, AL | 2650 | FLORENCE, AL
Conecuh, AL | 01170 | 01 | Alabama | 01 | ALABAMA
Coosa, AL | 01180 | 01 | Alabama | 01 | ALABAMA
Covington, AL | 01190 | 01 | Alabama | 01 | ALABAMA
Crenshaw, AL | 01200 | 01 | Alabama | 01 | ALABAMA
Cullman, AL | 01210 | 01 | Alabama | 01 | ALABAMA
Dale, AL | 01220 | 01 | Alabama | 2180 | DOTHAN, AL
Dallas, AL | 01230 | 01 | Alabama | 01 | ALABAMA
De Kalb, AL | 01240 | 01 | Alabama | 01 | ALABAMA
Elmore, AL | 01250 | 33860 | Montgomery, AL | 5240 | MONTGOMERY, AL
Escambia, AL | 01260 | 01 | Alabama | 01 | ALABAMA
Etowah, AL | 01270 | 23460 | Gadsden, AL | 2880 | GADSDEN, AL
Fayette, AL | 01280 | 01 | Alabama | 01 | ALABAMA
Franklin, AL | 01290 | 01 | Alabama | 01 | ALABAMA
Geneva, AL | 01300 | 20020 | Dothan, AL | 01 | ALABAMA
Greene, AL | 01310 | 46220 | Tuscaloosa, AL | 01 | ALABAMA
Hale, AL | 01320 | 46220 | Tuscaloosa, AL | 01 | ALABAMA
Henry, AL | 01330 | 20020 | Dothan, AL | 01 | ALABAMA
Houston, AL | 01340 | 20020 | Dothan, AL | 2180 | DOTHAN, AL
Jackson, AL | 01350 | 01 | Alabama | 01 | ALABAMA
Jefferson, AL | 01360 | 13820 | Birmingham-Hoover, AL | 1000 | BIRMINGHAM, AL
Lamar, AL | 01370 | 01 | Alabama | 01 | ALABAMA
Lauderdale, AL | 01380 | 22520 | Florence-Muscle Shoals, AL | 2650 | FLORENCE, AL
Lawrence, AL | 01390 | 19460 | Decatur, AL | 2030 | DECATUR, AL
Lee, AL | 01400 | 12220 | Auburn-Opelika, AL | 0580 | AUBURN-OPELIKA, AL
Limestone, AL | 01410 | 26620 | Huntsville, AL | 3440 | HUNTSVILLE, AL
Lowndes, AL | 01420 | 33860 | Montgomery, AL | 01 | ALABAMA
Macon, AL | 01430 | 01 | Alabama | 01 | ALABAMA
Madison, AL | 01440 | 26620 | Huntsville, AL | 3440 | HUNTSVILLE, AL
Marengo, AL | 01450 | 01 | Alabama | 01 | ALABAMA
Marion, AL | 01460 | 01 | Alabama | 01 | ALABAMA
Marshall, AL | 01470 | 01 | Alabama | 01 | ALABAMA
Mobile, AL | 01480 | 33660 | Mobile, AL | 5160 | MOBILE, AL
Monroe, AL | 01490 | 01 | Alabama | 01 | ALABAMA
Montgomery, AL | 01500 | 33860 | Montgomery, AL | 5240 | MONTGOMERY, AL
Morgan, AL | 01510 | 19460 | Decatur, AL | 2030 | DECATUR, AL
Perry, AL | 01520 | 01 | Alabama | 01 | ALABAMA
Pickens, AL | 01530 | 01 | Alabama | 01 | ALABAMA
Pike, AL | 01540 | 01 | Alabama | 01 | ALABAMA
Randolph, AL | 01550 | 01 | Alabama | 01 | ALABAMA
Russell, AL | 01560 | 17980 | Columbus, GA-AL | 1800 | COLUMBUS, GA-AL
Shelby, AL | 01580 | 13820 | Birmingham-Hoover, AL | 1000 | BIRMINGHAM, AL
St. Clair, AL | 01570 | 13820 | Birmingham-Hoover, AL | 1000 | BIRMINGHAM, AL
Statewide, AL | 01999 | 01 | Alabama | 01 | ALABAMA
Sumter, AL | 01590 | 01 | Alabama | 01 | ALABAMA
Talladega, AL | 01600 | 01 | Alabama | 01 | ALABAMA
Tallapoosa, AL | 01610 | 01 | Alabama | 01 | ALABAMA
Tuscaloosa, AL | 01620 | 46220 | Tuscaloosa, AL | 8600 | TUSCALOOSA, AL
Walker, AL | 01630 | 13820 | Birmingham-Hoover, AL | 01 | ALABAMA
Washington, AL | 01640 | 01 | Alabama | 01 | ALABAMA
Wilcox, AL | 01650 | 01 | Alabama | 01 | ALABAMA
Winston, AL | 01660 | 01 | Alabama | 01 | ALABAMA
Aleutians East, AK | 02013 | 02 | Alaska | 02 | ALASKA
Aleutians West, AK | 02016 | 02 | Alaska | 02 | ALASKA
Anchorage, AK | 02020 | 11260 | Anchorage, AK | 0380 | ANCHORAGE, AK
Angoon, AK | 02030 | 02 | Alaska | 02 | ALASKA
Barrow-North Slope, AK | 02040 | 02 | Alaska | 02 | ALASKA
Bethel, AK | 02050 | 02 | Alaska | 02 | ALASKA
Bristol Bay Borough, AK | 02060 | 02 | Alaska | 02 | ALASKA
Cordova-McCarthy, AK | 02080 | 02 | Alaska | 02 | ALASKA
Denali, AK | 02068 | 02 | Alaska | 02 | ALASKA
Dillingham, AK | 02070 | 02 | Alaska | 02 | ALASKA
Fairbanks North Star, AK | 02090 | 21820 | Fairbanks, AK | 02 | ALASKA
Haines, AK | 02100 | 02 | Alaska | 02 | ALASKA
Juneau, AK | 02110 | 02 | Alaska | 02 | ALASKA
Kenai Peninsula, AK | 02122 | 02 | Alaska | 02 | ALASKA
Kenai-Cook Inlet, AK | 02120 | 02 | Alaska | 02 | ALASKA
Ketchikan Gateway, AK | 02130 | 02 | Alaska | 02 | ALASKA
Kobuk, AK | 02140 | 02 | Alaska | 02 | ALASKA
Kodiak island Borough, AK | 02150 | 02 | Alaska | 02 | ALASKA
Ksukokwin, AK | 02160 | 02 | Alaska | 02 | ALASKA
Lake and Peninsula, AK | 02164 | 02 | Alaska | 02 | ALASKA
Matanuska-Susitna, AK | 02170 | 11260 | Anchorage, AK | 02 | ALASKA
Nome, AK | 02180 | 02 | Alaska | 02 | ALASKA
North Slope Borough, AK | 02185 | 02 | Alaska | 02 | ALASKA
Northwest Artic Borough, AK | 02188 | 02 | Alaska | 02 | ALASKA
Outer Ketchikan, AK | 02190 | 02 | Alaska | 02 | ALASKA
Pr. of Wales, AK | 02200 | 02 | Alaska | 02 | ALASKA
Pr. of Wales-Out. Ketchikan, AK | 02201 | 02 | Alaska | 02 | ALASKA
Seward, AK | 02210 | 02 | Alaska | 02 | ALASKA
Sitka Borough, AK | 02220 | 02 | Alaska | 02 | ALASKA
Skagway- Hoonah-Angoon, AK | 02232 | 02 | Alaska | 02 | ALASKA
Skagway-Yakutat, AK | 02230 | 02 | Alaska | 02 | ALASKA
Skagway-Yakutat-Angoon, AK | 02231 | 02 | Alaska | 02 | ALASKA
Southeast Fairbanks, AK | 02240 | 02 | Alaska | 02 | ALASKA
Statewide, AK | 02999 | 02 | Alaska | 02 | ALASKA
Upper Yukon, AK | 02250 | 02 | Alaska | 02 | ALASKA
Valdez-Chitna-Whittier, AK | 02260 | 02 | Alaska | 02 | ALASKA
Valdez-Cordova, AK | 02261 | 02 | Alaska | 02 | ALASKA
Wade Hampton, AK | 02270 | 02 | Alaska | 02 | ALASKA
Wrangell-Petersburg, AK | 02280 | 02 | Alaska | 02 | ALASKA
Yakutat borough, AK | 02282 | 02 | Alaska | 02 | ALASKA
Yukon-Koyukuk, AK | 02290 | 02 | Alaska | 02 | ALASKA
Apache, AZ | 03000 | 03 | Arizona | 03 | ARIZONA
Cochise, AZ | 03010 | 03 | Arizona | 03 | ARIZONA
Coconino, AZ | 03020 | 22380 | Flagstaff, AZ | 2620 | FLAGSTAFF, ARIZONA-UTAH
Gila, AZ | 03030 | 03 | Arizona | 03 | ARIZONA
Graham, AZ | 03040 | 03 | Arizona | 03 | ARIZONA
Greenlee, AZ | 03050 | 03 | Arizona | 03 | ARIZONA
Lapaz, AZ | 03055 | 03 | Arizona | 03 | ARIZONA
Maricopa, AZ | 03060 | 38060 | Phoenix-Mesa-Scottsdale, AZ | 6200 | PHOENIX-MESA, AZ
Mohave, AZ | 03070 | 03 | Arizona | 4120 | LAS VEGAS, NV-AZ
Navajo, AZ | 03080 | 03 | Arizona | 03 | ARIZONA
Pima, AZ | 03090 | 46060 | Tucson, AZ | 8520 | TUCSON, AZ
Pinal, AZ | 03100 | 38060 | Phoenix-Mesa-Scottsdale, AZ | 6200 | PHOENIX-MESA, AZ
Santa Cruz, AZ | 03110 | 03 | Arizona | 03 | ARIZONA
Statewide, AZ | 03999 | 03 | Arizona | 03 | ARIZONA
Yavapai, AZ | 03120 | 39140 | Prescott, AZ | 03 | ARIZONA
Yuma, AZ | 03130 | 49740 | Yuma, AZ | 9360 | YUMA, AZ
Arkansas, AR | 04000 | 04 | Arkansas | 04 | ARKANSAS
Ashley, AR | 04010 | 04 | Arkansas | 04 | ARKANSAS
Baxter, AR | 04020 | 04 | Arkansas | 04 | ARKANSAS
Benton, AR | 04030 | 22220 | Fayetteville-Springdale-Rogers, AR-MO | 2580 | FAYETTEVILLE-SPRINGDALE-ROGERS, AR
Boone, AR | 04040 | 04 | Arkansas | 04 | ARKANSAS
Bradley, AR | 04050 | 04 | Arkansas | 04 | ARKANSAS
Calhoun, AR | 04060 | 04 | Arkansas | 04 | ARKANSAS
Carroll, AR | 04070 | 04 | Arkansas | 04 | ARKANSAS
Chicot, AR | 04080 | 04 | Arkansas | 04 | ARKANSAS
Clark, AR | 04090 | 04 | Arkansas | 04 | ARKANSAS
Clay, AR | 04100 | 04 | Arkansas | 04 | ARKANSAS
Cleburne, AR | 04110 | 04 | Arkansas | 04 | ARKANSAS
Cleveland, AR | 04120 | 38220 | Pine Bluff, AR | 04 | ARKANSAS
Columbia, AR | 04130 | 04 | Arkansas | 04 | ARKANSAS
Conway, AR | 04140 | 04 | Arkansas | 04 | ARKANSAS
Craighead, AR | 04150 | 27860 | Jonesboro, AR | 3700 | JONESBORO, AR
Crawford, AR | 04160 | 22900 | Fort Smith, AR-OK | 2720 | FORT SMITH, AR-OK
Crittenden, AR | 04170 | 32820 | Memphis, TN-MS-AR | 4920 | MEMPHIS, TN-AR-MS
Cross, AR | 04180 | 04 | Arkansas | 04 | ARKANSAS
Dallas, AR | 04190 | 04 | Arkansas | 04 | ARKANSAS
Desha, AR | 04200 | 04 | Arkansas | 04 | ARKANSAS
Drew, AR | 04210 | 04 | Arkansas | 04 | ARKANSAS
Faulkner, AR | 04220 | 30780 | Little Rock-North Little Rock, AR | 4400 | LITTLE ROCK-NORTH LITTLE ROCK, AR
Franklin, AR | 04230 | 22900 | Fort Smith, AR-OK | 04 | ARKANSAS
Fulton, AR | 04240 | 04 | Arkansas | 04 | ARKANSAS
Garland, AR | 04250 | 26300 | Hot Springs, AR | 04 | ARKANSAS
Grant, AR | 04260 | 30780 | Little Rock-North Little Rock, AR | 04 | ARKANSAS
Greene, AR | 04270 | 04 | Arkansas | 04 | ARKANSAS
Hempstead, AR | 04280 | 04 | Arkansas | 04 | ARKANSAS
Hot spring, AR | 04290 | 04 | Arkansas | 04 | ARKANSAS
Howard, AR | 04300 | 04 | Arkansas | 04 | ARKANSAS
Independence, AR | 04310 | 04 | Arkansas | 04 | ARKANSAS
Izard, AR | 04320 | 04 | Arkansas | 04 | ARKANSAS
Jackson, AR | 04330 | 04 | Arkansas | 04 | ARKANSAS
Jefferson, AR | 04340 | 38220 | Pine Bluff, AR | 6240 | PINE BLUFF, AR
Johnson, AR | 04350 | 04 | Arkansas | 04 | ARKANSAS
Lafayette, AR | 04360 | 04 | Arkansas | 04 | ARKANSAS
Lawrence, AR | 04370 | 04 | Arkansas | 04 | ARKANSAS
Lee, AR | 04380 | 04 | Arkansas | 04 | ARKANSAS
Lincoln, AR | 04390 | 38220 | Pine Bluff, AR | 04 | ARKANSAS
Little river, AR | 04400 | 04 | Arkansas | 04 | ARKANSAS
Logan, AR | 04410 | 04 | Arkansas | 04 | ARKANSAS
Lonoke, AR | 04420 | 30780 | Little Rock-North Little Rock, AR | 4400 | LITTLE ROCK-NORTH LITTLE ROCK, AR
Madison, AR | 04430 | 22220 | Fayetteville-Springdale-Rogers, AR-MO | 04 | ARKANSAS
Marion, AR | 04440 | 04 | Arkansas | 04 | ARKANSAS
Miller, AR | 04450 | 45500 | Texarkana, TX-Texarkana, AR | 8360 | TEXARKANA, TX-TEXARKANA, AR
Mississippi, AR | 04460 | 04 | Arkansas | 04 | ARKANSAS
Monroe, AR | 04470 | 04 | Arkansas | 04 | ARKANSAS
Montgomery, AR | 04480 | 04 | Arkansas | 04 | ARKANSAS
Nevada, AR | 04490 | 04 | Arkansas | 04 | ARKANSAS
Newton, AR | 04500 | 04 | Arkansas | 04 | ARKANSAS
Ouachita, AR | 04510 | 04 | Arkansas | 04 | ARKANSAS
Perry, AR | 04520 | 30780 | Little Rock-North Little Rock, AR | 04 | ARKANSAS
Phillips, AR | 04530 | 04 | Arkansas | 04 | ARKANSAS
Pike, AR | 04540 | 04 | Arkansas | 04 | ARKANSAS
Poinsett, AR | 04550 | 27860 | Jonesboro, AR | 04 | ARKANSAS
Polk, AR | 04560 | 04 | Arkansas | 04 | ARKANSAS
Pope, AR | 04570 | 04 | Arkansas | 04 | ARKANSAS
Prairie, AR | 04580 | 04 | Arkansas | 04 | ARKANSAS
Pulaski, AR | 04590 | 30780 | Little Rock-North Little Rock, AR | 4400 | LITTLE ROCK-NORTH LITTLE ROCK, AR
Randolph, AR | 04600 | 04 | Arkansas | 04 | ARKANSAS
Saline, AR | 04620 | 30780 | Little Rock-North Little Rock, AR | 4400 | LITTLE ROCK-NORTH LITTLE ROCK, AR
Scott, AR | 04630 | 04 | Arkansas | 04 | ARKANSAS
Searcy, AR | 04640 | 04 | Arkansas | 04 | ARKANSAS
Sebastian, AR | 04650 | 22900 | Fort Smith, AR-OK | 2720 | FORT SMITH, AR-OK
Sevier, AR | 04660 | 04 | Arkansas | 04 | ARKANSAS
Sharp, AR | 04670 | 04 | Arkansas | 04 | ARKANSAS
St. Francis, AR | 04610 | 04 | Arkansas | 04 | ARKANSAS
Statewide, AR | 04999 | 04 | Arkansas | 04 | ARKANSAS
Stone, AR | 04680 | 04 | Arkansas | 04 | ARKANSAS
Union, AR | 04690 | 04 | Arkansas | 04 | ARKANSAS
Van Buren, AR | 04700 | 04 | Arkansas | 04 | ARKANSAS
Washington, AR | 04710 | 22220 | Fayetteville-Springdale-Rogers, AR-MO | 2580 | FAYETTEVILLE-SPRINGDALE-ROGERS, AR
White, AR | 04720 | 04 | Arkansas | 04 | ARKANSAS
Woodruff, AR | 04730 | 04 | Arkansas | 04 | ARKANSAS
Yell, AR | 04740 | 04 | Arkansas | 04 | ARKANSAS
Alameda, CA | 05000 | 36084 | Oakland-Fremont-Hayward, CA | 5775 | OAKLAND, CA
Alpine, CA | 05010 | 05 | California | 05 | CALIFORNIA
Amador, CA | 05020 | 05 | California | 05 | CALIFORNIA
Butte, CA | 05030 | 17020 | Chico, CA | 1620 | CHICO-PARADISE, CA
Calaveras, CA | 05040 | 05 | California | 05 | CALIFORNIA
Colusa, CA | 05050 | 05 | California | 05 | CALIFORNIA
Contra Costa, CA | 05060 | 36084 | Oakland-Fremont-Hayward, CA | 5775 | OAKLAND, CA
Del Norte, CA | 05070 | 05 | California | 05 | CALIFORNIA
El Dorado, CA | 05080 | 40900 | Sacramento--Arden-Arcade--Roseville, C | 6920 | SACRAMENTO, CA
Fresno, CA | 05090 | 23420 | Fresno, CA | 2840 | FRESNO, CA
Glenn, CA | 05100 | 05 | California | 05 | CALIFORNIA
Humboldt, CA | 05110 | 05 | California | 05 | CALIFORNIA
Imperial, CA | 05120 | 20940 | El Centro, CA | 05 | CALIFORNIA
Inyo, CA | 05130 | 05 | California | 05 | CALIFORNIA
Kern, CA | 05140 | 12540 | Bakersfield, CA | 0680 | BAKERSFIELD, CA
Kings, CA | 05150 | 25260 | Hanford-Corcoran, CA | 05 | CALIFORNIA
Lake, CA | 05160 | 05 | California | 05 | CALIFORNIA
Lassen, CA | 05170 | 05 | California | 05 | CALIFORNIA
Los Angeles, CA | 05200 | 31084 | Los Angeles-Long Beach-Santa Ana, CA | 4480 | LOS ANGELES-LONG BEACH, CA
Los Angeles, CA | 05210 | 31084 | Los Angeles-Long Beach-Santa Ana, CA | 4480 | LOS ANGELES-LONG BEACH, CA
Madera, CA | 05300 | 31460 | Madera, CA | 2840 | FRESNO, CA
Marin, CA | 05310 | 41884 | San Francisco-San Mateo-Redwood City, CA | 7360 | SAN FRANCISCO, CA
Mariposa, CA | 05320 | 05 | California | 05 | CALIFORNIA
Mendocino, CA | 05330 | 05 | California | 05 | CALIFORNIA
Merced, CA | 05340 | 32900 | Merced, CA | 4940 | MERCED, CA
Modoc, CA | 05350 | 05 | California | 05 | CALIFORNIA
Mono, CA | 05360 | 05 | California | 05 | CALIFORNIA
Monterey, CA | 05370 | 41500 | Salinas, CA | 7120 | SALINAS, CA
Napa, CA | 05380 | 34900 | Napa, CA | 8720 | VALLEJO-FARIFIELD-NAPA, CA
Nevada, CA | 05390 | 05 | California | 05 | CALIFORNIA
Orange, CA | 05400 | 42044 | Santa Ana-Anaheim-Irvine, CA | 5945 | ORANGE COUNTY, CA
Placer, CA | 05410 | 40900 | Sacramento--Arden-Arcade--Roseville, C | 6920 | SACRAMENTO, CA
Plumas, CA | 05420 | 05 | California | 05 | CALIFORNIA
Riverside, CA | 05430 | 40140 | Riverside-San Bernardino-Ontario, CA | 6780 | RIVERSIDE-SAN BERNADINO, CA
Sacramento, CA | 05440 | 40900 | Sacramento--Arden-Arcade--Roseville, C | 6920 | SACRAMENTO, CA
San Benito, CA | 05450 | 41940 | San Jose-Sunnyvale-Santa Clara, CA | 05 | CALIFORNIA
San Bernardino, CA | 05460 | 40140 | Riverside-San Bernardino-Ontario, CA | 6780 | RIVERSIDE-SAN BERNADINO, CA
San Diego, CA | 05470 | 41740 | San Diego-Carlsbad-San Marcos, CA | 7320 | SAN DIEGO, CA
San Francisco, CA | 05480 | 41884 | San Francisco-San Mateo-Redwood City, CA | 7360 | SAN FRANCISCO, CA
San Joaquin, CA | 05490 | 44700 | Stockton, CA | 8120 | STOCKTON-LODI, CA
San Luis Obispo, CA | 05500 | 42020 | San Luis Obispo-Paso Robles, CA | 7460 | SAN LUIS OBISPO-ATASCADERO-PASO ROBLES, CA
San Mateo, CA | 05510 | 41884 | San Francisco-San Mateo-Redwood City, CA | 7360 | SAN FRANCISCO, CA
Santa Barbara, CA | 05520 | 42060 | Santa Barbara-Santa Maria, CA | 7480 | SANTA BARBARA-SANTA MARIA-LOMPOC, CA
Santa Clara, CA | 05530 | 41940 | San Jose-Sunnyvale-Santa Clara, CA | 7400 | SAN JOSE, CA
Santa Cruz, CA | 05540 | 42100 | Santa Cruz-Watsonville, CA | 7485 | SANTA CRUZ-WATSONVILLE, CA
Shasta, CA | 05550 | 39820 | Redding, CA | 6690 | REDDING, CA
Sierra, CA | 05560 | 05 | California | 05 | CALIFORNIA
Siskiyou, CA | 05570 | 05 | California | 05 | CALIFORNIA
Solano, CA | 05580 | 46700 | Vallejo-Fairfield, CA | 8720 | VALLEJO-FARIFIELD-NAPA, CA
Sonoma, CA | 05590 | 42220 | Santa Rosa-Petaluma, CA | 7500 | SANTA ROSA, CA
Stanislaus, CA | 05600 | 33700 | Modesto, CA | 5170 | MODESTO, CA
Statewide, CA | 05999 | 05 | California | 05 | CALIFORNIA
Sutter, CA | 05610 | 49700 | Yuba City, CA | 9340 | YUBA CITY, CA
Tehama, CA | 05620 | 05 | California | 05 | CALIFORNIA
Trinity, CA | 05630 | 05 | California | 05 | CALIFORNIA
Tulare, CA | 05640 | 47300 | Visalia-Porterville, CA | 8780 | VISALIA-TULARE-PORTERVILLE, CA
Tuolumne, CA | 05650 | 05 | California | 05 | CALIFORNIA
Ventura, CA | 05660 | 37100 | Oxnard-Thousand Oaks-Ventura, CA | 8735 | VENTURA, CA
Yolo, CA | 05670 | 40900 | Sacramento--Arden-Arcade--Roseville, C | 9270 | YOLO, CA
Yuba, CA | 05680 | 49700 | Yuba City, CA | 9340 | YUBA CITY, CA
Adams, CO | 06000 | 19740 | Denver-Aurora, CO | 2080 | DENVER, CO
Alamosa, CO | 06010 | 06 | Colorado | 06 | COLORADO
Arapahoe, CO | 06020 | 19740 | Denver-Aurora, CO | 2080 | DENVER, CO
Archuleta, CO | 06030 | 06 | Colorado | 06 | COLORADO
Baca, CO | 06040 | 06 | Colorado | 06 | COLORADO
Bent, CO | 06050 | 06 | Colorado | 06 | COLORADO
Boulder, CO | 06060 | 14500 | Boulder, CO | 1125 | BOULDER-LONGMONT, CO
Broomfield, CO | 06630 | 19740 | Denver-Aurora, CO | 2080 | DENVER, CO
Chaffee, CO | 06070 | 06 | Colorado | 06 | COLORADO
Cheyenne, CO | 06080 | 06 | Colorado | 06 | COLORADO
Clear Creek, CO | 06090 | 19740 | Denver-Aurora, CO | 06 | COLORADO
Conejos, CO | 06100 | 06 | Colorado | 06 | COLORADO
Costilla, CO | 06110 | 06 | Colorado | 06 | COLORADO
Crowley, CO | 06120 | 06 | Colorado | 06 | COLORADO
Custer, CO | 06130 | 06 | Colorado | 06 | COLORADO
Delta, CO | 06140 | 06 | Colorado | 06 | COLORADO
Denver, CO | 06150 | 19740 | Denver-Aurora, CO | 2080 | DENVER, CO
Dolores, CO | 06160 | 06 | Colorado | 06 | COLORADO
Douglas, CO | 06170 | 19740 | Denver-Aurora, CO | 2080 | DENVER, CO
Eagle, CO | 06180 | 06 | Colorado | 06 | COLORADO
El Paso, CO | 06200 | 17820 | Colorado Springs, CO | 1720 | COLORADO SPRINGS, CO
Elbert, CO | 06190 | 19740 | Denver-Aurora, CO | 06 | COLORADO
Fremont, CO | 06210 | 06 | Colorado | 06 | COLORADO
Garfield, CO | 06220 | 06 | Colorado | 06 | COLORADO
Gilpin, CO | 06230 | 19740 | Denver-Aurora, CO | 06 | COLORADO
Grand, CO | 06240 | 06 | Colorado | 06 | COLORADO
Gunnison, CO | 06250 | 06 | Colorado | 06 | COLORADO
Hinsdale, CO | 06260 | 06 | Colorado | 06 | COLORADO
Huerfano, CO | 06270 | 06 | Colorado | 06 | COLORADO
Jackson, CO | 06280 | 06 | Colorado | 06 | COLORADO
Jefferson, CO | 06290 | 19740 | Denver-Aurora, CO | 2080 | DENVER, CO
Kiowa, CO | 06300 | 06 | Colorado | 06 | COLORADO
Kit Carson, CO | 06310 | 06 | Colorado | 06 | COLORADO
La Plata, CO | 06330 | 06 | Colorado | 06 | COLORADO
Lake, CO | 06320 | 06 | Colorado | 06 | COLORADO
Larimer, CO | 06340 | 22660 | Fort Collins-Loveland, CO | 2670 | FORT COLLINS-LOVELAND, CO
Las Animas, CO | 06350 | 06 | Colorado | 06 | COLORADO
Lincoln, CO | 06360 | 06 | Colorado | 06 | COLORADO
Logan, CO | 06370 | 06 | Colorado | 06 | COLORADO
Mesa, CO | 06380 | 24300 | Grand Junction, CO | 2995 | GRAND JUNCTION, CO
Mineral, CO | 06390 | 06 | Colorado | 06 | COLORADO
Moffat, CO | 06400 | 06 | Colorado | 06 | COLORADO
Montezuma, CO | 06410 | 06 | Colorado | 06 | COLORADO
Montrose, CO | 06420 | 06 | Colorado | 06 | COLORADO
Morgan, CO | 06430 | 06 | Colorado | 06 | COLORADO
Otero, CO | 06440 | 06 | Colorado | 06 | COLORADO
Ouray, CO | 06450 | 06 | Colorado | 06 | COLORADO
Park, CO | 06460 | 19740 | Denver-Aurora, CO | 06 | COLORADO
Phillips, CO | 06470 | 06 | Colorado | 06 | COLORADO
Pitkin, CO | 06480 | 06 | Colorado | 06 | COLORADO
Prowers, CO | 06490 | 06 | Colorado | 06 | COLORADO
Pueblo, CO | 06500 | 39380 | Pueblo, CO | 6560 | PUEBLO, CO
Rio Blanco, CO | 06510 | 06 | Colorado | 06 | COLORADO
Rio Grande, CO | 06520 | 06 | Colorado | 06 | COLORADO
Routt, CO | 06530 | 06 | Colorado | 06 | COLORADO
Saguache, CO | 06540 | 06 | Colorado | 06 | COLORADO
San Juan, CO | 06550 | 06 | Colorado | 06 | COLORADO
San Miguel, CO | 06560 | 06 | Colorado | 06 | COLORADO
Sedgwick, CO | 06570 | 06 | Colorado | 06 | COLORADO
Statewide, CO | 06999 | 06 | Colorado | 06 | COLORADO
Summit, CO | 06580 | 06 | Colorado | 06 | COLORADO
Teller, CO | 06590 | 17820 | Colorado Springs, CO | 06 | COLORADO
Washington, CO | 06600 | 06 | Colorado | 06 | COLORADO
Weld, CO | 06610 | 24540 | Greeley, CO | 3060 | GREELEY, CO
Yuma, CO | 06620 | 06 | Colorado | 06 | COLORADO
Fairfield, CT | 07000 | 14860 | Bridgeport-Stamford-Norwalk, CT | 5483 | NEW HAVEN-BRIDGEPORT-STAMFORD-WATERBURY-DANB
Hartford, CT | 07010 | 25540 | Hartford-West Hartford-East Hartford, CT | 3283 | HARTFORD, CT
Litchfield, CT | 07020 | 25540 | Hartford-West Hartford-East Hartford, CT | 3283 | HARTFORD, CT
Middlesex, CT | 07030 | 25540 | Hartford-West Hartford-East Hartford, CT | 3283 | HARTFORD, CT
New haven, CT | 07040 | 35300 | New Haven-Milford, CT | 5483 | NEW HAVEN-BRIDGEPORT-STAMFORD-WATERBURY-DANB
New London, CT | 07050 | 35980 | Norwich-New London, CT | 5523 | NEW LONDON-NORWICH, CT
Statewide, CT | 07999 | 07 | Connecticut | 07 | CONNECTICUT
Tolland, CT | 07060 | 25540 | Hartford-West Hartford-East Hartford, CT | 3283 | HARTFORD, CT
Windham, CT | 07070 | 07 | Connecticut | 07 | CONNECTICUT
Kent, DE | 08000 | 20100 | Dover, DE | 2190 | DOVER, DE
New castle, DE | 08010 | 48864 | Wilmington, DE-MD-NJ | 9160 | WILMINGTON-NEWARK, DE-MD
Statewide, DE | 08999 | 08 | Delaware | 08 | DELAWARE
Sussex, DE | 08020 | 08 | Delaware | 08 | DELAWARE
The District of Columbia, DC | 09000 | 47894 | Washington-Arlington-Alexandria DC-VA | 8840 | WASHINGTON, DC-MD-VA-WV
Alachua, FL | 10000 | 23540 | Gainesville, FL | 2900 | GAINESVILLE, FL
Baker, FL | 10010 | 27260 | Jacksonville, FL | 10 | FLORIDA
Bay, FL | 10020 | 37460 | Panama City-Lynn Haven, FL | 6015 | PANAMA CITY, FL
Bradford, FL | 10030 | 10 | Florida | 10 | FLORIDA
Brevard, FL | 10040 | 37340 | Palm Bay-Melbourne-Titusville, FL | 4900 | MELBOURNE-TITUSVILLE-PALM BAY, FL
Broward, FL | 10050 | 22744 | Ft Lauderdale-Pompano Beach-Deerfield | 2680 | FORT LAUDERDALE, FL
Calhoun, FL | 10060 | 10 | Florida | 10 | FLORIDA
Charlotte, FL | 10070 | 39460 | Punta Gorda, FL | 6580 | PUNTA GORDA, FL
Citrus, FL | 10080 | 10 | Florida | 10 | FLORIDA
Clay, FL | 10090 | 27260 | Jacksonville, FL | 3600 | JACKSONVILLE, FL
Collier, FL | 10100 | 34940 | Naples-Marco Island, FL | 5345 | NAPLES, FL
Columbia, FL | 10110 | 10 | Florida | 10 | FLORIDA
De Soto, FL | 10130 | 10 | Florida | 10 | FLORIDA
Dixie, FL | 10140 | 10 | Florida | 10 | FLORIDA
Duval, FL | 10150 | 27260 | Jacksonville, FL | 3600 | JACKSONVILLE, FL
Escambia, FL | 10160 | 37860 | Pensacola-Ferry Pass-Brent, FL | 6080 | PENSACOLA, FL
Flagler, FL | 10170 | 10 | Florida | 2020 | DAYTONA BEACH, FL
Franklin, FL | 10180 | 10 | Florida | 10 | FLORIDA
Gadsden, FL | 10190 | 45220 | Tallahassee, FL | 8240 | TALLAHASSEE, FL
Gilchrist, FL | 10200 | 23540 | Gainesville, FL | 10 | FLORIDA
Glades, FL | 10210 | 10 | Florida | 10 | FLORIDA
Gulf, FL | 10220 | 10 | Florida | 10 | FLORIDA
Hamilton, FL | 10230 | 10 | Florida | 10 | FLORIDA
Hardee, FL | 10240 | 10 | Florida | 10 | FLORIDA
Hendry, FL | 10250 | 10 | Florida | 10 | FLORIDA
Hernando, FL | 10260 | 45300 | Tampa-St. Petersburg-Clearwater, FL | 8280 | TAMPA-ST. PETERSBURG-CLEARWATER, FL
Highlands, FL | 10270 | 10 | Florida | 10 | FLORIDA
Hillsborough, FL | 10280 | 45300 | Tampa-St. Petersburg-Clearwater, FL | 8280 | TAMPA-ST. PETERSBURG-CLEARWATER, FL
Holmes, FL | 10290 | 10 | Florida | 10 | FLORIDA
Indian river, FL | 10300 | 46940 | Vero Beach, FL | 10 | FLORIDA
Jackson, FL | 10310 | 10 | Florida | 10 | FLORIDA
Jefferson, FL | 10320 | 45220 | Tallahassee, FL | 10 | FLORIDA
Lafayette, FL | 10330 | 10 | Florida | 10 | FLORIDA
Lake, FL | 10340 | 36740 | Orlando-Kissimmee, FL | 5960 | ORLANDO, FL
Lee, FL | 10350 | 15980 | Cape Coral-Fort Myers, FL | 2700 | FORT MYERS-CAPE CORAL, FL
Leon, FL | 10360 | 45220 | Tallahassee, FL | 8240 | TALLAHASSEE, FL
Levy, FL | 10370 | 10 | Florida | 10 | FLORIDA
Liberty, FL | 10380 | 10 | Florida | 10 | FLORIDA
Madison, FL | 10390 | 10 | Florida | 10 | FLORIDA
Manatee, FL | 10400 | 42260 | Sarasota-Bradenton-Venice, FL | 7510 | SARASOTA-BRADENTON, FL
Marion, FL | 10410 | 36100 | Ocala, FL | 5790 | OCALA, FL
Martin, FL | 10420 | 38940 | Port St. Lucie-Fort Pierce, FL | 2710 | FORT PIERCE-PORT ST. LUCIE, FL
Miami-Dade, FL | 10120 | 33124 | Miami-Miami Beach-Kendall, FL | 5000 | MIAMI, FL
Monroe, FL | 10430 | 10 | Florida | 10 | FLORIDA
Nassau, FL | 10440 | 27260 | Jacksonville, FL | 3600 | JACKSONVILLE, FL
Okaloosa, FL | 10450 | 23020 | Fort Walton Beach-Crestview-Destin, FL | 2750 | FORT WALTON BEACH, FL
Okeechobee, FL | 10460 | 10 | Florida | 10 | FLORIDA
Orange, FL | 10470 | 36740 | Orlando-Kissimmee, FL | 5960 | ORLANDO, FL
Osceola, FL | 10480 | 36740 | Orlando-Kissimmee, FL | 5960 | ORLANDO, FL
Palm beach, FL | 10490 | 48424 | West Palm Beach-Boca Raton-Boynton FL | 8960 | WEST PALM BEACH-BOCA RATON, FL
Pasco, FL | 10500 | 45300 | Tampa-St. Petersburg-Clearwater, FL | 8280 | TAMPA-ST. PETERSBURG-CLEARWATER, FL
Pinellas, FL | 10510 | 45300 | Tampa-St. Petersburg-Clearwater, FL | 8280 | TAMPA-ST. PETERSBURG-CLEARWATER, FL
Polk, FL | 10520 | 29460 | Lakeland, FL | 3980 | LAKELAND-WINTER HAVEN, FL
Putnam, FL | 10530 | 10 | Florida | 10 | FLORIDA
Santa Rosa, FL | 10560 | 37860 | Pensacola-Ferry Pass-Brent, FL | 6080 | PENSACOLA, FL
Sarasota, FL | 10570 | 42260 | Sarasota-Bradenton-Venice, FL | 7510 | SARASOTA-BRADENTON, FL
Seminole, FL | 10580 | 36740 | Orlando-Kissimmee, FL | 5960 | ORLANDO, FL
St. johns, FL | 10540 | 27260 | Jacksonville, FL | 3600 | JACKSONVILLE, FL
St. Lucie, FL | 10550 | 38940 | Port St. Lucie-Fort Pierce, FL | 2710 | FORT PIERCE-PORT ST. LUCIE, FL
Statewide, FL | 10999 | 10 | Florida | 10 | FLORIDA
Sumter, FL | 10590 | 10 | Florida | 10 | FLORIDA
Suwannee, FL | 10600 | 10 | Florida | 10 | FLORIDA
Taylor, FL | 10610 | 10 | Florida | 10 | FLORIDA
Union, FL | 10620 | 10 | Florida | 10 | FLORIDA
Volusia, FL | 10630 | 19660 | Deltona-Daytona Beach-Ormond Beach, FL | 2020 | DAYTONA BEACH, FL
Wakulla, FL | 10640 | 45220 | Tallahassee, FL | 10 | FLORIDA
Walton, FL | 10650 | 10 | Florida | 10 | FLORIDA
Washington, FL | 10660 | 10 | Florida | 10 | FLORIDA
Appling, GA | 11000 | 11 | Georgia | 11 | GEORGIA
Atkinson, GA | 11010 | 11 | Georgia | 11 | GEORGIA
Bacon, GA | 11011 | 11 | Georgia | 11 | GEORGIA
Baker, GA | 11020 | 10500 | Albany, GA | 11 | GEORGIA
Baldwin, GA | 11030 | 11 | Georgia | 11 | GEORGIA
Banks, GA | 11040 | 11 | Georgia | 11 | GEORGIA
Barrow, GA | 11050 | 12060 | Atlanta-Sandy Springs-Marietta, GA | 0520 | ATLANTA, GA
Bartow, GA | 11060 | 12060 | Atlanta-Sandy Springs-Marietta, GA | 0520 | ATLANTA, GA
Ben hill, GA | 11070 | 11 | Georgia | 11 | GEORGIA
Berrien, GA | 11080 | 11 | Georgia | 11 | GEORGIA
Bibb, GA | 11090 | 31420 | Macon, GA | 4680 | MACON, GA
Bleckley, GA | 11100 | 11 | Georgia | 11 | GEORGIA
Brantley, GA | 11110 | 15260 | Brunswick, GA | 11 | GEORGIA
Brooks, GA | 11120 | 46660 | Valdosta, GA | 11 | GEORGIA
Bryan, GA | 11130 | 42340 | Savannah, GA | 7520 | SAVANNAH, GA
Bulloch, GA | 11140 | 11 | Georgia | 11 | GEORGIA
Burke, GA | 11150 | 12260 | Augusta-Richmond County, GA-SC | 11 | GEORGIA
Butts, GA | 11160 | 12060 | Atlanta-Sandy Springs-Marietta, GA | 11 | GEORGIA
Calhoun, GA | 11161 | 11 | Georgia | 11 | GEORGIA
Camden, GA | 11170 | 11 | Georgia | 11 | GEORGIA
Candler, GA | 11180 | 11 | Georgia | 11 | GEORGIA
Carroll, GA | 11190 | 12060 | Atlanta-Sandy Springs-Marietta, GA | 0520 | ATLANTA, GA
Catoosa, GA | 11200 | 16860 | Chattanooga, TN-GA | 1560 | CHATTANOOGA, TN-GA
Charlton, GA | 11210 | 11 | Georgia | 11 | GEORGIA
Chatham, GA | 11220 | 42340 | Savannah, GA | 7520 | SAVANNAH, GA
Chattahoochee, GA | 11230 | 17980 | Columbus, GA-AL | 1800 | COLUMBUS, GA-AL
Chattooga, GA | 11240 | 11 | Georgia | 11 | GEORGIA
Cherokee, GA | 11250 | 12060 | Atlanta-Sandy Springs-Marietta, GA | 0520 | ATLANTA, GA
Clarke, GA | 11260 | 12020 | Athens-Clarke County, GA | 0500 | ATHENS, GA
Clay, GA | 11270 | 11 | Georgia | 11 | GEORGIA
Clayton, GA | 11280 | 12060 | Atlanta-Sandy Springs-Marietta, GA | 0520 | ATLANTA, GA
Clinch, GA | 11281 | 11 | Georgia | 11 | GEORGIA
Cobb, GA | 11290 | 12060 | Atlanta-Sandy Springs-Marietta, GA | 0520 | ATLANTA, GA
Coffee, GA | 11291 | 11 | Georgia | 11 | GEORGIA
Colquitt, GA | 11300 | 11 | Georgia | 11 | GEORGIA
Columbia, GA | 11310 | 12260 | Augusta-Richmond County, GA-SC | 0600 | AUGUSTA-AIKEN, GA-SC
Cook, GA | 11311 | 11 | Georgia | 11 | GEORGIA
Coweta, GA | 11320 | 12060 | Atlanta-Sandy Springs-Marietta, GA | 0520 | ATLANTA, GA
Crawford, GA | 11330 | 31420 | Macon, GA | 11 | GEORGIA
Crisp, GA | 11340 | 11 | Georgia | 11 | GEORGIA
Dade, GA | 11341 | 16860 | Chattanooga, TN-GA | 1560 | CHATTANOOGA, TN-GA
Dawson, GA | 11350 | 12060 | Atlanta-Sandy Springs-Marietta, GA | 11 | GEORGIA
De Kalb, GA | 11370 | 12060 | Atlanta-Sandy Springs-Marietta, GA | 0520 | ATLANTA, GA
Decatur, GA | 11360 | 11 | Georgia | 11 | GEORGIA
Dodge, GA | 11380 | 11 | Georgia | 11 | GEORGIA
Dooly, GA | 11381 | 11 | Georgia | 11 | GEORGIA
Dougherty, GA | 11390 | 10500 | Albany, GA | 0120 | ALBANY, GA
Douglas, GA | 11400 | 12060 | Atlanta-Sandy Springs-Marietta, GA | 0520 | ATLANTA, GA
Early, GA | 11410 | 11 | Georgia | 11 | GEORGIA
Echols, GA | 11420 | 46660 | Valdosta, GA | 11 | GEORGIA
Effingham, GA | 11421 | 42340 | Savannah, GA | 7520 | SAVANNAH, GA
Elbert, GA | 11430 | 11 | Georgia | 11 | GEORGIA
Emanuel, GA | 11440 | 11 | Georgia | 11 | GEORGIA
Evans, GA | 11441 | 11 | Georgia | 11 | GEORGIA
Fannin, GA | 11450 | 11 | Georgia | 11 | GEORGIA
Fayette, GA | 11451 | 12060 | Atlanta-Sandy Springs-Marietta, GA | 0520 | ATLANTA, GA
Floyd, GA | 11460 | 40660 | Rome, GA | 11 | GEORGIA
Forsyth, GA | 11461 | 12060 | Atlanta-Sandy Springs-Marietta, GA | 0520 | ATLANTA, GA
Franklin, GA | 11462 | 11 | Georgia | 11 | GEORGIA
Fulton, GA | 11470 | 12060 | Atlanta-Sandy Springs-Marietta, GA | 0520 | ATLANTA, GA
Gilmer, GA | 11471 | 11 | Georgia | 11 | GEORGIA
Glascock, GA | 11480 | 11 | Georgia | 11 | GEORGIA
Glynn, GA | 11490 | 15260 | Brunswick, GA | 11 | GEORGIA
Gordon, GA | 11500 | 11 | Georgia | 11 | GEORGIA
Grady, GA | 11510 | 11 | Georgia | 11 | GEORGIA
Greene, GA | 11520 | 11 | Georgia | 11 | GEORGIA
Gwinnett, GA | 11530 | 12060 | Atlanta-Sandy Springs-Marietta, GA | 0520 | ATLANTA, GA
Habersham, GA | 11540 | 11 | Georgia | 11 | GEORGIA
Hall, GA | 11550 | 23580 | Gainesville, GA | 11 | GEORGIA
Hancock, GA | 11560 | 11 | Georgia | 11 | GEORGIA
Haralson, GA | 11570 | 12060 | Atlanta-Sandy Springs-Marietta, GA | 11 | GEORGIA
Harris, GA | 11580 | 17980 | Columbus, GA-AL | 1800 | COLUMBUS, GA-AL
Hart, GA | 11581 | 11 | Georgia | 11 | GEORGIA
Heard, GA | 11590 | 12060 | Atlanta-Sandy Springs-Marietta, GA | 11 | GEORGIA
Henry, GA | 11591 | 12060 | Atlanta-Sandy Springs-Marietta, GA | 0520 | ATLANTA, GA
Houston, GA | 11600 | 47580 | Warner Robins, GA | 4680 | MACON, GA
Irwin, GA | 11601 | 11 | Georgia | 11 | GEORGIA
Jackson, GA | 11610 | 11 | Georgia | 11 | GEORGIA
Jasper, GA | 11611 | 12060 | Atlanta-Sandy Springs-Marietta, GA | 11 | GEORGIA
Jeff Davis, GA | 11612 | 11 | Georgia | 11 | GEORGIA
Jefferson, GA | 11620 | 11 | Georgia | 11 | GEORGIA
Jenkins, GA | 11630 | 11 | Georgia | 11 | GEORGIA
Johnson, GA | 11640 | 11 | Georgia | 11 | GEORGIA
Jones, GA | 11650 | 31420 | Macon, GA | 4680 | MACON, GA
Lamar, GA | 11651 | 12060 | Atlanta-Sandy Springs-Marietta, GA | 11 | GEORGIA
Lanier, GA | 11652 | 46660 | Valdosta, GA | 11 | GEORGIA
Laurens, GA | 11660 | 11 | Georgia | 11 | GEORGIA
Lee, GA | 11670 | 10500 | Albany, GA | 0120 | ALBANY, GA
Liberty, GA | 11680 | 25980 | Hinesville-Fort Stewart, GA | 11 | GEORGIA
Lincoln, GA | 11690 | 11 | Georgia | 11 | GEORGIA
Long, GA | 11691 | 25980 | Hinesville-Fort Stewart, GA | 11 | GEORGIA
Lowndes, GA | 11700 | 46660 | Valdosta, GA | 11 | GEORGIA
Lumpkin, GA | 11701 | 11 | Georgia | 11 | GEORGIA
Macon, GA | 11710 | 11 | Georgia | 11 | GEORGIA
Madison, GA | 11720 | 12020 | Athens-Clarke County, GA | 0500 | ATHENS, GA
Marion, GA | 11730 | 17980 | Columbus, GA-AL | 11 | GEORGIA
McDuffie, GA | 11702 | 12260 | Augusta-Richmond County, GA-SC | 0600 | AUGUSTA-AIKEN, GA-SC
McIntosh, GA | 11703 | 15260 | Brunswick, GA | 11 | GEORGIA
Meriwether, GA | 11740 | 12060 | Atlanta-Sandy Springs-Marietta, GA | 11 | GEORGIA
Miller, GA | 11741 | 11 | Georgia | 11 | GEORGIA
Mitchell, GA | 11750 | 11 | Georgia | 11 | GEORGIA
Monroe, GA | 11760 | 31420 | Macon, GA | 11 | GEORGIA
Montgomery, GA | 11770 | 11 | Georgia | 11 | GEORGIA
Morgan, GA | 11771 | 11 | Georgia | 11 | GEORGIA
Murray, GA | 11772 | 19140 | Dalton, GA | 11 | GEORGIA
Muscogee, GA | 11780 | 17980 | Columbus, GA-AL | 1800 | COLUMBUS, GA-AL
Newton, GA | 11790 | 12060 | Atlanta-Sandy Springs-Marietta, GA | 0520 | ATLANTA, GA
Oconee, GA | 11800 | 12020 | Athens-Clarke County, GA | 0500 | ATHENS, GA
Oglethorpe, GA | 11801 | 12020 | Athens-Clarke County, GA | 11 | GEORGIA
Paulding, GA | 11810 | 12060 | Atlanta-Sandy Springs-Marietta, GA | 0520 | ATLANTA, GA
Peach, GA | 11811 | 11 | Georgia | 4680 | MACON, GA
Pickens, GA | 11812 | 12060 | Atlanta-Sandy Springs-Marietta, GA | 0520 | ATLANTA, GA
Pierce, GA | 11820 | 11 | Georgia | 11 | GEORGIA
Pike, GA | 11821 | 12060 | Atlanta-Sandy Springs-Marietta, GA | 11 | GEORGIA
Polk, GA | 11830 | 11 | Georgia | 11 | GEORGIA
Pulaski, GA | 11831 | 11 | Georgia | 11 | GEORGIA
Putnam, GA | 11832 | 11 | Georgia | 11 | GEORGIA
Quitman, GA | 11833 | 11 | Georgia | 11 | GEORGIA
Rabun, GA | 11834 | 11 | Georgia | 11 | GEORGIA
Randolph, GA | 11835 | 11 | Georgia | 11 | GEORGIA
Richmond, GA | 11840 | 12260 | Augusta-Richmond County, GA-SC | 0600 | AUGUSTA-AIKEN, GA-SC
Rockdale, GA | 11841 | 12060 | Atlanta-Sandy Springs-Marietta, GA | 0520 | ATLANTA, GA
Schley, GA | 11842 | 11 | Georgia | 11 | GEORGIA
Screven, GA | 11850 | 11 | Georgia | 11 | GEORGIA
Seminole, GA | 11851 | 11 | Georgia | 11 | GEORGIA
Spalding, GA | 11860 | 12060 | Atlanta-Sandy Springs-Marietta, GA | 0520 | ATLANTA, GA
Statewide, GA | 11999 | 11 | Georgia | 11 | GEORGIA
Stephens, GA | 11861 | 11 | Georgia | 11 | GEORGIA
Stewart, GA | 11862 | 11 | Georgia | 11 | GEORGIA
Sumter, GA | 11870 | 11 | Georgia | 11 | GEORGIA
Talbot, GA | 11880 | 11 | Georgia | 11 | GEORGIA
Taliaferro, GA | 11881 | 11 | Georgia | 11 | GEORGIA
Tattnall, GA | 11882 | 11 | Georgia | 11 | GEORGIA
Taylor, GA | 11883 | 11 | Georgia | 11 | GEORGIA
Telfair, GA | 11884 | 11 | Georgia | 11 | GEORGIA
Terrell, GA | 11885 | 10500 | Albany, GA | 11 | GEORGIA
Thomas, GA | 11890 | 11 | Georgia | 11 | GEORGIA
Tift, GA | 11900 | 11 | Georgia | 11 | GEORGIA
Toombs, GA | 11901 | 11 | Georgia | 11 | GEORGIA
Towns, GA | 11902 | 11 | Georgia | 11 | GEORGIA
Treutlen, GA | 11903 | 11 | Georgia | 11 | GEORGIA
Troup, GA | 11910 | 11 | Georgia | 11 | GEORGIA
Turner, GA | 11911 | 11 | Georgia | 11 | GEORGIA
Twiggs, GA | 11912 | 31420 | Macon, GA | 4680 | MACON, GA
Union, GA | 11913 | 11 | Georgia | 11 | GEORGIA
Upson, GA | 11920 | 11 | Georgia | 11 | GEORGIA
Walker, GA | 11921 | 16860 | Chattanooga, TN-GA | 1560 | CHATTANOOGA, TN-GA
Walton, GA | 11930 | 12060 | Atlanta-Sandy Springs-Marietta, GA | 0520 | ATLANTA, GA
Ware, GA | 11940 | 11 | Georgia | 11 | GEORGIA
Warren, GA | 11941 | 11 | Georgia | 11 | GEORGIA
Washington, GA | 11950 | 11 | Georgia | 11 | GEORGIA
Wayne, GA | 11960 | 11 | Georgia | 11 | GEORGIA
Webster, GA | 11961 | 11 | Georgia | 11 | GEORGIA
Wheeler, GA | 11962 | 11 | Georgia | 11 | GEORGIA
White, GA | 11963 | 11 | Georgia | 11 | GEORGIA
Whitfield, GA | 11970 | 19140 | Dalton, GA | 11 | GEORGIA
Wilcox, GA | 11971 | 11 | Georgia | 11 | GEORGIA
Wilkes, GA | 11972 | 11 | Georgia | 11 | GEORGIA
Wilkinson, GA | 11973 | 11 | Georgia | 11 | GEORGIA
Worth, GA | 11980 | 10500 | Albany, GA | 11 | GEORGIA
Hawaii, HI | 12010 | 12 | Hawaii | 12 | HAWAII
Honolulu, HI | 12020 | 26180 | Honolulu, HI | 3320 | HONOLULU, HI
Kalawao, HI | 12005 | 12 | Hawaii | 12 | HAWAII
Kauai, HI | 12040 | 12 | Hawaii | 12 | HAWAII
Maui, HI | 12050 | 12 | Hawaii | 12 | HAWAII
Statewide, HI | 12999 | 12 | Hawaii | 12 | HAWAII
Ada, ID | 13000 | 14260 | Boise City-Nampa, ID | 1080 | BOISE CITY, ID
Adams, ID | 13010 | 13 | Idaho | 13 | IDAHO
Bannock, ID | 13020 | 38540 | Pocatello, ID | 6340 | POCATELLO, ID
Bear lake, ID | 13030 | 13 | Idaho | 13 | IDAHO
Benewah, ID | 13040 | 13 | Idaho | 13 | IDAHO
Bingham, ID | 13050 | 13 | Idaho | 13 | IDAHO
Blaine, ID | 13060 | 13 | Idaho | 13 | IDAHO
Boise, ID | 13070 | 14260 | Boise City-Nampa, ID | 13 | IDAHO
Bonner, ID | 13080 | 13 | Idaho | 13 | IDAHO
Bonneville, ID | 13090 | 26820 | Idaho Falls, ID | 13 | IDAHO
Boundary, ID | 13100 | 13 | Idaho | 13 | IDAHO
Butte, ID | 13110 | 13 | Idaho | 13 | IDAHO
Camas, ID | 13120 | 13 | Idaho | 13 | IDAHO
Canyon, ID | 13130 | 14260 | Boise City-Nampa, ID | 1080 | BOISE CITY, ID
Caribou, ID | 13140 | 13 | Idaho | 13 | IDAHO
Cassia, ID | 13150 | 13 | Idaho | 13 | IDAHO
Clark, ID | 13160 | 13 | Idaho | 13 | IDAHO
Clearwater, ID | 13170 | 13 | Idaho | 13 | IDAHO
Custer, ID | 13180 | 13 | Idaho | 13 | IDAHO
Elmore, ID | 13190 | 13 | Idaho | 13 | IDAHO
Franklin, ID | 13200 | 30860 | Logan, UT-ID | 13 | IDAHO
Fremont, ID | 13210 | 13 | Idaho | 13 | IDAHO
Gem, ID | 13220 | 14260 | Boise City-Nampa, ID | 13 | IDAHO
Gooding, ID | 13230 | 13 | Idaho | 13 | IDAHO
Idaho, ID | 13240 | 13 | Idaho | 13 | IDAHO
Jefferson, ID | 13250 | 26820 | Idaho Falls, ID | 13 | IDAHO
Jerome, ID | 13260 | 13 | Idaho | 13 | IDAHO
Kootenai, ID | 13270 | 17660 | Coeur d'Alene, ID | 13 | IDAHO
Latah, ID | 13280 | 13 | Idaho | 13 | IDAHO
Lemhi, ID | 13290 | 13 | Idaho | 13 | IDAHO
Lewis, ID | 13300 | 13 | Idaho | 13 | IDAHO
Lincoln, ID | 13310 | 13 | Idaho | 13 | IDAHO
Madison, ID | 13320 | 13 | Idaho | 13 | IDAHO
Minidoka, ID | 13330 | 13 | Idaho | 13 | IDAHO
Nez Perce, ID | 13340 | 30300 | Lewiston, ID-WA | 13 | IDAHO
Oneida, ID | 13350 | 13 | Idaho | 13 | IDAHO
Owyhee, ID | 13360 | 14260 | Boise City-Nampa, ID | 13 | IDAHO
Payette, ID | 13370 | 13 | Idaho | 13 | IDAHO
Power, ID | 13380 | 38540 | Pocatello, ID | 13 | IDAHO
Shoshone, ID | 13390 | 13 | Idaho | 13 | IDAHO
Statewide, ID | 13999 | 13 | Idaho | 13 | IDAHO
Teton, ID | 13400 | 13 | Idaho | 13 | IDAHO
Twin falls, ID | 13410 | 13 | Idaho | 13 | IDAHO
Valley, ID | 13420 | 13 | Idaho | 13 | IDAHO
Washington, ID | 13430 | 13 | Idaho | 13 | IDAHO
Adams, IL | 14000 | 14 | Illinois | 14 | ILLINOIS
Alexander, IL | 14010 | 14 | Illinois | 14 | ILLINOIS
Bond, IL | 14020 | 41180 | St. Louis, MO-IL | 14 | ILLINOIS
Boone, IL | 14030 | 40420 | Rockford, IL | 6880 | ROCKFORD, IL
Brown, IL | 14040 | 14 | Illinois | 14 | ILLINOIS
Bureau, IL | 14050 | 14 | Illinois | 14 | ILLINOIS
Calhoun, IL | 14060 | 41180 | St. Louis, MO-IL | 14 | ILLINOIS
Carroll, IL | 14070 | 14 | Illinois | 14 | ILLINOIS
Cass, IL | 14080 | 14 | Illinois | 14 | ILLINOIS
Champaign, IL | 14090 | 16580 | Champaign-Urbana, IL | 1400 | CHAMPAIGN-URBANA, IL
Christian, IL | 14100 | 14 | Illinois | 14 | ILLINOIS
Clark, IL | 14110 | 14 | Illinois | 14 | ILLINOIS
Clay, IL | 14120 | 14 | Illinois | 14 | ILLINOIS
Clinton, IL | 14130 | 41180 | St. Louis, MO-IL | 7040 | ST. LOUIS, MO-IL
Coles, IL | 14140 | 14 | Illinois | 14 | ILLINOIS
Cook, IL | 14141 | 16974 | Chicago-Naperville-Joliet, IL | 1600 | CHICAGO, IL
Crawford, IL | 14150 | 14 | Illinois | 14 | ILLINOIS
Cumberland, IL | 14160 | 14 | Illinois | 14 | ILLINOIS
De Kalb, IL | 14170 | 16974 | Chicago-Naperville-Joliet, IL | 1600 | CHICAGO, IL
De Witt, IL | 14180 | 14 | Illinois | 14 | ILLINOIS
Douglas, IL | 14190 | 14 | Illinois | 14 | ILLINOIS
Du Page, IL | 14250 | 16974 | Chicago-Naperville-Joliet, IL | 1600 | CHICAGO, IL
Edgar, IL | 14310 | 14 | Illinois | 14 | ILLINOIS
Edwards, IL | 14320 | 14 | Illinois | 14 | ILLINOIS
Effingham, IL | 14330 | 14 | Illinois | 14 | ILLINOIS
Fayette, IL | 14340 | 14 | Illinois | 14 | ILLINOIS
Ford, IL | 14350 | 16580 | Champaign-Urbana, IL | 14 | ILLINOIS
Franklin, IL | 14360 | 14 | Illinois | 14 | ILLINOIS
Fulton, IL | 14370 | 14 | Illinois | 14 | ILLINOIS
Gallatin, IL | 14380 | 14 | Illinois | 14 | ILLINOIS
Greene, IL | 14390 | 14 | Illinois | 14 | ILLINOIS
Grundy, IL | 14400 | 16974 | Chicago-Naperville-Joliet, IL | 1600 | CHICAGO, IL
Hamilton, IL | 14410 | 14 | Illinois | 14 | ILLINOIS
Hancock, IL | 14420 | 14 | Illinois | 14 | ILLINOIS
Hardin, IL | 14421 | 14 | Illinois | 14 | ILLINOIS
Henderson, IL | 14440 | 14 | Illinois | 14 | ILLINOIS
Henry, IL | 14450 | 19340 | Davenport-Moline-Rock Island, IA-IL | 1960 | DAVENPORT-ROCK ISLAND-MOLINE, IA-IL
Iroquois, IL | 14460 | 14 | Illinois | 14 | ILLINOIS
Jackson, IL | 14470 | 14 | Illinois | 14 | ILLINOIS
Jasper, IL | 14480 | 14 | Illinois | 14 | ILLINOIS
Jefferson, IL | 14490 | 14 | Illinois | 14 | ILLINOIS
Jersey, IL | 14500 | 41180 | St. Louis, MO-IL | 7040 | ST. LOUIS, MO-IL
Jo Daviess, IL | 14510 | 14 | Illinois | 14 | ILLINOIS
Johnson, IL | 14520 | 14 | Illinois | 14 | ILLINOIS
Kane, IL | 14530 | 16974 | Chicago-Naperville-Joliet, IL | 1600 | CHICAGO, IL
Kankakee, IL | 14540 | 28100 | Kankakee-Bradley, IL | 3740 | KANKAKEE, IL
Kendall, IL | 14550 | 16974 | Chicago-Naperville-Joliet, IL | 1600 | CHICAGO, IL
Knox, IL | 14560 | 14 | Illinois | 14 | ILLINOIS
La Salle, IL | 14580 | 14 | Illinois | 14 | ILLINOIS
Lake, IL | 14570 | 29404 | Lake County-Kenosha County, IL-WI | 1600 | CHICAGO, IL
Lawrence, IL | 14590 | 14 | Illinois | 14 | ILLINOIS
Lee, IL | 14600 | 14 | Illinois | 14 | ILLINOIS
Livingston, IL | 14610 | 14 | Illinois | 14 | ILLINOIS
Logan, IL | 14620 | 14 | Illinois | 14 | ILLINOIS
Macon, IL | 14660 | 19500 | Decatur, IL | 2040 | DECATUR, IL
Macoupin, IL | 14670 | 41180 | St. Louis, MO-IL | 14 | ILLINOIS
Madison, IL | 14680 | 41180 | St. Louis, MO-IL | 7040 | ST. LOUIS, MO-IL
Marion, IL | 14690 | 14 | Illinois | 14 | ILLINOIS
Marshall, IL | 14700 | 37900 | Peoria, IL | 14 | ILLINOIS
Mason, IL | 14710 | 14 | Illinois | 14 | ILLINOIS
Massac, IL | 14720 | 14 | Illinois | 14 | ILLINOIS
McDonough, IL | 14630 | 14 | Illinois | 14 | ILLINOIS
Mc Henry, IL | 14640 | 16974 | Chicago-Naperville-Joliet, IL | 1600 | CHICAGO, IL
Mc lean, IL | 14650 | 14060 | Bloomington-Normal, IL | 1040 | BLOOMINGTON-NORMAL, IL
Menard, IL | 14730 | 44100 | Springfield, IL | 7880 | SPRINGFIELD, IL
Mercer, IL | 14740 | 19340 | Davenport-Moline-Rock Island, IA-IL | 14 | ILLINOIS
Monroe, IL | 14750 | 41180 | St. Louis, MO-IL | 7040 | ST. LOUIS, MO-IL
Montgomery, IL | 14760 | 14 | Illinois | 14 | ILLINOIS
Morgan, IL | 14770 | 14 | Illinois | 14 | ILLINOIS
Moultrie, IL | 14780 | 14 | Illinois | 14 | ILLINOIS
Ogle, I | 14790 | 14 | Illinois | 6880 | ROCKFORD, IL
Peoria, IL | 14800 | 37900 | Peoria, IL | 6120 | PEORIA-PEKIN, IL
Perry, IL | 14810 | 14 | Illinois | 14 | ILLINOIS
Piatt, IL | 14820 | 16580 | Champaign-Urbana, IL | 14 | ILLINOIS
Pike, IL | 14830 | 14 | Illinois | 14 | ILLINOIS
Pope, IL | 14831 | 14 | Illinois | 14 | ILLINOIS
Pulaski, IL | 14850 | 14 | Illinois | 14 | ILLINOIS
Putnam, IL | 14860 | 14 | Illinois | 14 | ILLINOIS
Randolph, IL | 14870 | 14 | Illinois | 14 | ILLINOIS
Richland, IL | 14880 | 14 | Illinois | 14 | ILLINOIS
Rock island, IL | 14890 | 19340 | Davenport-Moline-Rock Island, IA-IL | 1960 | DAVENPORT-ROCK ISLAND-MOLINE, IA-IL
Saline, IL | 14910 | 14 | Illinois | 14 | ILLINOIS
Sangamon, IL | 14920 | 44100 | Springfield, IL | 7880 | SPRINGFIELD, IL
Schuyler, IL | 14921 | 14 | Illinois | 14 | ILLINOIS
Scott, IL | 14940 | 14 | Illinois | 14 | ILLINOIS
Shelby, IL | 14950 | 14 | Illinois | 14 | ILLINOIS
St. Clair, IL | 14900 | 41180 | St. Louis, MO-IL | 7040 | ST. LOUIS, MO-IL
Stark, IL | 14960 | 37900 | Peoria, IL | 14 | ILLINOIS
Statewide, IL | 14999 | 14 | Illinois | 14 | ILLINOIS
Stephenson, IL | 14970 | 14 | Illinois | 14 | ILLINOIS
Tazewell, IL | 14980 | 37900 | Peoria, IL | 6120 | PEORIA-PEKIN, IL
Union, IL | 14981 | 14 | Illinois | 14 | ILLINOIS
Vermilion, IL | 14982 | 19180 | Danville, IL | 14 | ILLINOIS
Wabash, IL | 14983 | 14 | Illinois | 14 | ILLINOIS
Warren, IL | 14984 | 14 | Illinois | 14 | ILLINOIS
Washington, IL | 14985 | 14 | Illinois | 14 | ILLINOIS
Wayne, IL | 14986 | 14 | Illinois | 14 | ILLINOIS
White, IL | 14987 | 14 | Illinois | 14 | ILLINOIS
Whiteside, IL | 14988 | 14 | Illinois | 14 | ILLINOIS
Will, IL | 14989 | 16974 | Chicago-Naperville-Joliet, IL | 1600 | CHICAGO, IL
Williamson, IL | 14990 | 14 | Illinois | 14 | ILLINOIS
Winnebago, IL | 14991 | 40420 | Rockford, IL | 6880 | ROCKFORD, IL
Woodford, IL | 14992 | 37900 | Peoria, IL | 6120 | PEORIA-PEKIN, IL
Adams, IN | 15000 | 15 | Indiana | 2760 | FORT WAYNE, IN
Allen, IN | 15010 | 23060 | Fort Wayne, IN | 2760 | FORT WAYNE, IN
Bartholomew, IN | 15020 | 18020 | Columbus, IN | 15 | INDIANA
Benton, IN | 15030 | 29140 | Lafayette, IN | 15 | INDIANA
Blackford, IN | 15040 | 15 | Indiana | 15 | INDIANA
Boone, IN | 15050 | 26900 | Indianapolis, IN | 3480 | INDIANAPOLIS, IN
Brown, IN | 15060 | 26900 | Indianapolis, IN | 15 | INDIANA
Carroll, IN | 15070 | 29140 | Lafayette, IN | 15 | INDIANA
Cass, IN | 15080 | 15 | Indiana | 15 | INDIANA
Clark, IN | 15090 | 31140 | Louisville, KY-IN | 4520 | LOUISVILLE, KY-IN
Clay, IN | 15100 | 45460 | Terre Haute, IN | 8320 | TERRE HAUTE, IN
Clinton, IN | 15110 | 15 | Indiana | 3920 | LAFAYETTE, IN
Crawford, IN | 15120 | 15 | Indiana | 15 | INDIANA
Daviess, IN | 15130 | 15 | Indiana | 15 | INDIANA
De Kalb, IN | 15160 | 15 | Indiana | 2760 | FORT WAYNE, IN
Dearborn, IN | 15140 | 17140 | Cincinnati-Middletown, OH-KY-IN | 1640 | CINCINNATI, OH-KY-IN
Decatur, IN | 15150 | 15 | Indiana | 15 | INDIANA
Delaware, IN | 15170 | 34620 | Muncie, IN | 5280 | MUNCIE, IN
Dubois, IN | 15180 | 15 | Indiana | 15 | INDIANA
Elkhart, IN | 15190 | 21140 | Elkhart-Goshen, IN | 2330 | ELKHART-GOSHEN, IN
Fayette, IN | 15200 | 15 | Indiana | 15 | INDIANA
Floyd, IN | 15210 | 31140 | Louisville, KY-IN | 4520 | LOUISVILLE, KY-IN
Fountain, IN | 15220 | 15 | Indiana | 15 | INDIANA
Franklin, IN | 15230 | 17140 | Cincinnati-Middletown, OH-KY-IN | 15 | INDIANA
Fulton, IN | 15240 | 15 | Indiana | 15 | INDIANA
Gibson, IN | 15250 | 21780 | Evansville, IN-KY | 15 | INDIANA
Grant, IN | 15260 | 15 | Indiana | 15 | INDIANA
Greene, IN | 15270 | 14020 | Bloomington, IN | 15 | INDIANA
Hamilton, IN | 15280 | 26900 | Indianapolis, IN | 3480 | INDIANAPOLIS, IN
Hancock, IN | 15290 | 26900 | Indianapolis, IN | 3480 | INDIANAPOLIS, IN
Harrison, IN | 15300 | 31140 | Louisville, KY-IN | 4520 | LOUISVILLE, KY-IN
Hendricks, IN | 15310 | 26900 | Indianapolis, IN | 3480 | INDIANAPOLIS, IN
Henry, IN | 15320 | 15 | Indiana | 15 | INDIANA
Howard, IN | 15330 | 29020 | Kokomo, IN | 3850 | KOKOMO, IN
Huntington, IN | 15340 | 15 | Indiana | 2760 | FORT WAYNE, IN
Jackson, IN | 15350 | 15 | Indiana | 15 | INDIANA
Jasper, IN | 15360 | 23844 | Gary, IN | 15 | INDIANA
Jay, IN | 15370 | 15 | Indiana | 15 | INDIANA
Jefferson, IN | 15380 | 15 | Indiana | 15 | INDIANA
Jennings, IN | 15390 | 15 | Indiana | 15 | INDIANA
Johnson, IN | 15400 | 26900 | Indianapolis, IN | 3480 | INDIANAPOLIS, IN
Knox, IN | 15410 | 15 | Indiana | 15 | INDIANA
Kosciusko, IN | 15420 | 15 | Indiana | 15 | INDIANA
La Porte, IN | 15450 | 33140 | Michigan City-La Porte, IN | 15 | INDIANA
Lagrange, IN | 15430 | 15 | Indiana | 15 | INDIANA
Lake, IN | 15440 | 23844 | Gary, IN | 2960 | GARY, IN
Lawrence, IN | 15460 | 15 | Indiana | 15 | INDIANA
Madison, IN | 15470 | 11300 | Anderson, IN | 3480 | INDIANAPOLIS, IN
Marion, IN | 15480 | 26900 | Indianapolis, IN | 3480 | INDIANAPOLIS, IN
Marshall, IN | 15490 | 15 | Indiana | 15 | INDIANA
Martin, IN | 15500 | 15 | Indiana | 15 | INDIANA
Miami, IN | 15510 | 15 | Indiana | 15 | INDIANA
Monroe, IN | 15520 | 14020 | Bloomington, IN | 1020 | BLOOMINGTON, IN
Montgomery, IN | 15530 | 15 | Indiana | 15 | INDIANA
Morgan, IN | 15540 | 26900 | Indianapolis, IN | 3480 | INDIANAPOLIS, IN
Newton, IN | 15550 | 23844 | Gary, IN | 15 | INDIANA
Noble, IN | 15560 | 15 | Indiana | 15 | INDIANA
Ohio, IN | 15570 | 17140 | Cincinnati-Middletown, OH-KY-IN | 1640 | CINCINNATI, OH-KY-IN
Orange, IN | 15580 | 15 | Indiana | 15 | INDIANA
Owen, IN | 15590 | 14020 | Bloomington, IN | 15 | INDIANA
Parke, IN | 15600 | 15 | Indiana | 15 | INDIANA
Perry, IN | 15610 | 15 | Indiana | 15 | INDIANA
Pike, IN | 15620 | 15 | Indiana | 15 | INDIANA
Porter, IN | 15630 | 23844 | Gary, IN | 2960 | GARY, IN
Posey, IN | 15640 | 21780 | Evansville, IN-KY | 2440 | EVANSVILLE-HENDERSON, IN-KY
Pulaski, IN | 15650 | 15 | Indiana | 15 | INDIANA
Putnam, IN | 15660 | 26900 | Indianapolis, IN | 15 | INDIANA
Randolph, IN | 15670 | 15 | Indiana | 15 | INDIANA
Ripley, IN | 15680 | 15 | Indiana | 15 | INDIANA
Rush, IN | 15690 | 15 | Indiana | 15 | INDIANA
Scott, IN | 15710 | 15 | Indiana | 4520 | LOUISVILLE, KY-IN
Shelby, IN | 15720 | 26900 | Indianapolis, IN | 3480 | INDIANAPOLIS, IN
Spencer, IN | 15730 | 15 | Indiana | 15 | INDIANA
St. Joseph, IN | 15700 | 43780 | South Bend-Mishawaka, IN-MI | 7800 | SOUTH BEND, IN
Starke, IN | 15740 | 15 | Indiana | 15 | INDIANA
Statewide, IN | 15999 | 15 | Indiana | 15 | INDIANA
Steuben, IN | 15750 | 15 | Indiana | 15 | INDIANA
Sullivan, IN | 15760 | 45460 | Terre Haute, IN | 15 | INDIANA
Switzerland, IN | 15770 | 15 | Indiana | 15 | INDIANA
Tippecanoe, IN | 15780 | 29140 | Lafayette, IN | 3920 | LAFAYETTE, IN
Tipton, IN | 15790 | 29020 | Kokomo, IN | 3850 | KOKOMO, IN
Union, IN | 15800 | 15 | Indiana | 15 | INDIANA
Vanderburgh, IN | 15810 | 21780 | Evansville, IN-KY | 2440 | EVANSVILLE-HENDERSON, IN-KY
Vermillion, IN | 15820 | 45460 | Terre Haute, IN | 8320 | TERRE HAUTE, IN
Vigo, IN | 15830 | 45460 | Terre Haute, IN | 8320 | TERRE HAUTE, IN
Wabash, IN | 15840 | 15 | Indiana | 15 | INDIANA
Warren, IN | 15850 | 15 | Indiana | 15 | INDIANA
Warrick, IN | 15860 | 21780 | Evansville, IN-KY | 2440 | EVANSVILLE-HENDERSON, IN-KY
Washington, IN | 15870 | 31140 | Louisville, KY-IN | 15 | INDIANA
Wayne, IN | 15880 | 15 | Indiana | 15 | INDIANA
Wells, IN | 15890 | 23060 | Fort Wayne, IN | 2760 | FORT WAYNE, IN
White, IN | 15900 | 15 | Indiana | 15 | INDIANA
Whitley, IN | 15910 | 23060 | Fort Wayne, IN | 2760 | FORT WAYNE, IN
Adair, IA | 16000 | 16 | Iowa | 16 | IOWA
Adams, IA | 16010 | 16 | Iowa | 16 | IOWA
Allamakee, IA | 16020 | 16 | Iowa | 16 | IOWA
Appanoose, IA | 16030 | 16 | Iowa | 16 | IOWA
Audubon, IA | 16040 | 16 | Iowa | 16 | IOWA
Benton, IA | 16050 | 16300 | Cedar Rapids, IA | 16 | IOWA
Black hawk, IA | 16060 | 47940 | Waterloo-Cedar Falls, IA | 8920 | WATERLOO-CEDAR FALLS, IA
Boone, IA | 16070 | 16 | Iowa | 16 | IOWA
Bremer, IA | 16080 | 47940 | Waterloo-Cedar Falls, IA | 16 | IOWA
Buchanan, IA | 16090 | 16 | Iowa | 16 | IOWA
Buena vista, IA | 16100 | 16 | Iowa | 16 | IOWA
Butler, IA | 16110 | 16 | Iowa | 16 | IOWA
Calhoun, IA | 16120 | 16 | Iowa | 16 | IOWA
Carroll, IA | 16130 | 16 | Iowa | 16 | IOWA
Cass, IA | 16140 | 16 | Iowa | 16 | IOWA
Cedar, IA | 16150 | 16 | Iowa | 16 | IOWA
Cerro Gordo, IA | 16160 | 16 | Iowa | 16 | IOWA
Cherokee, IA | 16170 | 16 | Iowa | 16 | IOWA
Chickasaw, IA | 16180 | 16 | Iowa | 16 | IOWA
Clarke, IA | 16190 | 16 | Iowa | 16 | IOWA
Clay, IA | 16200 | 16 | Iowa | 16 | IOWA
Clayton, IA | 16210 | 16 | Iowa | 16 | IOWA
Clinton, IA | 16220 | 16 | Iowa | 16 | IOWA
Crawford, IA | 16230 | 16 | Iowa | 16 | IOWA
Dallas, IA | 16240 | 19780 | Des Moines, IA | 2120 | DES MOINES, IA
Davis, IA | 16250 | 16 | Iowa | 16 | IOWA
Decatur, IA | 16260 | 16 | Iowa | 16 | IOWA
Delaware, IA | 16270 | 16 | Iowa | 16 | IOWA
Des Moines, IA | 16280 | 16 | Iowa | 16 | IOWA
Dickinson, IA | 16290 | 16 | Iowa | 16 | IOWA
Dubuque, IA | 16300 | 20220 | Dubuque, IA | 2200 | DUBUQUE, IA
Emmet, IA | 16310 | 16 | Iowa | 16 | IOWA
Fayette, IA | 16320 | 16 | Iowa | 16 | IOWA
Floyd, IA | 16330 | 16 | Iowa | 16 | IOWA
Franklin, IA | 16340 | 16 | Iowa | 16 | IOWA
Fremont, IA | 16350 | 16 | Iowa | 16 | IOWA
Greene, IA | 16360 | 16 | Iowa | 16 | IOWA
Grundy, IA | 16370 | 47940 | Waterloo-Cedar Falls, IA | 16 | IOWA
Guthrie, IA | 16380 | 19780 | Des Moines, IA | 16 | IOWA
Hamilton, IA | 16390 | 16 | Iowa | 16 | IOWA
Hancock, IA | 16400 | 16 | Iowa | 16 | IOWA
Hardin, IA | 16410 | 16 | Iowa | 16 | IOWA
Harrison, IA | 16420 | 36540 | Omaha-Council Bluffs, NE-IA | 16 | IOWA
Henry, IA | 16430 | 16 | Iowa | 16 | IOWA
Howard, IA | 16440 | 16 | Iowa | 16 | IOWA
Humboldt, IA | 16450 | 16 | Iowa | 16 | IOWA
Ida, IA | 16460 | 16 | Iowa | 16 | IOWA
Iowa, IA | 16470 | 16 | Iowa | 16 | IOWA
Jackson, IA | 16480 | 16 | Iowa | 16 | IOWA
Jasper, IA | 16490 | 16 | Iowa | 16 | IOWA
Jefferson, IA | 16500 | 16 | Iowa | 16 | IOWA
Johnson, IA | 16510 | 26980 | Iowa City, IA | 3500 | IOWA CITY, IA
Jones, IA | 16520 | 16300 | Cedar Rapids, IA | 16 | IOWA
Keokuk, IA | 16530 | 16 | Iowa | 16 | IOWA
Kossuth, IA | 16540 | 16 | Iowa | 16 | IOWA
Lee, IA | 16550 | 16 | Iowa | 16 | IOWA
Linn, IA | 16560 | 16300 | Cedar Rapids, IA | 1360 | CEDAR RAPIDS, IA
Louisa, IA | 16570 | 16 | Iowa | 16 | IOWA
Lucas, IA | 16580 | 16 | Iowa | 16 | IOWA
Lyon, IA | 16590 | 16 | Iowa | 16 | IOWA
Madison, IA | 16600 | 19780 | Des Moines, IA | 16 | IOWA
Mahaska, IA | 16610 | 16 | Iowa | 16 | IOWA
Marion, IA | 16620 | 16 | Iowa | 16 | IOWA
Marshall, IA | 16630 | 16 | Iowa | 16 | IOWA
Mills, IA | 16640 | 36540 | Omaha-Council Bluffs, NE-IA | 16 | IOWA
Mitchell, IA | 16650 | 16 | Iowa | 16 | IOWA
Monona, IA | 16660 | 16 | Iowa | 16 | IOWA
Monroe, IA | 16670 | 16 | Iowa | 16 | IOWA
Montgomery, IA | 16680 | 16 | Iowa | 16 | IOWA
Muscatine, IA | 16690 | 16 | Iowa | 16 | IOWA
Obrien, IA | 16700 | 16 | Iowa | 16 | IOWA
Osceola, IA | 16710 | 16 | Iowa | 16 | IOWA
Page, IA | 16720 | 16 | Iowa | 16 | IOWA
Palo alto, IA | 16730 | 16 | Iowa | 16 | IOWA
Plymouth, IA | 16740 | 16 | Iowa | 16 | IOWA
Pocahontas, IA | 16750 | 16 | Iowa | 16 | IOWA
Polk, IA | 16760 | 19780 | Des Moines, IA | 2120 | DES MOINES, IA
Pottawattamie, IA | 16770 | 36540 | Omaha-Council Bluffs, NE-IA | 5920 | OMAHA, NE-IA
Poweshiek, IA | 16780 | 16 | Iowa | 16 | IOWA
Ringgold, IA | 16790 | 16 | Iowa | 16 | IOWA
Sac, IA | 16800 | 16 | Iowa | 16 | IOWA
Scott, IA | 16810 | 19340 | Davenport-Moline-Rock Island, IA-IL | 1960 | DAVENPORT-ROCK ISLAND-MOLINE, IA-IL
Shelby, IA | 16820 | 16 | Iowa | 16 | IOWA
Sioux, IA | 16830 | 16 | Iowa | 16 | IOWA
Statewide, IA | 16999 | 16 | Iowa | 16 | IOWA
Story, IA | 16840 | 11180 | Ames, IA | 16 | IOWA
Tama, IA | 16850 | 16 | Iowa | 16 | IOWA
Taylor, IA | 16860 | 16 | Iowa | 16 | IOWA
Union, IA | 16870 | 16 | Iowa | 16 | IOWA
Van Buren, IA | 16880 | 16 | Iowa | 16 | IOWA
Wapello, IA | 16890 | 16 | Iowa | 16 | IOWA
Warren, IA | 16900 | 19780 | Des Moines, IA | 2120 | DES MOINES, IA
Washington, IA | 16910 | 26980 | Iowa City, IA | 16 | IOWA
Wayne, IA | 16920 | 16 | Iowa | 16 | IOWA
Webster, IA | 16930 | 16 | Iowa | 16 | IOWA
Winnebago, IA | 16940 | 16 | Iowa | 16 | IOWA
Winneshiek, IA | 16950 | 16 | Iowa | 16 | IOWA
Woodbury, IA | 16960 | 43580 | Sioux City, IA-NE-SD | 7720 | SIOUX CITY, IA-NE
Worth, IA | 16970 | 16 | Iowa | 16 | IOWA
Wright, IA | 16980 | 16 | Iowa | 16 | IOWA
Allen, KS | 17000 | 17 | Kansas | 17 | KANSAS
Anderson, KS | 17010 | 17 | Kansas | 17 | KANSAS
Atchison, KS | 17020 | 17 | Kansas | 17 | KANSAS
Barber, KS | 17030 | 17 | Kansas | 17 | KANSAS
Barton, KS | 17040 | 17 | Kansas | 17 | KANSAS
Bourbon, KS | 17050 | 17 | Kansas | 17 | KANSAS
Brown, KS | 17060 | 17 | Kansas | 17 | KANSAS
Butler, KS | 17070 | 48620 | Wichita, KS | 9040 | WICHITA, KS
Chase, KS | 17080 | 17 | Kansas | 17 | KANSAS
Chautauqua, KS | 17090 | 17 | Kansas | 17 | KANSAS
Cherokee, KS | 17100 | 17 | Kansas | 17 | KANSAS
Cheyenne, KS | 17110 | 17 | Kansas | 17 | KANSAS
Clark, KS | 17120 | 17 | Kansas | 17 | KANSAS
Clay, KS | 17130 | 17 | Kansas | 17 | KANSAS
Cloud, KS | 17140 | 17 | Kansas | 17 | KANSAS
Coffey, KS | 17150 | 17 | Kansas | 17 | KANSAS
Comanche, KS | 17160 | 17 | Kansas | 17 | KANSAS
Cowley, KS | 17170 | 17 | Kansas | 17 | KANSAS
Crawford, KS | 17180 | 17 | Kansas | 17 | KANSAS
Decatur, KS | 17190 | 17 | Kansas | 17 | KANSAS
Dickinson, KS | 17200 | 17 | Kansas | 17 | KANSAS
Doniphan, KS | 17210 | 41140 | St. Joseph, MO-KS | 17 | KANSAS
Douglas, KS | 17220 | 29940 | Lawrence, KS | 4150 | LAWRENCE, KS
Edwards, KS | 17230 | 17 | Kansas | 17 | KANSAS
Elk, KS | 17240 | 17 | Kansas | 17 | KANSAS
Ellis, KS | 17250 | 17 | Kansas | 17 | KANSAS
Ellsworth, KS | 17260 | 17 | Kansas | 17 | KANSAS
Finney, KS | 17270 | 17 | Kansas | 17 | KANSAS
Ford, KS | 17280 | 17 | Kansas | 17 | KANSAS
Franklin, KS | 17290 | 28140 | Kansas City, MO-KS | 17 | KANSAS
Geary, KS | 17300 | 17 | Kansas | 17 | KANSAS
Gove, KS | 17310 | 17 | Kansas | 17 | KANSAS
Graham, KS | 17320 | 17 | Kansas | 17 | KANSAS
Grant, KS | 17330 | 17 | Kansas | 17 | KANSAS
Gray, KS | 17340 | 17 | Kansas | 17 | KANSAS
Greeley, KS | 17350 | 17 | Kansas | 17 | KANSAS
Greenwood, KS | 17360 | 17 | Kansas | 17 | KANSAS
Hamilton, KS | 17370 | 17 | Kansas | 17 | KANSAS
Harper, KS | 17380 | 17 | Kansas | 17 | KANSAS
Harvey, KS | 17390 | 48620 | Wichita, KS | 9040 | WICHITA, KS
Haskell, KS | 17391 | 17 | Kansas | 17 | KANSAS
Hodgeman, KS | 17410 | 17 | Kansas | 17 | KANSAS
Jackson, KS | 17420 | 45820 | Topeka, KS | 17 | KANSAS
Jefferson, KS | 17430 | 45820 | Topeka, KS | 17 | KANSAS
Jewell, KS | 17440 | 17 | Kansas | 17 | KANSAS
Johnson, KS | 17450 | 28140 | Kansas City, MO-KS | 3760 | KANSAS CITY, MO-KS
Kearny, KS | 17451 | 17 | Kansas | 17 | KANSAS
Kingman, KS | 17470 | 17 | Kansas | 17 | KANSAS
Kiowa, KS | 17480 | 17 | Kansas | 17 | KANSAS
Labette, KS | 17490 | 17 | Kansas | 17 | KANSAS
Lane, KS | 17500 | 17 | Kansas | 17 | KANSAS
Leavenworth, KS | 17510 | 28140 | Kansas City, MO-KS | 3760 | KANSAS CITY, MO-KS
Lincoln, KS | 17520 | 17 | Kansas | 17 | KANSAS
Linn, KS | 17530 | 28140 | Kansas City, MO-KS | 17 | KANSAS
Logan, KS | 17540 | 17 | Kansas | 17 | KANSAS
Lyon, KS | 17550 | 17 | Kansas | 17 | KANSAS
Marion, KS | 17570 | 17 | Kansas | 17 | KANSAS
Marshall, KS | 17580 | 17 | Kansas | 17 | KANSAS
McPherson, KS | 17560 | 17 | Kansas | 17 | KANSAS
Meade, KS | 17590 | 17 | Kansas | 17 | KANSAS
Miami, KS | 17600 | 28140 | Kansas City, MO-KS | 3760 | KANSAS CITY, MO-KS
Mitchell, KS | 17610 | 17 | Kansas | 17 | KANSAS
Montgomery, KS | 17620 | 17 | Kansas | 17 | KANSAS
Morris, KS | 17630 | 17 | Kansas | 17 | KANSAS
Morton, KS | 17640 | 17 | Kansas | 17 | KANSAS
Nemaha, KS | 17650 | 17 | Kansas | 17 | KANSAS
Neosho, KS | 17660 | 17 | Kansas | 17 | KANSAS
Ness, KS | 17670 | 17 | Kansas | 17 | KANSAS
Norton, KS | 17680 | 17 | Kansas | 17 | KANSAS
Osage, KS | 17690 | 45820 | Topeka, KS | 17 | KANSAS
Osborne, KS | 17700 | 17 | Kansas | 17 | KANSAS
Ottawa, KS | 17710 | 17 | Kansas | 17 | KANSAS
Pawnee, KS | 17720 | 17 | Kansas | 17 | KANSAS
Phillips, KS | 17730 | 17 | Kansas | 17 | KANSAS
Pottawatomie, KS | 17740 | 17 | Kansas | 17 | KANSAS
Pratt, KS | 17750 | 17 | Kansas | 17 | KANSAS
Rawlins, KS | 17760 | 17 | Kansas | 17 | KANSAS
Reno, KS | 17770 | 17 | Kansas | 17 | KANSAS
Republic, KS | 17780 | 17 | Kansas | 17 | KANSAS
Rice, KS | 17790 | 17 | Kansas | 17 | KANSAS
Riley, KS | 17800 | 17 | Kansas | 17 | KANSAS
Rooks, KS | 17810 | 17 | Kansas | 17 | KANSAS
Rush, KS | 17820 | 17 | Kansas | 17 | KANSAS
Russell, KS | 17830 | 17 | Kansas | 17 | KANSAS
Saline, KS | 17840 | 17 | Kansas | 17 | KANSAS
Scott, KS | 17841 | 17 | Kansas | 17 | KANSAS
Sedgwick, KS | 17860 | 48620 | Wichita, KS | 9040 | WICHITA, KS
Seward, KS | 17870 | 17 | Kansas | 17 | KANSAS
Shawnee, KS | 17880 | 45820 | Topeka, KS | 8440 | TOPEKA, KS
Sheridan, KS | 17890 | 17 | Kansas | 17 | KANSAS
Sherman, KS | 17900 | 17 | Kansas | 17 | KANSAS
Smith, KS | 17910 | 17 | Kansas | 17 | KANSAS
Stafford, KS | 17920 | 17 | Kansas | 17 | KANSAS
Stanton, KS | 17921 | 17 | Kansas | 17 | KANSAS
Statewide, KS | 17999 | 17 | Kansas | 17 | KANSAS
Stevens, KS | 17940 | 17 | Kansas | 17 | KANSAS
Sumner, KS | 17950 | 48620 | Wichita, KS | 17 | KANSAS
Thomas, KS | 17960 | 17 | Kansas | 17 | KANSAS
Trego, KS | 17970 | 17 | Kansas | 17 | KANSAS
Wabaunsee, KS | 17980 | 45820 | Topeka, KS | 17 | KANSAS
Wallace, KS | 17981 | 17 | Kansas | 17 | KANSAS
Washington, KS | 17982 | 17 | Kansas | 17 | KANSAS
Wichita, KS | 17983 | 17 | Kansas | 17 | KANSAS
Wilson, KS | 17984 | 17 | Kansas | 17 | KANSAS
Woodson, KS | 17985 | 17 | Kansas | 17 | KANSAS
Wyandotte, KS | 17986 | 28140 | Kansas City, MO-KS | 3760 | KANSAS CITY, MO-KS
Adair, KY | 18000 | 18 | Kentucky | 18 | KENTUCKY
Allen, KY | 18010 | 18 | Kentucky | 18 | KENTUCKY
Anderson, KY | 18020 | 18 | Kentucky | 18 | KENTUCKY
Ballard, KY | 18030 | 18 | Kentucky | 18 | KENTUCKY
Barren, KY | 18040 | 18 | Kentucky | 18 | KENTUCKY
Bath, KY | 18050 | 18 | Kentucky | 18 | KENTUCKY
Bell, KY | 18060 | 18 | Kentucky | 18 | KENTUCKY
Boone, KY | 18070 | 17140 | Cincinnati-Middletown, OH-KY-IN | 1640 | CINCINNATI, OH-KY-IN
Bourbon, KY | 18080 | 30460 | Lexington-Fayette, KY | 4280 | LEXINGTON, KY
Boyd, KY | 18090 | 26580 | Huntington-Ashland, WV-KY-OH | 3400 | HUNTINGTON-ASHLAND, WV-KY-OH
Boyle, KY | 18100 | 18 | Kentucky | 18 | KENTUCKY
Bracken, KY | 18110 | 17140 | Cincinnati-Middletown, OH-KY-IN | 18 | KENTUCKY
Breathitt, KY | 18120 | 18 | Kentucky | 18 | KENTUCKY
Breckinridge, KY | 18130 | 18 | Kentucky | 18 | KENTUCKY
Bullitt, KY | 18140 | 31140 | Louisville, KY-IN | 4520 | LOUISVILLE, KY-IN
Butler, KY | 18150 | 18 | Kentucky | 18 | KENTUCKY
Caldwell, KY | 18160 | 18 | Kentucky | 18 | KENTUCKY
Calloway, KY | 18170 | 18 | Kentucky | 18 | KENTUCKY
Campbell, KY | 18180 | 17140 | Cincinnati-Middletown, OH-KY-IN | 1640 | CINCINNATI, OH-KY-IN
Carlisle, KY | 18190 | 18 | Kentucky | 18 | KENTUCKY
Carroll, KY | 18191 | 18 | Kentucky | 18 | KENTUCKY
Carter, KY | 18210 | 18 | Kentucky | 3400 | HUNTINGTON-ASHLAND, WV-KY-OH
Casey, KY | 18220 | 18 | Kentucky | 18 | KENTUCKY
Christian, KY | 18230 | 17300 | Clarksville, TN-KY | 1660 | CLARKSVILLE-HOPKINSVILLE, TN-KY
Clark, KY | 18240 | 30460 | Lexington-Fayette, KY | 4280 | LEXINGTON, KY
Clay, KY | 18250 | 18 | Kentucky | 18 | KENTUCKY
Clinton, KY | 18260 | 18 | Kentucky | 18 | KENTUCKY
Crittenden, KY | 18270 | 18 | Kentucky | 18 | KENTUCKY
Cumberland, KY | 18271 | 18 | Kentucky | 18 | KENTUCKY
Daviess, KY | 18290 | 36980 | Owensboro, KY | 5990 | OWENSBORO, KY
Edmonson, KY | 18291 | 14540 | Bowling Green, KY | 18 | KENTUCKY
Elliott, KY | 18310 | 18 | Kentucky | 18 | KENTUCKY
Estill, KY | 18320 | 18 | Kentucky | 18 | KENTUCKY
Fayette, KY | 18330 | 30460 | Lexington-Fayette, KY | 4280 | LEXINGTON, KY
Fleming, KY | 18340 | 18 | Kentucky | 18 | KENTUCKY
Floyd, KY | 18350 | 18 | Kentucky | 18 | KENTUCKY
Franklin, KY | 18360 | 18 | Kentucky | 18 | KENTUCKY
Fulton, KY | 18361 | 18 | Kentucky | 18 | KENTUCKY
Gallatin, KY | 18362 | 17140 | Cincinnati-Middletown, OH-KY-IN | 1640 | CINCINNATI, OH-KY-IN
Garrard, KY | 18390 | 18 | Kentucky | 18 | KENTUCKY
Grant, KY | 18400 | 17140 | Cincinnati-Middletown, OH-KY-IN | 1640 | CINCINNATI, OH-KY-IN
Graves, KY | 18410 | 18 | Kentucky | 18 | KENTUCKY
Grayson, KY | 18420 | 18 | Kentucky | 18 | KENTUCKY
Green, KY | 18421 | 18 | Kentucky | 18 | KENTUCKY
Greenup, KY | 18440 | 26580 | Huntington-Ashland, WV-KY-OH | 3400 | HUNTINGTON-ASHLAND, WV-KY-OH
Hancock, KY | 18450 | 36980 | Owensboro, KY | 18 | KENTUCKY
Hardin, KY | 18460 | 21060 | Elizabethtown, KY | 18 | KENTUCKY
Harlan, KY | 18470 | 18 | Kentucky | 18 | KENTUCKY
Harrison, KY | 18480 | 18 | Kentucky | 18 | KENTUCKY
Hart, KY | 18490 | 18 | Kentucky | 18 | KENTUCKY
Henderson, KY | 18500 | 21780 | Evansville, IN-KY | 2440 | EVANSVILLE-HENDERSON, IN-KY
Henry, KY | 18510 | 31140 | Louisville, KY-IN | 18 | KENTUCKY
Hickman, KY | 18511 | 18 | Kentucky | 18 | KENTUCKY
Hopkins, KY | 18530 | 18 | Kentucky | 18 | KENTUCKY
Jackson, KY | 18540 | 18 | Kentucky | 18 | KENTUCKY
Jefferson, KY | 18550 | 31140 | Louisville, KY-IN | 4520 | LOUISVILLE, KY-IN
Jessamine, KY | 18560 | 30460 | Lexington-Fayette, KY | 4280 | LEXINGTON, KY
Johnson, KY | 18570 | 18 | Kentucky | 18 | KENTUCKY
Kenton, KY | 18580 | 17140 | Cincinnati-Middletown, OH-KY-IN | 1640 | CINCINNATI, OH-KY-IN
Knott, KY | 18590 | 18 | Kentucky | 18 | KENTUCKY
Knox, KY | 18600 | 18 | Kentucky | 18 | KENTUCKY
Larue, KY | 18610 | 21060 | Elizabethtown, KY | 18 | KENTUCKY
Laurel, KY | 18620 | 18 | Kentucky | 18 | KENTUCKY
Lawrence, KY | 18630 | 18 | Kentucky | 18 | KENTUCKY
Lee, KY | 18640 | 18 | Kentucky | 18 | KENTUCKY
Leslie, KY | 18650 | 18 | Kentucky | 18 | KENTUCKY
Letcher, KY | 18660 | 18 | Kentucky | 18 | KENTUCKY
Lewis, KY | 18670 | 18 | Kentucky | 18 | KENTUCKY
Lincoln, KY | 18680 | 18 | Kentucky | 18 | KENTUCKY
Livingston, KY | 18690 | 18 | Kentucky | 18 | KENTUCKY
Logan, KY | 18700 | 18 | Kentucky | 18 | KENTUCKY
Lyon, KY | 18710 | 18 | Kentucky | 18 | KENTUCKY
Madison, KY | 18750 | 18 | Kentucky | 4280 | LEXINGTON, KY
Magoffin, KY | 18760 | 18 | Kentucky | 18 | KENTUCKY
Marion, KY | 18770 | 18 | Kentucky | 18 | KENTUCKY
Marshall, KY | 18780 | 18 | Kentucky | 18 | KENTUCKY
Martin, KY | 18790 | 18 | Kentucky | 18 | KENTUCKY
Mason, KY | 18800 | 18 | Kentucky | 18 | KENTUCKY
McCracken, KY | 18720 | 18 | Kentucky | 18 | KENTUCKY
McCreary, KY | 18730 | 18 | Kentucky | 18 | KENTUCKY
Mclean, KY | 18740 | 36980 | Owensboro, KY | 18 | KENTUCKY
Meade, KY | 18801 | 31140 | Louisville, KY-IN | 18 | KENTUCKY
Menifee, KY | 18802 | 18 | Kentucky | 18 | KENTUCKY
Mercer, KY | 18830 | 18 | Kentucky | 18 | KENTUCKY
Metcalfe, KY | 18831 | 18 | Kentucky | 18 | KENTUCKY
Monroe, KY | 18850 | 18 | Kentucky | 18 | KENTUCKY
Montgomery, KY | 18860 | 18 | Kentucky | 18 | KENTUCKY
Morgan, KY | 18861 | 18 | Kentucky | 18 | KENTUCKY
Muhlenberg, KY | 18880 | 18 | Kentucky | 18 | KENTUCKY
Nelson, KY | 18890 | 31140 | Louisville, KY-IN | 18 | KENTUCKY
Nicholas, KY | 18900 | 18 | Kentucky | 18 | KENTUCKY
Ohio, KY | 18910 | 18 | Kentucky | 18 | KENTUCKY
Oldham, KY | 18920 | 31140 | Louisville, KY-IN | 4520 | LOUISVILLE, KY-IN
Owen, KY | 18930 | 18 | Kentucky | 18 | KENTUCKY
Owsley, KY | 18931 | 18 | Kentucky | 18 | KENTUCKY
Pendleton, KY | 18932 | 17140 | Cincinnati-Middletown, OH-KY-IN | 1640 | CINCINNATI, OH-KY-IN
Perry, KY | 18960 | 18 | Kentucky | 18 | KENTUCKY
Pike, KY | 18970 | 18 | Kentucky | 18 | KENTUCKY
Powell, KY | 18971 | 18 | Kentucky | 18 | KENTUCKY
Pulaski, KY | 18972 | 18 | Kentucky | 18 | KENTUCKY
Robertson, KY | 18973 | 18 | Kentucky | 18 | KENTUCKY
Rockcastle, KY | 18974 | 18 | Kentucky | 18 | KENTUCKY
Rowan, KY | 18975 | 18 | Kentucky | 18 | KENTUCKY
Russell, KY | 18976 | 18 | Kentucky | 18 | KENTUCKY
Scott, KY | 18977 | 30460 | Lexington-Fayette, KY | 4280 | LEXINGTON, KY
Shelby, KY | 18978 | 31140 | Louisville, KY-IN | 18 | KENTUCKY
Simpson, KY | 18979 | 18 | Kentucky | 18 | KENTUCKY
Spencer, KY | 18980 | 31140 | Louisville, KY-IN | 18 | KENTUCKY
Statewide, KY | 18999 | 18 | Kentucky | 18 | KENTUCKY
Taylor, KY | 18981 | 18 | Kentucky | 18 | KENTUCKY
Todd, KY | 18982 | 18 | Kentucky | 18 | KENTUCKY
Trigg, KY | 18983 | 17300 | Clarksville, TN-KY | 18 | KENTUCKY
Trimble, | 18984 | 31140 | Louisville, KY-IN | 18 | KENTUCKY
Union, KY | 18985 | 18 | Kentucky | 18 | KENTUCKY
Warren, KY | 18986 | 14540 | Bowling Green, KY | 18 | KENTUCKY
Washington, KY | 18987 | 18 | Kentucky | 18 | KENTUCKY
Wayne, KY | 18988 | 18 | Kentucky | 18 | KENTUCKY
Webster, KY | 18989 | 21780 | Evansville, IN-KY | 18 | KENTUCKY
Whitley, KY | 18990 | 18 | Kentucky | 18 | KENTUCKY
Wolfe, KY | 18991 | 18 | Kentucky | 18 | KENTUCKY
Woodford, KY | 18992 | 30460 | Lexington-Fayette, KY | 4280 | LEXINGTON, KY
Acadia, LA | 19000 | 19 | Louisiana | 3880 | LAFAYETTE, LA
Allen, LA | 19010 | 19 | Louisiana | 19 | LOUSIANA
Ascension, LA | 19020 | 12940 | Baton Rouge, LA | 0760 | BATON ROUGE, LA
Assumption, LA | 19030 | 19 | Louisiana | 19 | LOUSIANA
Avoyelles, LA | 19040 | 19 | Louisiana | 19 | LOUSIANA
Beauregard, LA | 19050 | 19 | Louisiana | 19 | LOUSIANA
Bienville, LA | 19060 | 19 | Louisiana | 19 | LOUSIANA
Bossier, LA | 19070 | 43340 | Shreveport-Bossier City, LA | 7680 | SHREVEPORT-BOSSIER CITY, LA
Caddo, LA | 19080 | 43340 | Shreveport-Bossier City, LA | 7680 | SHREVEPORT-BOSSIER CITY, LA
Calcasieu, LA | 19090 | 29340 | Lake Charles, LA | 3960 | LAKE CHARLES, LA
Caldwell, LA | 19100 | 19 | Louisiana | 19 | LOUSIANA
Cameron, LA | 19110 | 29340 | Lake Charles, LA | 19 | LOUSIANA
Catahoula, LA | 19120 | 19 | Louisiana | 19 | LOUSIANA
Claiborne, LA | 19130 | 19 | Louisiana | 19 | LOUSIANA
Concordia, LA | 19140 | 19 | Louisiana | 19 | LOUSIANA
DeSoto, LA | 19150 | 43340 | Shreveport-Bossier City, LA | 19 | LOUSIANA
E. Baton Rouge, LA | 19160 | 12940 | Baton Rouge, LA | 0760 | BATON ROUGE, LA
East Carroll, LA | 19170 | 19 | Louisiana | 19 | LOUSIANA
East Feliciana, LA | 19180 | 12940 | Baton Rouge, LA | 19 | LOUSIANA
Evangeline, LA | 19190 | 19 | Louisiana | 19 | LOUSIANA
Franklin, LA | 19200 | 19 | Louisiana | 19 | LOUSIANA
Grant, LA | 19210 | 10780 | Alexandria, LA | 19 | LOUSIANA
Iberia, LA | 19220 | 19 | Louisiana | 19 | LOUSIANA
Iberville, LA | 19230 | 12940 | Baton Rouge, LA | 19 | LOUSIANA
Jackson, LA | 19240 | 19 | Louisiana | 19 | LOUSIANA
Jefferson, LA | 19250 | 35380 | New Orleans-Metairie-Kenner, LA | 5560 | NEW ORLEANS, LA
Jefferson Davis, LA | 19260 | 19 | Louisiana | 19 | LOUSIANA
La Salle, LA | 19290 | 19 | Louisiana | 19 | LOUSIANA
Lafayette, LA | 19270 | 29180 | Lafayette, LA | 3880 | LAFAYETTE, LA
Lafourche, LA | 19280 | 26380 | Houma-Bayou Cane-Thibodaux, LA | 3350 | HOUMA, LA
Lincoln, LA | 19300 | 19 | Louisiana | 19 | LOUSIANA
Livingston, LA | 19310 | 12940 | Baton Rouge, LA | 0760 | BATON ROUGE, LA
Madison, LA | 19320 | 19 | Louisiana | 19 | LOUSIANA
Morehouse, LA | 19330 | 19 | Louisiana | 19 | LOUSIANA
Natchitoches, LA | 19340 | 19 | Louisiana | 19 | LOUSIANA
Orleans, LA | 19350 | 35380 | New Orleans-Metairie-Kenner, LA | 5560 | NEW ORLEANS, LA
Ouachita, LA | 19360 | 33740 | Monroe, LA | 5200 | MONROE, LA
Plaquemines, LA | 19370 | 35380 | New Orleans-Metairie-Kenner, LA | 5560 | NEW ORLEANS, LA
Pointe Coupee, LA | 19380 | 12940 | Baton Rouge, LA | 19 | LOUSIANA
Rapides, LA | 19390 | 10780 | Alexandria, LA | 0220 | ALEXANDRIA, LA
Red River, LA | 19400 | 19 | Louisiana | 19 | LOUSIANA
Richland, LA | 19410 | 19 | Louisiana | 19 | LOUSIANA
Sabine, LA | 19420 | 19 | Louisiana | 19 | LOUSIANA
St. Bernard, LA | 19430 | 35380 | New Orleans-Metairie-Kenner, LA | 5560 | NEW ORLEANS, LA
St. Charles, LA | 19440 | 35380 | New Orleans-Metairie-Kenner, LA | 5560 | NEW ORLEANS, LA
St. Helena, LA | 19450 | 12940 | Baton Rouge, LA | 19 | LOUSIANA
St. James, LA | 19460 | 19 | Louisiana | 5560 | NEW ORLEANS, LA
St. John Baptist, LA | 19470 | 35380 | New Orleans-Metairie-Kenner, LA | 5560 | NEW ORLEANS, LA
St. Landry, LA | 19480 | 19 | Louisiana | 3880 | LAFAYETTE, LA
St. Martin, LA | 19490 | 29180 | Lafayette, LA | 3880 | LAFAYETTE, LA
St. Mary, LA | 19500 | 19 | Louisiana | 19 | LOUSIANA
St. Tammany, LA | 19510 | 35380 | New Orleans-Metairie-Kenner, LA | 5560 | NEW ORLEANS, LA
Statewide, LA | 19999 | 19 | Louisiana | 19 | LOUSIANA
Tangipahoa, LA | 19520 | 19 | Louisiana | 19 | LOUSIANA
Tensas, LA | 19530 | 19 | Louisiana | 19 | LOUSIANA
Terrebonne, LA | 19540 | 26380 | Houma-Bayou Cane-Thibodaux, LA | 3350 | HOUMA, LA
Union, LA | 19550 | 33740 | Monroe, LA | 19 | LOUSIANA
Vermilion, LA | 19560 | 19 | Louisiana | 19 | LOUSIANA
Vernon, LA | 19570 | 19 | Louisiana | 19 | LOUSIANA
W. Baton rouge, LA | 19600 | 12940 | Baton Rouge, LA | 0760 | BATON ROUGE, LA
Washington, LA | 19580 | 19 | Louisiana | 19 | LOUSIANA
Webster, LA | 19590 | 19 | Louisiana | 7680 | SHREVEPORT-BOSSIER CITY, LA
West Carroll, LA | 19610 | 19 | Louisiana | 19 | LOUSIANA
West Feliciana, LA | 19620 | 12940 | Baton Rouge, LA | 19 | LOUSIANA
Winn, LA | 19630 | 19 | Louisiana | 19 | LOUSIANA
Androscoggin, ME | 20000 | 30340 | Lewiston-Auburn, ME | 4243 | LEWISTON-AUBURN, ME
Aroostook, ME | 20010 | 20 | Maine | 20 | MAINE
Cumberland, ME | 20020 | 38860 | Portland-South Portland-Biddeford, ME | 6403 | PORTLAND, ME
Franklin, ME | 20030 | 20 | Maine | 20 | MAINE
Hancock, ME | 20040 | 20 | Maine | 20 | MAINE
Kennebec, ME | 20050 | 20 | Maine | 20 | MAINE
Knox, ME | 20060 | 20 | Maine | 20 | MAINE
Lincoln, ME | 20070 | 20 | Maine | 20 | MAINE
Oxford, ME | 20080 | 20 | Maine | 20 | MAINE
Penobscot, ME | 20090 | 12620 | Bangor, ME | 0733 | BANGOR, ME
Piscataquis, ME | 20100 | 20 | Maine | 20 | MAINE
Sagadahoc, ME | 20110 | 38860 | Portland-South Portland-Biddeford, ME | 6403 | PORTLAND, ME
Somerset, ME | 20120 | 20 | Maine | 20 | MAINE
Statewide, ME | 20999 | 20 | Maine | 20 | MAINE
Waldo, ME | 20130 | 20 | Maine | 20 | MAINE
Washington, ME | 20140 | 20 | Maine | 20 | MAINE
York, ME | 20150 | 38860 | Portland-South Portland-Biddeford, ME | 6403 | PORTLAND, ME
Allegany, MD | 21000 | 19060 | Cumberland, MD-WV | 1900 | CUMBERLAND, MD-WV
Anne Arundel, MD | 21010 | 12580 | Baltimore-Towson, MD | 0720 | BALTIMORE, MD
Baltimore, MD | 21020 | 12580 | Baltimore-Towson, MD | 0720 | BALTIMORE, MD
Baltimore City, MD | 21030 | 12580 | Baltimore-Towson, MD | 0720 | BALTIMORE, MD
Calvert, MD | 21040 | 47894 | Washington-Arlington-Alexandria DC-VA | 8840 | WASHINGTON, DC-MD-VA-WV
Caroline, MD | 21050 | 21 | Maryland | 21 | MARYLAND
Carroll, MD | 21060 | 12580 | Baltimore-Towson, MD | 0720 | BALTIMORE, MD
Cecil, MD | 21070 | 48864 | Wilmington, DE-MD-NJ | 9160 | WILMINGTON-NEWARK, DE-MD
Charles, MD | 21080 | 47894 | Washington-Arlington-Alexandria DC-VA | 8840 | WASHINGTON, DC-MD-VA-WV
Dorchester, MD | 21090 | 21 | Maryland | 21 | MARYLAND
Frederick, MD | 21100 | 13644 | Bethesda-Gaithersburg-Frederick, MD | 8840 | WASHINGTON, DC-MD-VA-WV
Garrett, MD | 21110 | 21 | Maryland | 21 | MARYLAND
Harford, MD | 21120 | 12580 | Baltimore-Towson, MD | 0720 | BALTIMORE, MD
Howard, MD | 21130 | 12580 | Baltimore-Towson, MD | 0720 | BALTIMORE, MD
Kent, MD | 21140 | 21 | Maryland | 21 | MARYLAND
Montgomery, MD | 21150 | 13644 | Bethesda-Gaithersburg-Frederick, MD | 8840 | WASHINGTON, DC-MD-VA-WV
Prince Georges, MD | 21160 | 47894 | Washington-Arlington-Alexandria DC-VA | 8840 | WASHINGTON, DC-MD-VA-WV
Queen Anne's, MD | 21170 | 12580 | Baltimore-Towson, MD | 0720 | BALTIMORE, MD
Somerset, MD | 21190 | 41540 | Salisbury, MD | 21 | MARYLAND
St. Mary's, MD | 21180 | 21 | Maryland | 21 | MARYLAND
Statewide, MD | 21999 | 21 | Maryland | 21 | MARYLAND
Talbot, MD | 21200 | 21 | Maryland | 21 | MARYLAND
Washington, MD | 21210 | 25180 | Hagerstown-Martinsburg, MD-WV | 3180 | HAGERSTOWN, MD
Wicomico, MD | 21220 | 41540 | Salisbury, MD | 21 | MARYLAND
Worcester, MD | 21230 | 21 | Maryland | 21 | MARYLAND
Barnstable, MA | 22000 | 12700 | Barnstable Town, MA | 0743 | BARNSTABLE-YARMOUTH, MA
Berkshire, MA | 22010 | 38340 | Pittsfield, MA | 6323 | PITTSFIELD, MA
Bristol, MA | 22020 | 39300 | Providence-New Bedford-Fall River, RI- | 1123 | BOSTON-WORCESTER-LAWRENCE-LOWELL-BROCKTON, M
Dukes, MA | 22030 | 22 | Massachusetts | 22 | MASSACHUSETTS
Essex, MA | 22040 | 21604 | Essex County, MA | 1123 | BOSTON-WORCESTER-LAWRENCE-LOWELL-BROCKTON, M
Franklin, MA | 22060 | 44140 | Springfield, MA | 22 | MASSACHUSETTS
Hampden, MA | 22070 | 44140 | Springfield, MA | 8003 | SPRINGFIELD, MA
Hampshire, MA | 22080 | 44140 | Springfield, MA | 8003 | SPRINGFIELD, MA
Middlesex, MA | 22090 | 15764 | Cambridge-Newton-Framingham, MA | 1123 | BOSTON-WORCESTER-LAWRENCE-LOWELL-BROCKTON, M
Nantucket, MA | 22120 | 22 | Massachusetts | 22 | MASSACHUSETTS
Norfolk, MA | 22130 | 14484 | Boston-Quincy, MA | 1123 | BOSTON-WORCESTER-LAWRENCE-LOWELL-BROCKTON, M
Plymouth, MA | 22150 | 14484 | Boston-Quincy, MA | 1123 | BOSTON-WORCESTER-LAWRENCE-LOWELL-BROCKTON, M
Statewide, MA | 22999 | 22 | Massachusetts | 22 | MASSACHUSETTS
Suffolk, MA | 22160 | 14484 | Boston-Quincy, MA | 1123 | BOSTON-WORCESTER-LAWRENCE-LOWELL-BROCKTON, M
Worcester, MA | 22170 | 49340 | Worcester, MA | 1123 | BOSTON-WORCESTER-LAWRENCE-LOWELL-BROCKTON, M
Alcona, MI | 23000 | 23 | Michigan | 23 | MICHIGAN
Alger, MI | 23010 | 23 | Michigan | 23 | MICHIGAN
Allegan, MI | 23020 | 23 | Michigan | 3000 | GRAND RAPIDS-MUSKEGON-HOLLAND, MI
Alpena, MI | 23030 | 23 | Michigan | 23 | MICHIGAN
Antrim, MI | 23040 | 23 | Michigan | 23 | MICHIGAN
Arenac, MI | 23050 | 23 | Michigan | 23 | MICHIGAN
Baraga, MI | 23060 | 23 | Michigan | 23 | MICHIGAN
Barry, MI | 23070 | 24340 | Grand Rapids-Wyoming, MI | 23 | MICHIGAN
Bay, MI | 23080 | 13020 | Bay City, MI | 6960 | SAGINAW-BAY CITY-MIDLAND, MI
Benzie, MI | 23090 | 23 | Michigan | 23 | MICHIGAN
Berrien, MI | 23100 | 35660 | Niles-Benton Harbor, MI | 0870 | BENTON HARBOR, MI
Branch, MI | 23110 | 23 | Michigan | 23 | MICHIGAN
Calhoun, MI | 23120 | 12980 | Battle Creek, MI | 3720 | KALAMAZOO-BATTLE CREEK, MI
Cass, MI | 23130 | 43780 | South Bend-Mishawaka, IN-MI | 23 | MICHIGAN
Charlevoix, MI | 23140 | 23 | Michigan | 23 | MICHIGAN
Cheboygan, MI | 23150 | 23 | Michigan | 23 | MICHIGAN
Chippewa, MI | 23160 | 23 | Michigan | 23 | MICHIGAN
Clare, MI | 23170 | 23 | Michigan | 23 | MICHIGAN
Clinton, MI | 23180 | 29620 | Lansing-East Lansing, MI | 4040 | LANSING-EAST LANSING, MI
Crawford, MI | 23190 | 23 | Michigan | 23 | MICHIGAN
Delta, MI | 23200 | 23 | Michigan | 23 | MICHIGAN
Dickinson, MI | 23210 | 23 | Michigan | 23 | MICHIGAN
Eaton, MI | 23220 | 29620 | Lansing-East Lansing, MI | 4040 | LANSING-EAST LANSING, MI
Emmet, MI | 23230 | 23 | Michigan | 23 | MICHIGAN
Genesee, MI | 23240 | 22420 | Flint, MI | 2640 | FLINT, MI
Gladwin, MI | 23250 | 23 | Michigan | 23 | MICHIGAN
Gogebic, MI | 23260 | 23 | Michigan | 23 | MICHIGAN
Grand traverse, MI | 23270 | 23 | Michigan | 23 | MICHIGAN
Gratiot, MI | 23280 | 23 | Michigan | 23 | MICHIGAN
Hillsdale, MI | 23290 | 23 | Michigan | 23 | MICHIGAN
Houghton, MI | 23300 | 23 | Michigan | 23 | MICHIGAN
Huron, MI | 23310 | 23 | Michigan | 23 | MICHIGAN
Ingham, MI | 23320 | 29620 | Lansing-East Lansing, MI | 4040 | LANSING-EAST LANSING, MI
Ionia, MI | 23330 | 24340 | Grand Rapids-Wyoming, MI | 23 | MICHIGAN
Iosco, MI | 23340 | 23 | Michigan | 23 | MICHIGAN
Iron, MI | 23350 | 23 | Michigan | 23 | MICHIGAN
Isabella, MI | 23360 | 23 | Michigan | 23 | MICHIGAN
Jackson, MI | 23370 | 27100 | Jackson, MI | 3520 | JACKSON, MI
Kalamazoo, MI | 23380 | 28020 | Kalamazoo-Portage, MI | 3720 | KALAMAZOO-BATTLE CREEK, MI
Kalkaska, MI | 23390 | 23 | Michigan | 23 | MICHIGAN
Kent, MI | 23400 | 24340 | Grand Rapids-Wyoming, MI | 3000 | GRAND RAPIDS-MUSKEGON-HOLLAND, MI
Keweenaw, MI | 23410 | 23 | Michigan | 23 | MICHIGAN
Lake, MI | 23420 | 23 | Michigan | 23 | MICHIGAN
Lapeer, MI | 23430 | 47644 | Warren-Farmington-Hills-Troy, MI | 2160 | DETROIT, MI
Leelanau, MI | 23440 | 23 | Michigan | 23 | MICHIGAN
Lenawee, MI | 23450 | 23 | Michigan | 0440 | ANN ARBOR, MI
Livingston, MI | 23460 | 47644 | Warren-Farmington-Hills-Troy, MI | 0440 | ANN ARBOR, MI
Luce, MI | 23470 | 23 | Michigan | 23 | MICHIGAN
Mackinac, MI | 23480 | 23 | Michigan | 23 | MICHIGAN
Macomb, MI | 23490 | 47644 | Warren-Farmington-Hills-Troy, MI | 2160 | DETROIT, MI
Manistee, MI | 23500 | 23 | Michigan | 23 | MICHIGAN
Marquette, MI | 23510 | 23 | Michigan | 23 | MICHIGAN
Mason, MI | 23520 | 23 | Michigan | 23 | MICHIGAN
Mecosta, MI | 23530 | 23 | Michigan | 23 | MICHIGAN
Menominee, MI | 23540 | 23 | Michigan | 23 | MICHIGAN
Midland, MI | 23550 | 23 | Michigan | 6960 | SAGINAW-BAY CITY-MIDLAND, MI
Missaukee, MI | 23560 | 23 | Michigan | 23 | MICHIGAN
Monroe, MI | 23570 | 33780 | Monroe, MI | 2160 | DETROIT, MI
Montcalm, MI | 23580 | 23 | Michigan | 23 | MICHIGAN
Montmorency, MI | 23590 | 23 | Michigan | 23 | MICHIGAN
Muskegon, MI | 23600 | 34740 | Muskegon-Norton Shores, MI | 3000 | GRAND RAPIDS-MUSKEGON-HOLLAND, MI
Newaygo, MI | 23610 | 24340 | Grand Rapids-Wyoming, MI | 23 | MICHIGAN
Oakland, MI | 23620 | 47644 | Warren-Farmington-Hills-Troy, MI | 2160 | DETROIT, MI
Oceana, MI | 23630 | 23 | Michigan | 23 | MICHIGAN
Ogemaw, MI | 23640 | 23 | Michigan | 23 | MICHIGAN
Ontonagon, MI | 23650 | 23 | Michigan | 23 | MICHIGAN
Osceola, MI | 23660 | 23 | Michigan | 23 | MICHIGAN
Oscoda, MI | 23670 | 23 | Michigan | 23 | MICHIGAN
Otsego, MI | 23680 | 23 | Michigan | 23 | MICHIGAN
Ottawa, MI | 23690 | 26100 | Holland-Grand Haven, MI | 3000 | GRAND RAPIDS-MUSKEGON-HOLLAND, MI
Presque Isle, MI | 23700 | 23 | Michigan | 23 | MICHIGAN
Roscommon, MI | 23710 | 23 | Michigan | 23 | MICHIGAN
Saginaw, MI | 23720 | 40980 | Saginaw-Saginaw Township North, MI | 6960 | SAGINAW-BAY CITY-MIDLAND, MI
Sanilac, MI | 23750 | 23 | Michigan | 23 | MICHIGAN
Schoolcraft, MI | 23760 | 23 | Michigan | 23 | MICHIGAN
Shiawassee, MI | 23770 | 23 | Michigan | 23 | MICHIGAN
St. Clair, MI | 23730 | 47644 | Warren-Farmington-Hills-Troy, MI | 2160 | DETROIT, MI
St. Joseph, MI | 23740 | 23 | Michigan | 23 | MICHIGAN
Statewide, MI | 23999 | 23 | Michigan | 23 | MICHIGAN
Tuscola, MI | 23780 | 23 | Michigan | 23 | MICHIGAN
Van Buren, MI | 23790 | 28020 | Kalamazoo-Portage, MI | 3720 | KALAMAZOO-BATTLE CREEK, MI
Washtenaw, MI | 23800 | 11460 | Ann Arbor, MI | 0440 | ANN ARBOR, MI
Wayne, MI | 23810 | 19804 | Detroit-Livonia-Dearborn, MI | 2160 | DETROIT, MI
Wexford, MI | 23830 | 23 | Michigan | 23 | MICHIGAN
Aitkin, MN | 24000 | 24 | Minnesota | 24 | MINNESOTA
Anoka, MN | 24010 | 33460 | Minneapolis-St. Paul-Bloomington, MN-WI | 5120 | MINNEAPOLIS-ST. PAUL, MN-WI
Becker, MN | 24020 | 24 | Minnesota | 24 | MINNESOTA
Beltrami, MN | 24030 | 24 | Minnesota | 24 | MINNESOTA
Benton, MN | 24040 | 41060 | St. Cloud, MN | 6980 | ST. CLOUD, MN
Big Stone, MN | 24050 | 24 | Minnesota | 24 | MINNESOTA
Blue Earth, MN | 24060 | 24 | Minnesota | 24 | MINNESOTA
Brown, MN | 24070 | 24 | Minnesota | 24 | MINNESOTA
Carlton, MN | 24080 | 20260 | Duluth, MN-WI | 24 | MINNESOTA
Carver, MN | 24090 | 33460 | Minneapolis-St. Paul-Bloomington, MN-W | 5120 | MINNEAPOLIS-ST. PAUL, MN-WI
Cass, MN | 24100 | 24 | Minnesota | 24 | MINNESOTA
Chippewa, MN | 24110 | 24 | Minnesota | 24 | MINNESOTA
Chisago, MN | 24120 | 33460 | Minneapolis-St. Paul-Bloomington, MN-WI | 5120 | MINNEAPOLIS-ST. PAUL, MN-WI
Clay, MN | 24130 | 22020 | Fargo, ND-MN | 2520 | FARGO-MOORHEAD, ND-MN
Clearwater, MN | 24140 | 24 | Minnesota | 24 | MINNESOTA
Cook, MN | 24150 | 24 | Minnesota | 24 | MINNESOTA
Cottonwood, MN | 24160 | 24 | Minnesota | 24 | MINNESOTA
Crow Wing, MN | 24170 | 24 | Minnesota | 24 | MINNESOTA
Dakota, MN | 24180 | 33460 | Minneapolis-St. Paul-Bloomington, MN-WI | 5120 | MINNEAPOLIS-ST. PAUL, MN-WI
Dodge, MN | 24190 | 40340 | Rochester, MN | 24 | MINNESOTA
Douglas, MN | 24200 | 24 | Minnesota | 24 | MINNESOTA
Faribault, MN | 24210 | 24 | Minnesota | 24 | MINNESOTA
Fillmore, MN | 24220 | 24 | Minnesota | 24 | MINNESOTA
Freeborn, MN | 24230 | 24 | Minnesota | 24 | MINNESOTA
Goodhue, MN | 24240 | 24 | Minnesota | 24 | MINNESOTA
Grant, MN | 24250 | 24 | Minnesota | 24 | MINNESOTA
Hennepin, MN | 24260 | 33460 | Minneapolis-St. Paul-Bloomington, MN-WI | 5120 | MINNEAPOLIS-ST. PAUL, MN-WI
Houston, MN | 24270 | 29100 | La Crosse, WI-MN | 3870 | LA CROSSE, WI-MN
Hubbard, MN | 24280 | 24 | Minnesota | 24 | MINNESOTA
Isanti, MN | 24290 | 33460 | Minneapolis-St. Paul-Bloomington, MN-WI | 5120 | MINNEAPOLIS-ST. PAUL, MN-WI
Itasca, MN | 24300 | 24 | Minnesota | 24 | MINNESOTA
Jackson, MN | 24310 | 24 | Minnesota | 24 | MINNESOTA
Kanabec, MN | 24320 | 24 | Minnesota | 24 | MINNESOTA
Kandiyohi, MN | 24330 | 24 | Minnesota | 24 | MINNESOTA
Kittson, MN | 24340 | 24 | Minnesota | 24 | MINNESOTA
Koochiching, MN | 24350 | 24 | Minnesota | 24 | MINNESOTA
Lac Qui Parle, MN | 24360 | 24 | Minnesota | 24 | MINNESOTA
Lake, MN | 24370 | 24 | Minnesota | 24 | MINNESOTA
Lake of Woods, MN | 24380 | 24 | Minnesota | 24 | MINNESOTA
Le Sueur, MN | 24390 | 24 | Minnesota | 24 | MINNESOTA
Lincoln, MN | 24400 | 24 | Minnesota | 24 | MINNESOTA
Lyon, MN | 24410 | 24 | Minnesota | 24 | MINNESOTA
Mahnomen, MN | 24430 | 24 | Minnesota | 24 | MINNESOTA
Marshall, MN | 24440 | 24 | Minnesota | 24 | MINNESOTA
Martin, MN | 24450 | 24 | Minnesota | 24 | MINNESOTA
McLeod, MN | 24420 | 24 | Minnesota | 24 | MINNESOTA
Meeker, MN | 24460 | 24 | Minnesota | 24 | MINNESOTA
Mille Lacs, MN | 24470 | 24 | Minnesota | 24 | MINNESOTA
Morrison, MN | 24480 | 24 | Minnesota | 24 | MINNESOTA
Mower, MN | 24490 | 24 | Minnesota | 24 | MINNESOTA
Murray, MN | 24500 | 24 | Minnesota | 24 | MINNESOTA
Nicollet, MN | 24510 | 24 | Minnesota | 24 | MINNESOTA
Nobles, MN | 24520 | 24 | Minnesota | 24 | MINNESOTA
Norman, MN | 24530 | 24 | Minnesota | 24 | MINNESOTA
Olmsted, MN | 24540 | 40340 | Rochester, MN | 6820 | ROCHESTER, MN
Otter Tail, MN | 24550 | 24 | Minnesota | 24 | MINNESOTA
Pennington, MN | 24560 | 24 | Minnesota | 24 | MINNESOTA
Pine, MN | 24570 | 24 | Minnesota | 24 | MINNESOTA
Pipestone, MN | 24580 | 24 | Minnesota | 24 | MINNESOTA
Polk, MN | 24590 | 24220 | Grand Forks, ND-MN | 2985 | GRAND FORKS, ND-MN
Pope, MN | 24600 | 24 | Minnesota | 24 | MINNESOTA
Ramsey, MN | 24610 | 33460 | Minneapolis-St. Paul-Bloomington, MN-WI | 5120 | MINNEAPOLIS-ST. PAUL, MN-WI
Red Lake, MN | 24620 | 24 | Minnesota | 24 | MINNESOTA
Redwood, MN | 24630 | 24 | Minnesota | 24 | MINNESOTA
Renville, MN | 24640 | 24 | Minnesota | 24 | MINNESOTA
Rice, MN | 24650 | 24 | Minnesota | 24 | MINNESOTA
Rock, MN | 24660 | 24 | Minnesota | 24 | MINNESOTA
Roseau, MN | 24670 | 24 | Minnesota | 24 | MINNESOTA
Scott, MN | 24690 | 33460 | Minneapolis-St. Paul-Bloomington, MN-WI | 5120 | MINNEAPOLIS-ST. PAUL, MN-WI
Sherburne, MN | 24700 | 33460 | Minneapolis-St. Paul-Bloomington, MN-WI | 5120 | MINNEAPOLIS-ST. PAUL, MN-WI
Sibley, MN | 24710 | 24 | Minnesota | 24 | MINNESOTA
St. Louis, MN | 24680 | 20260 | Duluth, MN-WI | 2240 | DULUTH-SUPERIOR, MN-WI
Statewide, MN | 24999 | 24 | Minnesota | 24 | MINNESOTA
Stearns, MN | 24720 | 41060 | St. Cloud, MN | 6980 | ST. CLOUD, MN
Steele, MN | 24730 | 24 | Minnesota | 24 | MINNESOTA
Stevens, MN | 24740 | 24 | Minnesota | 24 | MINNESOTA
Swift, MN | 24750 | 24 | Minnesota | 24 | MINNESOTA
Todd, MN | 24760 | 24 | Minnesota | 24 | MINNESOTA
Traverse, MN | 24770 | 24 | Minnesota | 24 | MINNESOTA
Wabasha, MN | 24780 | 40340 | Rochester, MN | 24 | MINNESOTA
Wadena, MN | 24790 | 24 | Minnesota | 24 | MINNESOTA
Waseca, MN | 24800 | 24 | Minnesota | 24 | MINNESOTA
Washington, MN | 24810 | 33460 | Minneapolis-St. Paul-Bloomington, MN-WI | 5120 | MINNEAPOLIS-ST. PAUL, MN-WI
Watonwan, MN | 24820 | 24 | Minnesota | 24 | MINNESOTA
Wilkin, MN | 24830 | 24 | Minnesota | 24 | MINNESOTA
Winona, MN | 24840 | 24 | Minnesota | 24 | MINNESOTA
Wright, MN | 24850 | 33460 | Minneapolis-St. Paul-Bloomington, MN-WI | 5120 | MINNEAPOLIS-ST. PAUL, MN-WI
Yellow Medicine, MN | 24860 | 24 | Minnesota | 24 | MINNESOTA
Adams, MS | 25000 | 25 | Mississippi | 25 | MISSISSIPPI
Alcorn, MS | 25010 | 25 | Mississippi | 25 | MISSISSIPPI
Amite, MS | 25020 | 25 | Mississippi | 25 | MISSISSIPPI
Attala, MS | 25030 | 25 | Mississippi | 25 | MISSISSIPPI
Benton, MS | 25040 | 25 | Mississippi | 25 | MISSISSIPPI
Bolivar, MS | 25050 | 25 | Mississippi | 25 | MISSISSIPPI
Calhoun, MS | 25060 | 25 | Mississippi | 25 | MISSISSIPPI
Carroll, MS | 25070 | 25 | Mississippi | 25 | MISSISSIPPI
Chickasaw, MS | 25080 | 25 | Mississippi | 25 | MISSISSIPPI
Choctaw, MS | 25090 | 25 | Mississippi | 25 | MISSISSIPPI
Claiborne, MS | 25100 | 25 | Mississippi | 25 | MISSISSIPPI
Clarke, MS | 25110 | 25 | Mississippi | 25 | MISSISSIPPI
Clay, MS | 25120 | 25 | Mississippi | 25 | MISSISSIPPI
Coahoma, MS | 25130 | 25 | Mississippi | 25 | MISSISSIPPI
Copiah, MS | 25140 | 27140 | Jackson, MS | 25 | MISSISSIPPI
Covington, MS | 25150 | 25 | Mississippi | 25 | MISSISSIPPI
De Soto, MS | 25160 | 32820 | Memphis, TN-MS-AR | 4920 | MEMPHIS, TN-AR-MS
Forrest, MS | 25170 | 25620 | Hattiesburg, MS | 3285 | HATTIESBURG, MS
Franklin, MS | 25180 | 25 | Mississippi | 25 | MISSISSIPPI
George, MS | 25190 | 37700 | Pascagoula, MS | 25 | MISSISSIPPI
Greene, MS | 25200 | 25 | Mississippi | 25 | MISSISSIPPI
Grenada, MS | 25210 | 25 | Mississippi | 25 | MISSISSIPPI
Hancock, MS | 25220 | 25060 | Gulfport-Biloxi, MS | 0920 | BILOXI-GULFPORT-PASCAGOULA, MS
Harrison, MS | 25230 | 25060 | Gulfport-Biloxi, MS | 0920 | BILOXI-GULFPORT-PASCAGOULA, MS
Hinds, MS | 25240 | 27140 | Jackson, MS | 3560 | JACKSON, MS
Holmes, MS | 25250 | 25 | Mississippi | 25 | MISSISSIPPI
Humphreys, MS | 25260 | 25 | Mississippi | 25 | MISSISSIPPI
Issaquena, MS | 25270 | 25 | Mississippi | 25 | MISSISSIPPI
Itawamba, MS | 25280 | 25 | Mississippi | 25 | MISSISSIPPI
Jackson, MS | 25290 | 37700 | Pascagoula, MS | 0920 | BILOXI-GULFPORT-PASCAGOULA, MS
Jasper, MS | 25300 | 25 | Mississippi | 25 | MISSISSIPPI
Jefferson, MS | 25310 | 25 | Mississippi | 25 | MISSISSIPPI
Jefferson Davis, MS | 25320 | 25 | Mississippi | 25 | MISSISSIPPI
Jones, MS | 25330 | 25 | Mississippi | 25 | MISSISSIPPI
Kemper, MS | 25340 | 25 | Mississippi | 25 | MISSISSIPPI
Lafayette, MS | 25350 | 25 | Mississippi | 25 | MISSISSIPPI
Lamar, MS | 25360 | 25620 | Hattiesburg, MS | 3285 | HATTIESBURG, MS
Lauderdale, MS | 25370 | 25 | Mississippi | 25 | MISSISSIPPI
Lawrence, MS | 25380 | 25 | Mississippi | 25 | MISSISSIPPI
Leake, MS | 25390 | 25 | Mississippi | 25 | MISSISSIPPI
Lee, MS | 25400 | 25 | Mississippi | 25 | MISSISSIPPI
Leflore, MS | 25410 | 25 | Mississippi | 25 | MISSISSIPPI
Lincoln, MS | 25420 | 25 | Mississippi | 25 | MISSISSIPPI
Lowndes, MS | 25430 | 25 | Mississippi | 25 | MISSISSIPPI
Madison, MS | 25440 | 27140 | Jackson, MS | 3560 | JACKSON, MS
Marion, MS | 25450 | 25 | Mississippi | 25 | MISSISSIPPI
Marshall, MS | 25460 | 32820 | Memphis, TN-MS-AR | 25 | MISSISSIPPI
Monroe, MS | 25470 | 25 | Mississippi | 25 | MISSISSIPPI
Montgomery, MS | 25480 | 25 | Mississippi | 25 | MISSISSIPPI
Neshoba, MS | 25490 | 25 | Mississippi | 25 | MISSISSIPPI
Newton, MS | 25500 | 25 | Mississippi | 25 | MISSISSIPPI
Noxubee, MS | 25510 | 25 | Mississippi | 25 | MISSISSIPPI
Oktibbeha, MS | 25520 | 25 | Mississippi | 25 | MISSISSIPPI
Panola, MS | 25530 | 25 | Mississippi | 25 | MISSISSIPPI
Pearl River, MS | 25540 | 25 | Mississippi | 25 | MISSISSIPPI
Perry, MS | 25550 | 25620 | Hattiesburg, MS | 25 | MISSISSIPPI
Pike, MS | 25560 | 25 | Mississippi | 25 | MISSISSIPPI
Pontotoc, MS | 25570 | 25 | Mississippi | 25 | MISSISSIPPI
Prentiss, MS | 25580 | 25 | Mississippi | 25 | MISSISSIPPI
Quitman, MS | 25590 | 25 | Mississippi | 25 | MISSISSIPPI
Rankin, MS | 25600 | 27140 | Jackson, MS | 3560 | JACKSON, MS
Scott, MS | 25610 | 25 | Mississippi | 25 | MISSISSIPPI
Sharkey, MS | 25620 | 25 | Mississippi | 25 | MISSISSIPPI
Simpson, MS | 25630 | 27140 | Jackson, MS | 25 | MISSISSIPPI
Smith, MS | 25640 | 25 | Mississippi | 25 | MISSISSIPPI
Statewide, MS | 25999 | 25 | Mississippi | 25 | MISSISSIPPI
Stone, MS | 25650 | 25060 | Gulfport-Biloxi, MS | 25 | MISSISSIPPI
Sunflower, MS | 25660 | 25 | Mississippi | 25 | MISSISSIPPI
Tallahatchie, MS | 25670 | 25 | Mississippi | 25 | MISSISSIPPI
Tate, MS | 25680 | 32820 | Memphis, TN-MS-AR | 25 | MISSISSIPPI
Tippah, MS | 25690 | 25 | Mississippi | 25 | MISSISSIPPI
Tishomingo, MS | 25700 | 25 | Mississippi | 25 | MISSISSIPPI
Tunica, MS | 25710 | 32820 | Memphis, TN-MS-AR | 25 | MISSISSIPPI
Union, MS | 25720 | 25 | Mississippi | 25 | MISSISSIPPI
Walthall, MS | 25730 | 25 | Mississippi | 25 | MISSISSIPPI
Warren, MS | 25740 | 25 | Mississippi | 25 | MISSISSIPPI
Washington, MS | 25750 | 25 | Mississippi | 25 | MISSISSIPPI
Wayne, MS | 25760 | 25 | Mississippi | 25 | MISSISSIPPI
Webster, MS | 25770 | 25 | Mississippi | 25 | MISSISSIPPI
Wilkinson, MS | 25780 | 25 | Mississippi | 25 | MISSISSIPPI
Winston, MS | 25790 | 25 | Mississippi | 25 | MISSISSIPPI
Yalobusha, MS | 25800 | 25 | Mississippi | 25 | MISSISSIPPI
Yazoo, MS | 25810 | 25 | Mississippi | 25 | MISSISSIPPI
Adair, MO | 26000 | 26 | Missouri | 26 | MISSOURI
Andrew, MO | 26010 | 41140 | St. Joseph, MO-KS | 7000 | ST. JOSEPH, MO
Atchison, MO | 26020 | 26 | Missouri | 26 | MISSOURI
Audrain, MO | 26030 | 26 | Missouri | 26 | MISSOURI
Barry, MO | 26040 | 26 | Missouri | 26 | MISSOURI
Barton, MO | 26050 | 26 | Missouri | 26 | MISSOURI
Bates, MO | 26060 | 28140 | Kansas City, MO-KS | 26 | MISSOURI
Benton, MO | 26070 | 26 | Missouri | 26 | MISSOURI
Bollinger, MO | 26080 | 26 | Missouri | 26 | MISSOURI
Boone, MO | 26090 | 17860 | Columbia, MO | 1740 | COLUMBIA, MO
Buchanan, MO | 26100 | 41140 | St. Joseph, MO-KS | 7000 | ST. JOSEPH, MO
Butler, MO | 26110 | 26 | Missouri | 26 | MISSOURI
Caldwell, MO | 26120 | 28140 | Kansas City, MO-KS | 26 | MISSOURI
Callaway, MO | 26130 | 27620 | Jefferson City, MO | 26 | MISSOURI
Camden, MO | 26140 | 26 | Missouri | 26 | MISSOURI
Cape Girardeau, MO | 26150 | 26 | Missouri | 26 | MISSOURI
Carroll, MO | 26160 | 26 | Missouri | 26 | MISSOURI
Carter, MO | 26170 | 26 | Missouri | 26 | MISSOURI
Cass, MO | 26180 | 28140 | Kansas City, MO-KS | 3760 | KANSAS CITY, MO-KS
Cedar, MO | 26190 | 26 | Missouri | 26 | MISSOURI
Chariton, MO | 26200 | 26 | Missouri | 26 | MISSOURI
Christian, MO | 26210 | 44180 | Springfield, MO | 7920 | SPRINGFIELD, MO
Clark, MO | 26220 | 26 | Missouri | 26 | MISSOURI
Clay, MO | 26230 | 28140 | Kansas City, MO-KS | 3760 | KANSAS CITY, MO-KS
Clinton, MO | 26240 | 28140 | Kansas City, MO-KS | 3760 | KANSAS CITY, MO-KS
Cole, MO | 26250 | 27620 | Jefferson City, MO | 26 | MISSOURI
Cooper, MO | 26260 | 26 | Missouri | 26 | MISSOURI
Crawford, MO | 26270 | 41180 | St. Louis, MO-IL | 26 | MISSOURI
Dade, MO | 26280 | 26 | Missouri | 26 | MISSOURI
Dallas, MO | 26290 | 44180 | Springfield, MO | 26 | MISSOURI
Daviess, MO | 26300 | 26 | Missouri | 26 | MISSOURI
De Kalb, MO | 26310 | 41140 | St. Joseph, MO-KS | 26 | MISSOURI
Dent, MO | 26320 | 26 | Missouri | 26 | MISSOURI
Douglas, MO | 26330 | 26 | Missouri | 26 | MISSOURI
Dunklin, MO | 26340 | 26 | Missouri | 26 | MISSOURI
Franklin, MO | 26350 | 41180 | St. Louis, MO-IL | 7040 | ST. LOUIS, MO-IL
Gasconade, MO | 26360 | 26 | Missouri | 26 | MISSOURI
Gentry, MO | 26370 | 26 | Missouri | 26 | MISSOURI
Greene, MO | 26380 | 44180 | Springfield, MO | 7920 | SPRINGFIELD, MO
Grundy, MO | 26390 | 26 | Missouri | 26 | MISSOURI
Harrison, MO | 26400 | 26 | Missouri | 26 | MISSOURI
Henry, MO | 26410 | 26 | Missouri | 26 | MISSOURI
Hickory, MO | 26411 | 26 | Missouri | 26 | MISSOURI
Holt, MO | 26412 | 26 | Missouri | 26 | MISSOURI
Howard, MO | 26440 | 17860 | Columbia, MO | 26 | MISSOURI
Howell, MO | 26450 | 26 | Missouri | 26 | MISSOURI
Iron, MO | 26460 | 26 | Missouri | 26 | MISSOURI
Jackson, MO | 26470 | 28140 | Kansas City, MO-KS | 3760 | KANSAS CITY, MO-KS
Jasper, MO | 26480 | 27900 | Joplin, MO | 3710 | JOPLIN, MO
Jefferson, MO | 26490 | 41180 | St. Louis, MO-IL | 7040 | ST. LOUIS, MO-IL
Johnson, MO | 26500 | 26 | Missouri | 26 | MISSOURI
Knox, MO | 26510 | 26 | Missouri | 26 | MISSOURI
Laclede, MO | 26520 | 26 | Missouri | 26 | MISSOURI
Lafayette, MO | 26530 | 28140 | Kansas City, MO-KS | 3760 | KANSAS CITY, MO-KS
Lawrence, MO | 26540 | 26 | Missouri | 26 | MISSOURI
Lewis, MO | 26541 | 26 | Missouri | 26 | MISSOURI
Lincoln, MO | 26560 | 41180 | St. Louis, MO-IL | 7040 | ST. LOUIS, MO-IL
Linn, MO | 26570 | 26 | Missouri | 26 | MISSOURI
Livingston, MO | 26580 | 26 | Missouri | 26 | MISSOURI
Macon, MO | 26600 | 26 | Missouri | 26 | MISSOURI
Madison, MO | 26601 | 26 | Missouri | 26 | MISSOURI
Maries, MO | 26620 | 26 | Missouri | 26 | MISSOURI
Marion, MO | 26630 | 26 | Missouri | 26 | MISSOURI
Mc Donald, MO | 26590 | 22220 | Fayetteville-Springdale-Rogers, AR-MO | 26 | MISSOURI
Mercer, MO | 26631 | 26 | Missouri | 26 | MISSOURI
Miller, MO | 26650 | 26 | Missouri | 26 | MISSOURI
Mississippi, MO | 26660 | 26 | Missouri | 26 | MISSOURI
Moniteau, MO | 26670 | 27620 | Jefferson City, MO | 26 | MISSOURI
Monroe, MO | 26680 | 26 | Missouri | 26 | MISSOURI
Montgomery, MO | 26690 | 26 | Missouri | 26 | MISSOURI
Morgan, MO | 26700 | 26 | Missouri | 26 | MISSOURI
New Madrid, MO | 26710 | 26 | Missouri | 26 | MISSOURI
Newton, MO | 26720 | 27900 | Joplin, MO | 3710 | JOPLIN, MO
Nodaway, MO | 26730 | 26 | Missouri | 26 | MISSOURI
Oregon, MO | 26740 | 26 | Missouri | 26 | MISSOURI
Osage, MO | 26750 | 27620 | Jefferson City, MO | 26 | MISSOURI
Ozark, MO | 26751 | 26 | Missouri | 26 | MISSOURI
Pemiscot, MO | 26770 | 26 | Missouri | 26 | MISSOURI
Perry, MO | 26780 | 26 | Missouri | 26 | MISSOURI
Pettis, MO | 26790 | 26 | Missouri | 26 | MISSOURI
Phelps, MO | 26800 | 26 | Missouri | 26 | MISSOURI
Pike, MO | 26810 | 26 | Missouri | 26 | MISSOURI
Platte, MO | 26820 | 28140 | Kansas City, MO-KS | 3760 | KANSAS CITY, MO-KS
Polk, MO | 26821 | 44180 | Springfield, MO | 26 | MISSOURI
Pulaski, MO | 26840 | 26 | Missouri | 26 | MISSOURI
Putnam, MO | 26850 | 26 | Missouri | 26 | MISSOURI
Ralls, MO | 26860 | 26 | Missouri | 26 | MISSOURI
Randolph, MO | 26870 | 26 | Missouri | 26 | MISSOURI
Ray, MO | 26880 | 28140 | Kansas City, MO-KS | 3760 | KANSAS CITY, MO-KS
Reynolds, MO | 26881 | 26 | Missouri | 26 | MISSOURI
Ripley, MO | 26900 | 26 | Missouri | 26 | MISSOURI
Saline, MO | 26970 | 26 | Missouri | 26 | MISSOURI
Schuyler, MO | 26980 | 26 | Missouri | 26 | MISSOURI
Scotland, MO | 26981 | 26 | Missouri | 26 | MISSOURI
Scott, MO | 26982 | 26 | Missouri | 26 | MISSOURI
Shannon, MO | 26983 | 26 | Missouri | 26 | MISSOURI
Shelby, MO | 26984 | 26 | Missouri | 26 | MISSOURI
St. Charles, MO | 26910 | 41180 | St. Louis, MO-IL | 7040 | ST. LOUIS, MO-IL
St. Clair, MO | 26911 | 26 | Missouri | 26 | MISSOURI
St. Francois, MO | 26930 | 26 | Missouri | 26 | MISSOURI
St. Louis, MO | 26940 | 41180 | St. Louis, MO-IL | 7040 | ST. LOUIS, MO-IL
St. Louis City, MO | 26950 | 41180 | St. Louis, MO-IL | 7040 | ST. LOUIS, MO-IL
Statewide, MO | 26999 | 26 | Missouri | 26 | MISSOURI
Ste. Genevieve, MO | 26960 | 26 | Missouri | 26 | MISSOURI
Stoddard, MO | 26985 | 26 | Missouri | 26 | MISSOURI
Stone, MO | 26986 | 26 | Missouri | 26 | MISSOURI
Sullivan, MO | 26987 | 26 | Missouri | 26 | MISSOURI
Taney, MO | 26988 | 26 | Missouri | 26 | MISSOURI
Texas, MO | 26989 | 26 | Missouri | 26 | MISSOURI
Vernon, MO | 26990 | 26 | Missouri | 26 | MISSOURI
Warren, MO | 26991 | 41180 | St. Louis, MO-IL | 7040 | ST. LOUIS, MO-IL
Washington, MO | 26992 | 41180 | St. Louis, MO-IL | 26 | MISSOURI
Wayne, MO | 26993 | 26 | Missouri | 26 | MISSOURI
Webster, MO | 26994 | 44180 | Springfield, MO | 7920 | SPRINGFIELD, MO
Worth, MO | 26995 | 26 | Missouri | 26 | MISSOURI
Wright, MO | 26996 | 26 | Missouri | 26 | MISSOURI
Beaverhead, MT | 27000 | 27 | Montana | 27 | MONTANA
Big Horn, MT | 27010 | 27 | Montana | 27 | MONTANA
Blaine, MT | 27020 | 27 | Montana | 27 | MONTANA
Broadwater, MT | 27030 | 27 | Montana | 27 | MONTANA
Carbon, MT | 27040 | 13740 | Billings, MT | 27 | MONTANA
Carter, MT | 27050 | 27 | Montana | 27 | MONTANA
Cascade, MT | 27060 | 24500 | Great Falls, MT | 3040 | GREAT FALLS, MT
Chouteau, MT | 27070 | 27 | Montana | 27 | MONTANA
Custer, MT | 27080 | 27 | Montana | 27 | MONTANA
Daniels, MT | 27090 | 27 | Montana | 27 | MONTANA
Dawson, MT | 27100 | 27 | Montana | 27 | MONTANA
Deer Lodge, MT | 27110 | 27 | Montana | 27 | MONTANA
Fallon, MT | 27120 | 27 | Montana | 27 | MONTANA
Fergus, MT | 27130 | 27 | Montana | 27 | MONTANA
Flathead, MT | 27140 | 27 | Montana | 27 | MONTANA
Gallatin, MT | 27150 | 27 | Montana | 27 | MONTANA
Garfield, MT | 27160 | 27 | Montana | 27 | MONTANA
Glacier, MT | 27170 | 27 | Montana | 27 | MONTANA
Golden Valley, MT | 27180 | 27 | Montana | 27 | MONTANA
Granite, MT | 27190 | 27 | Montana | 27 | MONTANA
Hill, MT | 27200 | 27 | Montana | 27 | MONTANA
Jefferson, MT | 27210 | 27 | Montana | 27 | MONTANA
Judith Basin, MT | 27220 | 27 | Montana | 27 | MONTANA
Lake, MT | 27230 | 27 | Montana | 27 | MONTANA
Lewis and Clark, MT | 27240 | 27 | Montana | 27 | MONTANA
Liberty, MT | 27250 | 27 | Montana | 27 | MONTANA
Lincoln, MT | 27260 | 27 | Montana | 27 | MONTANA
Madison, MT | 27280 | 27 | Montana | 27 | MONTANA
McCone, MT | 27270 | 27 | Montana | 27 | MONTANA
Meagher, MT | 27290 | 27 | Montana | 27 | MONTANA
Mineral, MT | 27300 | 27 | Montana | 27 | MONTANA
Missoula, MT | 27310 | 33540 | Missoula, MT | 5140 | MISSOULA, MT
Musselshell, MT | 27320 | 27 | Montana | 27 | MONTANA
Park, MT | 27330 | 27 | Montana | 27 | MONTANA
Petroleum, MT | 27340 | 27 | Montana | 27 | MONTANA
Phillips, MT | 27350 | 27 | Montana | 27 | MONTANA
Pondera, MT | 27360 | 27 | Montana | 27 | MONTANA
Powder river, MT | 27370 | 27 | Montana | 27 | MONTANA
Powell, MT | 27380 | 27 | Montana | 27 | MONTANA
Prairie, MT | 27390 | 27 | Montana | 27 | MONTANA
Ravalli, MT | 27400 | 27 | Montana | 27 | MONTANA
Richland, MT | 27410 | 27 | Montana | 27 | MONTANA
Roosevelt, MT | 27420 | 27 | Montana | 27 | MONTANA
Rosebud, MT | 27430 | 27 | Montana | 27 | MONTANA
Sanders, MT | 27440 | 27 | Montana | 27 | MONTANA
Sheridan, MT | 27450 | 27 | Montana | 27 | MONTANA
Silver Bow, MT | 27460 | 27 | Montana | 27 | MONTANA
Statewide, MT | 27999 | 27 | Montana | 27 | MONTANA
Stillwater, MT | 27470 | 27 | Montana | 27 | MONTANA
Sweet Grass, MT | 27480 | 27 | Montana | 27 | MONTANA
Teton, MT | 27490 | 27 | Montana | 27 | MONTANA
Toole, MT | 27500 | 27 | Montana | 27 | MONTANA
Treasure, MT | 27510 | 27 | Montana | 27 | MONTANA
Valley, MT | 27520 | 27 | Montana | 27 | MONTANA
Wheatland, MT | 27530 | 27 | Montana | 27 | MONTANA
Wibaux, MT | 27540 | 27 | Montana | 27 | MONTANA
Yellowstone, MT | 27550 | 13740 | Billings, MT | 0880 | BILLINGS, MT
Yellowstone National Park, MT | 27113 | 27 | Montana | 27 | MONTANA
Adams, NE | 28000 | 28 | Nebraska | 28 | NEBRASKA
Antelope, NE | 28010 | 28 | Nebraska | 28 | NEBRASKA
Arthur, NE | 28020 | 28 | Nebraska | 28 | NEBRASKA
Banner, NE | 28030 | 28 | Nebraska | 28 | NEBRASKA
Blaine, NE | 28040 | 28 | Nebraska | 28 | NEBRASKA
Boone, NE | 28050 | 28 | Nebraska | 28 | NEBRASKA
Box Butte, NE | 28060 | 28 | Nebraska | 28 | NEBRASKA
Boyd, NE | 28070 | 28 | Nebraska | 28 | NEBRASKA
Brown, NE | 28080 | 28 | Nebraska | 28 | NEBRASKA
Buffalo, NE | 28090 | 28 | Nebraska | 28 | NEBRASKA
Burt, NE | 28100 | 28 | Nebraska | 28 | NEBRASKA
Butler, NE | 28110 | 28 | Nebraska | 28 | NEBRASKA
Cass, NE | 28120 | 36540 | Omaha-Council Bluffs, NE-IA | 5920 | OMAHA, NE-IA
Cedar, NE | 28130 | 28 | Nebraska | 28 | NEBRASKA
Chase, NE | 28140 | 28 | Nebraska | 28 | NEBRASKA
Cherry, NE | 28150 | 28 | Nebraska | 28 | NEBRASKA
Cheyenne, NE | 28160 | 28 | Nebraska | 28 | NEBRASKA
Clay, NE | 28170 | 28 | Nebraska | 28 | NEBRASKA
Colfax, NE | 28180 | 28 | Nebraska | 28 | NEBRASKA
Cuming, NE | 28190 | 28 | Nebraska | 28 | NEBRASKA
Custer, NE | 28200 | 28 | Nebraska | 28 | NEBRASKA
Dakota, NE | 28210 | 43580 | Sioux City, IA-NE-SD | 7720 | SIOUX CITY, IA-NE
Dawes, NE | 28220 | 28 | Nebraska | 28 | NEBRASKA
Dawson, NE | 28230 | 28 | Nebraska | 28 | NEBRASKA
Deuel, NE | 28240 | 28 | Nebraska | 28 | NEBRASKA
Dixon, NE | 28250 | 43580 | Sioux City, IA-NE-SD | 28 | NEBRASKA
Dodge, NE | 28260 | 28 | Nebraska | 28 | NEBRASKA
Douglas, NE | 28270 | 36540 | Omaha-Council Bluffs, NE-IA | 5920 | OMAHA, NE-IA
Dundy, NE | 28280 | 28 | Nebraska | 28 | NEBRASKA
Fillmore, NE | 28290 | 28 | Nebraska | 28 | NEBRASKA
Franklin, NE | 28300 | 28 | Nebraska | 28 | NEBRASKA
Frontier, NE | 28310 | 28 | Nebraska | 28 | NEBRASKA
Furnas, NE | 28320 | 28 | Nebraska | 28 | NEBRASKA
Gage, NE | 28330 | 28 | Nebraska | 28 | NEBRASKA
Garden, NE | 28340 | 28 | Nebraska | 28 | NEBRASKA
Garfield, NE | 28350 | 28 | Nebraska | 28 | NEBRASKA
Gosper, NE | 28360 | 28 | Nebraska | 28 | NEBRASKA
Grant, NE | 28370 | 28 | Nebraska | 28 | NEBRASKA
Greeley, NE | 28380 | 28 | Nebraska | 28 | NEBRASKA
Hall, NE | 28390 | 28 | Nebraska | 28 | NEBRASKA
Hamilton, NE | 28400 | 28 | Nebraska | 28 | NEBRASKA
Harlan, NE | 28410 | 28 | Nebraska | 28 | NEBRASKA
Hayes, NE | 28420 | 28 | Nebraska | 28 | NEBRASKA
Hitchcock, NE | 28430 | 28 | Nebraska | 28 | NEBRASKA
Holt, NE | 28440 | 28 | Nebraska | 28 | NEBRASKA
Hooker, NE | 28450 | 28 | Nebraska | 28 | NEBRASKA
Howard, NE | 28460 | 28 | Nebraska | 28 | NEBRASKA
Jefferson, NE | 28470 | 28 | Nebraska | 28 | NEBRASKA
Johnson, NE | 28480 | 28 | Nebraska | 28 | NEBRASKA
Kearney, NE | 28490 | 28 | Nebraska | 28 | NEBRASKA
Keith, NE | 28500 | 28 | Nebraska | 28 | NEBRASKA
Keya Paha, NE | 28510 | 28 | Nebraska | 28 | NEBRASKA
Kimball, NE | 28520 | 28 | Nebraska | 28 | NEBRASKA
Knox, NE | 28530 | 28 | Nebraska | 28 | NEBRASKA
Lancaster, NE | 28540 | 30700 | Lincoln, NE | 4360 | LINCOLN, NE
Lincoln, NE | 28550 | 28 | Nebraska | 28 | NEBRASKA
Logan, NE | 28560 | 28 | Nebraska | 28 | NEBRASKA
Loup, NE | 28570 | 28 | Nebraska | 28 | NEBRASKA
Madison, NE | 28590 | 28 | Nebraska | 28 | NEBRASKA
McPherson, NE | 28580 | 28 | Nebraska | 28 | NEBRASKA
Merrick, NE | 28600 | 28 | Nebraska | 28 | NEBRASKA
Morrill, NE | 28610 | 28 | Nebraska | 28 | NEBRASKA
Nance, NE | 28620 | 28 | Nebraska | 28 | NEBRASKA
Nemaha, NE | 28630 | 28 | Nebraska | 28 | NEBRASKA
Nuckolls, NE | 28640 | 28 | Nebraska | 28 | NEBRASKA
Otoe, NE | 28650 | 28 | Nebraska | 28 | NEBRASKA
Pawnee, NE | 28660 | 28 | Nebraska | 28 | NEBRASKA
Perkins, NE | 28670 | 28 | Nebraska | 28 | NEBRASKA
Phelps, NE | 28680 | 28 | Nebraska | 28 | NEBRASKA
Pierce, NE | 28690 | 28 | Nebraska | 28 | NEBRASKA
Platte, NE | 28700 | 28 | Nebraska | 28 | NEBRASKA
Polk, NE | 28710 | 28 | Nebraska | 28 | NEBRASKA
Red Willow, NE | 28720 | 28 | Nebraska | 28 | NEBRASKA
Richardson, NE | 28730 | 28 | Nebraska | 28 | NEBRASKA
Rock, NE | 28740 | 28 | Nebraska | 28 | NEBRASKA
Saline, NE | 28750 | 28 | Nebraska | 28 | NEBRASKA
Sarpy, NE | 28760 | 36540 | Omaha-Council Bluffs, NE-IA | 5920 | OMAHA, NE-IA
Saunders, NE | 28770 | 36540 | Omaha-Council Bluffs, NE-IA | 28 | NEBRASKA
Scott Bluff, NE | 28780 | 28 | Nebraska | 28 | NEBRASKA
Seward, NE | 28790 | 30700 | Lincoln, NE | 28 | NEBRASKA
Sheridan, NE | 28800 | 28 | Nebraska | 28 | NEBRASKA
Sherman, NE | 28810 | 28 | Nebraska | 28 | NEBRASKA
Sioux, NE | 28820 | 28 | Nebraska | 28 | NEBRASKA
Stanton, NE | 28830 | 28 | Nebraska | 28 | NEBRASKA
Statewide, NE | 28999 | 28 | Nebraska | 28 | NEBRASKA
Thayer, NE | 28840 | 28 | Nebraska | 28 | NEBRASKA
Thomas, NE | 28850 | 28 | Nebraska | 28 | NEBRASKA
Thurston, NE | 28860 | 28 | Nebraska | 28 | NEBRASKA
Valley, NE | 28870 | 28 | Nebraska | 28 | NEBRASKA
Washington, NE | 28880 | 36540 | Omaha-Council Bluffs, NE-IA | 5920 | OMAHA, NE-IA
Wayne, NE | 28890 | 28 | Nebraska | 28 | NEBRASKA
Webster, NE | 28900 | 28 | Nebraska | 28 | NEBRASKA
Wheeler, NE | 28910 | 28 | Nebraska | 28 | NEBRASKA
York, NE | 28920 | 28 | Nebraska | 28 | NEBRASKA
Carson City, NV | 29120 | 16180 | Carson City, NV | 29 | NEVADA
Churchill, NV | 29000 | 29 | Nevada | 29 | NEVADA
Clark, NV | 29010 | 29820 | Las Vegas-Paradise, NV | 4120 | LAS VEGAS, NV-AZ
Douglas, NV | 29020 | 29 | Nevada | 29 | NEVADA
Elko, NV | 29030 | 29 | Nevada | 29 | NEVADA
Esmeralda, NV | 29040 | 29 | Nevada | 29 | NEVADA
Eureka, NV | 29050 | 29 | Nevada | 29 | NEVADA
Humboldt, NV | 29060 | 29 | Nevada | 29 | NEVADA
Lander, NV | 29070 | 29 | Nevada | 29 | NEVADA
Lincoln, NV | 29080 | 29 | Nevada | 29 | NEVADA
Lyon, NV | 29090 | 29 | Nevada | 29 | NEVADA
Mineral, NV | 29100 | 29 | Nevada | 29 | NEVADA
Nye, NV | 29110 | 29 | Nevada | 4120 | LAS VEGAS, NV-AZ
Pershing, NV | 29130 | 29 | Nevada | 29 | NEVADA
Statewide, NV | 29999 | 29 | Nevada | 29 | NEVADA
Storey, NV | 29140 | 39900 | Reno-Sparks, NV | 29 | NEVADA
Washoe, NV | 29150 | 39900 | Reno-Sparks, NV | 6720 | RENO, NV
White Pine, NV | 29160 | 29 | Nevada | 29 | NEVADA
Belknap, NH | 30000 | 30 | New Hampshire | 30 | NEW HAMPSHIRE
Carroll, NH | 30010 | 30 | New Hampshire | 30 | NEW HAMPSHIRE
Cheshire, NH | 30020 | 30 | New Hampshire | 30 | NEW HAMPSHIRE
Coos, NH | 30030 | 30 | New Hampshire | 30 | NEW HAMPSHIRE
Grafton, NH | 30040 | 30 | New Hampshire | 30 | NEW HAMPSHIRE
Hillsborough, NH | 30050 | 31700 | Manchester-Nashua, NH | 1123 | BOSTON-WORCESTER-LAWRENCE-LOWELL-BROCKTON, M
Merrimack, NH | 30060 | 31700 | Manchester-Nashua, NH | 1123 | BOSTON-WORCESTER-LAWRENCE-LOWELL-BROCKTON, MA-NH
Rockingham, NH | 30070 | 40484 | Rockingham County, NH | 1123 | BOSTON-WORCESTER-LAWRENCE-LOWELL-BROCKTON, MA-NH
Statewide, NH | 30999 | 30 | New Hampshire | 30 | NEW HAMPSHIRE
Strafford, NH | 30080 | 40484 | Rockingham County, NH | 1123 | BOSTON-WORCESTER-LAWRENCE-LOWELL-BROCKTON, MA-NH
Sullivan, NH | 30090 | 30 | New Hampshire | 30 | NEW HAMPSHIRE
Atlantic, NJ | 31000 | 12100 | Atlantic City, NJ | 0560 | ATLANTIC-CAPE MAY, NJ
Bergen, NJ | 31100 | 35644 | New York-White Plains-Wayne, NY-NJ | 0875 | BERGEN-PASSAIC, NJ
Burlington, NJ | 31150 | 15804 | Camden, NJ | 6160 | PHILADELPHIA, PA-NJ
Camden, NJ | 31160 | 15804 | Camden, NJ | 6160 | PHILADELPHIA, PA-NJ
Cape May, NJ | 31180 | 36140 | Ocean City, NJ | 0560 | ATLANTIC-CAPE MAY, NJ
Cumberland, NJ | 31190 | 47220 | Vineland-Millville-Bridgeton, NJ | 8760 | VINELAND-MILLVILLE-BRIDGETON, NJ
Essex, NJ | 31200 | 35084 | Newark-Union, NJ-PA | 5640 | NEWARK, NJ
Gloucester, NJ | 31220 | 15804 | Camden, NJ | 6160 | PHILADELPHIA, PA-NJ
Hudson, NJ | 31230 | 35644 | New York-White Plains-Wayne, NY-NJ | 3640 | JERSEY CITY, NJ
Hunterdon, NJ | 31250 | 35084 | Newark-Union, NJ-PA | 5015 | MIDDLESEX-SOMERSET-HUNTERDON, NJ
Mercer, NJ | 31260 | 45940 | Trenton-Ewing, NJ | 8480 | TRENTON, NJ
Middlesex, NJ | 31270 | 20764 | Edison, NJ | 5015 | MIDDLESEX-SOMERSET-HUNTERDON, NJ
Monmouth, NJ | 31290 | 20764 | Edison, NJ | 5190 | MONMOUTH-OCEAN, NJ
Morris, NJ | 31300 | 35084 | Newark-Union, NJ-PA | 5640 | NEWARK, NJ
Ocean, NJ | 31310 | 20764 | Edison, NJ | 5190 | MONMOUTH-OCEAN, NJ
Passaic, NJ | 31320 | 35644 | New York-White Plains-Wayne, NY-NJ | 0875 | BERGEN-PASSAIC, NJ
Salem, NJ | 31340 | 48864 | Wilmington, DE-MD-NJ | 6160 | PHILADELPHIA, PA-NJ
Somerset, NJ | 31350 | 20764 | Edison, NJ | 5015 | MIDDLESEX-SOMERSET-HUNTERDON, NJ
Sussex, NJ | 31360 | 35084 | Newark-Union, NJ-PA | 5640 | NEWARK, NJ
Union, NJ | 31370 | 35084 | Newark-Union, NJ-PA | 5640 | NEWARK, NJ
Warren, NJ | 31390 | 10900 | Allentown-Bethlehem-Easton, PA-NJ | 5640 | NEWARK, NJ
Bernalillo, NM | 32000 | 10740 | Albuquerque, NM | 0200 | ALBUQUERQUE, NM
Catron, NM | 32010 | 32 | New Mexico | 32 | NEW MEXICO
Chaves, NM | 32020 | 32 | New Mexico | 32 | NEW MEXICO
Cibola, NM | 32025 | 32 | New Mexico | 32 | NEW MEXICO
Colfax, NM | 32030 | 32 | New Mexico | 32 | NEW MEXICO
Curry, NM | 32040 | 32 | New Mexico | 32 | NEW MEXICO
De Baca, NM | 32050 | 32 | New Mexico | 32 | NEW MEXICO
Dona Ana, NM | 32060 | 29740 | Las Cruces, NM | 4100 | LAS CRUCES, NM
Eddy, NM | 32070 | 32 | New Mexico | 32 | NEW MEXICO
Grant, NM | 32080 | 32 | New Mexico | 32 | NEW MEXICO
Guadalupe, NM | 32090 | 32 | New Mexico | 32 | NEW MEXICO
Harding, NM | 32100 | 32 | New Mexico | 32 | NEW MEXICO
Hidalgo, NM | 32110 | 32 | New Mexico | 32 | NEW MEXICO
Lea, NM | 32120 | 32 | New Mexico | 32 | NEW MEXICO
Lincoln, NM | 32130 | 32 | New Mexico | 32 | NEW MEXICO
Los Alamos, NM | 32131 | 32 | New Mexico | 7490 | SANTA FE, NM
Luna, NM | 32140 | 32 | New Mexico | 32 | NEW MEXICO
McKinley, NM | 32150 | 32 | New Mexico | 32 | NEW MEXICO
Mora, NM | 32160 | 32 | New Mexico | 32 | NEW MEXICO
Otero, NM | 32170 | 32 | New Mexico | 32 | NEW MEXICO
Quay, NM | 32180 | 32 | New Mexico | 32 | NEW MEXICO
Rio Arriba, NM | 32190 | 32 | New Mexico | 32 | NEW MEXICO
Roosevelt, NM | 32200 | 32 | New Mexico | 32 | NEW MEXICO
San Juan, NM | 32220 | 22140 | Farmington, NM | 32 | NEW MEXICO
San Miguel, NM | 32230 | 32 | New Mexico | 32 | NEW MEXICO
Sandoval, NM | 32210 | 10740 | Albuquerque, NM | 0200 | ALBUQUERQUE, NM
Santa Fe, NM | 32240 | 42140 | Santa Fe, NM | 7490 | SANTA FE, NM
Sierra, NM | 32250 | 32 | New Mexico | 32 | NEW MEXICO
Socorro, NM | 32260 | 32 | New Mexico | 32 | NEW MEXICO
Statewide, NM | 32999 | 32 | New Mexico | 32 | NEW MEXICO
Taos, NM | 32270 | 32 | New Mexico | 32 | NEW MEXICO
Torrance, NM | 32280 | 10740 | Albuquerque, NM | 32 | NEW MEXICO
Union, NM | 32290 | 32 | New Mexico | 32 | NEW MEXICO
Valencia, NM | 32300 | 10740 | Albuquerque, NM | 0200 | ALBUQUERQUE, NM
Albany, NY | 33000 | 10580 | Albany-Schenectady-Troy, NY | 0160 | ALBANY-SCHENECTADY-TROY, NY
Allegany, NY | 33010 | 33 | New York | 33 | NEW YORK
Bronx, NY | 33020 | 35644 | New York-White Plains-Wayne, NY-NJ | 5600 | NEW YORK-NEWARK, NY-NJ-PA
Broome, NY | 33030 | 13780 | Binghamton, NY | 0960 | BINGHAMTON, NY
Cattaraugus, NY | 33040 | 33 | New York | 33 | NEW YORK
Cayuga, NY | 33050 | 33 | New York | 8160 | SYRACUSE, NY
Chautauqua, NY | 33060 | 33 | New York | 3610 | JAMESTOWN, NY
Chemung, NY | 33070 | 21300 | Elmira, NY | 2335 | ELMIRA, NY
Chenango, NY | 33080 | 33 | New York | 33 | NEW YORK
Clinton, NY | 33090 | 33 | New York | 33 | NEW YORK
Columbia, NY | 33200 | 33 | New York | 33 | NEW YORK
Cortland, NY | 33210 | 33 | New York | 33 | NEW YORK
Delaware, NY | 33220 | 33 | New York | 33 | NEW YORK
Dutchess, NY | 33230 | 39100 | Poughkeepsie-Newburgh-Middletown, NY | 2281 | DUTCHESS COUNTY, NY
Erie, NY | 33240 | 15380 | Buffalo-Niagara Falls, NY | 1280 | BUFFALO-NIAGARA FALLS, NY
Essex, NY | 33260 | 33 | New York | 33 | NEW YORK
Franklin, NY | 33270 | 33 | New York | 33 | NEW YORK
Fulton, NY | 33280 | 33 | New York | 33 | NEW YORK
Genesee, NY | 33290 | 33 | New York | 6840 | ROCHESTER, NY
Greene, NY | 33300 | 33 | New York | 33 | NEW YORK
Hamilton, NY | 33310 | 33 | New York | 33 | NEW YORK
Herkimer, NY | 33320 | 46540 | Utica-Rome, NY | 8680 | UTICA-ROME, NY
Jefferson, NY | 33330 | 33 | New York | 33 | NEW YORK
Kings, NY | 33331 | 35644 | New York-White Plains-Wayne, NY-NJ | 5600 | NEW YORK-NEWARK, NY-NJ-PA
Lewis, NY | 33340 | 33 | New York | 33 | NEW YORK
Livingston, NY | 33350 | 40380 | Rochester, NY | 6840 | ROCHESTER, NY
Madison, NY | 33360 | 45060 | Syracuse, NY | 8160 | SYRACUSE, NY
Monroe, NY | 33370 | 40380 | Rochester, NY | 6840 | ROCHESTER, NY
Montgomery, NY | 33380 | 33 | New York | 0160 | ALBANY-SCHENECTADY-TROY, NY
Nassau, NY | 33400 | 35004 | Nassau-Suffolk, NY | 5380 | NASSAU-SUFFOLK, NY
New York, NY | 33420 | 35644 | New York-White Plains-Wayne, NY-NJ | 5600 | NEW YORK-NEWARK, NY-NJ-PA
Niagara, NY | 33500 | 15380 | Buffalo-Niagara Falls, NY | 1280 | BUFFALO-NIAGARA FALLS, NY
Oneida, NY | 33510 | 46540 | U a-Rome, NY | 8680 | UTICA-ROME, NY
Onondaga, NY | 33520 | 45060 | Syracuse, NY | 8160 | SYRACUSE, NY
Ontario, NY | 33530 | 40380 | Rochester, NY | 6840 | ROCHESTER, NY
Orange, NY | 33540 | 39100 | Poughkeepsie-Newburgh-Middletown, NY | 5660 | NEWBURGH, NY-PA
Orleans, NY | 33550 | 40380 | Rochester, NY | 6840 | ROCHESTER, NY
Oswego, NY | 33560 | 45060 | Syracuse, NY | 8160 | SYRACUSE, NY
Otsego, NY | 33570 | 33 | New York | 33 | NEW YORK
Putnam, NY | 33580 | 35644 | New York-White Plains-Wayne, NY-NJ | 5600 | NEW YORK-NEWARK, NY-NJ-PA
Queens, NY | 33590 | 35644 | New York-White Plains-Wayne, NY-NJ | 5600 | NEW YORK-NEWARK, NY-NJ-PA
Rensselaer, NY | 33600 | 10580 | Albany-Schenectady-Troy, NY | 0160 | ALBANY-SCHENECTADY-TROY, NY
Richmond, NY | 33610 | 35644 | New York-White Plains-Wayne, NY-NJ | 5600 | NEW YORK-NEWARK, NY-NJ-PA
Rockland, NY | 33620 | 35644 | New York-White Plains-Wayne, NY-NJ | 5600 | NEW YORK-NEWARK, NY-NJ-PA
Saratoga, NY | 33640 | 10580 | Albany-Schenectady-Troy, NY | 0160 | ALBANY-SCHENECTADY-TROY, NY
Schenectady, NY | 33650 | 10580 | Albany-Schenectady-Troy, NY | 0160 | ALBANY-SCHENECTADY-TROY, NY
Schoharie, NY | 33660 | 10580 | Albany-Schenectady-Troy, NY | 0160 | ALBANY-SCHENECTADY-TROY, NY
Schuyler, NY | 33670 | 33 | New York | 33 | NEW YORK
Seneca, NY | 33680 | 33 | New York | 33 | NEW YORK
St. Lawrence, NY | 33630 | 33 | New York | 33 | NEW YORK
Statewide, NY | 33999 | 33 | New York | 33 | NEW YORK
Steuben, NY | 33690 | 33 | New York | 33 | NEW YORK
Suffolk, NY | 33700 | 35004 | Nassau-Suffolk, NY | 5380 | NASSAU-SUFFOLK, NY
Sullivan, NY | 33710 | 33 | New York | 33 | NEW YORK
Tioga, NY | 33720 | 13780 | Binghamton, NY | 0960 | BINGHAMTON, NY
Tompkins, NY | 33730 | 27060 | Ithaca, NY | 33 | NEW YORK
Ulster, NY | 33740 | 28740 | Kingston, NY | 33 | NEW YORK
Warren, NY | 33750 | 24020 | Glens Falls, NY | 2975 | GLENS FALLS, NY
Washington, NY | 33760 | 24020 | Glens Falls, NY | 2975 | GLENS FALLS, NY
Wayne, NY | 33770 | 40380 | Rochester, NY | 6840 | ROCHESTER, NY
Westchester, NY | 33800 | 35644 | New York-White Plains-Wayne, NY-NJ | 5600 | NEW YORK-NEWARK, NY-NJ-PA
Wyoming, NY | 33900 | 33 | New York | 33 | NEW YORK
Yates, NY | 33910 | 33 | New York | 33 | NEW YORK
Alamance, NC | 34000 | 15500 | Burlington, NC | 3120 | GREENSBORO--WINSTON-SALEM--HIGH POINT, NC
Alexander, NC | 34010 | 25860 | Hickory-Lenoir-Morganton, NC | 3290 | HICKORY-MORGANTON-LENOIR, NC
Alleghany, NC | 34020 | 34 | North Carolina | 34 | NORTH CAROLINA
Anson, NC | 34030 | 16740 | Charlotte-Gastonia-Concord, NC-SC | 34 | NORTH CAROLINA
Ashe, NC | 34040 | 34 | North Carolina | 34 | NORTH CAROLINA
Avery, NC | 34050 | 34 | North Carolina | 34 | NORTH CAROLINA
Beaufort, NC | 34060 | 34 | North Carolina | 34 | NORTH CAROLINA
Bertie, NC | 34070 | 34 | North Carolina | 34 | NORTH CAROLINA
Bladen, NC | 34080 | 34 | North Carolina | 34 | NORTH CAROLINA
Brunswick, NC | 34090 | 48900 | Wilmington, NC | 9200 | WILMINGTON, NC
Buncombe, NC | 34100 | 11700 | Asheville, NC | 0480 | ASHEVILLE, NC
Burke, NC | 34110 | 25860 | Hickory-Lenoir-Morganton, NC | 3290 | HICKORY-MORGANTON-LENOIR, NC
Cabarrus, NC | 34120 | 16740 | Charlotte-Gastonia-Concord, NC-SC | 1520 | CHARLOTTE-GASTONIA-ROCK HILL, NC-SC
Caldwell, NC | 34130 | 25860 | Hickory-Lenoir-Morganton, NC | 3290 | HICKORY-MORGANTON-LENOIR, NC
Camden, NC | 34140 | 34 | North Carolina | 34 | NORTH CAROLINA
Carteret, NC | 34150 | 34 | North Carolina | 34 | NORTH CAROLINA
Caswell, NC | 34160 | 34 | North Carolina | 34 | NORTH CAROLINA
Catawba, NC | 34170 | 25860 | Hickory-Lenoir-Morganton, NC | 3290 | HICKORY-MORGANTON-LENOIR, NC
Chatham, NC | 34180 | 20500 | Durham, NC | 6640 | RALEIGH-DURHAM-CHAPEL HILL, NC
Cherokee, NC | 34190 | 34 | North Carolina | 34 | NORTH CAROLINA
Chowan, NC | 34200 | 34 | North Carolina | 34 | NORTH CAROLINA
Clay, NC | 34210 | 34 | North Carolina | 34 | NORTH CAROLINA
Cleveland, NC | 34220 | 34 | North Carolina | 34 | NORTH CAROLINA
Columbus, NC | 34230 | 34 | North Carolina | 34 | NORTH CAROLINA
Craven, NC | 34240 | 34 | North Carolina | 34 | NORTH CAROLINA
Cumberland, NC | 34250 | 22180 | Fayetteville, NC | 2560 | FAYETTEVILLE, NC
Currituck, NC | 34251 | 47260 | Virginia Beach-Norfolk-Newport News, VA | 5720 | NORFOLK-VIRGINIA BEACH-NEWPORT NEWS, VA-NC
Dare, NC | 34270 | 34 | North Carolina | 34 | NORTH CAROLINA
Davidson, NC | 34280 | 34 | North Carolina | 3120 | GREENSBORO--WINSTON-SALEM--HIGH POINT, NC
Davie, NC | 34290 | 49180 | Winston-Salem, NC | 3120 | GREENSBORO--WINSTON-SALEM--HIGH POINT, NC
Duplin, NC | 34300 | 34 | North Carolina | 34 | NORTH CAROLINA
Durham, NC | 34310 | 20500 | Durham, NC | 6640 | RALEIGH-DURHAM-CHAPEL HILL, NC
Edgecombe, NC | 34320 | 40580 | Rocky Mount, NC | 6895 | ROCKY MOUNT, NC
Forsyth, NC | 34330 | 49180 | Winston-Salem, NC | 3120 | GREENSBORO—WINSTON-SALEM—HIGH POINT, NC
Franklin, NC | 34340 | 39580 | Raleigh-Cary, NC | 6640 | RALEIGH-DURHAM-CHAPEL HILL, NC
Gaston, NC | 34350 | 16740 | Charlotte-Gastonia-Concord, NC-SC | 1520 | CHARLOTTE-GASTONIA-ROCK HILL, NC-SC
Gates, NC | 34360 | 34 | North Carolina | 34 | NORTH CAROLINA
Graham, NC | 34370 | 34 | North Carolina | 34 | NORTH CAROLINA
Granville, NC | 34380 | 34 | North Carolina | 34 | NORTH CAROLINA
Greene, NC | 34390 | 24780 | Greenville, NC | 34 | NORTH CAROLINA
Guilford, NC | 34400 | 24660 | Greensboro-High Point, NC | 3120 | GREENSBORO--WINSTON-SALEM--HIGH POINT, NC
Halifax, NC | 34410 | 34 | North Carolina | 34 | NORTH CAROLINA
Harnett, NC | 34420 | 34 | North Carolina | 34 | NORTH CAROLINA
Haywood, NC | 34430 | 11700 | Asheville, NC | 34 | NORTH CAROLINA
Henderson, NC | 34440 | 11700 | Asheville, NC | 34 | NORTH CAROLINA
Hertford, NC | 34450 | 34 | North Carolina | 34 | NORTH CAROLINA
Hoke, NC | 34460 | 22180 | Fayetteville, NC | 34 | NORTH CAROLINA
Hyde, NC | 34470 | 34 | North Carolina | 34 | NORTH CAROLINA
Iredell, NC | 34480 | 34 | North Carolina | 34 | NORTH CAROLINA
Jackson, NC | 34490 | 34 | North Carolina | 34 | NORTH CAROLINA
Johnston, NC | 34500 | 39580 | Raleigh-Cary, NC | 6640 | RALEIGH-DURHAM-CHAPEL HILL, NC
Jones, NC | 34510 | 34 | North Carolina | 34 | NORTH CAROLINA
Lee, NC | 34520 | 34 | North Carolina | 34 | NORTH CAROLINA
Lenoir, NC | 34530 | 34 | North Carolina | 34 | NORTH CAROLINA
Lincoln, NC | 34540 | 34 | North Carolina | 1520 | CHARLOTTE-GASTONIA-ROCK HILL, NC-SC
Macon, NC | 34560 | 34 | North Carolina | 34 | NORTH CAROLINA
Madison, NC | 34570 | 11700 | Asheville, NC | 0480 | ASHEVILLE, NC
Martin, NC | 34580 | 34 | North Carolina | 34 | NORTH CAROLINA
McDowell, NC | 34550 | 34 | North Carolina | 34 | NORTH CAROLINA
Mecklenburg, NC | 34590 | 16740 | Charlotte-Gastonia-Concord, NC-SC | 1520 | CHARLOTTE-GASTONIA-ROCK HILL, NC-SC
Mitchell, NC | 34600 | 34 | North Carolina | 34 | NORTH CAROLINA
Montgomery, NC | 34610 | 34 | North Carolina | 34 | NORTH CAROLINA
Moore, NC | 34620 | 34 | North Carolina | 34 | NORTH CAROLINA
Nash, NC | 34630 | 40580 | Rocky Mount, NC | 6895 | ROCKY MOUNT, NC
New Hanover, NC | 34640 | 48900 | Wilmington, NC | 9200 | WILMINGTON, NC
Northampton, NC | 34650 | 34 | North Carolina | 34 | NORTH CAROLINA
Onslow, NC | 34660 | 27340 | Jacksonville, NC | 3605 | JACKSONVILLE, NC
Orange, NC | 34670 | 20500 | Durham, NC | 6640 | RALEIGH-DURHAM-CHAPEL HILL, NC
Pamlico, NC | 34680 | 34 | North Carolina | 34 | NORTH CAROLINA
Pasquotank, NC | 34690 | 34 | North Carolina | 34 | NORTH CAROLINA
Pender, NC | 34700 | 48900 | Wilmington, NC | 34 | NORTH CAROLINA
Perquimans, NC | 34710 | 34 | North Carolina | 34 | NORTH CAROLINA
Person, NC | 34720 | 20500 | Durham, NC | 34 | NORTH CAROLINA
Pitt, NC | 34730 | 24780 | Greenville, NC | 3150 | GREENVILLE, NC
Polk, NC | 34740 | 34 | North Carolina | 34 | NORTH CAROLINA
Randolph, NC | 34750 | 24660 | Greensboro-High Point, NC | 3120 | GREENSBORO—WINSTON-SALEM—HIGH POINT, NC
Richmond, NC | 34760 | 34 | North Carolina | 34 | NORTH CAROLINA
Robeson, NC | 34770 | 34 | North Carolina | 34 | NORTH CAROLINA
Rockingham, NC | 34780 | 24660 | Greensboro-High Point, NC | 34 | NORTH CAROLINA
Rowan, NC | 34790 | 34 | North Carolina | 1520 | CHARLOTTE-GASTONIA-ROCK HILL, NC-SC
Rutherford, NC | 34800 | 34 | North Carolina | 34 | NORTH CAROLINA
Sampson, NC | 34810 | 34 | North Carolina | 34 | NORTH CAROLINA
Scotland, NC | 34820 | 34 | North Carolina | 34 | NORTH CAROLINA
Stanly, NC | 34830 | 34 | North Carolina | 34 | NORTH CAROLINA
Statewide, NC | 34999 | 34 | North Carolina | 34 | NORTH CAROLINA
Stokes, NC | 34840 | 49180 | Winston-Salem, NC | 3120 | GREENSBORO—WINSTON-SALEM—HIGH POINT, NC
Surry, NC | 34850 | 34 | North Carolina | 34 | NORTH CAROLINA
Swain, NC | 34860 | 34 | North Carolina | 34 | NORTH CAROLINA
Transylvania, NC | 34870 | 34 | North Carolina | 34 | NORTH CAROLINA
Tyrrell, NC | 34880 | 34 | North Carolina | 34 | NORTH CAROLINA
Union, NC | 34890 | 16740 | Charlotte-Gastonia-Concord, NC-SC | 1520 | CHARLOTTE-GASTONIA-ROCK HILL, NC-SC
Vance, NC | 34900 | 34 | North Carolina | 34 | NORTH CAROLINA
Wake, NC | 34910 | 39580 | Raleigh-Cary, NC | 6640 | RALEIGH-DURHAM-CHAPEL HILL, NC
Warren, NC | 34920 | 34 | North Carolina | 34 | NORTH CAROLINA
Washington, NC | 34930 | 34 | North Carolina | 34 | NORTH CAROLINA
Watauga, NC | 34940 | 34 | North Carolina | 34 | NORTH CAROLINA
Wayne, NC | 34950 | 24140 | Goldsboro, NC | 2980 | GOLDSBORO, NC
Wilkes, NC | 34960 | 34 | North Carolina | 34 | NORTH CAROLINA
Wilson, NC | 34970 | 34 | North Carolina | 34 | NORTH CAROLINA
Yadkin, NC | 34980 | 49180 | Winston-Salem, NC | 3120 | GREENSBORO--WINSTON-SALEM--HIGH POINT, NC
Yancey, NC | 34981 | 34 | North Carolina | 34 | NORTH CAROLINA
Adams, ND | 35000 | 35 | North Dakota | 35 | NORTH DAKOTA
Barnes, ND | 35010 | 35 | North Dakota | 35 | NORTH DAKOTA
Benson, ND | 35020 | 35 | North Dakota | 35 | NORTH DAKOTA
Billings, ND | 35030 | 35 | North Dakota | 35 | NORTH DAKOTA
Bottineau, ND | 35040 | 35 | North Dakota | 35 | NORTH DAKOTA
Bowman, ND | 35050 | 35 | North Dakota | 35 | NORTH DAKOTA
Burke, ND | 35060 | 35 | North Dakota | 35 | NORTH DAKOTA
Burleigh, ND | 35070 | 13900 | Bismarck, ND | 1010 | BISMARCK, ND
Cass, ND | 35080 | 22020 | Fargo, ND-MN | 2520 | FARGO-MOORHEAD, ND-MN
Cavalier, ND | 35090 | 35 | North Dakota | 35 | NORTH DAKOTA
Dickey, ND | 35100 | 35 | North Dakota | 35 | NORTH DAKOTA
Divide, ND | 35110 | 35 | North Dakota | 35 | NORTH DAKOTA
Dunn, ND | 35120 | 35 | North Dakota | 35 | NORTH DAKOTA
Eddy, ND | 35130 | 35 | North Dakota | 35 | NORTH DAKOTA
Emmons, ND | 35140 | 35 | North Dakota | 35 | NORTH DAKOTA
Foster, ND | 35150 | 35 | North Dakota | 35 | NORTH DAKOTA
Golden Valley, ND | 35160 | 35 | North Dakota | 35 | NORTH DAKOTA
Grand Forks, ND | 35170 | 24220 | Grand Forks, ND-MN | 2985 | GRAND FORKS, ND-MN
Grant, ND | 35180 | 35 | North Dakota | 35 | NORTH DAKOTA
Griggs, ND | 35190 | 35 | North Dakota | 35 | NORTH DAKOTA
Hettinger, ND | 35200 | 35 | North Dakota | 35 | NORTH DAKOTA
Kidder, ND | 35210 | 35 | North Dakota | 35 | NORTH DAKOTA
La Moure, ND | 35220 | 35 | North Dakota | 35 | NORTH DAKOTA
Logan, ND | 35230 | 35 | North Dakota | 35 | NORTH DAKOTA
McHenry, ND | 35240 | 35 | North Dakota | 35 | NORTH DAKOTA
McIntosh, ND | 35250 | 35 | North Dakota | 35 | NORTH DAKOTA
McKenzie, ND | 35260 | 35 | North Dakota | 35 | NORTH DAKOTA
McLean, ND | 35270 | 35 | North Dakota | 35 | NORTH DAKOTA
Mercer, ND | 35280 | 35 | North Dakota | 35 | NORTH DAKOTA
Morton, ND | 35290 | 13900 | Bismarck, ND | 1010 | BISMARCK, ND
Mountrail, ND | 35300 | 35 | North Dakota | 35 | NORTH DAKOTA
Nelson, ND | 35310 | 35 | North Dakota | 35 | NORTH DAKOTA
Oliver, ND | 35320 | 35 | North Dakota | 35 | NORTH DAKOTA
Pembina, ND | 35330 | 35 | North Dakota | 35 | NORTH DAKOTA
Pierce, ND | 35340 | 35 | North Dakota | 35 | NORTH DAKOTA
Ramsey, ND | 35350 | 35 | North Dakota | 35 | NORTH DAKOTA
Ransom, ND | 35360 | 35 | North Dakota | 35 | NORTH DAKOTA
Renville, ND | 35370 | 35 | North Dakota | 35 | NORTH DAKOTA
Richland, ND | 35380 | 35 | North Dakota | 35 | NORTH DAKOTA
Rolette, ND | 35390 | 35 | North Dakota | 35 | NORTH DAKOTA
Sargent, ND | 35400 | 35 | North Dakota | 35 | NORTH DAKOTA
Sheridan, ND | 35410 | 35 | North Dakota | 35 | NORTH DAKOTA
Sioux, ND | 35420 | 35 | North Dakota | 35 | NORTH DAKOTA
Slope, ND | 35430 | 35 | North Dakota | 35 | NORTH DAKOTA
Stark, ND | 35440 | 35 | North Dakota | 35 | NORTH DAKOTA
Statewide, ND | 35999 | 35 | North Dakota | 35 | NORTH DAKOTA
Steele, ND | 35450 | 35 | North Dakota | 35 | NORTH DAKOTA
Stutsman, ND | 35460 | 35 | North Dakota | 35 | NORTH DAKOTA
Towner, ND | 35470 | 35 | North Dakota | 35 | NORTH DAKOTA
Traill, ND | 35480 | 35 | North Dakota | 35 | NORTH DAKOTA
Walsh, ND | 35490 | 35 | North Dakota | 35 | NORTH DAKOTA
Ward, ND | 35500 | 35 | North Dakota | 35 | NORTH DAKOTA
Wells, ND | 35510 | 35 | North Dakota | 35 | NORTH DAKOTA
Williams, ND | 35520 | 35 | North Dakota | 35 | NORTH DAKOTA
Adams, OH | 36000 | 36 | Ohio | 36 | OHIO
Allen, OH | 36010 | 30620 | Lima, OH | 4320 | LIMA, OH
Ashland, OH | 36020 | 36 | Ohio | 36 | OHIO
Ashtabula, OH | 36030 | 36 | Ohio | 1680 | CLEVELAND-LORAIN-ELYRIA, OH
Athens, OH | 36040 | 36 | Ohio | 36 | OHIO
Auglaize, OH | 36050 | 36 | Ohio | 4320 | LIMA, OH
Belmont, OH | 36060 | 48540 | Wheeling, WV-OH | 9000 | WHEELING, WV-OH
Brown, OH | 36070 | 17140 | Cincinnati-Middletown, OH-KY-IN | 1640 | CINCINNATI, OH-KY-IN
Butler, OH | 36080 | 17140 | Cincinnati-Middletown, OH-KY-IN | 3200 | HAMILTON-MIDDLETOWN, OH
Carroll, OH | 36090 | 15940 | Canton-Massillon, OH | 1320 | CANTON-MASSILLON, OH
Champaign, OH | 36100 | 36 | Ohio | 36 | OHIO
Clark, OH | 36110 | 44220 | Springfield, OH | 2000 | DAYTON-SPRINGFIELD, OH
Clermont, OH | 36120 | 17140 | Cincinnati-Middletown, OH-KY-IN | 1640 | CINCINNATI, OH-KY-IN
Clinton, OH | 36130 | 36 | Ohio | 36 | OHIO
Columbiana, OH | 36140 | 36 | Ohio | 9320 | YOUNGSTOWN-WARREN, OH
Coshocton, OH | 36150 | 36 | Ohio | 36 | OHIO
Crawford, OH | 36160 | 36 | Ohio | 4800 | MANSFIELD, OH
Cuyahoga, OH | 36170 | 17460 | Cleveland-Elyria-Mentor, OH | 1680 | CLEVELAND-LORAIN-ELYRIA, OH
Darke, OH | 36190 | 36 | Ohio | 36 | OHIO
Defiance, OH | 36200 | 36 | Ohio | 36 | OHIO
Delaware, OH | 36210 | 18140 | Columbus, OH | 1840 | COLUMBUS, OH
Erie, OH | 36220 | 41780 | Sandusky, OH | 36 | OHIO
Fairfield, OH | 36230 | 18140 | Columbus, OH | 1840 | COLUMBUS, OH
Fayette, OH | 36240 | 36 | Ohio | 36 | OHIO
Franklin, OH | 36250 | 18140 | Columbus, OH | 1840 | COLUMBUS, OH
Fulton, OH | 36260 | 45780 | Toledo, OH | 8400 | TOLEDO, OH
Gallia, OH | 36270 | 36 | Ohio | 36 | OHIO
Geauga, OH | 36280 | 17460 | Cleveland-Elyria-Mentor, OH | 1680 | CLEVELAND-LORAIN-ELYRIA, OH
Greene, OH | 36290 | 19380 | Dayton, OH | 2000 | DAYTON-SPRINGFIELD, OH
Guernsey, OH | 36300 | 36 | Ohio | 36 | OHIO
Hamilton, OH | 36310 | 17140 | Cincinnati-Middletown, OH-KY-IN | 1640 | CINCINNATI, OH-KY-IN
Hancock, OH | 36330 | 36 | Ohio | 36 | OHIO
Hardin, OH | 36340 | 36 | Ohio | 36 | OHIO
Harrison, OH | 36350 | 36 | Ohio | 36 | OHIO
Henry, OH | 36360 | 36 | Ohio | 36 | OHIO
Highland, OH | 36370 | 36 | Ohio | 36 | OHIO
Hocking, OH | 36380 | 36 | Ohio | 36 | OHIO
Holmes, OH | 36390 | 36 | Ohio | 36 | OHIO
Huron, OH | 36400 | 36 | Ohio | 36 | OHIO
Jackson, OH | 36410 | 36 | Ohio | 36 | OHIO
Jefferson, OH | 36420 | 48260 | Weirton-Steubenville, WV-OH | 8080 | STEUBENVILLE-WEIRTON, OH-WV
Knox, OH | 36430 | 36 | Ohio | 36 | OHIO
Lake, OH | 36440 | 17460 | Cleveland-Elyria-Mentor, OH | 1680 | CLEVELAND-LORAIN-ELYRIA, OH
Lawrence, OH | 36450 | 26580 | Huntington-Ashland, WV-KY-OH | 3400 | HUNTINGTON-ASHLAND, WV-KY-OH
Licking, OH | 36460 | 18140 | Columbus, OH | 1840 | COLUMBUS, OH
Logan, OH | 36470 | 36 | Ohio | 36 | OHIO
Lorain, OH | 36480 | 17460 | Cleveland-Elyria-Mentor, OH | 1680 | CLEVELAND-LORAIN-ELYRIA, OH
Lucas, OH | 36490 | 45780 | Toledo, OH | 8400 | TOLEDO, OH
Madison, OH | 36500 | 18140 | Columbus, OH | 1840 | COLUMBUS, OH
Mahoning, OH | 36510 | 49660 | Youngstown-Warren-Boardman, OH-PA | 9320 | YOUNGSTOWN-WARREN, OH
Marion, OH | 36520 | 36 | Ohio | 36 | OHIO
Medina, OH | 36530 | 17460 | Cleveland-Elyria-Mentor, OH | 1680 | CLEVELAND-LORAIN-ELYRIA, OH
Meigs, OH | 36540 | 36 | Ohio | 36 | OHIO
Mercer, OH | 36550 | 36 | Ohio | 36 | OHIO
Miami, OH | 36560 | 19380 | Dayton, OH | 2000 | DAYTON-SPRINGFIELD, OH
Monroe, OH | 36570 | 36 | Ohio | 36 | OHIO
Montgomery, OH | 36580 | 19380 | Dayton, OH | 2000 | DAYTON-SPRINGFIELD, OH
Morgan, OH | 36590 | 36 | Ohio | 36 | OHIO
Morrow, OH | 36600 | 18140 | Columbus, OH | 36 | OHIO
Muskingum, OH | 36610 | 36 | Ohio | 36 | OHIO
Noble, OH | 36620 | 36 | Ohio | 36 | OHIO
Ottawa, OH | 36630 | 45780 | Toledo, OH | 36 | OHIO
Paulding, OH | 36640 | 36 | Ohio | 36 | OHIO
Perry, OH | 36650 | 36 | Ohio | 36 | OHIO
Pickaway, OH | 36660 | 18140 | Columbus, OH | 1840 | COLUMBUS, OH
Pike, OH | 36670 | 36 | Ohio | 36 | OHIO
Portage, OH | 36680 | 10420 | Akron, OH | 0080 | AKRON, OH
Preble, OH | 36690 | 19380 | Dayton, OH | 36 | OHIO
Putnam, OH | 36700 | 36 | Ohio | 36 | OHIO
Richland, OH | 36710 | 31900 | Mansfield, OH | 4800 | MANSFIELD, OH
Ross, OH | 36720 | 36 | Ohio | 36 | OHIO
Sandusky, OH | 36730 | 36 | Ohio | 36 | OHIO
Scioto, OH | 36740 | 36 | Ohio | 36 | OHIO
Seneca, OH | 36750 | 36 | Ohio | 36 | OHIO
Shelby, OH | 36760 | 36 | Ohio | 36 | OHIO
Stark, OH | 36770 | 15940 | Canton-Massillon, OH | 1320 | CANTON-MASSILLON, OH
Statewide, OH | 36999 | 36 | Ohio | 36 | OHIO
Summit, OH | 36780 | 10420 | Akron, OH | 0080 | AKRON, OH
Trumbull, OH | 36790 | 49660 | Youngstown-Warren-Boardman, OH-PA | 9320 | YOUNGSTOWN-WARREN, OH
Tuscarawas, OH | 36800 | 36 | Ohio | 36 | OHIO
Union, OH | 36810 | 18140 | Columbus, OH | 36 | OHIO
Van Wert, OH | 36820 | 36 | Ohio | 36 | OHIO
Vinton, OH | 36830 | 36 | Ohio | 36 | OHIO
Warren, OH | 36840 | 17140 | Cincinnati-Middletown, OH-KY-IN | 1640 | CINCINNATI, OH-KY-IN
Washington, OH | 36850 | 37620 | Parkersburg-Marietta-Vienna, WV-OH | 6020 | PARKERSBURG-MARIETTA, WV-OH
Wayne, OH | 36860 | 36 | Ohio | 36 | OHIO
Williams, OH | 36870 | 36 | Ohio | 36 | OHIO
Wood, OH | 36880 | 45780 | Toledo, OH | 8400 | TOLEDO, OH
Wyandot, OH | 36890 | 36 | Ohio | 36 | OHIO
Adair, OK | 37000 | 37 | Oklahoma | 37 | OKLAHOMA
Alfalfa, OK | 37010 | 37 | Oklahoma | 37 | OKLAHOMA
Atoka, OK | 37020 | 37 | Oklahoma | 37 | OKLAHOMA
Beaver, OK | 37030 | 37 | Oklahoma | 37 | OKLAHOMA
Beckham, OK | 37040 | 37 | Oklahoma | 37 | OKLAHOMA
Blaine, OK | 37050 | 37 | Oklahoma | 37 | OKLAHOMA
Bryan, OK | 37060 | 37 | Oklahoma | 37 | OKLAHOMA
Caddo, OK | 37070 | 37 | Oklahoma | 37 | OKLAHOMA
Canadian, OK | 37080 | 36420 | Oklahoma City, OK | 5880 | OKLAHOMA CITY, OK
Carter, OK | 37090 | 37 | Oklahoma | 37 | OKLAHOMA
Cherokee, OK | 37100 | 37 | Oklahoma | 37 | OKLAHOMA
Choctaw, OK | 37110 | 37 | Oklahoma | 37 | OKLAHOMA
Cimarron, OK | 37120 | 37 | Oklahoma | 37 | OKLAHOMA
Cleveland, OK | 37130 | 36420 | Oklahoma City, OK | 5880 | OKLAHOMA CITY, OK
Coal, OK | 37140 | 37 | Oklahoma | 37 | OKLAHOMA
Comanche, OK | 37150 | 30020 | Lawton, OK | 4200 | LAWTON, OK
Cotton, OK | 37160 | 37 | Oklahoma | 37 | OKLAHOMA
Craig, OK | 37170 | 37 | Oklahoma | 37 | OKLAHOMA
Creek, OK | 37180 | 46140 | Tulsa, OK | 8560 | TULSA, OK
Custer, OK | 37190 | 37 | Oklahoma | 37 | OKLAHOMA
Delaware, OK | 37200 | 37 | Oklahoma | 37 | OKLAHOMA
Dewey, OK | 37210 | 37 | Oklahoma | 37 | OKLAHOMA
Ellis, OK | 37220 | 37 | Oklahoma | 37 | OKLAHOMA
Garfield, OK | 37230 | 37 | Oklahoma | 2340 | ENID, OK
Garvin, OK | 37240 | 37 | Oklahoma | 37 | OKLAHOMA
Grady, OK | 37250 | 36420 | Oklahoma City, OK | 37 | OKLAHOMA
Grant, OK | 37260 | 37 | Oklahoma | 37 | OKLAHOMA
Greer, OK | 37270 | 37 | Oklahoma | 37 | OKLAHOMA
Harmon, OK | 37280 | 37 | Oklahoma | 37 | OKLAHOMA
Harper, OK | 37290 | 37 | Oklahoma | 37 | OKLAHOMA
Haskell, OK | 37300 | 37 | Oklahoma | 37 | OKLAHOMA
Hughes, OK | 37310 | 37 | Oklahoma | 37 | OKLAHOMA
Jackson, OK | 37320 | 37 | Oklahoma | 37 | OKLAHOMA
Jefferson, OK | 37330 | 37 | Oklahoma | 37 | OKLAHOMA
Johnston, OK | 37340 | 37 | Oklahoma | 37 | OKLAHOMA
Kay, OK | 37350 | 37 | Oklahoma | 37 | OKLAHOMA
Kingfisher, OK | 37360 | 37 | Oklahoma | 37 | OKLAHOMA
Kiowa, OK | 37370 | 37 | Oklahoma | 37 | OKLAHOMA
Latimer, OK | 37380 | 37 | Oklahoma | 37 | OKLAHOMA
Le Flore, OK | 37390 | 22900 | Fort Smith, AR-OK | 37 | OKLAHOMA
Lincoln, OK | 37400 | 36420 | Oklahoma City, OK | 37 | OKLAHOMA
Logan, OK | 37410 | 36420 | Oklahoma City, OK | 5880 | OKLAHOMA CITY, OK
Love, OK | 37420 | 37 | Oklahoma | 37 | OKLAHOMA
Major, OK | 37460 | 37 | Oklahoma | 37 | OKLAHOMA
Marshall, OK | 37470 | 37 | Oklahoma | 37 | OKLAHOMA
Mayes, OK | 37480 | 37 | Oklahoma | 37 | OKLAHOMA
McClain, OK | 37430 | 36420 | Oklahoma City, OK | 5880 | OKLAHOMA CITY, OK
McCurtain, OK | 37440 | 37 | Oklahoma | 37 | OKLAHOMA
McIntosh, OK | 37450 | 37 | Oklahoma | 37 | OKLAHOMA
Murray, OK | 37490 | 37 | Oklahoma | 37 | OKLAHOMA
Muskogee, OK | 37500 | 37 | Oklahoma | 37 | OKLAHOMA
Noble, OK | 37510 | 37 | Oklahoma | 37 | OKLAHOMA
Nowata, OK | 37520 | 37 | Oklahoma | 37 | OKLAHOMA
Okfuskee, OK | 37530 | 37 | Oklahoma | 37 | OKLAHOMA
Oklahoma, OK | 37540 | 36420 | Oklahoma City, OK | 5880 | OKLAHOMA CITY, OK
Okmulgee, OK | 37550 | 46140 | Tulsa, OK | 37 | OKLAHOMA
Osage, OK | 37560 | 46140 | Tulsa, OK | 8560 | TULSA, OK
Ottawa, OK | 37570 | 37 | Oklahoma | 37 | OKLAHOMA
Pawnee, OK | 37580 | 46140 | Tulsa, OK | 37 | OKLAHOMA
Payne, OK | 37590 | 37 | Oklahoma | 37 | OKLAHOMA
Pittsburg, OK | 37600 | 37 | Oklahoma | 37 | OKLAHOMA
Pontotoc, OK | 37610 | 37 | Oklahoma | 37 | OKLAHOMA
Pottawatomie, OK | 37620 | 37 | Oklahoma | 5880 | OKLAHOMA CITY, OK
Pushmataha, OK | 37630 | 37 | Oklahoma | 37 | OKLAHOMA
Roger mills, OK | 37640 | 37 | Oklahoma | 37 | OKLAHOMA
Rogers, OK | 37650 | 46140 | Tulsa, OK | 8560 | TULSA, OK
Seminole, OK | 37660 | 37 | Oklahoma | 37 | OKLAHOMA
Sequoyah, OK | 37670 | 22900 | Fort Smith, AR-OK | 2720 | FORT SMITH, AR-OK
Statewide, OK | 37999 | 37 | Oklahoma | 37 | OKLAHOMA
Stephens, OK | 37680 | 37 | Oklahoma | 37 | OKLAHOMA
Texas, OK | 37690 | 37 | Oklahoma | 37 | OKLAHOMA
Tillman, OK | 37700 | 37 | Oklahoma | 37 | OKLAHOMA
Tulsa, OK | 37710 | 46140 | Tulsa, OK | 8560 | TULSA, OK
Wagoner, OK | 37720 | 46140 | Tulsa, OK | 8560 | TULSA, OK
Washington, OK | 37730 | 37 | Oklahoma | 37 | OKLAHOMA
Washita, OK | 37740 | 37 | Oklahoma | 37 | OKLAHOMA
Woods, OK | 37750 | 37 | Oklahoma | 37 | OKLAHOMA
Woodward, OK | 37760 | 37 | Oklahoma | 37 | OKLAHOMA
Baker, OR | 38000 | 38 | Oregon | 38 | OREGON
Benton, OR | 38010 | 18700 | Corvallis, OR | 1890 | CORVALLIS, OR
Clackamas, OR | 38020 | 38900 | Portland-Vancouver-Beaverton, OR-WA | 6440 | PORTLAND-VANCOUVER,OR-WA
Clatsop, OR | 38030 | 38 | Oregon | 38 | OREGON
Columbia, OR | 38040 | 38900 | Portland-Vancouver-Beaverton, OR-WA | 6440 | PORTLAND-VANCOUVER,OR-WA
Coos, OR | 38050 | 38 | Oregon | 38 | OREGON
Crook, OR | 38060 | 38 | Oregon | 38 | OREGON
Curry, OR | 38070 | 38 | Oregon | 38 | OREGON
Deschutes, OR | 38080 | 13460 | Bend, OR | 38 | OREGON
Douglas, OR | 38090 | 38 | Oregon | 38 | OREGON
Gilliam, OR | 38100 | 38 | Oregon | 38 | OREGON
Grant, OR | 38110 | 38 | Oregon | 38 | OREGON
Harney, OR | 38120 | 38 | Oregon | 38 | OREGON
Hood River, OR | 38130 | 38 | Oregon | 38 | OREGON
Jackson, OR | 38140 | 32780 | Medford, OR | 4890 | MEDFORD-ASHLAND, OR
Jefferson, OR | 38150 | 38 | Oregon | 38 | OREGON
Josephine, OR | 38160 | 38 | Oregon | 38 | OREGON
Klamath, OR | 38170 | 38 | Oregon | 38 | OREGON
Lake, OR | 38180 | 38 | Oregon | 38 | OREGON
Lane, OR | 38190 | 21660 | Eugene-Springfield, OR | 2400 | EUGENE-SPRINGFIELD, OR
Lincoln, OR | 38200 | 38 | Oregon | 38 | OREGON
Linn, OR | 38210 | 38 | Oregon | 38 | OREGON
Malheur, OR | 38220 | 38 | Oregon | 38 | OREGON
Marion, OR | 38230 | 41420 | Salem, OR | 7080 | SALEM, OR
Morrow, OR | 38240 | 38 | Oregon | 38 | OREGON
Multnomah, OR | 38250 | 38900 | Portland-Vancouver-Beaverton, OR-WA | 6440 | PORTLAND-VANCOUVER,OR-WA
Polk, OR | 38260 | 41420 | Salem, OR | 7080 | SALEM, OR
Sherman, OR | 38270 | 38 | Oregon | 38 | OREGON
Statewide, OR | 38999 | 38 | Oregon | 38 | OREGON
Tillamook, OR | 38280 | 38 | Oregon | 38 | OREGON
Umatilla, OR | 38290 | 38 | Oregon | 38 | OREGON
Union, OR | 38300 | 38 | Oregon | 38 | OREGON
Wallowa, OR | 38310 | 38 | Oregon | 38 | OREGON
Wasco, OR | 38320 | 38 | Oregon | 38 | OREGON
Washington, OR | 38330 | 38900 | Portland-Vancouver-Beaverton, OR-WA | 6440 | PORTLAND-VANCOUVER, OR-WA
Wheeler, OR | 38340 | 38 | Oregon | 38 | OREGON
Yamhill, OR | 38350 | 38900 | Portland-Vancouver-Beaverton, OR-WA | 6440 | PORTLAND-VANCOUVER, OR-WA
Adams, PA | 39000 | 39 | Pennsylvania | 39 | PENNSYLVANIA
Allegheny, PA | 39010 | 38300 | Pittsburgh, PA | 6280 | PITTSBURGH, PA
Armstrong, PA | 39070 | 38300 | Pittsburgh, PA | 39 | PENNSYLVANIA
Beaver, PA | 39080 | 38300 | Pittsburgh, PA | 6280 | PITTSBURGH, PA
Bedford, PA | 39100 | 39 | Pennsylvania | 39 | PENNSYLVANIA
Berks, PA | 39110 | 39740 | Reading, PA | 6680 | READING, PA
Blair, PA | 39120 | 11020 | Altoona, PA | 0280 | ALTOONA, PA
Bradford, PA | 39130 | 39 | Pennsylvania | 39 | PENNSYLVANIA
Bucks, PA | 39140 | 37964 | Philadelphia, PA | 6160 | PHILADELPHIA, PA-NJ
Butler, PA | 39150 | 38300 | Pittsburgh, PA | 6280 | PITTSBURGH, PA
Cambria, PA | 39160 | 27780 | Johnstown, PA | 3680 | JOHNSTOWN, PA
Cameron, PA | 39180 | 39 | Pennsylvania | 39 | PENNSYLVANIA
Carbon, PA | 39190 | 10900 | Allentown-Bethlehem-Easton, PA-NJ | 0240 | ALLENTOWN-BETHLEHEM-EASTON, PA
Centre, PA | 39200 | 44300 | State College, PA | 8050 | STATE COLLEGE, PA
Chester, PA | 39210 | 37964 | Philadelphia, PA | 6160 | PHILADELPHIA, PA-NJ
Clarion, PA | 39220 | 39 | Pennsylvania | 39 | PENNSYLVANIA
Clearfield, PA | 39230 | 39 | Pennsylvania | 39 | PENNSYLVANIA
Clinton, PA | 39240 | 39 | Pennsylvania | 39 | PENNSYLVANIA
Columbia, PA | 39250 | 39 | Pennsylvania | 7560 | SCRANTON-WILKES-BARRE-HAZLETON, PA
Crawford, PA | 39260 | 39 | Pennsylvania | 39 | PENNSYLVANIA
Cumberland, PA | 39270 | 25420 | Harrisburg-Carlisle, PA | 3240 | HARRISBURG-LEBANON-CARLISLE, PA
Dauphin, PA | 39280 | 25420 | Harrisburg-Carlisle, PA | 3240 | HARRISBURG-LEBANON-CARLISLE, PA
Delaware, PA | 39290 | 37964 | Philadelphia, PA | 6160 | PHILADELPHIA, PA-NJ
Elk, PA | 39310 | 39 | Pennsylvania | 39 | PENNSYLVANIA
Erie, PA | 39320 | 21500 | Erie, PA | 2360 | ERIE, PA
Fayette, PA | 39330 | 38300 | Pittsburgh, PA | 6280 | PITTSBURGH, PA
Forest, PA | 39340 | 39 | Pennsylvania | 39 | PENNSYLVANIA
Franklin, PA | 39350 | 39 | Pennsylvania | 39 | PENNSYLVANIA
Fulton, PA | 39360 | 39 | Pennsylvania | 39 | PENNSYLVANIA
Greene, PA | 39370 | 39 | Pennsylvania | 39 | PENNSYLVANIA
Huntingdon, PA | 39380 | 39 | Pennsylvania | 39 | PENNSYLVANIA
Indiana, PA | 39390 | 39 | Pennsylvania | 39 | PENNSYLVANIA
Jefferson, PA | 39400 | 39 | Pennsylvania | 39 | PENNSYLVANIA
Juniata, PA | 39410 | 39 | Pennsylvania | 39 | PENNSYLVANIA
Lackawanna, PA | 39420 | 42540 | Scranton—Wilkes-Barre, PA | 7560 | SCRANTON-WILKES-BARRE-HAZLETON, PA
Lancaster, PA | 39440 | 29540 | Lancaster, PA | 4000 | LANCASTER, PA
Lawrence, PA | 39450 | 39 | Pennsylvania | 39 | PENNSYLVANIA
Lebanon, PA | 39460 | 30140 | Lebanon, PA | 3240 | HARRISBURG-LEBANON-CARLISLE, PA
Lehigh, PA | 39470 | 10900 | Allentown-Bethlehem-Easton, PA-NJ | 0240 | ALLENTOWN-BETHLEHEM-EASTON, PA
Luzerne, PA | 39480 | 42540 | Scranton--Wilkes-Barre, PA | 7560 | SCRANTON-WILKES-BARRE-HAZLETON, PA
Lycoming, PA | 39510 | 48700 | Williamsport, PA | 9140 | WILLIAMSPORT, PA
McKean, PA | 39520 | 39 | Pennsylvania | 39 | PENNSYLVANIA
Mercer, PA | 39530 | 49660 | Youngstown-Warren-Boardman, OH-PA | 7610 | SHARON, PA
Mifflin, PA | 39540 | 39 | Pennsylvania | 39 | PENNSYLVANIA
Monroe, PA | 39550 | 39 | Pennsylvania | 39 | PENNSYLVANIA
Montgomery, PA | 39560 | 37964 | Philadelphia, PA | 6160 | PHILADELPHIA, PA-NJ
Montour, PA | 39580 | 39 | Pennsylvania | 39 | PENNSYLVANIA
Northampton, PA | 39590 | 10900 | Allentown-Bethlehem-Easton, PA-NJ | 0240 | ALLENTOWN-BETHLEHEM-EASTON, PA
Northumberland, PA | 39600 | 39 | Pennsylvania | 39 | PENNSYLVANIA
Perry, PA | 39610 | 25420 | Harrisburg-Carlisle, PA | 3240 | HARRISBURG-LEBANON-CARLISLE, PA
Philadelphia, PA | 39620 | 37964 | Philadelphia, PA | 6160 | PHILADELPHIA, PA-NJ
Pike, PA | 39630 | 35084 | Newark-Union, NJ-PA | 5660 | NEWBURGH, NY-PA
Potter, PA | 39640 | 39 | Pennsylvania | 39 | PENNSYLVANIA
Schuylkill, PA | 39650 | 39 | Pennsylvania | 39 | PENNSYLVANIA
Snyder, PA | 39670 | 39 | Pennsylvania | 39 | PENNSYLVANIA
Somerset, PA | 39680 | 39 | Pennsylvania | 3680 | JOHNSTOWN, PA
Statewide, PA | 39999 | 39 | Pennsylvania | 39 | PENNSYLVANIA
Sullivan, PA | 39690 | 39 | Pennsylvania | 39 | PENNSYLVANIA
Susquehanna, PA | 39700 | 39 | Pennsylvania | 39 | PENNSYLVANIA
Tioga, PA | 39710 | 39 | Pennsylvania | 39 | PENNSYLVANIA
Union, PA | 39720 | 39 | Pennsylvania | 39 | PENNSYLVANIA
Venango, PA | 39730 | 39 | Pennsylvania | 39 | PENNSYLVANIA
Warren, PA | 39740 | 39 | Pennsylvania | 39 | PENNSYLVANIA
Washington, PA | 39750 | 38300 | Pittsburgh, PA | 6280 | PITTSBURGH, PA
Wayne, PA | 39760 | 39 | Pennsylvania | 39 | PENNSYLVANIA
Westmoreland, PA | 39770 | 38300 | Pittsburgh, PA | 6280 | PITTSBURGH, PA
Wyoming, PA | 39790 | 42540 | Scranton—Wilkes-Barre, PA | 7560 | SCRANTON-WILKES-BARRE-HAZLETON, PA
York, PA | 39800 | 49620 | York-Hanover, PA | 9280 | YORK, PA
Adjuntas, PR | 40010 | 40 | Puerto Rico | 40 | PUERTO RICO
Aguada, PR | 40020 | 10380 | Aguadilla-Isabela-San Sebastián, PR | 0060 | AGUADILLA, PR
Aguadilla, PR | 40030 | 10380 | Aguadilla-Isabela-San Sebastián, PR | 0060 | AGUADILLA, PR
Aguas Buenas, PR | 40040 | 41980 | San Juan-Caguas-Guaynabo, PR | 7440 | SAN JUAN-BAYAMON, PR
Aibonito, PR | 40050 | 41980 | San Juan-Caguas-Guaynabo, PR | 40 | PUERTO RICO
Anasco, PR | 40060 | 10380 | Aguadilla-Isabela-San Sebastián, PR | 4840 | MAYAGUEZ, PR
Arecibo, PR | 40070 | 41980 | San Juan-Caguas-Guaynabo, PR | 0470 | ARECIBO, PR
Arroyo, PR | 40080 | 25020 | Guayama, PR | 40 | PUERTO RICO
Barceloneta, PR | 40090 | 41980 | San Juan-Caguas-Guaynabo, PR | 7440 | SAN JUAN-BAYAMON, PR
Barranquitas, PR | 40100 | 41980 | San Juan-Caguas-Guaynabo, PR | 40 | PUERTO RICO
Bayamon, PR | 40110 | 41980 | San Juan-Caguas-Guaynabo, PR | 7440 | SAN JUAN-BAYAMON, PR
Cabo Rojo, PR | 40120 | 41900 | San Germán-Cabo Rojo, PR | 4840 | MAYAGUEZ, PR
Caguas, PR | 40130 | 41980 | San Juan-Caguas-Guaynabo, PR | 1310 | CAGUAS, PR
Camuy, PR | 40140 | 41980 | San Juan-Caguas-Guaynabo, PR | 0470 | ARECIBO, PR
Canóvanas, PR | 40145 | 41980 | San Juan-Caguas-Guaynabo, PR | 7440 | SAN JUAN-BAYAMON, PR
Carolina, PR | 40150 | 41980 | San Juan-Caguas-Guaynabo, PR | 7440 | SAN JUAN-BAYAMON, PR
Cataóo, PR | 40160 | 41980 | San Juan-Caguas-Guaynabo, PR | 7440 | SAN JUAN-BAYAMON, PR
Cayey, PR | 40170 | 41980 | San Juan-Caguas-Guaynabo, PR | 1310 | CAGUAS, PR
Ceiba, PR | 40180 | 21940 | Fajardo, PR | 7440 | SAN JUAN-BAYAMON, PR
Ciales, PR | 40190 | 41980 | San Juan-Caguas-Guaynabo, PR | 40 | PUERTO RICO
Cidra, PR | 40200 | 41980 | San Juan-Caguas-Guaynabo, PR | 1310 | CAGUAS, PR
Coamo, PR | 40210 | 40 | Puerto Rico | 40 | PUERTO RICO
Comerio, PR | 40220 | 41980 | San Juan-Caguas-Guaynabo, PR | 7440 | SAN JUAN-BAYAMON, PR
Corozal, PR | 40230 | 41980 | San Juan-Caguas-Guaynabo, PR | 7440 | SAN JUAN-BAYAMON, PR
Culebra, PR | 40240 | 40 | Puerto Rico | 40 | PUERTO RICO
Dorado, PR | 40250 | 41980 | San Juan-Caguas-Guaynabo, PR | 7440 | SAN JUAN-BAYAMON, PR
Fajardo, PR | 40260 | 21940 | Fajardo, PR | 7440 | SAN JUAN-BAYAMON, PR
Florida, PR | 40265 | 41980 | San Juan-Caguas-Guaynabo, PR | 7440 | SAN JUAN-BAYAMON, PR
Guánica, PR | 40270 | 49500 | Yauco, PR | 40 | PUERTO RICO
Guayama, PR | 40280 | 25020 | Guayama, PR | 40 | PUERTO RICO
Guayanilla, PR | 40290 | 49500 | Yauco, PR | 6360 | PONCE, PR
Guaynabo, PR | 40300 | 41980 | San Juan-Caguas-Guaynabo, PR | 7440 | SAN JUAN-BAYAMON, PR
Gurabo, PR | 40310 | 41980 | San Juan-Caguas-Guaynabo, PR | 1310 | CAGUAS, PR
Hatillo, PR | 40320 | 41980 | San Juan-Caguas-Guaynabo, PR | 0470 | ARECIBO, PR
Hormigueros, PR | 40330 | 32420 | Mayagnez, PR | 4840 | MAYAGUEZ, PR
Humacao, PR | 40340 | 41980 | San Juan-Caguas-Guaynabo, PR | 7440 | SAN JUAN-BAYAMON, PR
Isabela, PR | 40350 | 10380 | Aguadilla-Isabela-San Sebastián, PR | 40 | PUERTO RICO
Jayuya, PR | 40360 | 40 | Puerto Rico | 40 | PUERTO RICO
Juana Diaz, PR | 40370 | 38660 | Ponce, PR | 6360 | PONCE, PR
Juncos, PR | 40380 | 41980 | San Juan-Caguas-Guaynabo, PR | 7440 | SAN JUAN-BAYAMON, PR
Lajas, PR | 40390 | 41900 | San Germán-Cabo Rojo, PR | 40 | PUERTO RICO
Lares, PR | 40400 | 10380 | Aguadilla-Isabela-San Sebastián, PR | 40 | PUERTO RICO
Las Marias, PR | 40410 | 40 | Puerto Rico | 40 | PUERTO RICO
Las Piedras, PR | 40420 | 41980 | San Juan-Caguas-Guaynabo, PR | 7440 | SAN JUAN-BAYAMON, PR
Loiza, PR | 40430 | 41980 | San Juan-Caguas-Guaynabo, PR | 7440 | SAN JUAN-BAYAMON, PR
Luquillo, PR | 40440 | 21940 | Fajardo, PR | 7440 | SAN JUAN-BAYAMON, PR
Maguabo, PR | 40510 | 41980 | San Juan-Caguas-Guaynabo, PR | 7440 | SAN JUAN-BAYAMON, PR
Manatí, PR | 40450 | 41980 | San Juan-Caguas-Guaynabo, PR | 7440 | SAN JUAN-BAYAMON, PR
Maricao, PR | 40460 | 40 | Puerto Rico | 40 | PUERTO RICO
Maunabo, PR | 40470 | 41980 | San Juan-Caguas-Guaynabo, PR | 40 | PUERTO RICO
Mayaguez, PR | 40480 | 32420 | Mayagnez, PR | 4840 | MAYAGUEZ, PR
Moca, PR | 40490 | 10380 | Aguadilla-Isabela-San Sebastián, PR | 0060 | AGUADILLA, PR
Morovis, PR | 40500 | 41980 | San Juan-Caguas-Guaynabo, PR | 7440 | SAN JUAN-BAYAMON, PR
Naranjito, PR | 40520 | 41980 | San Juan-Caguas-Guaynabo, PR | 7440 | SAN JUAN-BAYAMON, PR
Orocovis, PR | 40530 | 41980 | San Juan-Caguas-Guaynabo, PR | 40 | PUERTO RICO
Patillas, PR | 40540 | 25020 | Guayama, PR | 40 | PUERTO RICO
Penuelas, PR | 40550 | 49500 | Yauco, PR | 6360 | PONCE, PR
Ponce, PR | 40560 | 38660 | Ponce, PR | 6360 | PONCE, PR
Puerto Rico, NFD, PR | 40999 | 40 | Puerto Rico | 40 | PUERTO RICO
Quebradillas, PR | 40570 | 41980 | San Juan-Caguas-Guaynabo, PR | 40 | PUERTO RICO
Rincon, PR | 40580 | 10380 | Aguadilla-Isabela-San Sebastián, PR | 40 | PUERTO RICO
Rio Grande, PR | 40590 | 41980 | San Juan-Caguas-Guaynabo, PR | 7440 | SAN JUAN-BAYAMON, PR
Sabana Grande, PR | 40610 | 41900 | San Germán-Cabo Rojo, PR | 4840 | MAYAGUEZ, PR
Salinas, PR | 40620 | 40 | Puerto Rico | 40 | PUERTO RICO
San German, PR | 40630 | 41900 | San Germán-Cabo Rojo, PR | 4840 | MAYAGUEZ, PR
San Juan, PR | 40640 | 41980 | San Juan-Caguas-Guaynabo, PR | 7440 | SAN JUAN-BAYAMON, PR
San Lorenzo, PR | 40650 | 41980 | San Juan-Caguas-Guaynabo, PR | 1310 | CAGUAS, PR
San Sebastian, PR | 40660 | 10380 | Aguadilla-Isabela-San Sebastián, PR | 40 | PUERTO RICO
Santa Isabel, PR | 40670 | 40 | Puerto Rico | 40 | PUERTO RICO
Toa Alta, PR | 40680 | 41980 | San Juan-Caguas-Guaynabo, PR | 7440 | SAN JUAN-BAYAMON, PR
Toa Baja, PR | 40690 | 41980 | San Juan-Caguas-Guaynabo, PR | 7440 | SAN JUAN-BAYAMON, PR
Trujillo Alto, PR | 40700 | 41980 | San Juan-Caguas-Guaynabo, PR | 7440 | SAN JUAN-BAYAMON, PR
Utuado, PR | 40710 | 40 | Puerto Rico | 40 | PUERTO RICO
Vega Alta, PR | 40720 | 41980 | San Juan-Caguas-Guaynabo, PR | 7440 | SAN JUAN-BAYAMON, PR
Vega Baja, PR | 40730 | 41980 | San Juan-Caguas-Guaynabo, PR | 7440 | SAN JUAN-BAYAMON, PR
Vieques, PR | 40740 | 40 | Puerto Rico | 40 | PUERTO RICO
Villalba, PR | 40750 | 38660 | Ponce, PR | 6360 | PONCE, PR
Yabucoa, PR | 40760 | 41980 | San Juan-Caguas-Guaynabo, PR | 7440 | SAN JUAN-BAYAMON, PR
Yauco, PR | 40770 | 49500 | Yauco, PR | 6360 | PONCE, PR
Bristol, RI | 41000 | 39300 | Providence-New Bedford-Fall River, RI-MA | 6483 | PROVIDENCE-WARWICK-PAWTUCKET, RI
Kent, RI | 41010 | 39300 | Providence-New Bedford-Fall River, RI-MA | 6483 | PROVIDENCE-WARWICK-PAWTUCKET, RI
Newport, RI | 41020 | 39300 | Providence-New Bedford-Fall River, RI-MA | 6483 | PROVIDENCE-WARWICK-PAWTUCKET, RI
Providence, RI | 41030 | 39300 | Providence-New Bedford-Fall River, RI-MA | 6483 | PROVIDENCE-WARWICK-PAWTUCKET, RI
Statewide, RI | 41999 | 41 | Rhode Island | 6483 | PROVIDENCE-WARWICK-PAWTUCKET, RI
Washington, RI | 41050 | 39300 | Providence-New Bedford-Fall River, RI-MA | 6483 | PROVIDENCE-WARWICK-PAWTUCKET, RI
Abbeville, SC | 42000 | 42 | South Carolina | 42 | SOUTH CAROLINA
Aiken, SC | 42010 | 12260 | Augusta-Richmond County, GA-SC | 0600 | AUGUSTA-AIKEN, GA-SC
Allendale, SC | 42020 | 42 | South Carolina | 42 | SOUTH CAROLINA
Anderson, SC | 42030 | 11340 | Anderson, SC | 3160 | GREENVILLE-SPARTANBURG-ANDERSON, SC
Bamberg, SC | 42040 | 42 | South Carolina | 42 | SOUTH CAROLINA
Barnwell, SC | 42050 | 42 | South Carolina | 42 | SOUTH CAROLINA
Beaufort, SC | 42060 | 42 | South Carolina | 42 | SOUTH CAROLINA
Berkeley, SC | 42070 | 16700 | Charleston-North Charleston, SC | 1440 | CHARLESTON-NORTH CHARLESTON, SC
Calhoun, SC | 42080 | 17900 | Columbia, SC | 42 | SOUTH CAROLINA
Charleston, SC | 42090 | 16700 | Charleston-North Charleston, SC | 1440 | CHARLESTON-NORTH CHARLESTON, SC
Cherokee, SC | 42100 | 42 | South Carolina | 3160 | GREENVILLE-SPARTANBURG-ANDERSON, SC
Chester, SC | 42110 | 42 | South Carolina | 42 | SOUTH CAROLINA
Chesterfield, SC | 42120 | 42 | South Carolina | 42 | SOUTH CAROLINA
Clarendon, SC | 42130 | 42 | South Carolina | 42 | SOUTH CAROLINA
Colleton, SC | 42140 | 42 | South Carolina | 42 | SOUTH CAROLINA
Darlington, SC | 42150 | 22500 | Florence, SC | 42 | SOUTH CAROLINA
Dillon, SC | 42160 | 42 | South Carolina | 42 | SOUTH CAROLINA
Dorchester, SC | 42170 | 16700 | Charleston-North Charleston, SC | 1440 | CHARLESTON-NORTH CHARLESTON, SC
Edgefield, SC | 42180 | 12260 | Augusta-Richmond County, GA-SC | 0600 | AUGUSTA-AIKEN, GA-SC
Fairfield, SC | 42190 | 17900 | Columbia, SC | 42 | SOUTH CAROLINA
Florence, SC | 42200 | 22500 | Florence, SC | 2655 | FLORENCE, SC
Georgetown, SC | 42210 | 42 | South Carolina | 42 | SOUTH CAROLINA
Greenville, SC | 42220 | 24860 | Greenville, SC | 3160 | GREENVILLE-SPARTANBURG-ANDERSON, SC
Greenwood, SC | 42230 | 42 | South Carolina | 42 | SOUTH CAROLINA
Hampton, SC | 42240 | 42 | South Carolina | 42 | SOUTH CAROLINA
Horry, SC | 42250 | 34820 | Myrtle Beach-Conway-North Myrtle Beach, SC | 5330 | MYRTLE BEACH, SC
Jasper, SC | 42260 | 42 | South Carolina | 42 | SOUTH CAROLINA
Kershaw, SC | 42270 | 17900 | Columbia, SC | 42 | SOUTH CAROLINA
Lancaster, SC | 42280 | 42 | South Carolina | 42 | SOUTH CAROLINA
Laurens, SC | 42290 | 24860 | Greenville, SC | 42 | SOUTH CAROLINA
Lee, SC | 42300 | 42 | South Carolina | 42 | SOUTH CAROLINA
Lexington, SC | 42310 | 17900 | Columbia, SC | 1760 | COLUMBIA, SC
Marion, SC | 42330 | 42 | South Carolina | 42 | SOUTH CAROLINA
Marlboro, SC | 42340 | 42 | South Carolina | 42 | SOUTH CAROLINA
McCormick, SC | 42320 | 42 | South Carolina | 42 | SOUTH CAROLINA
Newberry, SC | 42350 | 42 | South Carolina | 42 | SOUTH CAROLINA
Oconee, SC | 42360 | 42 | South Carolina | 42 | SOUTH CAROLINA
Orangeburg, SC | 42370 | 42 | South Carolina | 42 | SOUTH CAROLINA
Pickens, SC | 42380 | 24860 | Greenville, SC | 3160 | GREENVILLE-SPARTANBURG-ANDERSON, SC
Richland, SC | 42390 | 17900 | Columbia, SC | 1760 | COLUMBIA, SC
Saluda, SC | 42400 | 17900 | Columbia, SC | 42 | SOUTH CAROLINA
Spartanburg, SC | 42410 | 43900 | Spartanburg, SC | 3160 | GREENVILLE-SPARTANBURG-ANDERSON, SC
Statewide, SC | 42999 | 42 | South Carolina | 42 | SOUTH CAROLINA
Sumter, SC | 42420 | 44940 | Sumter, SC | 8140 | SUMTER, SC
Union, SC | 42430 | 42 | South Carolina | 42 | SOUTH CAROLINA
Williamsburg, SC | 42440 | 42 | South Carolina | 42 | SOUTH CAROLINA
York, SC | 42450 | 16740 | Charlotte-Gastonia-Concord, NC-SC | 1520 | CHARLOTTE-GASTONIA-ROCK HILL, NC-SC
Aurora, SD | 43010 | 43 | South Dakota | 43 | SOUTH DAKOTA
Beadle, SD | 43020 | 43 | South Dakota | 43 | SOUTH DAKOTA
Bennett, SD | 43030 | 43 | South Dakota | 43 | SOUTH DAKOTA
Bon Homme, SD | 43040 | 43 | South Dakota | 43 | SOUTH DAKOTA
Brookings, SD | 43050 | 43 | South Dakota | 43 | SOUTH DAKOTA
Brown, SD | 43060 | 43 | South Dakota | 43 | SOUTH DAKOTA
Brule, SD | 43070 | 43 | South Dakota | 43 | SOUTH DAKOTA
Buffalo, SD | 43080 | 43 | South Dakota | 43 | SOUTH DAKOTA
Butte, SD | 43090 | 43 | South Dakota | 43 | SOUTH DAKOTA
Campbell, SD | 43100 | 43 | South Dakota | 43 | SOUTH DAKOTA
Charles Mix, SD | 43110 | 43 | South Dakota | 43 | SOUTH DAKOTA
Clark, SD | 43120 | 43 | South Dakota | 43 | SOUTH DAKOTA
Clay, SD | 43130 | 43 | South Dakota | 43 | SOUTH DAKOTA
Codington, SD | 43140 | 43 | South Dakota | 43 | SOUTH DAKOTA
Corson, SD | 43150 | 43 | South Dakota | 43 | SOUTH DAKOTA
Custer, SD | 43160 | 43 | South Dakota | 43 | SOUTH DAKOTA
Davison, SD | 43170 | 43 | South Dakota | 43 | SOUTH DAKOTA
Day, SD | 43180 | 43 | South Dakota | 43 | SOUTH DAKOTA
Deuel, SD | 43190 | 43 | South Dakota | 43 | SOUTH DAKOTA
Dewey, SD | 43200 | 43 | South Dakota | 43 | SOUTH DAKOTA
Douglas, SD | 43210 | 43 | South Dakota | 43 | SOUTH DAKOTA
Edmunds, SD | 43220 | 43 | South Dakota | 43 | SOUTH DAKOTA
Fall River, SD | 43230 | 43 | South Dakota | 43 | SOUTH DAKOTA
Faulk, SD | 43240 | 43 | South Dakota | 43 | SOUTH DAKOTA
Grant, SD | 43250 | 43 | South Dakota | 43 | SOUTH DAKOTA
Gregory, SD | 43260 | 43 | South Dakota | 43 | SOUTH DAKOTA
Haakon, SD | 43270 | 43 | South Dakota | 43 | SOUTH DAKOTA
Hamlin, SD | 43280 | 43 | South Dakota | 43 | SOUTH DAKOTA
Hand, SD | 43290 | 43 | South Dakota | 43 | SOUTH DAKOTA
Hanson, SD | 43300 | 43 | South Dakota | 43 | SOUTH DAKOTA
Harding, SD | 43310 | 43 | South Dakota | 43 | SOUTH DAKOTA
Hughes, SD | 43320 | 43 | South Dakota | 43 | SOUTH DAKOTA
Hutchinson, SD | 43330 | 43 | South Dakota | 43 | SOUTH DAKOTA
Hyde, SD | 43340 | 43 | South Dakota | 43 | SOUTH DAKOTA
Jackson, SD | 43350 | 43 | South Dakota | 43 | SOUTH DAKOTA
Jerauld, SD | 43360 | 43 | South Dakota | 43 | SOUTH DAKOTA
Jones, SD | 43370 | 43 | South Dakota | 43 | SOUTH DAKOTA
Kingsbury, SD | 43380 | 43 | South Dakota | 43 | SOUTH DAKOTA
Lake, SD | 43390 | 43 | South Dakota | 43 | SOUTH DAKOTA
Lawrence, SD | 43400 | 43 | South Dakota | 43 | SOUTH DAKOTA
Lincoln, SD | 43410 | 43620 | Sioux Falls, SD | 7760 | SIOUX FALLS, SD
Lyman, SD | 43420 | 43 | South Dakota | 43 | SOUTH DAKOTA
Marshall, SD | 43450 | 43 | South Dakota | 43 | SOUTH DAKOTA
McCook, SD | 43430 | 43620 | Sioux Falls, SD | 43 | SOUTH DAKOTA
McPherson, SD | 43440 | 43 | South Dakota | 43 | SOUTH DAKOTA
Meade, SD | 43460 | 39660 | Rapid City, SD | 43 | SOUTH DAKOTA
Mellette, SD | 43470 | 43 | South Dakota | 43 | SOUTH DAKOTA
Miner, SD | 43480 | 43 | South Dakota | 43 | SOUTH DAKOTA
Minnehaha, SD | 43490 | 43620 | Sioux Falls, SD | 7760 | SIOUX FALLS, SD
Moody, SD | 43500 | 43 | South Dakota | 43 | SOUTH DAKOTA
Pennington, SD | 43510 | 39660 | Rapid City, SD | 6660 | RAPID CITY, SD
Perkins, SD | 43520 | 43 | South Dakota | 43 | SOUTH DAKOTA
Potter, SD | 43530 | 43 | South Dakota | 43 | SOUTH DAKOTA
Roberts, SD | 43540 | 43 | South Dakota | 43 | SOUTH DAKOTA
Sanborn, SD | 43550 | 43 | South Dakota | 43 | SOUTH DAKOTA
Shannon, SD | 43560 | 43 | South Dakota | 43 | SOUTH DAKOTA
Spink, SD | 43570 | 43 | South Dakota | 43 | SOUTH DAKOTA
Stanley, SD | 43580 | 43 | South Dakota | 43 | SOUTH DAKOTA
Statewide, SD | 43999 | 43 | South Dakota | 43 | SOUTH DAKOTA
Sully, SD | 43590 | 43 | South Dakota | 43 | SOUTH DAKOTA
Todd, SD | 43600 | 43 | South Dakota | 43 | SOUTH DAKOTA
Tripp, SD | 43610 | 43 | South Dakota | 43 | SOUTH DAKOTA
Turner, SD | 43620 | 43620 | Sioux Falls, SD | 43 | SOUTH DAKOTA
Union, SD | 43630 | 43580 | Sioux City, IA-NE-SD | 43 | SOUTH DAKOTA
Walworth, SD | 43640 | 43 | South Dakota | 43 | SOUTH DAKOTA
Washabaugh, SD | 43650 | 43 | South Dakota | 43 | SOUTH DAKOTA
Yankton, SD | 43670 | 43 | South Dakota | 43 | SOUTH DAKOTA
Ziebach, SD | 43680 | 43 | South Dakota | 43 | SOUTH DAKOTA
Anderson, TN | 44000 | 28940 | Knoxville, TN | 3840 | KNOXVILLE, TN
Bedford, TN | 44010 | 44 | Tennessee | 44 | TENNESSEE
Benton, TN | 44020 | 44 | Tennessee | 44 | TENNESSEE
Bledsoe, TN | 44030 | 44 | Tennessee | 44 | TENNESSEE
Blount, TN | 44040 | 28940 | Knoxville, TN | 3840 | KNOXVILLE, TN
Bradley, TN | 44050 | 17420 | Cleveland, TN | 44 | TENNESSEE
Campbell, TN | 44060 | 44 | Tennessee | 44 | TENNESSEE
Cannon, TN | 44070 | 34980 | Nashville-Davidson--Murfreesboro, TN | 44 | TENNESSEE
Carroll, TN | 44080 | 44 | Tennessee | 44 | TENNESSEE
Carter, TN | 44090 | 27740 | Johnson City, TN | 3660 | JOHNSON CITY-KINGSPORT-BRISTOL, TN-VA
Cheatham, TN | 44100 | 34980 | Nashville-Davidson--Murfreesboro, TN | 5360 | NASHVILLE, TN
Chester, TN | 44110 | 27180 | Jackson, TN | 3580 | JACKSON, TN
Claiborne, TN | 44120 | 44 | Tennessee | 44 | TENNESSEE
Clay, TN | 44130 | 44 | Tennessee | 44 | TENNESSEE
Cocke, TN | 44140 | 44 | Tennessee | 44 | TENNESSEE
Coffee, TN | 44150 | 44 | Tennessee | 44 | TENNESSEE
Crockett, TN | 44160 | 44 | Tennessee | 44 | TENNESSEE
Cumberland, TN | 44170 | 44 | Tennessee | 44 | TENNESSEE
Davidson, TN | 44180 | 34980 | Nashville-Davidson--Murfreesboro, TN | 5360 | NASHVILLE, TN
De Kalb, TN | 44200 | 44 | Tennessee | 44 | TENNESSEE
Decatur, TN | 44190 | 44 | Tennessee | 44 | TENNESSEE
Dickson, TN | 44210 | 34980 | Nashville-Davidson--Murfreesboro, TN | 5360 | NASHVILLE, TN
Dyer, TN | 44220 | 44 | Tennessee | 44 | TENNESSEE
Fayette, TN | 44230 | 32820 | Memphis, TN-MS-AR | 4920 | MEMPHIS, TN-AR-MS
Fentress, TN | 44240 | 44 | Tennessee | 44 | TENNESSEE
Franklin, TN | 44250 | 44 | Tennessee | 44 | TENNESSEE
Gibson, TN | 44260 | 44 | Tennessee | 44 | TENNESSEE
Giles, TN | 44270 | 44 | Tennessee | 44 | TENNESSEE
Grainger, TN | 44280 | 34100 | Morristown, TN | 44 | TENNESSEE
Greene, TN | 44290 | 44 | Tennessee | 44 | TENNESSEE
Grundy, TN | 44300 | 44 | Tennessee | 44 | TENNESSEE
Hamblen, TN | 44310 | 34100 | Morristown, TN | 44 | TENNESSEE
Hamilton, TN | 44320 | 16860 | Chattanooga, TN-GA | 1560 | CHATTANOOGA, TN-GA
Hancock, TN | 44330 | 44 | Tennessee | 44 | TENNESSEE
Hardeman, TN | 44340 | 44 | Tennessee | 44 | TENNESSEE
Hardin, TN | 44350 | 44 | Tennessee | 44 | TENNESSEE
Hawkins, TN | 44360 | 28700 | Kingsport-Bristol-Bristol, TN-VA | 3660 | JOHNSON CITY-KINGSPORT-BRISTOL, TN-VA
Haywood, TN | 44370 | 44 | Tennessee | 44 | TENNESSEE
Henderson, TN | 44380 | 44 | Tennessee | 44 | TENNESSEE
Henry, TN | 44390 | 44 | Tennessee | 44 | TENNESSEE
Hickman, TN | 44400 | 34980 | Nashville-Davidson--Murfreesboro, TN | 44 | TENNESSEE
Houston, TN | 44410 | 44 | Tennessee | 44 | TENNESSEE
Humphreys, TN | 44420 | 44 | Tennessee | 44 | TENNESSEE
Jackson, TN | 44430 | 44 | Tennessee | 44 | TENNESSEE
Jefferson, TN | 44440 | 34100 | Morristown, TN | 44 | TENNESSEE
Johnson, TN | 44450 | 44 | Tennessee | 44 | TENNESSEE
Knox, TN | 44460 | 28940 | Knoxville, TN | 3840 | KNOXVILLE, TN
Lake, TN | 44470 | 44 | Tennessee | 44 | TENNESSEE
Lauderdale, TN | 44480 | 44 | Tennessee | 44 | TENNESSEE
Lawrence, TN | 44490 | 44 | Tennessee | 44 | TENNESSEE
Lewis, TN | 44500 | 44 | Tennessee | 44 | TENNESSEE
Lincoln, TN | 44510 | 44 | Tennessee | 44 | TENNESSEE
Loudon, TN | 44520 | 28940 | Knoxville, TN | 3840 | KNOXVILLE, TN
Macon, TN | 44550 | 34980 | Nashville-Davidson--Murfreesboro, TN | 44 | TENNESSEE
Madison, TN | 44560 | 27180 | Jackson, TN | 3580 | JACKSON, TN
Marion, TN | 44570 | 16860 | Chattanooga, TN-GA | 1560 | CHATTANOOGA, TN-GA
Marshall, TN | 44580 | 44 | Tennessee | 44 | TENNESSEE
Maury, TN | 44590 | 44 | Tennessee | 44 | TENNESSEE
McMinn, TN | 44530 | 44 | Tennessee | 44 | TENNESSEE
McNairy, TN | 44540 | 44 | Tennessee | 44 | TENNESSEE
Meigs, TN | 44600 | 44 | Tennessee | 44 | TENNESSEE
Monroe, TN | 44610 | 44 | Tennessee | 44 | TENNESSEE
Montgomery, TN | 44620 | 17300 | Clarksville, TN-KY | 1660 | CLARKSVILLE-HOPKINSVILLE, TN-KY
Moore, TN | 44630 | 44 | Tennessee | 44 | TENNESSEE
Morgan, TN | 44640 | 44 | Tennessee | 44 | TENNESSEE
Obion, TN | 44650 | 44 | Tennessee | 44 | TENNESSEE
Overton, TN | 44660 | 44 | Tennessee | 44 | TENNESSEE
Perry, TN | 44670 | 44 | Tennessee | 44 | TENNESSEE
Pickett, TN | 44680 | 44 | Tennessee | 44 | TENNESSEE
Polk, TN | 44690 | 17420 | Cleveland, TN | 44 | TENNESSEE
Putnam, TN | 44700 | 44 | Tennessee | 44 | TENNESSEE
Rhea, TN | 44710 | 44 | Tennessee | 44 | TENNESSEE
Roane, TN | 44720 | 44 | Tennessee | 44 | TENNESSEE
Robertson, TN | 44730 | 34980 | Nashville-Davidson--Murfreesboro, TN | 5360 | NASHVILLE, TN
Rutherford, TN | 44740 | 34980 | Nashville-Davidson--Murfreesboro, TN | 5360 | NASHVILLE, TN
Scott, TN | 44750 | 44 | Tennessee | 44 | TENNESSEE
Sequatchie, TN | 44760 | 16860 | Chattanooga, TN-GA | 44 | TENNESSEE
Sevier, TN | 44770 | 44 | Tennessee | 3840 | KNOXVILLE, TN
Shelby, TN | 44780 | 32820 | Memphis, TN-MS-AR | 4920 | MEMPHIS, TN-AR-MS
Smith, TN | 44790 | 34980 | Nashville-Davidson--Murfreesboro, TN | 44 | TENNESSEE
Statewide, TN | 44999 | 44 | Tennessee | 44 | TENNESSEE
Stewart, TN | 44800 | 17300 | Clarksville, TN-KY | 44 | TENNESSEE
Sullivan, TN | 44810 | 28700 | Kingsport-Bristol-Bristol, TN-VA | 3660 | JOHNSON CITY-KINGSPORT-BRISTOL, TN-VA
Sumner, TN | 44820 | 34980 | Nashville-Davidson--Murfreesboro, TN | 5360 | NASHVILLE, TN
Tipton, TN | 44830 | 32820 | Memphis, TN-MS-AR | 4920 | MEMPHIS, TN-AR-MS
Trousdale, TN | 44840 | 34980 | Nashville-Davidson--Murfreesboro, TN | 44 | TENNESSEE
Unicoi, TN | 44850 | 27740 | Johnson City, TN | 3660 | JOHNSON CITY-KINGSPORT-BRISTOL, TN-VA
Union, TN | 44860 | 28940 | Knoxville, TN | 3840 | KNOXVILLE, TN
Van Buren, TN | 44870 | 44 | Tennessee | 44 | TENNESSEE
Warren, TN | 44880 | 44 | Tennessee | 44 | TENNESSEE
Washington, TN | 44890 | 27740 | Johnson City, TN | 3660 | JOHNSON CITY-KINGSPORT-BRISTOL, TN-VA
Wayne, TN | 44900 | 44 | Tennessee | 44 | TENNESSEE
Weakley, TN | 44910 | 44 | Tennessee | 44 | TENNESSEE
White, TN | 44920 | 44 | Tennessee | 44 | TENNESSEE
Williamson, TN | 44930 | 34980 | Nashville-Davidson--Murfreesboro, TN | 5360 | NASHVILLE, TN
Wilson, TN | 44940 | 34980 | Nashville-Davidson--Murfreesboro, TN | 5360 | NASHVILLE, TN
Anderson, TX | 45000 | 45 | Texas | 45 | TEXAS
Andrews, TX | 45010 | 45 | Texas | 45 | TEXAS
Angelina, TX | 45020 | 45 | Texas | 45 | TEXAS
Aransas, TX | 45030 | 18580 | Corpus Christi, TX | 45 | TEXAS
Archer, TX | 45040 | 48660 | Wichita Falls, TX | 9080 | WICHITA FALLS, TX
Armstrong, TX | 45050 | 11100 | Amarillo, TX | 45 | TEXAS
Atascosa, TX | 45060 | 41700 | San Antonio, TX | 45 | TEXAS
Austin, TX | 45070 | 26420 | Houston-Sugar Land-Baytown, TX | 45 | TEXAS
Bailey, TX | 45080 | 45 | Texas | 45 | TEXAS
Bandera, TX | 45090 | 41700 | San Antonio, TX | 45 | TEXAS
Bastrop, TX | 45100 | 12420 | Austin-Round Rock, TX | 0640 | AUSTIN-SAN MARCOS, TX
Baylor, TX | 45110 | 45 | Texas | 45 | TEXAS
Bee, TX | 45113 | 45 | Texas | 45 | TEXAS
Bell, TX | 45120 | 28660 | Killeen-Temple-Fort Hood, TX | 3810 | KILLEEN-TEMPLE, TX
Bexar, TX | 45130 | 41700 | San Antonio, TX | 7240 | SAN ANTONIO, TX
Blanco, TX | 45140 | 45 | Texas | 45 | TEXAS
Borden, TX | 45150 | 45 | Texas | 45 | TEXAS
Bosque, TX | 45160 | 45 | Texas | 45 | TEXAS
Bowie, TX | 45170 | 45500 | Texarkana, TX-Texarkana, AR | 8360 | TEXARKANA, TX-TEXARKANA, AR
Brazoria, TX | 45180 | 26420 | Houston-Sugar Land-Baytown, TX | 1145 | BRAZORIA, TX
Brazos, TX | 45190 | 17780 | College Station-Bryan, TX | 1260 | BRYAN-COLLEGE STATION, TX
Brewster, TX | 45200 | 45 | Texas | 45 | TEXAS
Briscoe, TX | 45201 | 45 | Texas | 45 | TEXAS
Brooks, TX | 45210 | 45 | Texas | 45 | TEXAS
Brown, TX | 45220 | 45 | Texas | 45 | TEXAS
Burleson, TX | 45221 | 17780 | College Station-Bryan, TX | 45 | TEXAS
Burnet, TX | 45222 | 45 | Texas | 45 | TEXAS
Caldwell, TX | 45223 | 12420 | Austin-Round Rock, TX | 0640 | AUSTIN-SAN MARCOS, TX
Calhoun, TX | 45224 | 47020 | Victoria, TX | 45 | TEXAS
Callahan, TX | 45230 | 10180 | Abilene, TX | 45 | TEXAS
Cameron, TX | 45240 | 15180 | Brownsville-Harlingen, TX | 1240 | BROWNSVILLE-HARLINGEN-SAN BENITO, TX
Camp, TX | 45250 | 45 | Texas | 45 | TEXAS
Carson, TX | 45251 | 11100 | Amarillo, TX | 45 | TEXAS
Cass, TX | 45260 | 45 | Texas | 45 | TEXAS
Castro, TX | 45270 | 45 | Texas | 45 | TEXAS
Chambers, TX | 45280 | 26420 | Houston-Sugar Land-Baytown, TX | 3360 | HOUSTON, TX
Cherokee, TX | 45281 | 45 | Texas | 45 | TEXAS
Childress, TX | 45290 | 45 | Texas | 45 | TEXAS
Clay, TX | 45291 | 48660 | Wichita Falls, TX | 45 | TEXAS
Cochran, TX | 45292 | 45 | Texas | 45 | TEXAS
Coke, TX | 45300 | 45 | Texas | 45 | TEXAS
Coleman, TX | 45301 | 45 | Texas | 45 | TEXAS
Collin, TX | 45310 | 19124 | Dallas-Plano-Irving, TX | 1920 | DALLAS, TX
Collingsworth, TX | 45311 | 45 | Texas | 45 | TEXAS
Colorado, TX | 45312 | 45 | Texas | 45 | TEXAS
Comal, TX | 45320 | 41700 | San Antonio, TX | 7240 | SAN ANTONIO, TX
Comanche, TX | 45321 | 45 | Texas | 45 | TEXAS
Concho, TX | 45330 | 45 | Texas | 45 | TEXAS
Cooke, TX | 45340 | 45 | Texas | 45 | TEXAS
Coryell, TX | 45341 | 28660 | Killeen-Temple-Fort Hood, TX | 3810 | KILLEEN-TEMPLE, TX
Cottle, TX | 45350 | 45 | Texas | 45 | TEXAS
Crane, TX | 45360 | 45 | Texas | 45 | TEXAS
Crockett, TX | 45361 | 45 | Texas | 45 | TEXAS
Crosby, TX | 45362 | 31180 | Lubbock, TX | 45 | TEXAS
Culberson, TX | 45370 | 45 | Texas | 45 | TEXAS
Dallam, TX | 45380 | 45 | Texas | 45 | TEXAS
Dallas, TX | 45390 | 19124 | Dallas-Plano-Irving, TX | 1920 | DALLAS, TX
Dawson, TX | 45391 | 45 | Texas | 45 | TEXAS
De Witt, TX | 45420 | 45 | Texas | 45 | TEXAS
Deaf Smith, TX | 45392 | 45 | Texas | 45 | TEXAS
Delta, TX | 45400 | 19124 | Dallas-Plano-Irving, TX | 45 | TEXAS
Denton, TX | 45410 | 19124 | Dallas-Plano-Irving, TX | 1920 | DALLAS, TX
Dickens, TX | 45421 | 45 | Texas | 45 | TEXAS
Dimmit, TX | 45430 | 45 | Texas | 45 | TEXAS
Donley, TX | 45431 | 45 | Texas | 45 | TEXAS
Duval, TX | 45440 | 45 | Texas | 45 | TEXAS
Eastland, TX | 45450 | 45 | Texas | 45 | TEXAS
Ector, TX | 45451 | 36220 | Odessa, TX | 5800 | ODESSA-MIDLAND, TX
Edwards, TX | 45460 | 45 | Texas | 45 | TEXAS
El Paso, TX | 45480 | 21340 | El Paso, TX | 2320 | EL PASO, TX
Ellis, TX | 45470 | 19124 | Dallas-Plano-Irving, TX | 1920 | DALLAS, TX
Erath, TX | 45490 | 45 | Texas | 45 | TEXAS
Falls, TX | 45500 | 45 | Texas | 45 | TEXAS
Fannin, TX | 45510 | 45 | Texas | 45 | TEXAS
Fayette, TX | 45511 | 45 | Texas | 45 | TEXAS
Fisher, TX | 45520 | 45 | Texas | 45 | TEXAS
Floyd, TX | 45521 | 45 | Texas | 45 | TEXAS
Foard, TX | 45522 | 45 | Texas | 45 | TEXAS
Fort Bend, TX | 45530 | 26420 | Houston-Sugar Land-Baytown, TX | 3360 | HOUSTON, TX
Franklin, TX | 45531 | 45 | Texas | 45 | TEXAS
Freestone, TX | 45540 | 45 | Texas | 45 | TEXAS
Frio, TX | 45541 | 45 | Texas | 45 | TEXAS
Gaines, TX | 45542 | 45 | Texas | 45 | TEXAS
Galveston, TX | 45550 | 26420 | Houston-Sugar Land-Baytown, TX | 2920 | GALVESTON-TEXAS CITY, TX
Garza, TX | 45551 | 45 | Texas | 45 | TEXAS
Gillespie, TX | 45552 | 45 | Texas | 45 | TEXAS
Glasscock, TX | 45560 | 45 | Texas | 45 | TEXAS
Goliad, TX | 45561 | 47020 | Victoria, TX | 45 | TEXAS
Gonzales, TX | 45562 | 45 | Texas | 45 | TEXAS
Gray, TX | 45563 | 45 | Texas | 45 | TEXAS
Grayson, TX | 45564 | 43300 | Sherman-Denison, TX | 7640 | SHERMAN-DENISON, TX
Gregg, TX | 45570 | 30980 | Longview, TX | 4420 | LONGVIEW-MARSHALL, TX
Grimes, TX | 45580 | 45 | Texas | 45 | TEXAS
Guadalupe, TX | 45581 | 41700 | San Antonio, TX | 7240 | SAN ANTONIO, TX
Hale, TX | 45582 | 45 | Texas | 45 | TEXAS
Hall, TX | 45583 | 45 | Texas | 45 | TEXAS
Hamilton, TX | 45590 | 45 | Texas | 45 | TEXAS
Hansford, TX | 45591 | 45 | Texas | 45 | TEXAS
Hardeman, TX | 45592 | 45 | Texas | 45 | TEXAS
Hardin, TX | 45600 | 13140 | Beaumont-Port Arthur, TX | 0840 | BEAUMONT-PORT ARTHUR, TX
Harris, TX | 45610 | 26420 | Houston-Sugar Land-Baytown, TX | 3360 | HOUSTON, TX
Harrison, TX | 45620 | 45 | Texas | 4420 | LONGVIEW-MARSHALL, TX
Hartley, TX | 45621 | 45 | Texas | 45 | TEXAS
Haskell, TX | 45630 | 45 | Texas | 45 | TEXAS
Hays, TX | 45631 | 12420 | Austin-Round Rock, TX | 0640 | AUSTIN-SAN MARCOS, TX
Hemphill, TX | 45632 | 45 | Texas | 45 | TEXAS
Henderson, TX | 45640 | 45 | Texas | 1920 | DALLAS, TX
Hidalgo, TX | 45650 | 32580 | McAllen-Edinburg-Mission, TX | 4880 | MCALLEN-EDINBURG-MISSION, TX
Hill, TX | 45651 | 45 | Texas | 45 | TEXAS
Hockley, TX | 45652 | 45 | Texas | 45 | TEXAS
Hood, TX | 45653 | 45 | Texas | 2800 | FORT WORTH-ARLINGTON, TX
Hopkins, TX | 45654 | 45 | Texas | 45 | TEXAS
Houston, TX | 45660 | 45 | Texas | 45 | TEXAS
Howard, TX | 45661 | 45 | Texas | 45 | TEXAS
Hudspeth, TX | 45662 | 45 | Texas | 45 | TEXAS
Hunt, TX | 45670 | 19124 | Dallas-Plano-Irving, TX | 1920 | DALLAS, TX
Hutchinson, TX | 45671 | 45 | Texas | 45 | TEXAS
Irion, TX | 45672 | 41660 | San Angelo, TX | 45 | TEXAS
Jack, TX | 45680 | 45 | Texas | 45 | TEXAS
Jackson, TX | 45681 | 45 | Texas | 45 | TEXAS
Jasper, TX | 45690 | 45 | Texas | 45 | TEXAS
Jeff Davis, TX | 45691 | 45 | Texas | 45 | TEXAS
Jefferson, TX | 45700 | 13140 | Beaumont-Port Arthur, TX | 0840 | BEAUMONT-PORT ARTHUR, TX
Jim Hogg, TX | 45710 | 45 | Texas | 45 | TEXAS
Jim Wells, TX | 45711 | 45 | Texas | 45 | TEXAS
Johnson, TX | 45720 | 23104 | Fort Worth-Arlington, TX | 2800 | FORT WORTH-ARLINGTON, TX
Jones, TX | 45721 | 10180 | Abilene, TX | 45 | TEXAS
Karnes, TX | 45722 | 45 | Texas | 45 | TEXAS
Kaufman, TX | 45730 | 19124 | Dallas-Plano-Irving, TX | 1920 | DALLAS, TX
Kendall, TX | 45731 | 41700 | San Antonio, TX | 45 | TEXAS
Kenedy, TX | 45732 | 45 | Texas | 45 | TEXAS
Kent, TX | 45733 | 45 | Texas | 45 | TEXAS
Kerr, TX | 45734 | 45 | Texas | 45 | TEXAS
Kimble, TX | 45740 | 45 | Texas | 45 | TEXAS
King, TX | 45741 | 45 | Texas | 45 | TEXAS
Kinney, TX | 45742 | 45 | Texas | 45 | TEXAS
Kleberg, TX | 45743 | 45 | Texas | 45 | TEXAS
Knox, TX | 45744 | 45 | Texas | 45 | TEXAS
La Salle, TX | 45753 | 45 | Texas | 45 | TEXAS
Lamar, TX | 45750 | 45 | Texas | 45 | TEXAS
Lamb, TX | 45751 | 45 | Texas | 45 | TEXAS
Lampasas, TX | 45752 | 28660 | Killeen-Temple-Fort Hood, TX | 45 | TEXAS
Lavaca, TX | 45754 | 45 | Texas | 45 | TEXAS
Lee, TX | 45755 | 45 | Texas | 45 | TEXAS
Leon, TX | 45756 | 45 | Texas | 45 | TEXAS
Liberty, TX | 45757 | 26420 | Houston-Sugar Land-Baytown, TX | 3360 | HOUSTON, X
Limestone, TX | 45758 | 45 | Texas | 45 | TEXAS
Lipscomb, TX | 45759 | 45 | Texas | 45 | TEXAS
Live Oak, TX | 45760 | 45 | Texas | 45 | TEXAS
Llano, TX | 45761 | 45 | Texas | 45 | TEXAS
Loving, TX | 45762 | 45 | Texas | 45 | TEXAS
Lubbock, TX | 45770 | 31180 | Lubbock, TX | 4600 | LUBBOCK, TX
Lynn, TX | 45771 | 45 | Texas | 45 | TEXAS
Madison, TX | 45782 | 45 | Texas | 45 | TEXAS
Marion, TX | 45783 | 45 | Texas | 45 | TEXAS
Martin, TX | 45784 | 45 | Texas | 45 | TEXAS
Mason, TX | 45785 | 45 | Texas | 45 | TEXAS
Matagorda, TX | 45790 | 45 | Texas | 45 | TEXAS
Maverick, TX | 45791 | 45 | Texas | 45 | TEXAS
McCulloch, TX | 45772 | 45 | Texas | 45 | TEXAS
McLennan, TX | 45780 | 47380 | Waco, TX | 8800 | WACO, TX
McMullen, TX | 45781 | 45 | Texas | 45 | TEXAS
Medina, TX | 45792 | 41700 | San Antonio, TX | 45 | TEXAS
Menard, TX | 45793 | 45 | Texas | 45 | TEXAS
Midland, TX | 45794 | 33260 | Midland, TX | 5800 | ODESSA-MIDLAND, TX
Milam, TX | 45795 | 45 | Texas | 45 | TEXAS
Mills, TX | 45796 | 45 | Texas | 45 | TEXAS
Mitchell, TX | 45797 | 45 | Texas | 45 | TEXAS
Montague, TX | 45800 | 45 | Texas | 45 | TEXAS
Montgomery, TX | 45801 | 26420 | Houston-Sugar Land-Baytown, TX | 3360 | HOUSTON, TX
Moore, TX | 45802 | 45 | Texas | 45 | TEXAS
Morris, TX | 45803 | 45 | Texas | 45 | TEXAS
Motley, TX | 45804 | 45 | Texas | 45 | TEXAS
Nacogdoches, TX | 45810 | 45 | Texas | 45 | TEXAS
Navarro, TX | 45820 | 45 | Texas | 45 | TEXAS
Newton, TX | 45821 | 45 | Texas | 45 | TEXAS
Nolan, TX | 45822 | 45 | Texas | 45 | TEXAS
Nueces, TX | 45830 | 18580 | Corpus Christi, TX | 1880 | CORPUS CHRISTI, TX
Ochiltree, TX | 45831 | 45 | Texas | 45 | TEXAS
Oldham, TX | 45832 | 45 | Texas | 45 | TEXAS
Orange, TX | 45840 | 13140 | Beaumont-Port Arthur, TX | 0840 | BEAUMONT-PORT ARTHUR, TX
Palo Pinto, TX | 45841 | 45 | Texas | 45 | TEXAS
Panola, TX | 45842 | 45 | Texas | 45 | TEXAS
Parker, TX | 45843 | 23104 | Fort Worth-Arlington, TX | 2800 | FORT WORTH-ARLINGTON, TX
Parmer, TX | 45844 | 45 | Texas | 45 | TEXAS
Pecos, TX | 45845 | 45 | Texas | 45 | TEXAS
Polk, TX | 45850 | 45 | Texas | 45 | TEXAS
Potter, TX | 45860 | 11100 | Amarillo, TX | 0320 | AMARILLO, TX
Presidio, TX | 45861 | 45 | Texas | 45 | TEXAS
Rains, TX | 45870 | 45 | Texas | 45 | TEXAS
Randall, TX | 45871 | 11100 | Amarillo, TX | 0320 | AMARILLO, TX
Reagan, TX | 45872 | 45 | Texas | 45 | TEXAS
Real, TX | 45873 | 45 | Texas | 45 | TEXAS
Red River, TX | 45874 | 45 | Texas | 45 | TEXAS
Reeves, TX | 45875 | 45 | Texas | 45 | TEXAS
Refugio, TX | 45876 | 45 | Texas | 45 | TEXAS
Roberts, TX | 45877 | 45 | Texas | 45 | TEXAS
Robertson, TX | 45878 | 17780 | College Station-Bryan, TX | 45 | TEXAS
Rockwall, TX | 45879 | 19124 | Dallas-Plano-Irving, TX | 1920 | DALLAS, TX
Runnels, TX | 45880 | 45 | Texas | 45 | TEXAS
Rusk, TX | 45881 | 30980 | Longview, TX | 45 | TEXAS
Sabine, TX | 45882 | 45 | Texas | 45 | TEXAS
San Augustine, TX | 45883 | 45 | Texas | 45 | TEXAS
San Jacinto, TX | 45884 | 26420 | Houston-Sugar Land-Baytown, TX | 45 | TEXAS
San Natricio, TX | 45885 | 18580 | Corpus Christi, TX | 1880 | CORPUS CHRISTI, TX
San Saba, TX | 45886 | 45 | Texas | 45 | TEXAS
Schleicher, TX | 45887 | 45 | Texas | 45 | TEXAS
Scurry, TX | 45888 | 45 | Texas | 45 | TEXAS
Shackelford, TX | 45889 | 45 | Texas | 45 | TEXAS
Shelby, TX | 45890 | 45 | Texas | 45 | TEXAS
Sherman, TX | 45891 | 45 | Texas | 45 | TEXAS
Smith, TX | 45892 | 46340 | Tyler, TX | 8640 | TYLER, TX
Somervell, TX | 45893 | 45 | Texas | 45 | TEXAS
Starr, TX | 45900 | 45 | Texas | 45 | TEXAS
Statewide, TX | 45999 | 45 | Texas | 45 | TEXAS
Stephens, TX | 45901 | 45 | Texas | 45 | TEXAS
Sterling, TX | 45902 | 45 | Texas | 45 | TEXAS
Stonewall, TX | 45903 | 45 | Texas | 45 | TEXAS
Sutton, TX | 45904 | 45 | Texas | 45 | TEXAS
Swisher, TX | 45905 | 45 | Texas | 45 | TEXAS
Tarrant, TX | 45910 | 23104 | Fort Worth-Arlington, TX | 2800 | FORT WORTH-ARLINGTON, TX
Taylor, TX | 45911 | 10180 | Abilene, TX | 0040 | ABILENE, TX
Terrell, TX | 45912 | 45 | Texas | 45 | TEXAS
Terry, TX | 45913 | 45 | Texas | 45 | TEXAS
Throckmorton, TX | 45920 | 45 | Texas | 45 | TEXAS
Titus, TX | 45921 | 45 | Texas | 45 | TEXAS
Tom Green, TX | 45930 | 41660 | San Angelo, TX | 7200 | SAN ANGELO, TX
Travis, TX | 45940 | 12420 | Austin-Round Rock, TX | 0640 | AUSTIN-SAN MARCOS, TX
Trinity, TX | 45941 | 45 | Texas | 45 | TEXAS
Tyler, TX | 45942 | 45 | Texas | 45 | TEXAS
Upshur, TX | 45943 | 30980 | Longview, TX | 4420 | LONGVIEW-MARSHALL, TX
Upton, TX | 45944 | 45 | Texas | 45 | TEXAS
Uvalde, TX | 45945 | 45 | Texas | 45 | TEXAS
Val Verde, TX | 45946 | 45 | Texas | 45 | TEXAS
Van Zandt, TX | 45947 | 45 | Texas | 45 | TEXAS
Victoria, TX | 45948 | 47020 | Victoria, TX | 8750 | VICTORIA, TX
Walker, TX | 45949 | 45 | Texas | 45 | TEXAS
Waller, TX | 45950 | 26420 | Houston-Sugar Land-Baytown, TX | 3360 | HOUSTON, TX
Ward, TX | 45951 | 45 | Texas | 45 | TEXAS
Washington, TX | 45952 | 45 | Texas | 45 | TEXAS
Webb, TX | 45953 | 29700 | Laredo, TX | 4080 | LAREDO, TX
Wharton, TX | 45954 | 45 | Texas | 45 | TEXAS
Wheeler, TX | 45955 | 45 | Texas | 45 | TEXAS
Wichita, TX | 45960 | 48660 | Wichita Falls, TX | 9080 | WICHITA FALLS, TX
Wilbarger, TX | 45961 | 45 | Texas | 45 | TEXAS
Willacy, TX | 45962 | 45 | Texas | 45 | TEXAS
Williamson, TX | 45970 | 12420 | Austin-Round Rock, TX | 0640 | AUSTIN-SAN MARCOS, TX
Wilson, TX | 45971 | 41700 | San Antonio, TX | 7240 | SAN ANTONIO, TX
Winkler, TX | 45972 | 45 | Texas | 45 | TEXAS
Wise, TX | 45973 | 23104 | Fort Worth-Arlington, TX | 45 | TEXAS
Wood, TX | 45974 | 45 | Texas | 45 | TEXAS
Yoakum, TX | 45980 | 45 | Texas | 45 | TEXAS
Young, TX | 45981 | 45 | Texas | 45 | TEXAS
Zapata, TX | 45982 | 45 | Texas | 45 | TEXAS
Zavala, TX | 45983 | 45 | Texas | 45 | TEXAS
Beaver, UT | 46000 | 46 | Utah | 46 | UTAH
Box Elder, UT | 46010 | 46 | Utah | 46 | UTAH
Cache, UT | 46020 | 30860 | Logan, UT-ID | 46 | UTAH
Carbon, UT | 46030 | 46 | Utah | 46 | UTAH
Daggett, UT | 46040 | 46 | Utah | 46 | UTAH
Davis, UT | 46050 | 36260 | Ogden-Clearfield, UT | 7160 | SALT LAKE CITY-OGDEN, UT
Duchesne, UT | 46060 | 46 | Utah | 46 | UTAH
Emery, UT | 46070 | 46 | Utah | 46 | UTAH
Garfield, UT | 46080 | 46 | Utah | 46 | UTAH
Grand, UT | 46090 | 46 | Utah | 46 | UTAH
Iron, UT | 46100 | 46 | Utah | 46 | UTAH
Juab, UT | 46110 | 39340 | Provo-Orem, UT | 46 | UTAH
Kane, UT | 46120 | 46 | Utah | 2620 | FLAGSTAFF, ARIZONA-UTAH
Millard, UT | 46130 | 46 | Utah | 46 | UTAH
Morgan, UT | 46140 | 36260 | Ogden-Clearfield, UT | 46 | UTAH
Piute, UT | 46150 | 46 | Utah | 46 | UTAH
Rich, UT | 46160 | 46 | Utah | 46 | UTAH
Salt Lake, UT | 46170 | 41620 | Salt Lake City, UT | 7160 | SALT LAKE CITY-OGDEN, UT
San Juan, UT | 46180 | 46 | Utah | 46 | UTAH
Sanpete, UT | 46190 | 46 | Utah | 46 | UTAH
Sevier, UT | 46200 | 46 | Utah | 46 | UTAH
Statewide, UT | 46999 | 46 | Utah | 46 | UTAH
Summit, UT | 46210 | 41620 | Salt Lake City, UT | 46 | UTAH
Tooele, UT | 46220 | 41620 | Salt Lake City, UT | 46 | UTAH
Uintah, UT | 46230 | 46 | Utah | 46 | UTAH
Utah, UT | 46240 | 39340 | Provo-Orem, UT | 6520 | PROVO-OREM, UT
Wasatch, UT | 46250 | 46 | Utah | 46 | UTAH
Washington, UT | 46260 | 41100 | St. George, UT | 46 | UTAH
Wayne, UT | 46270 | 46 | Utah | 46 | UTAH
Weber, UT | 46280 | 36260 | Ogden-Clearfield, UT | 7160 | SALT LAKE CITY-OGDEN, UT
Addison, VT | 47000 | 47 | Vermont | 47 | VERMONT
Bennington, VT | 47010 | 47 | Vermont | 47 | VERMONT
Caledonia, VT | 47020 | 47 | Vermont | 47 | VERMONT
Chittenden, VT | 47030 | 15540 | Burlington-South Burlington, VT | 1303 | BURLINGTON, VT
Essex, VT | 47040 | 47 | Vermont | 47 | VERMONT
Franklin, VT | 47050 | 15540 | Burlington-South Burlington, VT | 1303 | BURLINGTON, VT
Grand isle, VT | 47060 | 15540 | Burlington-South Burlington, VT | 1303 | BURLINGTON, VT
Lamoille, VT | 47070 | 47 | Vermont | 47 | VERMONT
Orange, VT | 47080 | 47 | Vermont | 47 | VERMONT
Orleans, VT | 47090 | 47 | Vermont | 47 | VERMONT
Rutland, VT | 47100 | 47 | Vermont | 47 | VERMONT
Statewide, VT | 47999 | 47 | Vermont | 47 | VERMONT
Washington, VT | 47110 | 47 | Vermont | 47 | VERMONT
Windham, VT | 47120 | 47 | Vermont | 47 | VERMONT
Windsor, VT | 47130 | 47 | Vermont | 47 | VERMONT
Accomack, VA | 49000 | 49 | Virginia | 49 | VIRGINIA
Albemarle, VA | 49010 | 16820 | Charlottesville, VA | 1540 | CHARLOTTESVILLE, VA
Alexandria City, VA | 49011 | 47894 | Washington-Arlington-Alexandria, DC-VA | 8840 | WASHINGTON, DC-MD-VA-WV
Alleghany, VA | 49020 | 49 | Virginia | 49 | VIRGINIA
Amelia, VA | 49030 | 40060 | Richmond, VA | 49 | VIRGINIA
Amherst, VA | 49040 | 31340 | Lynchburg, VA | 4640 | LYNCHBURG, VA
Appomattox, VA | 49050 | 31340 | Lynchburg, VA | 49 | VIRGINIA
Arlington, VA | 49060 | 47894 | Washington-Arlington-Alexandria, DC-VA | 8840 | WASHINGTON, DC-MD-VA-WV
Augusta, VA | 49070 | 49 | Virginia | 49 | VIRGINIA
Bath, VA | 49080 | 49 | Virginia | 49 | VIRGINIA
Bedford, VA | 49090 | 31340 | Lynchburg, VA | 4640 | LYNCHBURG, VA
Bedford City, VA | 49088 | 31340 | Lynchburg, VA | 4640 | LYNCHBURG, VA
Bland, VA | 49100 | 49 | Virginia | 49 | VIRGINIA
Botetourt, VA | 49110 | 40220 | Roanoke, VA | 6800 | ROANOKE, VA
Bristol City, VA | 49111 | 28700 | Kingsport-Bristol-Bristol, TN-VA | 3660 | JOHNSON CITY-KINGSPORT-BRISTOL, TN-VA
Brunswick, VA | 49120 | 49 | Virginia | 49 | VIRGINIA
Buchanan, VA | 49130 | 49 | Virginia | 49 | VIRGINIA
Buckingham, VA | 49140 | 49 | Virginia | 49 | VIRGINIA
Buena Vista City, VA | 49141 | 49 | Virginia | 49 | VIRGINIA
Campbell, VA | 49150 | 31340 | Lynchburg, VA | 4640 | LYNCHBURG, VA
Caroline, VA | 49160 | 40060 | Richmond, VA | 49 | VIRGINIA
Carroll, VA | 49170 | 49 | Virginia | 49 | VIRGINIA
Charles City, VA | 49180 | 40060 | Richmond, VA | 6760 | RICHMOND-PETERSBURG, VA
Charlotte, VA | 49190 | 49 | Virginia | 49 | VIRGINIA
Charlottesville City, VA | 49191 | 16820 | Charlottesville, VA | 1540 | CHARLOTTESVILLE, VA
Chesapeake City, VA | 49194 | 47260 | Virginia Beach-Norfolk-Newport News, VA | 5720 | NORFOLK-VIRGINIA BEACH-NEWPORT NEWS, VA-NC
Chesterfield, VA | 49200 | 40060 | Richmond, VA | 6760 | RICHMOND-PETERSBURG, VA
Clarke, VA | 49210 | 47894 | Washington-Arlington-Alexandria, DC-VA | 8840 | WASHINGTON, DC-MD-VA-WV
Clifton Forge City, VA | 49211 | 49 | Virginia | 49 | VIRGINIA
Colonial Heights City, VA | 49212 | 40060 | Richmond, VA | 6760 | RICHMOND-PETERSBURG, VA
Covington City, VA | 49213 | 49 | Virginia | 49 | VIRGINIA
Craig, VA | 49220 | 40220 | Roanoke, VA | 49 | VIRGINIA
Culpeper, VA | 49230 | 49 | Virginia | 8840 | WASHINGTON, DC-MD-VA-WV
Cumberland, VA | 49240 | 40060 | Richmond, VA | 49 | VIRGINIA
Danville City, VA | 49241 | 19260 | Danville, VA | 1950 | DANVILLE, VA
Dickenson, VA | 49250 | 49 | Virginia | 49 | VIRGINIA
Dinwiddie, VA | 49260 | 40060 | Richmond, VA | 6760 | RICHMOND-PETERSBURG, VA
Emporia City, VA | 49270 | 49 | Virginia | 49 | VIRGINIA
Essex, VA | 49280 | 49 | Virginia | 49 | VIRGINIA
Fairfax, VA | 49290 | 47894 | Washington-Arlington-Alexandria DC-VA | 8840 | WASHINGTON, DC-MD-VA-WV
Fairfax City, VA | 49288 | 47894 | Washington-Arlington-Alexandria DC-VA | 8840 | WASHINGTON, DC-MD-VA-WV
Falls Church City, VA | 49291 | 47894 | Washington-Arlington-Alexandria DC-VA | 8840 | WASHINGTON, DC-MD-VA-WV
Fauquier, VA | 49300 | 47894 | Washington-Arlington-Alexandria DC-VA | 8840 | WASHINGTON, DC-MD-VA-WV
Floyd, VA | 49310 | 49 | Virginia | 49 | VIRGINIA
Fluvanna, VA | 49320 | 16820 | Charlottesville, VA | 1540 | CHARLOTTESVILLE, VA
Franklin, VA | 49330 | 40220 | Roanoke, VA | 49 | VIRGINIA
Franklin City, VA | 49328 | 49 | Virginia | 49 | VIRGINIA
Frederick, VA | 49340 | 49020 | Winchester, VA-WV | 49 | VIRGINIA
Fredericksburg City, VA | 49342 | 47894 | Washington-Arlington-Alexandria DC-VA | 8840 | WASHINGTON, DC-MD-VA-WV
Galax City, VA | 49343 | 49 | Virginia | 49 | VIRGINIA
Giles, VA | 49350 | 13980 | Blacksburg-Christiansburg-Radford, VA | 49 | VIRGINIA
Gloucester, VA | 49360 | 47260 | Virginia Beach-Norfolk-Newport News, VA | 5720 | NORFOLK-VIRGINIA BEACH-NEWPORT NEWS, VA-NC
Goochland, VA | 49370 | 40060 | Richmond, VA | 6760 | RICHMOND-PETERSBURG, VA
Grayson, VA | 49380 | 49 | Virginia | 49 | VIRGINIA
Greene, VA | 49390 | 16820 | Charlottesville, VA | 1540 | CHARLOTTESVILLE, VA
Greensville, VA | 49400 | 49 | Virginia | 49 | VIRGINIA
Halifax, VA | 49410 | 49 | Virginia | 49 | VIRGINIA
Hampton City, VA | 49411 | 47260 | Virginia Beach-Norfolk-Newport News, VA | 5720 | NORFOLK-VIRGINIA BEACH-NEWPORT NEWS, VA-NC
Hanover, VA | 49420 | 40060 | Richmond, VA | 6760 | RICHMOND-PETERSBURG, VA
Harrisonburg City, VA | 49421 | 25500 | Harrisonburg, VA | 49 | VIRGINIA
Henrico, VA | 49430 | 40060 | Richmond, VA | 6760 | RICHMOND-PETERSBURG, VA
Henry, VA | 49440 | 49 | Virginia | 49 | VIRGINIA
Highland, VA | 49450 | 49 | Virginia | 49 | VIRGINIA
Hopewell City, VA | 49451 | 40060 | Richmond, VA | 6760 | RICHMOND-PETERSBURG, VA
Isle of Wight, VA | 49460 | 47260 | Virginia Beach-Norfolk-Newport News, VA | 5720 | NORFOLK-VIRGINIA BEACH-NEWPORT NEWS, VA-NC
James City, VA | 49470 | 47260 | Virginia Beach-Norfolk-Newport News, VA | 5720 | NORFOLK-VIRGINIA BEACH-NEWPORT NEWS, VA-NC
King and Queen, VA | 49480 | 40060 | Richmond, VA | 49 | VIRGINIA
King George, VA | 49490 | 49 | Virginia | 8840 | WASHINGTON, DC-MD-VA-WV
King William, VA | 49500 | 40060 | Richmond, VA | 49 | VIRGINIA
Lancaster, VA | 49510 | 49 | Virginia | 49 | VIRGINIA
Lee, VA | 49520 | 49 | Virginia | 49 | VIRGINIA
Lexington City, VA | 49522 | 49 | Virginia | 49 | VIRGINIA
Loudoun, VA | 49530 | 47894 | Washington-Arlington-Alexandria DC-VA | 8840 | WASHINGTON, DC-MD-VA-WV
Louisa, VA | 49540 | 40060 | Richmond, VA | 49 | VIRGINIA
Lunenburg, VA | 49550 | 49 | Virginia | 49 | VIRGINIA
Lynchburg City, VA | 49551 | 31340 | Lynchburg, VA | 4640 | LYNCHBURG, VA
Madison, VA | 49560 | 49 | Virginia | 49 | VIRGINIA
Manassas City, VA | 49563 | 47894 | Washington-Arlington-Alexandria DC-VA | 8840 | WASHINGTON, DC-MD-VA-WV
Manassas Park City, VA | 49565 | 47894 | Washington-Arlington-Alexandria DC-VA | 8840 | WASHINGTON, DC-MD-VA-WV
Martinsville City, VA | 49561 | 49 | Virginia | 49 | VIRGINIA
Mathews, VA | 49570 | 47260 | Virginia Beach-Norfolk-Newport News, VA | 5720 | NORFOLK-VIRGINIA BEACH-NEWPORT NEWS, VA-NC
Mecklenburg, VA | 49580 | 49 | Virginia | 49 | VIRGINIA
Middlesex, VA | 49590 | 49 | Virginia | 49 | VIRGINIA
Montgomery, VA | 49600 | 13980 | Blacksburg-Christiansburg-Radford, VA | 49 | VIRGINIA
Nansemond City, VA | 49610 | 49 | Virginia | 49 | VIRGINIA
Nelson, VA | 49620 | 16820 | Charlottesville, VA | 49 | VIRGINIA
New Kent, VA | 49621 | 40060 | Richmond, VA | 6760 | RICHMOND-PETERSBURG, VA
Newport News City, VA | 49622 | 47260 | Virginia Beach-Norfolk-Newport News, VA | 5720 | NORFOLK-VIRGINIA BEACH-NEWPORT NEWS, VA-NC
Norfolk City, VA | 49641 | 47260 | Virginia Beach-Norfolk-Newport News, VA | 5720 | NORFOLK-VIRGINIA BEACH-NEWPORT NEWS, VA-NC
Northampton, VA | 49650 | 49 | Virginia | 49 | VIRGINIA
Northumberland, VA | 49660 | 49 | Virginia | 49 | VIRGINIA
Norton City, VA | 49661 | 49 | Virginia | 49 | VIRGINIA
Nottoway, VA | 49670 | 49 | Virginia | 49 | VIRGINIA
Orange, VA | 49680 | 49 | Virginia | 49 | VIRGINIA
Page, VA | 49690 | 49 | Virginia | 49 | VIRGINIA
Patrick, VA | 49700 | 49 | Virginia | 49 | VIRGINIA
Petersburg City, VA | 49701 | 40060 | Richmond, VA | 6760 | RICHMOND-PETERSBURG, VA
Pittsylvania, VA | 49710 | 19260 | Danville, VA | 1950 | DANVILLE, VA
Poquoson, VA | 49712 | 47260 | Virginia Beach-Norfolk-Newport News, VA | 5720 | NORFOLK-VIRGINIA BEACH-NEWPORT NEWS, VA-NC
Portsmouth City, VA | 49711 | 47260 | Virginia Beach-Norfolk-Newport News, VA | 5720 | NORFOLK-VIRGINIA BEACH-NEWPORT NEWS, VA-NC
Powhatan, VA | 49720 | 40060 | Richmond, VA | 6760 | RICHMOND-PETERSBURG, VA
Prince Edward, VA | 49730 | 49 | Virginia | 49 | VIRGINIA
Prince George, VA | 49740 | 40060 | Richmond, VA | 6760 | RICHMOND-PETERSBURG, VA
Prince William, VA | 49750 | 47894 | Washington-Arlington-Alexandria, DC-VA | 8840 | WASHINGTON, DC-MD-VA-WV
Pulaski, VA | 49770 | 13980 | Blacksburg-Christiansburg-Radford, VA | 49 | VIRGINIA
Radford City, VA | 49771 | 13980 | Blacksburg-Christiansburg-Radford, VA | 49 | VIRGINIA
Rappahannock, VA | 49780 | 49 | Virginia | 49 | VIRGINIA
Richmond, VA | 49790 | 49 | Virginia | 49 | VIRGINIA
Richmond City, VA | 49791 | 40060 | Richmond, VA | 6760 | RICHMOND-PETERSBURG, VA
Roanoke, VA | 49800 | 40220 | Roanoke, VA | 6800 | ROANOKE, VA
Roanoke City, VA | 49801 | 40220 | Roanoke, VA | 6800 | ROANOKE, VA
Rockbridge, VA | 49810 | 49 | Virginia | 49 | VIRGINIA
Rockingham, VA | 49820 | 25500 | Harrisonburg, VA | 49 | VIRGINIA
Russell, VA | 49830 | 49 | Virginia | 49 | VIRGINIA
Salem City, VA | 49838 | 40220 | Roanoke, VA | 6800 | ROANOKE, VA
Scott, VA | 49840 | 28700 | Kingsport-Bristol-Bristol, TN-VA | 3660 | JOHNSON CITY-KINGSPORT-BRISTOL, TN-VA
Shenandoah, VA | 49850 | 49 | Virginia | 49 | VIRGINIA
Smyth, VA | 49860 | 49 | Virginia | 49 | VIRGINIA
South Boston City, VA | 49867 | 49 | Virginia | 49 | VIRGINIA
Southampton, VA | 49870 | 49 | Virginia | 49 | VIRGINIA
Spotsylvania, VA | 49880 | 47894 | Washington-Arlington-Alexandria, DC-VA | 8840 | WASHINGTON, DC-MD-VA-WV
Stafford, VA | 49890 | 47894 | Washington-Arlington-Alexandria, DC-VA | 8840 | WASHINGTON, DC-MD-VA-WV
Statewide, VA | 49999 | 49 | Virginia | 49 | VIRGINIA
Staunton City, VA | 49891 | 49 | Virginia | 49 | VIRGINIA
Suffolk City, VA | 49892 | 47260 | Virginia Beach-Norfolk-Newport News, VA | 5720 | NORFOLK-VIRGINIA BEACH-NEWPORT NEWS, VA-NC
Surry, VA | 49900 | 47260 | Virginia Beach-Norfolk-Newport News, VA | 49 | VIRGINIA
Sussex, VA | 49910 | 40060 | Richmond, VA | 49 | VIRGINIA
Tazewell, VA | 49920 | 49 | Virginia | 49 | VIRGINIA
Virginia Beach City, VA | 49921 | 47260 | Virginia Beach-Norfolk-Newport News, VA | 5720 | NORFOLK-VIRGINIA BEACH-NEWPORT NEWS, VA-NC
Warren, VA | 49930 | 47894 | Washington-Arlington-Alexandria, DC-VA | 8840 | WASHINGTON, DC-MD-VA-WV
Washington, VA | 49950 | 28700 | Kingsport-Bristol-Bristol, TN-VA | 3660 | JOHNSON CITY-KINGSPORT-BRISTOL, TN-VA
Waynesboro City, VA | 49951 | 49 | Virginia | 49 | VIRGINIA
Westmoreland, VA | 49960 | 49 | Virginia | 49 | VIRGINIA
Williamsburg City, VA | 49961 | 47260 | Virginia Beach-Norfolk-Newport News, VA | 5720 | NORFOLK-VIRGINIA BEACH-NEWPORT NEWS, VA-NC
Winchester City, VA | 49962 | 49020 | Winchester, VA-WV | 49 | VIRGINIA
Wise, VA | 49970 | 49 | Virginia | 49 | VIRGINIA
Wythe, VA | 49980 | 49 | Virginia | 49 | VIRGINIA
York, VA | 49981 | 47260 | Virginia Beach-Norfolk-Newport News, VA | 5720 | NORFOLK-VIRGINIA BEACH-NEWPORT NEWS, VA-NC
Adams, WA | 50000 | 50 | Washington | 50 | WASHINGTON
Asotin, WA | 50010 | 30300 | Lewiston, ID-WA | 50 | WASHINGTON
Benton, WA | 50020 | 28420 | Kennewick-Richland-Pasco, WA | 6740 | RICHLAND-KENNEWICK-PASCO, WA
Chelan, WA | 50030 | 48300 | Wenatchee, WA | 50 | WASHINGTON
Clallam, WA | 50040 | 50 | Washington | 50 | WASHINGTON
Clark, WA | 50050 | 38900 | Portland-Vancouver-Beaverton, OR-WA | 6440 | PORTLAND-VANCOUVER,OR-WA
Columbia, WA | 50060 | 50 | Washington | 50 | WASHINGTON
Cowlitz, WA | 50070 | 31020 | Longview, WA | 50 | WASHINGTON
Douglas, WA | 50080 | 48300 | Wenatchee, WA | 50 | WASHINGTON
Ferry, WA | 50090 | 50 | Washington | 50 | WASHINGTON
Franklin, WA | 50100 | 28420 | Kennewick-Richland-Pasco, WA | 6740 | RICHLAND-KENNEWICK-PASCO, WA
Garfield, WA | 50110 | 50 | Washington | 50 | WASHINGTON
Grant, WA | 50120 | 50 | Washington | 50 | WASHINGTON
Grays Harbor, WA | 50130 | 50 | Washington | 50 | WASHINGTON
Island, WA | 50140 | 50 | Washington | 7600 | SEATTLE-BELLEVUE-EVERETT, WA
Jefferson, WA | 50150 | 50 | Washington | 50 | WASHINGTON
King, WA | 50160 | 42644 | Seattle-Bellevue-Everett, WA | 7600 | SEATTLE-BELLEVUE-EVERETT, WA
Kitsap, WA | 50170 | 14740 | Bremerton-Silverdale, WA | 1150 | BREMERTON, WA
Kittitas, WA | 50180 | 50 | Washington | 50 | WASHINGTON
Klickitat, WA | 50190 | 50 | Washington | 50 | WASHINGTON
Lewis, WA | 50200 | 50 | Washington | 50 | WASHINGTON
Lincoln, WA | 50210 | 50 | Washington | 50 | WASHINGTON
Mason, WA | 50220 | 50 | Washington | 50 | WASHINGTON
Okanogan, WA | 50230 | 50 | Washington | 50 | WASHINGTON
Pacific, WA | 50240 | 50 | Washington | 50 | WASHINGTON
Pend Oreille, WA | 50250 | 50 | Washington | 50 | WASHINGTON
Pierce, WA | 50260 | 45104 | Tacoma, WA | 8200 | TACOMA, WA
San Juan, WA | 50270 | 50 | Washington | 50 | WASHINGTON
Skagit, WA | 50280 | 34580 | Mount Vernon-Anacortes, WA | 50 | WASHINGTON
kamania, WA | 50290 | 38900 | Portland-Vancouver-Beaverton, OR-WA | 50 | WASHINGTON
Snohomish, WA | 50300 | 42644 | Seattle-Bellevue-Everett, WA | 7600 | SEATTLE-BELLEVUE-EVERETT, WA
Spokane, WA | 50310 | 44060 | Spokane, WA | 7840 | SPOKANE, WA
Statewide, WA | 50999 | 50 | Washington | 50 | WASHINGTON
Stevens, WA | 50320 | 50 | Washington | 50 | WASHINGTON
Thurston, WA | 50330 | 36500 | Olympia, WA | 5910 | OLYMPIA, WA
Wahkiakum, WA | 50340 | 50 | Washington | 50 | WASHINGTON
Walla Walla, WA | 50350 | 50 | Washington | 50 | WASHINGTON
Whatcom, WA | 50360 | 13380 | Bellingham, WA | 0860 | BELLINGHAM, WA
Whitman, WA | 50370 | 50 | Washington | 50 | WASHINGTON
Yakima, WA | 50380 | 49420 | Yakima, WA | 9260 | YAKIMA, WA
Barbour, WV | 51000 | 51 | West Virginia | 51 | WEST VIRGINIA
Berkeley, WV | 51010 | 25180 | Hagerstown-Martinsburg, MD-WV | 8840 | WASHINGTON, DC-MD-VA-WV
Boone, WV | 51020 | 16620 | Charleston, WV | 51 | WEST VIRGINIA
Braxton, WV | 51030 | 51 | West Virginia | 51 | WEST VIRGINIA
Brooke, WV | 51040 | 48260 | Weirton-Steubenville, WV-OH | 8080 | STEUBENVILLE-WEIRTON, OH-WV
Cabell, WV | 51050 | 26580 | Huntington-Ashland, WV-KY-OH | 3400 | HUNTINGTON-ASHLAND, WV-KY-OH
Calhoun, WV | 51060 | 51 | West Virginia | 51 | WEST VIRGINIA
Clay, WV | 51070 | 16620 | Charleston, WV | 51 | WEST VIRGINIA
Doddridge, WV | 51080 | 51 | West Virginia | 51 | WEST VIRGINIA
Fayette, WV | 51090 | 51 | West Virginia | 51 | WEST VIRGINIA
Gilmer, WV | 51100 | 51 | West Virginia | 51 | WEST VIRGINIA
Grant, WV | 51110 | 51 | West Virginia | 51 | WEST VIRGINIA
Greenbrier, WV | 51120 | 51 | West Virginia | 51 | WEST VIRGINIA
Hampshire, WV | 51130 | 49020 | Winchester, VA-WV | 51 | WEST VIRGINIA
Hancock, WV | 51140 | 48260 | Weirton-Steubenville, WV-OH | 8080 | STEUBENVILLE-WEIRTON, OH-WV
Hardy, WV | 51150 | 51 | West Virginia | 51 | WEST VIRGINIA
Harrison, WV | 51160 | 51 | West Virginia | 51 | WEST VIRGINIA
Jackson, WV | 51170 | 51 | West Virginia | 51 | WEST VIRGINIA
Jefferson, WV | 51180 | 47894 | Washington-Arlington-Alexandria, DC-VA | 8840 | WASHINGTON, DC-MD-VA-WV
Kanawha, WV | 51190 | 16620 | Charleston, WV | 1480 | CHARLESTON, WV
Lewis, WV | 51200 | 51 | West Virginia | 51 | WEST VIRGINIA
Lincoln, WV | 51210 | 16620 | Charleston, WV | 51 | WEST VIRGINIA
Logan, WV | 51220 | 51 | West Virginia | 51 | WEST VIRGINIA
Marion, WV | 51240 | 51 | West Virginia | 51 | WEST VIRGINIA
Marshall, WV | 51250 | 48540 | Wheeling, WV-OH | 9000 | WHEELING, WV-OH
Mason, WV | 51260 | 51 | West Virginia | 51 | WEST VIRGINIA
Mc Dowell, WV | 51230 | 51 | West Virginia | 51 | WEST VIRGINIA
Mercer, WV | 51270 | 51 | West Virginia | 51 | WEST VIRGINIA
Mineral, WV | 51280 | 19060 | Cumberland, MD-WV | 1900 | CUMBERLAND, MD-WV
Mingo, WV | 51290 | 51 | West Virginia | 51 | WEST VIRGINIA
Monongalia, WV | 51300 | 34060 | Morgantown, WV | 51 | WEST VIRGINIA
Monroe, WV | 51310 | 51 | West Virginia | 51 | WEST VIRGINIA
Morgan, WV | 51320 | 25180 | Hagerstown-Martinsburg, MD-WV | 51 | WEST VIRGINIA
Nicholas, WV | 51330 | 51 | West Virginia | 51 | WEST VIRGINIA
Ohio, WV | 51340 | 48540 | Wheeling, WV-OH | 9000 | WHEELING, WV-OH
Pendleton, WV | 51350 | 51 | West Virginia | 51 | WEST VIRGINIA
Pleasants, WV | 51360 | 37620 | Parkersburg-Marietta-Vienna, WV-OH | 51 | WEST VIRGINIA
Pocahontas, WV | 51370 | 51 | West Virginia | 51 | WEST VIRGINIA
Preston, WV | 51380 | 34060 | Morgantown, WV | 51 | WEST VIRGINIA
Putnam, WV | 51390 | 16620 | Charleston, WV | 1480 | CHARLESTON, WV
Raleigh, WV | 51400 | 51 | West Virginia | 51 | WEST VIRGINIA
Randolph, WV | 51410 | 51 | West Virginia | 51 | WEST VIRGINIA
Ritchie, WV | 51420 | 51 | West Virginia | 51 | WEST VIRGINIA
Roane, WV | 51430 | 51 | West Virginia | 51 | WEST VIRGINIA
Statewide, WV | 51999 | 51 | West Virginia | 51 | WEST VIRGINIA
Summers, WV | 51440 | 51 | West Virginia | 51 | WEST VIRGINIA
Taylor, WV | 51450 | 51 | West Virginia | 51 | WEST VIRGINIA
Tucker, WV | 51460 | 51 | West Virginia | 51 | WEST VIRGINIA
Tyler, WV | 51470 | 51 | West Virginia | 51 | WEST VIRGINIA
Upshur, WV | 51480 | 51 | West Virginia | 51 | WEST VIRGINIA
Wayne, WV | 51490 | 26580 | Huntington-Ashland, WV-KY-OH | 3400 | HUNTINGTON-ASHLAND, WV-KY-OH
Webster, WV | 51500 | 51 | West Virginia | 51 | WEST VIRGINIA
Wetzel, WV | 51510 | 51 | West Virginia | 51 | WEST VIRGINIA
Wirt, WV | 51520 | 37620 | Parkersburg-Marietta-Vienna, WV-OH | 51 | WEST VIRGINIA
Wood, WV | 51530 | 37620 | Parkersburg-Marietta-Vienna, WV-OH | 6020 | PARKERSBURG-MARIETTA, WV-OH
Wyoming, WV | 51540 | 51 | West Virginia | 51 | WEST VIRGINIA
Adams, WI | 52000 | 52 | Wisconsin | 52 | WISCONSIN
Ashland, WI | 52010 | 52 | Wisconsin | 52 | WISCONSIN
Barron, WI | 52020 | 52 | Wisconsin | 52 | WISCONSIN
Bayfield, WI | 52030 | 52 | Wisconsin | 52 | WISCONSIN
Brown, WI | 52040 | 24580 | Green Bay, WI | 3080 | GREEN BAY, WI
Buffalo, WI | 52050 | 52 | Wisconsin | 52 | WISCONSIN
Burnett, WI | 52060 | 52 | Wisconsin | 52 | WISCONSIN
Calumet, WI | 52070 | 11540 | Appleton, WI | 0460 | APPLETON-OSHKOSH-NEENAH, WI
Chippewa, WI | 52080 | 20740 | Eau Claire, WI | 2290 | EAU CLAIRE, WI
Clark, WI | 52090 | 52 | Wisconsin | 52 | WISCONSIN
Columbia, WI | 52100 | 31540 | Madison, WI | 52 | WISCONSIN
Crawford, WI | 52110 | 52 | Wisconsin | 52 | WISCONSIN
Dane, WI | 52120 | 31540 | Madison, WI | 4720 | MADISON, WI
Dodge, WI | 52130 | 52 | Wisconsin | 52 | WISCONSIN
Door, WI | 52140 | 52 | Wisconsin | 52 | WISCONSIN
Douglas, WI | 52150 | 20260 | Duluth, MN-WI | 2240 | DULUTH-SUPERIOR, MN-WI
Dunn, WI | 52160 | 52 | Wisconsin | 52 | WISCONSIN
Eau Claire, WI | 52170 | 20740 | Eau Claire, WI | 2290 | EAU CLAIRE, WI
Florence, WI | 52180 | 52 | Wisconsin | 52 | WISCONSIN
Fond Du Lac, WI | 52190 | 22540 | Fond Du Lac, WI | 52 | WISCONSIN
Forest, WI | 52200 | 52 | Wisconsin | 52 | WISCONSIN
Grant, WI | 52210 | 52 | Wisconsin | 52 | WISCONSIN
Green, WI | 52220 | 52 | Wisconsin | 52 | WISCONSIN
Green lake, WI | 52230 | 52 | Wisconsin | 52 | WISCONSIN
Iowa, WI | 52240 | 31540 | Madison, WI | 52 | WISCONSIN
Iron, WI | 52250 | 52 | Wisconsin | 52 | WISCONSIN
Jackson, WI | 52260 | 52 | Wisconsin | 52 | WISCONSIN
Jefferson, WI | 52270 | 52 | Wisconsin | 52 | WISCONSIN
Juneau, WI | 52280 | 52 | Wisconsin | 52 | WISCONSIN
Kenosha, WI | 52290 | 29404 | Lake County-Kenosha County, IL-WI | 3800 | KENOSHA, WI
Kewaunee, WI | 52300 | 24580 | Green Bay, WI | 52 | WISCONSIN
La Crosse, WI | 52310 | 29100 | La Crosse, WI-MN | 3870 | LA CROSSE, WI-MN
Lafayette, WI | 52320 | 52 | Wisconsin | 52 | WISCONSIN
Langlade, WI | 52330 | 52 | Wisconsin | 52 | WISCONSIN
Lincoln, WI | 52340 | 52 | Wisconsin | 52 | WISCONSIN
Manitowoc, WI | 52350 | 52 | Wisconsin | 52 | WISCONSIN
Marathon, WI | 52360 | 48140 | Wausau, WI | 8940 | WAUSAU, WI
Marinette, WI | 52370 | 52 | Wisconsin | 52 | WISCONSIN
Marquette, WI | 52380 | 52 | Wisconsin | 52 | WISCONSIN
Menomonee, WI | 52381 | 52 | Wisconsin | 52 | WISCONSIN
Milwaukee, WI | 52390 | 33340 | Milwaukee-Waukesha-West Allis, WI | 5080 | MILWAUKEE-WAUKESHA, WI
Monroe, WI | 52400 | 52 | Wisconsin | 52 | WISCONSIN
Oconto, WI | 52410 | 24580 | Green Bay, WI | 52 | WISCONSIN
Oneida, WI | 52420 | 52 | Wisconsin | 52 | WISCONSIN
Outagamie, WI | 52430 | 11540 | Appleton, WI | 0460 | APPLETON-OSHKOSH-NEENAH, WI
Ozaukee, WI | 52440 | 33340 | Milwaukee-Waukesha-West Allis, WI | 5080 | MILWAUKEE-WAUKESHA, WI
Pepin, WI | 52450 | 52 | Wisconsin | 52 | WISCONSIN
Pierce, WI | 52460 | 33460 | Minneapolis-St. Paul-Bloomington, MN-WI | 5120 | MINNEAPOLIS-ST. PAUL, MN-WI
Polk, WI | 52470 | 52 | Wisconsin | 52 | WISCONSIN
Portage, WI | 52480 | 52 | Wisconsin | 52 | WISCONSIN
Price, WI | 52490 | 52 | Wisconsin | 52 | WISCONSIN
Racine, WI | 52500 | 39540 | Racine, WI | 6600 | RACINE, WI
Richland, WI | 52510 | 52 | Wisconsin | 52 | WISCONSIN
Rock, WI | 52520 | 27500 | Janesville, WI | 3620 | JANESVILLE-BELOIT, WI
Rusk, WI | 52530 | 52 | Wisconsin | 52 | WISCONSIN
Sauk, WI | 52550 | 52 | Wisconsin | 52 | WISCONSIN
Sawyer, WI | 52560 | 52 | Wisconsin | 52 | WISCONSIN
Shawano, WI | 52570 | 52 | Wisconsin | 52 | WISCONSIN
Sheboygan, WI | 52580 | 43100 | Sheboygan, WI | 7620 | SHEBOYGAN, WI
St. Croix, WI | 52540 | 33460 | Minneapolis-St. Paul-Bloomington, MN-WI | 5120 | MINNEAPOLIS-ST. PAUL, MN-WI
Statewide, WI | 52999 | 52 | Wisconsin | 52 | WISCONSIN
Taylor, WI | 52590 | 52 | Wisconsin | 52 | WISCONSIN
Trempealeau, WI | 52600 | 52 | Wisconsin | 52 | WISCONSIN
Vernon, WI | 52610 | 52 | Wisconsin | 52 | WISCONSIN
Vilas, WI | 52620 | 52 | Wisconsin | 52 | WISCONSIN
Walworth, WI | 52630 | 52 | Wisconsin | 52 | WISCONSIN
Washburn, WI | 52640 | 52 | Wisconsin | 52 | WISCONSIN
Washington, WI | 52650 | 33340 | Milwaukee-Waukesha-West Allis, WI | 5080 | MILWAUKEE-WAUKESHA, WI
Waukesha, WI | 52660 | 33340 | Milwaukee-Waukesha-West Allis, WI | 5080 | MILWAUKEE-WAUKESHA, WI
Waupaca, WI | 52670 | 52 | Wisconsin | 52 | WISCONSIN
Waushara, WI | 52680 | 52 | Wisconsin | 52 | WISCONSIN
Winnebago, WI | 52690 | 36780 | Oshkosh-Neenah, WI | 0460 | APPLETON-OSHKOSH-NEENAH, WI
Wood, WI | 52700 | 52 | Wisconsin | 52 | WISCONSIN
Albany, WY | 53000 | 53 | Wyoming | 53 | WYOMING
Big horn, WY | 53010 | 53 | Wyoming | 53 | WYOMING
Campbell, WY | 53020 | 53 | Wyoming | 53 | WYOMING
Carbon, WY | 53030 | 53 | Wyoming | 53 | WYOMING
Converse, WY | 53040 | 53 | Wyoming | 53 | WYOMING
Crook, WY | 53050 | 53 | Wyoming | 53 | WYOMING
Fremont, WY | 53060 | 53 | Wyoming | 53 | WYOMING
Goshen, WY | 53070 | 53 | Wyoming | 53 | WYOMING
Hot Springs, WY | 53080 | 53 | Wyoming | 53 | WYOMING
Johnson, WY | 53090 | 53 | Wyoming | 53 | WYOMING
Laramie, WY | 53100 | 16940 | Cheyenne, WY | 1580 | CHEYENNE, WY
Lincoln, WY | 53110 | 53 | Wyoming | 53 | WYOMING
Natrona, WY | 53120 | 16220 | Casper, WY | 1350 | CASPER, WY
Niobrara, WY | 53130 | 53 | Wyoming | 53 | WYOMING
Park, WY | 53140 | 53 | Wyoming | 53 | WYOMING
Platte, WY | 53150 | 53 | Wyoming | 53 | WYOMING
Sheridan, WY | 53160 | 53 | Wyoming | 53 | WYOMING
Statewide, WY | 53999 | 53 | Wyoming | 53 | WYOMING
Sublette, WY | 53170 | 53 | Wyoming | 53 | WYOMING
Sweetwater, WY | 53180 | 53 | Wyoming | 53 | WYOMING
Teton, WY | 53190 | 53 | Wyoming | 53 | WYOMING
Uinta, WY | 53200 | 53 | Wyoming | 53 | WYOMING
Washakie, WY | 53210 | 53 | Wyoming | 53 | WYOMING
|  | 48 | Virgin Islands | 48 |
|  | 65 | Guam | 65 |

[FR Doc. 05-15290 Filed 7-29-05; 4:03 pm]

BILLING CODE 4120-01-U